DEPARTMENT OF TRANSPORTATION

Federal Transit Administration

FTA Fiscal Year 2007 Apportionments and Allocations and Program Information

AGENCY: Federal Transit Administration (FTA), DOT.

ACTION: Notice.

SUMMARY: The “Revised Continuing Appropriations Resolution, 2007,” (Public Law 110-5), signed into law by President Bush on February 15, 2007, makes funds available for all of the surface transportation programs of the Department of Transportation (DOT) for the Fiscal Year (FY) ending September 30, 2007. This notice provides information on the FY 2007 funding available for the Federal Transit Administration (FTA) assistance programs, and provides program guidance and requirements, and information on several program issues important in the current year. The notice also includes tables that show unobligated carryover funding available in FY 2007 under certain discretionary programs from prior years. Finally, this notice also references separate Notices of Funding Availability (NOFA) published concurrently for discretionary opportunities under the Bus and Bus Facilities Program and the Alternatives Analysis Program.

FOR FURTHER INFORMATION CONTACT: For general information about this notice contact Mary Martha Churchman, Director, Office of Transit Programs, at (202) 366-2053. Please contact the appropriate FTA regional office for any specific requests for information or technical assistance. The Appendix at the end of this notice includes contact information for FTA regional offices. An FTA headquarters contact for each major program area is also included in the discussion of that program in the text of the notice.

SUPPLEMENTARY INFORMATION:

Table of Contents

I. Overview

II. FY 2007 Funding for FTA Programs

A. Funding Based on FY 2007 Continuing Appropriations Resolution, 2007, and SAFETEA-LU Authorization

B. Program Funds Set-aside for Project Management Oversight

III. FY 2007 FTA Key Program Initiatives and Changes

A. SAFETEA-LU Implementation

B. Planning Emphasis Areas

C. Earmarks and Competitive Grant Opportunities

D. Changes in Flexible Funding Procedures

E. National Transit Database (NTD) Strike Policy

IV. FTA Programs

A. Metropolitan Planning Program (49 U.S.C. 5303)

B. Statewide Planning and Research Program (49 U.S.C. 5304)

C. Urbanized Area Formula Program (49 U.S.C. 5307)

D. Clean Fuels Formula Program (49 U.S.C. 5308)

E. Capital Investment Program (49 U.S.C. 5309)—Fixed Guideway Modernization

F. Capital Investment Program (49 U.S.C. 5309)—Bus and Bus-Related Facilities

G. Capital Investment Program (49 U.S.C. 5309)—New Starts

H. Special Needs of Elderly Individuals and Individuals with Disabilities Program (49 U.S.C. 5310)

I. Nonurbanized Area Formula Program (49 U.S.C. 5311)

J. Rural Transportation Assistance Program (49 U.S.C. 5311(b)(3))

K. Public Transportation on Indian Reservation Program (49 U.S.C. 5311(c))

L. National Research Program (49 U.S.C. 5314)

M. Job Access and Reverse Commute Program (49 U.S.C. 5316)

N. New Freedom Program (49 U.S.C. 5317)

O. Alternative Transportation in Parks and Public Lands (49 U.S.C. 5320)

P. Alternatives Analysis Program (49 U.S.C. 5339)

Q. Growing States and High Density States Formula (49 U.S.C. 5340)

R. Over-the-Road Bus Accessibility Program (49 U.S.C. 5310 note)

V. FTA Policy and Procedures for FY 2007 Grants Requirements

A. Automatic Pre-Award Authority to Incur Project Costs

B. Letter of No Prejudice (LONP) Policy

C. FTA FY 2007 Annual List of Certifications and Assurances

D. FHWA Funds Used for Transit Purposes

E. Grant Application Procedures

F. Payments

G. Oversight

H. Technical Assistance

Tables

1. FTA FY 2007 Appropriations and Apportionments for Grant Programs

2. FTA FY 2007 Metropolitan Transportation Planning Program and Statewide Transportation Planning Program Apportionments

3. FTA FY 2007 Section 5307 and Section 5340 Urbanized Area Apportionments

4. FTA FY 2007 Section 5307 Apportionment Formula

5. FTA FY 2007 Formula Programs Apportionments Data Unit Values

6. FTA FY 2007 Small Transit Intensive Cities Performance Data and Apportionments

7. 2000 Census Urbanized Areas 200,000 or More in Population Eligible to Use Section 5307 Funds for Operating Assistance

8. FTA FY 2007 Section 5308 Clean Fuels Grant Program Allocations

9. FTA Prior Year Unobligated Section 5308 Clean Fuels Allocations

10. FTA FY 2007 Section 5309 Fixed Guideway Modernization Apportionments

11. FTA FY 2007 Fixed Guideway Modernization Program Apportionment Formula

12. FTA FY 2007 Section 5309 Bus and Bus-Related Allocations

13. FTA Prior Year Unobligated Section 5309 Bus and Bus-Related Facilities Allocations

14. FTA FY 2007 Section 5309 New Starts Allocations

15. FTA Prior Year Unobligated Section 5309 New Starts Allocations

16. FTA FY 2007 Special Needs for Elderly Individuals and Individuals With Disabilities Apportionments

17. FTA FY 2007 Section 5311 and Section 5340 Nonurbanized Area Formula Apportionments, and Rural Transportation Assistance Program (RTAP) Allocations

18. FTA FY 2007 National Research Program Allocations

19. FTA FY 2007 Section 5316 Job Access and Reverse Commute (JARC) Apportionments

20. FTA Prior Year Unobligated Jarc Allocations

21. FTA FY 2007 Section 5317 New Freedom Apportionments

22. FTA FY 2007 Section 5339 Alternative Analysis Allocations

23. FTA Prior Year Unobligated Section 5339 Alternative Analysis Alliocations

Appendix

I. Overview

This document apportions or allocates the FY 2007 funds available under the Continuing Appropriations Resolution, 2007, among potential program recipients according to statutory formulas in 49 U.S.C. Chapter 53 or congressional designations in Safe, Accountable, Flexible, Efficient Transportation Equity Act: A Legacy for Users (SAFETEA-LU).

For each FTA program included, we have provided relevant information on the FY 2007 funding currently available, requirements, period of availability, and other related program information and highlights, as appropriate. A separate section of the document provides information on requirements and guidance that are applicable to all FTA programs.

II. FY 2007 Funding for FTA Programs

A. Funding Based on FY 2007 Continuing Appropriations Resolution, 2007, and SAFETEA-LU Authorization

The Revised Continuing Appropriations Resolution, 2007, (Pub. L. 110-5, February 15, 2007); hereafter called the Continuing Appropriations Resolution, 2007, provides general funds and obligation authority for trust funds that total $8.97 billion for FTA programs, through September 30, 2007. Table 1 of this document shows the funding for the FTA programs, as provided for in the Continuing Appropriations Resolution, 2007, and the reallocation of any prior year funds to the program. All the Formula Programs and the Section 5309 Bus and Bus Facilities Program are entirely funded from the Mass Transit Account of the Highway Trust Fund in FY 2007. The Section 5309 New Starts program, the Research program, and FTA administrative expenses are funded by appropriations from the General Fund of the Treasury.

Congress has enacted a full year Continuing Appropriations Resolution, 2007, in lieu of a new Appropriations Act for FY 2007. This Notice includes tables of apportionments and allocations for FTA programs. Allocations based on SAFETEA-LU are included for some discretionary programs. In addition, FTA will issue separate Notices of Funding Availability to solicit applications for discretionary funds not allocated in SAFETEA-LU.

B. Program Funds Set-Aside for Project Management Oversight

FTA uses a percentage of funds appropriated to certain FTA programs for program oversight activities conducted by the agency. The funds are used to provide necessary oversight activities, including oversight of the construction of any major project under these statutory programs; to conduct safety and security, civil rights, procurement, management and financial reviews and audits; and to provide technical assistance to correct deficiencies identified in compliance reviews and audits.

Section 5327 of title 49, U.S.C., 5327 authorizes the takedown of funds from FTA programs for project management oversight. Section 5327 provides oversight takedowns at the following levels: 0.5 percent of Planning funds, 0.75 percent of Urbanized Area Formula funds, 1 percent of Capital Investment funds, 0.5 percent of Special Needs of Elderly Individuals and Individuals with Disabilities formula funds, 0.5 percent of Nonurbanized Area Formula funds, and 0.5 percent of Alternative Transportation in the Parks and Public Lands funds.

III. FY 2007 FTA Program Initiatives and Changes

A. SAFETEA-LU Implementation.

In FY 2007, FTA continues to focus on implementation of SAFETEA-LU through issuance of new and revised program guidance and regulations. As any documents that include binding obligations on grantees are issued, FTA makes them available for public comment prior to finalizing. We encourage grantees to regularly check the FTA Web site at http://www.fta.gov and the DOT docket management Web site at http://dms.dot.gov for new issuances and to comment to the docket established for each document on relevant issues.

B. Planning Emphasis Areas

FTA and the Federal Highway Administration (FHWA) are not issuing new planning emphasis areas for FY 2007, and are rescinding planning emphasis areas from prior years, in recognition of the priority that planning organizations and grantees must pay to implementing the new and changed provisions of SAFETEA-LU.

C. Earmarks and Competitive Grant Opportunities

The Continuing Appropriations Resolution, 2007, did not include any new earmarks under any FTA program. However, SAFETEA-LU contained statutory earmarks under several programs, and they are listed in the tables in this Notice. FTA will honor those statutory earmarks. This Notice also includes tables of unobligated balances for earmarks from prior years under the Bus and Bus Facilities Program, the New Starts Program, the Clean Fuels Program, and the Alternatives Analysis Program. FTA will continue to honor those earmarks.

Because there are no new appropriations earmarks in FY 2007, there are unallocated balances available in several programs to be administered at FTA's discretion. FTA has allocated most of the discretionary New Starts funds to the projects listed in the President's Budget for FY 2007. FTA is soliciting applications for the unallocated balance of the Bus and Bus Facilities program through two Notices of Funding Availability, one published in a separate Part of today's Federal Register to address priorities identified by FTA, and the other, published in another Part of today's Federal Register, to support the Department's Congestion Initiative. FTA is also issuing a Notice of Funding Availability to solicit applications for the Alternatives Analysis program to advance the state of the art of planning for New Starts projects, included in yet another Part of today's Federal Register.

D. Changes in Flexible Funding Procedures

FHWA has changed the accounting procedures for flexible funds, high priority projects and transportation improvement projects transfers to FTA. As a result, FTA will no longer be able to combine these transferred funds in a single grant with FTA funds in the program to which they are transferred. FTA is establishing new codes and procedures for grants involving funds transferred from FHWA. See Section V D of this Notice for more information.

E. National Transit Database (NTD) Strike Policy

It has been FTA's policy not to make adjustments to the annual funding apportionment of transit agencies for strikes, labor disputes or work stoppages. FTA has changed this policy. Effective with NTD Report Year (RY) 2005 data, FTA will make “hold harmless” adjustments due to strikes, labor disputes, or work stoppages. An adjustment will be made beginning with the FY 2008 apportionment.

NTD RY 2005 data are the actual data used in apportionment of FY 2007 funds. NTD RY 2006 data will be used in the FY 2008 apportionment. If your agency had a valid strike, labor dispute or work stoppage during RY 2005 or RY 2006, please contact the NTD Web site.

Instructions for requesting a “hold harmless” adjustment can be found in the 2006 NTD Reporting Manual, http://www.ntdprogram.gov, under publications; see Introduction, page 7.

IV. FTA Programs

This section of the notice provides available FY 2007 funding and other important program-related information for the three major FTA funding accounts included in the notice (Formula and Bus Grants, Capital Investment Grants, and Research). Of the 17 separate FTA programs contained in this notice that fall under the major program area headings, the funding for ten is apportioned by statutory or administrative formula. Funding for the other seven is allocated on a discretionary or competitive basis.

Funding and other important information for each of the 17 programs is presented immediately below. This includes program apportionments or allocations, certain program requirements, length of time FY 2007 funding is available to be committed, and other significant program information pertaining to FY 2007, including the availability of competitive opportunities under several programs.

A. Metropolitan Planning Program (49 U.S.C. 5303)

Section 5303 authorizes a cooperative, continuous, and comprehensive planning program for transportation investment decision-making at the metropolitan area level. State Departments of Transportation are direct recipients of funds, which are then allocated to Metropolitan Planning Organizations (MPOs) by formula, for planning activities that support the economic vitality of the metropolitan area, especially by enabling global competitiveness, productivity, and efficiency; increasing the safety and security of the transportation system for motorized and non-motorized users; increasing the accessibility and mobility options available to people and for freight; protecting and enhancing the environment, promoting energy conservation, and improving quality of life; enhancing the integration and connectivity of the transportation system, across and between modes, for people and freight; promoting efficient system management and operation; and emphasizing the preservation of the existing transportation system. For more about the Metropolitan Planning Program, contact Candace Noonan, Office of Planning and Environment at (202) 366-1648.

1. FY 2007 Funding Availability

The Continuing Appropriations Resolution, 2007, provides $81,892,800 to the Metropolitan Planning Program (49 U.S.C. 5303). The total amount apportioned for the Metropolitan Planning Program (to States for MPOs' use in urbanized areas (UZAs) is $82,373,861, as shown in the table below, after the deduction for oversight (authorized by 49 U.S.C. Section 5327) and addition of prior year reapportioned funds.

Metropolitan Transportation Planning Program
Total Appropriation | $81,892,800
Oversight Deduction | −464,464
Prior Year Funds Added | 890,525
Total Apportioned | 82,373,861

States' apportionments for this program are displayed in Table 2.

2. Basis for Formula Apportionments

As specified in law, 82.72 percent of the amounts authorized for Section 5305 are allocated to the Metropolitan Planning program. FTA allocates Metropolitan Planning funds to the States according to a statutory formula. Eighty percent of the funds are distributed to the States as a basic allocation based on each State's UZA population, based on the most recent Census. The remaining 20 percent is provided to the States as a supplemental allocation based on an FTA administrative formula to address planning needs in the larger, more complex UZAs. The amount published for each State is a combined total of both the basic and supplemental allocation.

3. Program Requirements

The State allocates Metropolitan Planning funds to MPOs in UZAs or portions thereof to provide funds for projects included in an annual work program (the Unified Planning Work Program, or UPWP) that includes both highway and transit planning projects. Each State has either reaffirmed or developed, in consultation with their MPOs, a new allocation formula, as a result of the 2000 Census. The State allocation formula may be changed annually, but any change requires approval by the FTA regional office before grant approval. Program guidance for the Metropolitan Planning Program is found in FTA Circular C8100.1B, Program Guidance and Application Instructions for Metropolitan Planning Program Grants, dated October 25, 1996. FTA is in the process of updating this circular to incorporate references to the new and changed planning requirements in sections 5303 and 5305, as amended by SAFETEA-LU and associated rulemaking.

4. Period of Availability

The funds apportioned under the Metropolitan Planning program remain available to be obligated by FTA to recipients for four fiscal years—which includes the year of apportionment plus three additional years. Any apportioned funds that remain unobligated at the close of business on September 30, 2010, will revert to FTA for reapportionment under the Metropolitan Planning Program.

5. Other Program or Apportionment Related Information and Highlights

a. Planning Emphasis Areas (PEAs). FTA and FHWA are not issuing new PEAs this year, and are rescinding PEAs issued in prior years, in light of the priority given to implementation of SAFETEA-LU planning and program provisions.

b. Consolidated Planning Grants. FTA and FHWA planning funds can be consolidated into a single consolidated planning grant (CPG), awarded by either FTA or FHWA. The CPG eliminates the need to monitor individual fund sources, if several have been used, and ensures that the oldest funds will always be used first. Unlike “flex funds,” State planning funds from FHWA will be able to be combined with FTA planning funds in a single grant. Alternatively FTA planning funds can be transferred to FHWA for administration.

Under the CPG, States can report metropolitan planning expenditures (to comply with the Single Audit Act) for both FTA and FHWA under the Catalogue of Federal Domestic Assistance number for FTA's Metropolitan Planning Program (20.505). Additionally, for States with an FHWA Metropolitan Planning (PL) fund-matching ratio greater than 80 percent, the State (through FTA) can request a waiver of the 20 percent local share requirement in order that all FTA funds used for metropolitan planning in a CPG can be granted at the higher FHWA rate. For some States, this Federal match rate can exceed 90 percent.

States interested in transferring planning funds between FTA and FHWA should contact the FTA regional office or FHWA Division Office for more detailed procedures.

For further information on CPGs, contact Candace Noonan, Office of Planning and Environment, FTA, at (202) 366-1648, or Kenneth Petty, Office of Planning and Environment, FHWA, at (202) 366-6654.

B. Statewide Planning and Research Program (49 U.S.C. 5304)

This program provides financial assistance to States for Statewide planning and other technical assistance activities (including supplementing the technical assistance program provided through the Metropolitan Planning program), planning support for nonurbanized areas, research, development and demonstration projects, fellowships for training in the public transportation field, university research, and human resource development. For more about the Statewide Planning and Research Program contact Candace Noonan, Office of Planning and Environment, at (202) 366-1648.

1. FY 2007 Funding Availability

The Continuing Appropriations Resolution, 2007, provides $17,107,200 to the Statewide Planning and Research Program (49 U.S.C. 5304). The total amount apportioned for the Statewide Planning and Research Program (SPRP) is $17,252,652, as shown in the table below, after the deduction for oversight (authorized by 49 U.S.C. Section 5327) and addition of prior year reapportioned funds.

Statewide Transportation Planning Program
Total Appropriation | $17,107,200
Oversight Deduction | −85,536
Prior Year Funds Added | 230,988
Total Apportioned | 17,252,652

State apportionments for this program are displayed in Table 2.

2. Basis for Apportionment Formula

As specified in law, 17.28 percent of the amounts authorized for Section 5305 are allocated to the Statewide Planning and Research program. FTA apportions funds to States by a statutory formula that is based on information received from the latest decennial census, and the State's UZA population as compared to the UZA population of all States. However, a State must receive at least 0.5 percent of the amount apportioned under this program.

3. Requirements

Funds are provided to States for statewide planning and research programs. These funds may be used for a variety of purposes such as planning, technical studies and assistance, demonstrations, management training, and cooperative research. In addition, a State may authorize a portion of these funds to be used to supplement Metropolitan Planning funds allocated by the State to its UZAs, as the State deems appropriate. Program guidance for the Statewide Planning and Research program is found in FTA Circular C8200.1, Program Guidance and Application Instructions for State Planning and Research Program Grants, dated December 27, 2001. FTA is in the process of updating this circular to incorporate the new and changed planning requirements in sections 5304 and 5305, as amended by SAFETEA-LU and associated rulemaking.

4. Period of Availability

The funds apportioned under the Statewide Planning and Research program remain available to be obligated by FTA to recipients for four fiscal years—which include the year of apportionment plus three additional fiscal years. Any apportioned funds that remain unobligated at the close of business on September 30, 2010, will revert to FTA for reapportionment under the Statewide Planning and Research Program.

5. Other Program or Apportionment Related Information and Highlights

The information about Planning Emphasis Areas and CPGs described in Section A. 5, above for the Metropolitan Planning Program (49 U.S.C. 5303), also applies to the Statewide Planning Program.

C. Urbanized Area Formula Program (49.U.S.C. 5307)

Section 5307 authorizes Federal capital and operating assistance for transit in Urbanized Areas (UZAs). A UZA is an area with a population of 50,000 or more that has been defined and designated as such in the most recent decennial census by the U.S. Census Bureau. The Urbanized Area Formula Program may also be used to support planning activities, as a supplement to that funded under the Metropolitan Planning program described above. Urbanized Areas Formula Program funds used for planning must be shown in the UPWP for MPO(s) with responsibility for that area. Funding is apportioned directly to each UZA with a population of 200,000 or more, and to the State Governors for UZAs with populations between 50,000 and 200,000. Eligible applicants are limited to entities designated as recipients in accordance with 49 U.S.C. 5307(a)(2) and other public entities with the consent of the Designated Recipient. Generally, operating assistance is not an eligible expense for UZAs with populations of 200,000 or more. However, there are several exceptions to this restriction. The exceptions are described in section 2(e) below.

For more information about the Urbanized Area Formula Program contact Scott Faulk, Office of Transit Programs, at (202) 366-2053.

1. FY 2007 Funding Availability

The Continuing Appropriations Resolution, 2007, provides $3,606,175,000 to the Urbanized Area Formula Program (49 U.S.C. 5307). The total amount apportioned for the Urbanized Area Formula Program is $3,924,820,789 as shown in the table below, after the deduction for oversight (authorized by 49 U.S.C. 5327) and including prior year reapportioned funds and funds apportioned to UZA's from the appropriation for Section 5340 for Growing States and High Density States.

Urbanized Area Formula Program
Total Appropriation | $3,606,175,000 ᵃ
Oversight Deduction | −27,046,313
Prior Year Funds Added | 4,957,616
Section 5340 Funds Added | 340,734,486
Total Apportioned | 3,924,820,789
ᵃ Includes $36,061,750 for one percent set-aside for Small Transit Intensive Cities Formula.

Table 3 displays the amounts apportioned under the Urbanized Area Formula Program.

2. Basis for Formula Apportionment

FTA apportions Urbanized Area Formula Program funds based on legislative formulas. Different formulas apply to UZAs with populations of 200,000 or more and UZAs with populations less than 200,000. For UZAs 50,000 to 199,999 in population, the formula is based simply on population and population density. For UZAs with populations of 200,000 and more, the formula is based on a combination of bus revenue vehicle miles, bus passenger miles, fixed guideway revenue vehicle miles, and fixed guideway route miles, as well as population and population density. Table 4 includes detailed information about the formulas.

To calculate a UZA's FY 2007 apportionment, FTA used population and population density statistics from the 2000 Census and (when applicable) validated mileage and transit service data from transit providers' 2005 National Transit Database (NTD) Report Year. Also, pursuant to 49 U.S.C. 5336(b). FTA used 60 percent of the directional route miles attributable to the Alaska Railroad passenger operations system to calculate the apportionment for the Anchorage, Alaska UZA.

We have calculated dollar unit values for the formula factors used in the Urbanized Area Formula Program apportionment calculations. These values represent the amount of money each unit of a factor is worth in this year's apportionment. The unit values change each year, based on all of the data used to calculate the apportionments. The dollar unit values for FY 2007 are displayed in Table 5. To replicate the basic formula component of a UZA's apportionment, multiply the dollar unit value by the appropriate formula factor (i.e., the population, population x population density), and (when applicable, data from the NTD (i.e., route miles, vehicle revenue miles, passenger miles, and operating cost).

In FY 2007, one percent of funds appropriated for Section 5307, $36,061,750, is set aside for Small Transit Intensive Cities (STIC). FTA apportions these funds to UZAs under 200,000 in population that operate at a level of service equal to or above the industry average level of service for all UZAs with a population of at least 200,000, but not more than 999,999, in one or more of six performance categories: passenger miles traveled per vehicle revenue mile, passenger miles traveled per vehicle revenue hour, vehicle revenue miles per capita, vehicle revenue hours per capita, passenger miles traveled per capita, and passengers per capita.

The data for these categories for the purpose of FY 2007 apportionments comes from the NTD reports for the 2005 reporting year. This data is used to determine a UZA's eligibility under the STIC formula, and is also used in the STIC apportionment calculations. Because this performance data change with each year's NTD reports, the UZAs eligible for STIC funds and the amount each receives may vary each year. In FY 2007, FTA apportioned $120,608 for each performance factor/category for which the urbanized area exceeded the national average for UZAs with a population of at least 200,000 but not more than 999,999.

In addition to the funds apportioned to UZAs, according to the Section 5307 formula factors contained in 49 U.S.C. 5336, FTA also apportions funds to urbanized areas under Section 5340 Growing States and High Density States formula factors. In FY 2007, FTA apportioned $138,734,486 to 453 UZA's in 50 Growing States and $202,000,000 to 46 UZA's in seven High Density States. Half of the funds appropriated for Section 5340 are available to Growing States and half to High Density States. FTA apportions Growing States funds by a formula based on State population forecasts for 15 years beyond the most recent Census. FTA distributes the amounts apportioned for each State between UZAs and nonurbanized areas based on the ratio of urbanized/nonurbanized population within each State in the 2000 census. FTA apportions the High Density States funds to States with population densities in excess of 370 persons per square mile. These funds are apportioned only to UZAs within those States. FTA pro-rates each UZA's share of the High Density funds based on the population of the UZAs in the State in the 2000 census.

FTA cannot provide unit values for the Growing States or High Density formulas because the allocations to individual States and urbanized areas are based on their relative population data, rather than on a national per capita basis.

Based on language in the SAFETEA-LU conference report that directs FTA to show a single apportionment amount for Section 5307, STIC and Section 5340, FTA shows a single Section 5307 apportionment amount for each UZA in Table 3, the Urbanized Area Formula apportionments. The amount includes funds apportioned based on the Section 5307 formula factors, any STIC funds, and any Growing States and High Density States funding allocated to the area. FTA uses separate formulas calculations to generate the respective apportionment amounts for the Section 5307, STIC and Section 5340. For technical assistance purposes, the UZAs that received STIC funds are listed in Table 6. FTA will make available breakouts of the funding allocated to each UZA under these formulas, upon request to the regional office.

3. Program Requirements

Program guidance for the Urbanized Area Formula Program is presently found in FTA Circular C9030.1C, Urbanized Area Formula Program: Grant Application Instructions, dated October 1, 1998, and supplemented by additional information or changes provided in this document. FTA is in the process of updating the circular to incorporate changes resulting from language in SAFETEA-LU. Several important program requirements are highlighted below.

a. Urbanized Area Formula Apportionments to Governors. For small UZAs, those with a population of less than 200,000, FTA apportions funds to the Governor of each State for distribution. A single total Governor apportionment amount for the Urbanized Area Formula, STIC, and Growing States and High Density States is shown in the Urbanized Area Formula Apportionment table 3. The table also shows the apportionment amount attributable to each small UZA within the State. The Governor may determine the sub-allocation of funds among the small UZAs except that funds attributed to a small UZA that is located within the planning boundaries of a Transportation Management Area (TMA) must be obligated to that small UZA, as discussed in subsection f below.

b. Transit Enhancements. Section 5307(d)(1)(K) requires that one percent of Section 5307 funds apportioned to UZAs with populations of 200,000 or more be spent on eligible transit enhancement activities or projects. This requirement is now treated as a certification, rather than as a set-aside as was the case under the Transportation Equity Act for the 21st Century (TEA-21). Designated recipients in UZAs with populations of 200,000 or more certify they are spending not less than one percent of Section 5307 funds for transit enhancements. In addition, Designated Recipients must submit an annual report on how they spent the money with the Federal fiscal year's final quarterly progress report in TEAM-Web. The report should include the following elements: (a) Grantee name, (b) UZA name and number, (c) FTA project number, (d) transit enhancement category, (e) brief description of enhancement and progress towards project implementation, (f) activity line item code from the approved budget, and (g) amount awarded by FTA for the enhancement. The list of transit enhancement categories and activity line item (ALI) codes may be found in the table of Scope and ALI codes on TEAM-Web, which can be accessed at http://FTATEAMWeb.fta.dot.gov.

The term “transit enhancement” includes projects or project elements that are designed to enhance public transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one-percent for transit enhancements will be allotted to transit projects. The one percent minimum requirement does not preclude more than one percent from being expended in a UZA for transit enhancements. However, activities that are only eligible as enhancements—in particular, operating costs for historic facilities—may be assisted only within the one-percent funding level.

c. Transit Security Projects. Pursuant to section 5307(d)(1)(J), each recipient of Urbanized Area Formula funds must certify that of the amount received each fiscal year, it will expend at least one percent on “public transportation security projects” or must certify that it has decided the expenditure is not necessary. For applicants not eligible to receive Section 5307 funds for operating assistance, only capital security projects may be funded with the one percent. SAFETEA-LU, however, expanded the definition of eligible “capital” projects to include specific crime prevention and security activities, including: (1) Projects to refine and develop security and emergency response plans; (2) projects aimed at detecting chemical and biological agents in public transportation; (3) the conduct of emergency response drills with public transportation agencies and local first response agencies; and (4) security training for public transportation employees, but excluding all expenses related to operations, other than such expenses incurred in conducting emergency drills and training. New ALI codes have been established for these four new capital activities. The one percent may also include security expenditures included within other capital activities, and, where the recipient is eligible, operating assistance. The relevant ALI codes would be used for those activities.

FTA is often called upon to report to Congress and others on how grantees are expending Federal funds for security enhancements. To facilitate tracking of grantees' security expenditures, which are not always evident when included within larger capital or operating activity line items in the grant budget, we have established a non-additive (“non-add”) scope code for security expenditures—Scope 991. The non-add scope is to be used to aggregate activities included in other scopes, and it does not increase the budget total. Section 5307 grantees should include this non-add scope in the project budget for each new Section 5307 grant application or amendment. Under this non-add scope, the applicant should repeat the full amount of any of the line items in the budget that are exclusively for security and include the portion of any other line item in the project budget that is attributable to security, using under the non-add scope the same line item used in the project budget. The grantee can modify the ALI description or use the extended text feature, if necessary, to describe the security expenditures.

The grantee must provide information regarding its use of the one percent for security as part of each Section 5307 grant application, using a special screen in TEAM-Web. If the grantee has certified that it is not necessary to expend one percent for security, the Section 5307 grant application must include information to support that certification. FTA will not process an application for a Section 5307 grant until the security information is complete.

d. FY 2007 Operating Assistance. UZAs under 200,000 population may use Section 5307 funds for operating assistance. In addition, Section 5307, as amended by, SAFETEA-LU and TEA-21, allows some UZAs with a population of 200,000 or more to use FY 2007 Urbanized Area Formula funds for operating assistance under certain conditions. The specific provisions allowing the limited use of operating assistance in large UZAs are as follows:

(1) Section 5307(b)(2) allows UZAs that grew in population from under 200,000 to over 200,000, as a result of the 2000 Census to use FY 2007 funds for operating assistance in an amount up to 25 percent of the grandfathered amount for FY 2005 funds. (The provision is completely phased out in FY 2008.) Table 7 shows the maximum amount of each eligible UZA's Section 5307 apportionment that can be used for operating assistance.

(2) Section 5307(b)(1)(E) provides for grants for the operating costs of equipment and facilities for use in public transportation in the Evansville, IN-KY urbanized area, for a portion or portions of the UZA if: the portion of the UZA includes only one State; the population of the portion is less than 30,000; and the grants will be not used to provide public transportation outside of the portion of the UZA.

(3) Section 5307(b)(1)(F) provides operating costs of equipment and facilities for use in public transportation for local governmental authorities in areas which adopted transit operating and financing plans that became a part of the Houston, Texas, UZA as a result of the 2000 decennial census of population, but lie outside the service area of the principal public transportation agency that serves the Houston UZA.

(4) Section 5336(a)(2) prescribes the formula to be used to apportion Section 5307 funds to UZAs with population of 200,000 or more. SAFETEA-LU amended 5336(a)(2) to add language that stated, “* * * except that the amount apportioned to the Anchorage urbanized area under subsection (b) shall be available to the Alaska Railroad for any costs related to its passenger operations.” This language has the effect of directing that funds apportioned to the Anchorage urbanized area, under the fixed guideway tiers of the Section 5307 apportionment formula, be made available to the Alaska Railroad, and that these funds may be used for any capital or operating costs related to its passenger operations.

(5) Section 3027(c)(3) of TEA-21, as amended (49 U.S.C. 5307 note), provides an exception to the restriction on the use of operating assistance in a UZA with a population of 200,000 or more, by allowing transit providers/grantees that provide service exclusively to elderly persons and persons with disabilities and that operate 20 or fewer vehicles to use Section 5307 funds apportioned to the UZA for operating assistance. The total amount of funding made available for this purpose under Section 3027(c)(3) is $1.4 million. Transit providers/grantees eligible under this provision have already been identified and notified.

e. Sources of Local Match. Pursuant to Section 5307(e), the Federal share of an urbanized area formula grant is 80 percent of net project cost for a capital project and 50 percent of net project cost for operating assistance. The remainder of the net project cost (i.e., 20 percent and 50 percent, respectively) shall be provided from the following sources:

1. In cash from non-Government sources other than revenues from providing public transportation services;

2. From revenues derived from the sale of advertising and concessions;

3. From an undistributed cash surplus, a replacement or depreciation cash fund or reserve, or new capital;

4. From amounts received under a service agreement with a State or local social service agency or private social service organization; and

5. Proceeds from the issuance of revenue bonds.

In addition, funds from Section 403(a)(5)(C)(vii) of the Social Security Act (42 U.S.C. 603(a)(5)(C)(vii)) can be used to match Urbanized Area Formula funds.

f. Designated Transportation Management Areas (TMA). Guidance for setting the boundaries of TMAs is in the joint transportation planning regulations codified at 23 CFR Part 450 and 49 CFR Part 613. In some cases, the TMA planning boundaries established by the MPO for the designated TMA includes one or more small UZAs. In addition, one small UZA (Santa Barbara, CA) has been designated as a TMA. In either of these situations, the Governor cannot allocate “Governor's Apportionment” funds attributed to the small UZAs to other areas; that is, the Governor only has discretion to allocate Governor's Apportionment funds attributable to areas that are outside of designated TMA planning boundaries.

The list of small UZAs included within the planning boundaries of designated TMAs is provided in the table below.

Designated TMA | Small urbanized area included in TMA planning boundary
Albany, NY | Saratoga Springs, NY.
Houston, TX | Galveston, TX; Lake Jackson-Angleton, TX; Texas City, TX; The Woodlands, TX.
Jacksonville, FL | St. Augustine, FL.
Orlando, FL | Kissimmee, FL.
Palm Bay-Melbourne, FL | Titusville, FL.
Philadelphia, PA-NJ-DE-MD | Pottstown, PA.
Pittsburgh, PA | Monessen, PA; Weirton, WV-Steubenville, OH-PA (PA portion); Uniontown-Connellsville, PA.
Seattle, WA | Bremerton, WA.
Washington, DC-VA-MD | Frederick, MD.

The MPO must notify the Associate Administrator for Program Management, Federal Transit Administration, 400 Seventh Street, SW., Washington, DC 20590, in writing, no later than July 1 of each year, to identify any small UZA within the planning boundaries of a TMA.

g. Urbanized Area Formula Funds Used for Highway Purposes. Funds apportioned to a TMA are eligible for transfer to FHWA for highway projects. However, before funds can be transferred, the following conditions must be met: (1) Such use must be approved by the MPO in writing, after appropriate notice and opportunity for comment and appeal are provided to affected transit providers; (2) in the determination of the Secretary, such funds are not needed for investments required by the Americans with Disabilities Act of 1990 (ADA); and (3) the MPO determines that local transit needs are being addressed.

The MPO should notify the appropriate FTA Regional Administrator of its intent to use FTA funds for highway purposes, as prescribed in section V.D below. Urbanized Area Formula funds that are designated by the MPO for highway projects will be transferred to and administered by FHWA.

4. Period of Availability

The Urbanized Area Formula Program funds apportioned in this notice remain available to be obligated by FTA to recipients until September 30, 2010. Any of these apportioned funds that remain unobligated at the close of business on September 30, 2010, will revert to FTA for reapportionment under the Urbanized Area Formula Program.

5. Other Program or Apportionment Related Information and Highlights

In each UZA with a population of 200,000 or more, the Governor in consultation with responsible local officials, and publicly owned operators of public transportation has designated one or more entities to be the Designated Recipient for Section 5307 funds apportioned to the UZA. The same entity(s) may or may not be the Designated Recipient for the Job Access and Reverse Commute (JARC) and New Freedom program funds apportioned to the UZA. In UZAs under 200,000 population, the State is the Designated Recipient for Section 5307 as well as JARC and New Freedom programs. The Designated Recipient for Section 5307 may authorize other entities to apply directly to FTA for Section 5307 grants pursuant to a supplemental agreement. While the requirement that projects selected for funding be included in a locally developed coordinated public transit/human service transportation plan is not included in Section 5307 as it is in Sections 5310, 5316 (JARC) and 5317 (New Freedom), FTA expects that in their role as public transit providers, recipients of Section 5307 funds will be participants in the local planning process for these programs.

D. Clean Fuels Grant Program (49.U.S.C. 5308)

The Clean Fuels Grant Program supports the use of alternative fuels in air quality maintenance or nonattainment areas for ozone or carbon monoxide through capital grants to urbanized areas for clean fuel vehicles and facilities. Previously an unfunded Formula Program under TEA-21, the program is now a discretionary program. FTA published a Notice of Proposed Rulemaking for the discretionary program on October 16, 2006, and is now in the process of reviewing comments and finalizing the rule. For more information about this program contact Kimberly Sledge, Office of Transit Programs, at (202) 366-2053.

1. FY 2007 Funding Availability

The Continuing Appropriations Resolution, 2007, provides $45,000,000 to the Clean Fuels Grant Program (49 U.S.C. 5308). SAFETEA-LU earmarked $18,721,000 for specific Clean Fuel projects. The balance of $26,279,000 was transferred to the discretionary Bus Program.

Clean Fuels Grant Program
Total Appropriation | $45,000,000
Transfer to Bus and Bus Facility | −$26,279,000
Funds Allocated to SAFETEA-LU Earmarks | 18,721,000

Allocations to projects earmarked under the Clean Fuels program in SAFETEA-LU are displayed in Table 8.

2. Basis for Allocation of Funds.

Section 3044(b) of SAFETEA-LU included 16 projects to be funded through the Clean Fuels program. Table 8 displays the amounts available in FY 2007 to the Clean Fuels projects designated in SAFETEA-LU. FY 2006 carryover funds are shown in Table 9. No funds are available for competitive allocation in FY 2007.

3. Requirements

Clean Fuels program funds may be made available to any grantee in a UZA that is designated as maintenance or nonattainment area for ozone or carbon monoxide as defined in the Clean Air Act. Eligible recipients include Section 5307 Designated Recipients as well as recipients in small UZAs. In the case of a small UZA, the State in which the area is located will act as the recipient.

Eligible projects include the purchase or lease of clean fuel buses (including buses that employ a lightweight composite primary structure), the construction or lease of clean fuel buses or electrical recharging facilities and related equipment for such buses, and construction or improvement of public transportation facilities to accommodate clean fuel buses.

Legislation will be necessary if a recipient wishes to use Clean Fuels funds earmarked in SAFETEA-LU for eligible program activities outside the scope of a project description.

Unless otherwise specified in law, grants made under the Clean Fuels program must meet all other eligibility requirements as outlined in Section 5308.

4. Period of Availability

Funds designated for specific Clean Fuels Program projects remain available for obligation for three fiscal years, which includes the year of appropriation plus two additional fiscal years. The FY 2007 funding for projects included in this notice remains available through September 30, 2009. Clean Fuels funds not obligated in an FTA grant for their original purpose at the end of the period of availability will generally be made available for other projects.

E. Capital Investment Program (49 U.S.C. 5309)—Fixed Guideway Modernization

This program provides capital assistance for the modernization of existing fixed guideway systems. Funds are allocated by a statutory formula to UZAs with fixed guideway systems that have been in operation for at least seven years. A “fixed guideway” refers to any transit service that uses exclusive or controlled rights-of-way or rails, entirely or in part. The term includes heavy rail, commuter rail, light rail, monorail, trolleybus, aerial tramway, inclined plane, cable car, automated guideway transit, ferryboats, that portion of motor bus service operated on exclusive or controlled rights-of-way, and high-occupancy-vehicle (HOV) lanes. Eligible applicants are the public transit authorities in those urbanized areas to which the funds are allocated. For more information about Fixed Guideway Modernization contact Scott Faulk, Office of Transit Programs, at (202) 366-2053.

1. FY 2007 Funding Availability

The Continuing Appropriations Resolution, 2007, provides $1,448,000,000 to the Fixed Guideway Modernization Program. The total amount apportioned for the Fixed Guideway Modernization Program is $1,433,520,000, after the deduction for oversight, as shown in the table below.

Fixed Guideway Modernization Program
Total Appropriation | $1,448,000,000
Oversight Deduction | −14,480,000
Total Apportioned | 1,433,520,000

The FY 2007 Fixed Guideway Modernization Program apportionments to eligible areas are displayed in Table 10.

2. Basis for Formula Apportionment

The formula for allocating the Fixed Guideway Modernization funds contains seven tiers. The apportionment of funding under the first four tiers is based on amounts specified in law and NTD data used to apportion funds in FY 1997. Funding under the last three tiers is apportioned based on the latest available data on route miles and revenue vehicle miles on segments at least seven years old, as reported to the NTD. Section 5337(f) of title 49, U.S.C. provides for the inclusion of Morgantown, West Virginia (population 55,997) as an eligible UZA for purposes of apportioning fixed guideway modernization funds. Also, pursuant to 49 U.S.C. 5336(b) FTA used 60 percent of the directional route miles attributable to the Alaska Railroad passenger operations system to calculate the apportionment for the Anchorage, Alaska UZA under the Section 5309 Fixed Guideway Modernization formula.

FY 2007 Formula apportionments are based on data grantees provided to the NTD for the 2005 reporting year. Table 11 provides additional information and details on the formula. Dollar unit values for the formula factors used in the Fixed Guideway Modernization Program are displayed in Table 5. To replicate an area's apportionment, multiply the dollar unit value by the appropriate formula factor, i.e., route miles and revenue vehicle miles.

3. Program Requirements

Fixed Guideway Modernization funds must be used for capital projects to maintain, modernize, or improve fixed guideway systems. Eligible UZAs (those with a population of 200,000 or more) with fixed guideway systems that are at least seven years old are entitled to receive Fixed Guideway Modernization funds. A threshold level of more than one mile of fixed guideway is required in order to receive Fixed Guideway Modernization funds. Therefore, UZAs reporting one mile or less of fixed guideway mileage under the NTD are not included. However, funds apportioned to an urbanized area may be used on any fixed guideway segment in the UZA. Program guidance for Fixed Guideway Modernization is presently found in FTA Circular C9300.1A, Capital Program: Grant Application Instructions, dated October 1, 1998. FTA is in the process of updating this circular to incorporate changes resulting from language in SAFETEA-LU.

4. Period of Availability

The funds apportioned in this notice under the Fixed Guideway Modernization Program remain available to be obligated by FTA to recipients for three fiscal years following FY 2007. Any of these apportioned funds that remain unobligated at the close of business on September 30, 2010, will revert to FTA for reapportionment under the Fixed Guideway Modernization Program.

F. Capital Investment Program (49 U.S.C. 5309)—Bus and Bus-Related Facilities

This program provides capital assistance for new and replacement buses and related facilities. Funds are allocated on a discretionary basis. Eligible purposes are acquisition of buses for fleet and service expansion, bus maintenance and administrative facilities, transfer facilities, bus malls, transportation centers, intermodal terminals, park-and-ride stations, acquisition of replacement vehicles, bus rebuilds, bus preventive maintenance, passenger amenities such as passenger shelters and bus stop signs, accessory and miscellaneous equipment such as mobile radio units, supervisory vehicles, fare boxes, computers, and shop and garage equipment. Eligible applicants are State and local governmental authorities. Eligible subrecipients include other public agencies, private companies engaged in public transportation and private non-profit organizations. For more information about Bus and Bus-Related Facilities contact Maria Wright, Office of Transit Programs, at (202) 366-2053.

1. FY 2007 Funding Availability

The Continuing Appropriations Resolution, 2007, provides $881,779,000 for the bus and bus facilities program. This amount includes $855,500,000 provided for the Bus Program and $26,279,000 transferred from the Clean Fuels Program. The amount of funding for projects designated in Section 3044 of SAFETEA-LU for Bus and Bus-Related Facilities in FY 2007 is $459,670,089. The balance remains unallocated, as shown in the following table.

Bus and Bus Facility Program
Total Appropriation | $881,779,000 ᵃ
Oversight Deduction | −8,817,790
SAFETEA-LU Statutory Provisions Projects | 459,670,089
Funds Available for Discretionary/Competitive Allocation | 413,291,121
Total Funds to be Allocated | 872,961,210
ᵃ Includes $26,279,000 transferred from Clean Fuels Grant Program

The FY 2007 Bus and Bus Facility Program allocations are displayed in Table 12.

2. Basis for Allocations

Funds are provided annually under Section 5309 for discretionary allocation for bus and bus facilities projects. SAFETEA-LU listed 646 earmarked projects to be funded each year through the Bus Program (Section 3044) and specified additional projects in Section 5309(m)(7). Table 12 displays the allocation of the FY 2007 Bus and Bus-Related Facilities funds by State and project for projects earmarked in SAFETEA-LU. The table includes a SAFETEA-LU project number for each project listed in Section 3044. No additional projects were earmarked in the Continuing Appropriations Resolution, 2007. In fact, Section 112 of the Continuing Appropriations Resolution, 2007, (H.J. Res 20) specifically precluded using FY 2007 funds to award grants for projects designated Section 5309 bus funds in the statement of managers accompanying the FY 2006 Department of Transportation Appropriations Act (Pub. L. 109-115).

3. Requirements

Section 125 and Section 113 of the FY 2005 and FY 2006 Department of Transportation Appropriations Acts, respectively, make projects identified in the statement of managers automatically eligible to receive the funds designated to the project “notwithstanding any other provision of law.” Similar language was first included as a general provision in Section 547 of the FY 2004 Department of Transportation Appropriations Acts. In addition, Section 3044 of SAFETEA-LU earmarked 646 Bus and Bus Facilities projects in FY 2007. FTA will review Congressional intent on a case by case basis.

FTA honors Congressional earmarks for the purpose designated, for purposes eligible under the program or under the expanded eligibility of a “notwithstanding” provision. If you want to apply to use funds designated under the Bus Program in any year for project activities outside the scope of the project designation included in report language, you must submit your request for reprogramming to the House and Senate Committees on Appropriations for resolution. FTA will not reprogram projects Congress designated in report language without direction from the Appropriations Committees.

FTA will honor projects earmarked to receive Section 5309 bus funds in SAFETEA-LU. Legislation will be necessary to amend the earmark if you wish to use funds for project activities outside the scope of the project description.

Grants made under the Bus and Bus-Related Facilities program must meet all other eligibility requirements as outlined in Section 5309 unless otherwise specified in law.

Program guidance for Bus and Bus-Related Facilities is found in FTA Circular C9300.1A, Capital Program: Grant Application Instructions. FTA is in the process of updating this circular to incorporate changes resulting from language in SAFETEA-LU.

4. Period of Availability

The FY 2007 Bus and Bus-Related Facilities funds not obligated for their original purpose as of September 30, 2009, may be made available for other projects under 49 U.S.C. 5309. The unusual appropriations process in FY 2007 has not yet resulted in directions from Congress to FTA not to reallocate unobligated bus program funds for designations that lapsed at the end of FY 2006.

5. Other Program or Allocation Related Information and Highlights

Prior year unobligated balances for Bus and Bus-Related allocations in the amount of $870,471,637 remain available for obligation in FY 2007. This includes $861,331,362 in fiscal years 2005 and 2006 unobligated allocations, and $9,140,275 for fiscal years 2002-2004 unobligated allocations that were extended by previous direction by the House and Senate appropriation committees. The unobligated amounts available as of September 30, 2006, are displayed in Table 13.

In two Notices of Funding Availability (NOFA), published as separate parts of today's Federal Register, FTA is issuing procedures for grantees to apply competitively for discretionary funding for projects eligible under the Bus and Bus Facilities program. One NOFA invites applications from States and from Designated Recipients under the Urbanized Area Formula Program to fund bus and bus facility projects that address the following FTA priorities: Fleet replacement needs that cannot be met with formula funds, fleet expansion for significant service improvements, purchase of clean fuel vehicles, facility construction to support increased service or introduction of clean fuels, and intermodal terminal projects that include intercity bus providers, and Gulf Coast recovery. The other NOFA addresses the Department of Transportation Congestion Initiative and invites proposals from specific urbanized areas identified as the most congested in the nation.

G. Capital Investment Program (49 U.S.C. 5309)—New Starts

The New Starts program provides funds for construction of new fixed guideway systems or extensions to existing fixed guideway systems. Eligible purposes are light rail, rapid rail (heavy rail), commuter rail, monorail, automated fixed guideway system (such as a “people mover”), or a busway/high occupancy vehicle (HOV) facility, Bus Rapid Transit that is fixed guideway, or an extension of any of these. Projects become candidates for funding under this program by successfully completing the appropriate steps in the major capital investment planning and project development process. Major new fixed guideway projects, or extensions to existing systems, financed with New Starts funds typically receive these funds through a full funding grant agreement (FFGA) that defines the scope of the project and specifies the total multi-year Federal commitment to the project. Beginning in FY 2007, up to $200,000,000 each year is designated for “Small Starts” (Section 5309(e)) projects with a New Starts share of less than $75,000,000 and a net project cost of less than $250,000,000. The Continuing Appropriations Resolution, 2007, however, did not set aside a specific amount for Small Starts from the amounts appropriated for Capital Investment Grants.

Section 5309(m)(6) also made annual allocations of New Start funding available to Alaska and Hawaii for ferryboats and to the Denali Commission in Anchorage, Alaska under the terms of Section 307(e) of the Denali Commission Act of 1998 (42 U.S.C. 3121) for docks, waterfront development projects and related transportation infrastructure in rural Alaska communities.

For more information about New Starts project development contact Sean Libberton, Office of Planning and Environment, at (202) 366-4033, or for information about published allocations contact Kimberly Sledge, Office of Transit Programs, at (202) 366-2053.

1. FY 2007 Funding Availability

The Continuing Appropriations Resolution, 2007, provides $1,566,000,000 to New Starts. The total amount allocated for New Starts is $1,550,340,000, as shown in the table below.

New Starts
Total Appropriation | $1,566,000,000 ᵃ
Oversight Deduction | −15,660,000
Funds Allocated to Specific Projects in Table 14 | ᵇ 1,284,478,399
Unallocated Funds Available for Discretionary/Competitive Allocation | 265,861,601
Total Funds to be Allocated | 1,550,340,000
ᵃ Includes $200 million for Small Starts.
ᵇ Includes $20 million for the Denali Commission and Alaska and Hawaii Ferry projects.

2. Basis for Allocation

Congress included authorizations for specific New Starts projects in SAFETEA-LU and in statutory takedowns from the program for Alaska and Hawaii Ferryboats and the Denali Commission. The Continuing Appropriations Resolution, 2007, did not include project allocations. FTA has allocated available FY 2007 New Starts funding as shown in Table 14, based on existing FFGAs and the President's Budget for FY 2007.

3. Requirements

Because New Starts projects are earmarked in law rather than report language, reprogramming for a purpose other than that specified must also occur in law. New Starts projects are subject to a complex set of approvals related to planning and project development set forth in 49 CFR Part 611. FTA has published a number of rulemakings and interim guidance documents related to the New Starts program since the passage of SAFETEA-LU. Grantees should reference the FTA Web site at http://www.fta.dot.gov for the most current program guidance about project developments and management. Grant related guidance for New Starts is found in FTA Circular C9300.1A, Capital Program: Grant Application Instructions, dated October 1, 1998; and C5200.1A, Full Funding Grant Agreement Guidance, dated December 5, 2002. FTA is in the process of updating these circulars to incorporate changes resulting from language in SAFETEA-LU and recent rulemakings.

4. Period of Availability

New Starts funds remain available for three fiscal years (including the fiscal year the funds are made available or appropriated plus two additional years.) FY 2007 funds remain available through September 30, 2009. Funds may be extended by Congress or made available for other projects after the period of availability has expired. The unusual appropriations process in FY 2007 has not yet resulted in any extensions of prior year unobligated balances that lapsed at the end of FY 2006.

5. Other Program or Apportionment Related Information and Highlights

Prior year unobligated allocations for New Starts in the amount of $717,087,493 remain available for obligation in FY 2007. This amount includes $118,384,337 in FY 2005 and $598,703,156 in FY 2006 unobligated allocations. These unobligated amounts are displayed in Table 15. Information on pre-award authority for New Starts projects is detailed in section V below.

H. Special Needs of Elderly Individuals and Individuals With Disabilities Program (49 U.S.C. 5310)

This program provides formula funding to States for capital projects to assist private nonprofit groups in meeting the transportation needs of the elderly and individuals with disabilities when the public transportation service provided in the area is unavailable, insufficient, or inappropriate to meet these needs. A State agency designated by the Governor administers the Section 5310 program. The State's responsibilities include: notifying eligible local entities of funding availability; developing project selection criteria; determining applicant eligibility; selecting projects for funding; and ensuring that all subrecipients comply with Federal requirements. Eligible nonprofit organizations or public bodies must apply directly to the designated State agency for assistance under this program. For more information about the Elderly and Individuals with Disabilities Program contact Cheryl Oliver, Office of Transit Programs, at (202) 366-2053.

1. FY 2007 Funding Availability

The Continuing Appropriations Resolution, 2007, provides $117,000,000 to the Elderly and Individuals with Disabilities Program (49 U.S.C. 5310). After deduction of 0.5 percent for oversight, and the addition of reapportioned prior year funds, $116,659,554 remains available for allocation to the States.

Elderly and Individuals with Disabilities Program
Total Appropriation | $117,000,000
Oversight Deduction | −585,000
Prior Year Funds Added | 244,554
Total Apportioned | 116,659,554

The FY 2007 Elderly and Individuals with Disabilities Program apportionments to the States are displayed in Table 16.

2. Basis for Apportionment

FTA allocates funds to the States by an administrative formula consisting of a $125,000 floor for each State ($50,000 for smaller territories) with the balance allocated based on 2000 Census population data for persons aged 65 and over and for persons with disabilities.

3. Requirements

Funds are available to support the capital costs of transportation services for older adults and people with disabilities. Uniquely under this program, eligible capital costs include the acquisition of service. Seven specified States (Alaska, Louisiana, Minnesota, North Carolina, Oregon, South Carolina, and Wisconsin) may use up to 33 percent of their apportionment for operating assistance under the terms of the SAFETEA-LU Section 3012(b) pilot program.

Capital assistance is provided on an 80 percent Federal, 20 percent local matching basis except that Section 5310(c) allows States eligible for a higher match under the sliding scale for FHWA programs to use that match ratio for Section 5310 capital projects. Operating assistance is 50 percent Federal, 50 percent local, or the 62.5 percent of the sliding scale Federal share. Funds provided under other Federal programs (other than those of the DOT, with the exception of the Federal Lands Highway Program established by 23 U.S.C. 204) may be used as match. Revenue from service contracts may also be used as local match.

While the assistance is intended primarily for private non-profit organizations, public bodies approved by the State to coordinate services for the elderly and individuals with disabilities, or any public body that certifies to the State that there are no non-profit organizations in the area that are readily available to carry out the service, may receive these funds.

States may use up to ten percent of their annual apportionment to administer, plan, and provide technical assistance for a funded project. No local share is required for these program administrative funds. Funds used under this program for planning must be shown in the United Planning Work Program (UPWP) for MPO(s) with responsibility for that area.

The State recipient must certify that: the projects selected were derived from a locally developed, coordinated public transit-human services transportation plan; and, the plan was developed through a process that included representatives of public, private, and nonprofit transportation and human services providers and participation by the public. The locally developed, coordinated public transit-human services transportation planning process must be coordinated and consistent with the metropolitan and statewide planning processes and funding for the program must included in the metropolitan and statewide Transportation Improvement Plan (TIP and STIP) at a level of specificity or aggregation consistent with State and local policies and procedures. Finally, the State must certify that allocations of the grant to subrecipients are made on a fair and equitable basis.

The coordinated planning requirement is also a requirement in two additional programs. Projects selected for funding under the Job Access Reverse Commute program and the New Freedom program are also required to be derived from a locally developed coordinated public transit/human service transportation plan. FTA anticipates that most areas will develop one consolidated plan for all the programs, which may include separate elements and other human service transportation programs.

The Section 5310 program is subject to the requirements of Section 5307 to the extent the Secretary determines appropriate. Program guidance is found in FTA C 9070.1E, dated October 1, 1998. FTA published a proposed revised circular for this program and is currently reviewing comments submitted to the docket. The new circular will be posted on the FTA Web site at http://www.fta.dot.gov when it is issued.

4. Period of Availability

FTA has administratively established a three year period of availability for Section 5310 funds. Funds allocated to States under the Elderly and Individuals with Disabilities Program in this notice must be obligated by September 30, 2009. Any funding that remains unobligated as of that date will revert to FTA for reapportionment among the States under the Elderly and Individuals with Disabilities Program.

5. Other Program or Apportionment Related Information and Highlights

States may transfer Section 5310 funds to Section 5307 or Section 5311, but only for projects selected under the Section 5310 program, not as a general supplement for those programs. FTA anticipates that the States would use this flexibility primarily for projects to be implemented by a Section 5307 recipient in a small urbanized area, or for Federally recognized Indian Tribes that elect to receive funds as a direct recipient from FTA under Section 5311. A State that transfers Section 5310 funds to Section 5307 must certify that each project for which the funds are transferred has been coordinated with private nonprofit providers of services. FTA has established a new scope code (641) to track 5310 projects included within a Section 5307 or 5311 grant. Transfer to Section 5307 or 5311 is permitted but not required. FTA expects primarily to award stand-alone Section 5310 grants to the State for any and all subrecipients.

I. Nonurbanized Area Formula Program (49 U.S.C. 5311)

This program provides formula funding to States and Indian Tribes for the purpose of supporting public transportation in areas with a population of less than 50,000. Funding may be used for capital, operating, State administration, and project administration expenses. Eligible subrecipients include State and local public agencies, Indian Tribes, private non-profit organizations, and private operators of public transportation services, including intercity bus companies. Indian Tribes are also eligible direct recipients under Section 5311, both for funds apportioned to the States and for projects selected to be funded with funds set aside for a separate Tribal Transit Program.

For more information about the Nonurbanized Area Formula Program contact Lorna Wilson, Office of Transit Programs, at (202) 366-2053.

1. FY 2007 Funding Availability

The Continuing Appropriations Resolution, 2007, provides $404,000,000 to the Nonurbanized Area Formula Program (49 U.S.C. 5311). The total amount apportioned for the Nonurbanized Area Formula Program is $386,179,139, after take-downs of two percent for the Rural Transportation Assistance Program (RTAP), 0.5 percent for oversight, and $10,000,000 for the Tribal Transit Program, and the addition of Section 5340 funds and prior year funds reapportioned, as shown in the table below.

Nonurbanized Area Formula Program
Total Appropriation | $404,000,000
Oversight Deduction | 2,020,000
RTAP Takedown | 8,080,000
Tribal Transit Takedown | 10,000,000
Prior Year Funds Added | 2,277,688
Section 5340 Funds Added | 63,265,514
Total Apportioned | 449,443,202

The FY 2007 Nonurbanized Area Formula apportionments to the States are displayed in Table 17.

2. Basis for Apportionments

FTA apportions the funds available for apportionment after take-down for oversight, the Tribal Transit Program, and RTAP according to a statutory formula. FTA apportions the first twenty percent to the States based on land area in nonurbanized areas with no state receiving more than 5 percent of the amount apportioned. FTA apportions the remaining eighty percent based on nonurbanized population of each State relative to the national nonurbanized population. FTA does not apportion Section 5311 funds to the Virgin Islands, which by a statutory exception are treated as an urbanized area for purposes of the Section 5307 formula program.

FTA also allocated $63,265,514 to the 50 States for nonurbanized areas from the Growing States portion of Section 5340. FTA apportions Growing States funds by a formula based on State population forecasts for 15 years beyond the most recent census. FTA distributes the amounts apportioned for each State between UZAs and nonurbanized areas based on the ratio of urbanized/nonurbanized population within each State in the 2000 census.

3. Program Requirements

The Nonurbanized Area Formula Program provides capital, operating and administrative assistance for public transit service in areas under 50,000 in population.

The Federal share for capital assistance is 80 percent and for operating assistance is 50 percent, except that States eligible for the sliding scale match under FHWA programs may use that match ratio for Section 5311 capital projects and 62.5 percent of the sliding scale capital match ratio for operating projects.

Each State must spend no less than 15 percent of its FY 2007 Nonurbanized Area Formula apportionment for the development and support of intercity bus transportation, unless the State certifies, after consultation with affected intercity bus service providers, that the intercity bus service needs of the State are being adequately met. SAFETEA-LU added this requirement for consultation with the industry to strengthen the certification requirement. FTA also encourages consultation with other stakeholders, such as communities affected by loss of intercity service.

Each State prepares an annual program of projects, which must provide for fair and equitable distribution of funds within the States, including Indian reservations, and must provide for maximum feasible coordination with transportation services assisted by other Federal sources.

In order to retain eligibility for funding, recipients of Section 5311 funding must report data annually to the NTD, beginning with the 2006 reporting year.

Program guidance for the Nonurbanized Area Formula Program is found in FTA C 9040.1F, Nonurbanized Area Formula Program Guidance and Grant Application Instructions, dated April 1, 2007, which was revised and reissued after notice and comment. FTA announced availability of this circular in the Federal Register on February 28, 2007, and summarized the response to comments submitted to the docket.

4. Period of Availability

Funds apportioned to nonurbanized areas under the Nonurbanized Area Formula Program will remain available for two fiscal years following FY 2007. Any funds that remain unobligated at the close of business on September 30, 2009, will revert to FTA for allocation among the States under the Nonurbanized Area Formula Program.

5. Other Program or Apportionment Related Information and Highlights

By law, FTA requires that each recipient under the Section 5311 program submit an annual report to the NTD containing information on capital investments, operations, and service provided with funds received under the Section 5311 program. Section 5311(b)(4), as amended by SAFETEA-LU, specifies that the report should include information on total annual revenue, sources of revenue, total annual operating costs, total annual capital costs, fleet size and type, and related facilities, revenue vehicle miles, and ridership. In consultation with State Departments of Transportation (DOT), FTA previously developed a voluntary state-based rural data module for the NTD. The existing NTD Rural Data Reporting Module manual and reporting instructions are posted on the NTD Web site, http://www.ntdprogram.com. For each 5311 subrecipient, the State DOT will complete a one-page form of basic data. The existing module will serve as a basis for reporting requirements for the new, mandatory Rural Reporting Module of the NTD until FTA can modify it, in consultation with the States, among others. Pursuant to SAFETEA-LU, mandatory reporting began with the 2006 NTD Report Year. The first reports were due on October 28, 2006, for those States with State or local fiscal years ending between January 1 and June 30, 2006; on January 28, 2007, for those States with State or local fiscal years ending between July 1 and September 30, 2006; and April 30, 2007, for those States with State or local fiscal years ending between October 1 and December 31, 2006. Corresponding dates are applicable to the data for the 2007 NTD Report Year. To enter data and receive additional instructions, State DOTs can go to the NTD website. FTA will issue revised reporting instructions in the 2007 reporting manual, based on consultation with the States and public comment.

J. Rural Transportation Assistance Program (49 U.S.C. 5311(b)(3))

This program provides funding to assist in the design and implementation of training and technical assistance projects, research, and other support services tailored to meet the needs of transit operators in nonurbanized areas. For more information about Rural Transportation Assistance Program (RTAP) contact Lorna Wilson, Office of Transit Programs, at (202) 366-2053.

1. FY 2007 Funding Availability

The Continuing Appropriations Resolution, 2007, provides $8,080,000 to RTAP (49 U.S.C. 5311(b)(2)), as a two percent takedown from the funds appropriated for Section 5311. FTA has reserved 15 percent for the National RTAP program. After adding prior year funds eligible for reapportionment, $7,320,588 is available for allocations to the States, as shown in the table below.

Rural Transit Assistance Program
Total Appropriation | $8,080,000
National RTAP Takedown | 1,212,000
Prior Year Funds Added | 452,588
Total Apportioned | 7,320,588

Table 17 shows the FY 2007 RTAP allocations to the States.

2. Basis for Allocation

FTA allocates funds to the States by an administrative formula. First FTA allocates $65,000 to each State ($10,000 to territories), and then allocates the balance based on nonurbanized population in the 2000 census.

3. Program Requirements

States may use the funds to undertake research, training, technical assistance, and other support services to meet the needs of transit operators in nonurbanized areas. These funds are to be used in conjunction with a State's administration of the Nonurbanized Area Formula Program, but may also support the rural components of the Section 5310, JARC, and New Freedom programs.

4. Period of Availability

Funds apportioned to States under RTAP remain available for two fiscal years following FY 2007. Any funds that remain unobligated at the close of business on September 30, 2009, will revert to FTA for allocation among the States under the RTAP.

5. Other Program or Apportionment Related Information and Highlights

The National RTAP project is administered by the American Public Works Association in consortium with the Community Transportation Association of America, under a cooperative agreement re-competed at five-year intervals. During FY 2007, FTA will be soliciting proposals for the National RTAP program services for the next five years. The projects are guided by a project review board of managers of rural transit systems and State DOT RTAP programs. National RTAP resources also support the biennial TRB National Conference on Rural Public and Intercity Bus Transportation and other research and technical assistance projects of a national nature.

The percentage takedown for RTAP, combined with rising funding levels for Section 5311, make additional resources available at the State RTAP program level as well as the national RTAP for projects such as providing technical assistance for the new tribal transit program and conducting intercity bus needs assessments.

K. Public Transportation on Indian Reservations Program (49 U.S.C. 5311(c)(1))

FTA refers to this program as the Tribal Transit Program. It is funded as a takedown from funds appropriated for the Section 5311 program. Indian Tribes are defined as eligible direct recipients. The funds are to be apportioned for grants to Indian Tribes for any purpose eligible under Section 5311, which includes capital, operating, planning, and administrative assistance for rural public transit services and rural intercity bus service. For more information about the Tribal Transit Program contact Lorna Wilson, Office of Transit Programs, at (202) 366-2053.

1. Funding Availability in FY 2007

Under the Continuing Appropriations Resolution, 2007, the amount allocated to the program in FY 2007 is $10,000,000, as authorized in Section 5311(c)(1)(B).

2. Basis for Allocation

Based on procedures developed in consultation with the Tribes, FTA will issue a Notice of Funding Availability (NOFA) soliciting applications for FY 2007 funds.

3. Requirements

FTA developed streamlined program requirements based on statutory authority allowing the Secretary to determine the terms and conditions appropriate to the program. These conditions are contained in the annual NOFA.

4. Period of Availability

Funds remain available for three fiscal years, which includes the fiscal year the funds were apportioned or appropriated plus two additional years. Funds appropriated in FY 2007 will remain available for obligation to the tribes competitively selected to receive the funds through September 30, 2009. Any funds that remain unobligated after September 30, 2009, will revert to FTA for reallocation among the Tribes.

5. Other Program or Apportionment Related Information and Highlights

The funds set aside for the Tribal Transit Program are not meant to replace or reduce funds that Indian Tribes receive from states through the Section 5311 program but are to be used to enhance public transportation on Indian reservations and transit serving tribal communities. Funds allocated to Tribes by the States may be included in the State's Section 5311 application or awarded by FTA in a grant directly to the tribe. We encourage Tribes intending to apply to FTA as direct recipients to contact the appropriate FTA regional office at the earliest opportunity.

Technical assistance for Tribes may be available from the State DOT using the State's allocation of RTAP or funds available for State administration under Section 5311, from the Tribal Transportation Assistance Program (TTAP) Centers supported by FHWA, and from the Community Transportation Association of America under a program funded by the United States Department of Agriculture (USDA). The National RTAP will also be developing new resources for Tribal Transit.

L. National Research Programs (49 U.S.C. 5314)

FTA's National Research Programs include the National Research and Technology Program (NRTP), the Transit Cooperative Research Program (TCRP), the National Transit Institute (NTI), and the University Transportation Centers Program (UTC).

Through funding under these programs, FTA seeks to deliver solutions that improve public transportation. FTA's Strategic Research Goals are to provide transit research leadership, increase transit ridership, improve capital and operating efficiencies, improve safety and emergency preparedness, and to protect the environment and promote energy independence. For more information contact Bruce Robinson, Office of Research, Demonstration and Innovation, at (202) 366-4209.

1. Funding Availability in FY 2007

The Continuing Appropriations Resolution, 2007, provides $61,000,000 for the National Research Programs. Of this amount $9,300,000 is allocated for TCRP, $4,300,000 for NTI, $7,000,000 for the UTC, and $40,400,000 for NRTP. Within the NRTP—$22,800,920 is allocated for specific activities under 49 U.S.C. 5338(d) and in Section 3046 of SAFETEA-LU. A breakdown of NRP funds is provided in the table below.

National Research Programs
Total Appropriation | $61,000,000
Funds Allocated for Specific Programs or Activities | 43,400,920
Small Business Innovative Research Takedown | 200,000
Funds Available for FTA Programming | 17,399,080
Total NPR Funding | 61,000,000

All research and research and development projects are subject to a 2.6% reduction for the Small Business Innovative Research Program (SBIR). The project allocations are listed in Table 18.

2. Program Requirements

Application Instructions and Program Management Guidelines are set forth in FTA Circular 6100.1C. Research projects must support FTA's Strategic Research Goals and meet the Office of Management and Budget's Research and Development Investment Criteria. All research recipients are required to work with FTA to develop approved Statements of Work and plans to evaluate research results before award.

Eligible activities under the NRTP include research, development, demonstration and deployment projects as defined by 49 U.S.C. 5312(a); Joint Partnership projects for deployment of innovation as defined by 49 U.S.C. 5312(b); International Mass Transportation Projects as defined by 49 U.S.C. 5312(c); and, human resource programs as defined by 49 U.S.C. 5322.

Problem Statements for TCRP can be submitted on TCRP's website: http://www.tcrponline.org. Information about NTI courses can be found at http://www.ntionline.com. UTC funds are transferred to the Research and Innovative Technology Administration to make awards.

3. Period of Availability

Funds are available until expended.

4. Other Program or Apportionment Related Information and Highlights

Funds not designated by Congress for specific projects and activities will be programmed by FTA based on national priorities. Opportunities are posted in www.grants.gov under Catalogue of Federal Domestic Assistance Number 20.514.

M. Job Access and Reverse Commute Program (49 U.S.C. 5316)

The Job Access and Reverse Commute (JARC) program provides formula funding to States and Designated Recipients to support the development and maintenance of job access projects designed to transport welfare recipients and eligible low-income individuals to and from jobs and activities related to their employment, and for reverse commute projects designed to transport residents of UZAs and other than urbanized to suburban employment opportunities. For more information about the JARC program contact Henrika Buchanan-Smith, Office of Transit Programs, at (202) 366-2053.

1. Funding Availability in FY 2007

The Continuing Appropriations Resolution, 2007, provides $144,000,000 for the JARC Program. The total amount apportioned by formula is $144,000,000, as shown in the table below.

Job Access and Reverse Commute Program
Total Appropriation | $144,000,000
Total Apportioned | 144,000,000

Table 19 shows the FY 2007 JARC apportionments.

2. Basis for Formula Apportionment

By law, FTA allocates 60 percent of funds available to UZAs with populations of 200,000 or more persons (large UZAs); 20 percent to the States for urbanized areas with populations ranging from 50,000 to 200,000 persons (small UZAs), and 20 percent to the States for rural and small urban areas with populations of less than 50,000 persons. FTA apportions funds based upon the number of low income individuals residing in a State or large urbanized area, using data from the 2000 Census for individuals below 150 percent of poverty. FTA publishes apportionments to each State for small UZAs and for rural and small urban areas and a single apportionment for each large UZA.

The Designated Recipient, either for the State or for a large UZA, is responsible for further allocating the funds to specific projects and subrecipients through a competitive selection process. If the Governor has designated more than one recipient of JARC funds in a large UZA, the Designated Recipients may agree to conduct a single competitive selection process or sub-allocate funds to each Designated Recipient, based upon a percentage split agreed upon locally, and conduct separate competitions.

States may transfer funds between the small UZA and the nonurbanized apportionments, if all of the objectives of JARC are met in the size area the funds are taken from. States may also use funds in the small UZA and nonurbanized area apportionments for projects anywhere in the State (including large UZAs) if the State has established a statewide program for meeting the objectives of JARC. A State planning to transfer funds under either of these provisions should submit a request to the FTA regional office. FTA will assign new accounting codes to the funds before obligating them in a grant.

3. Requirements

States and Designated Recipients must solicit grant applications and select projects competitively, based on application procedures and requirements established by the Designated Recipient, consistent with the Federal JARC program objectives. In the case of large UZAs, the area-wide solicitation shall be conducted in cooperation with the appropriate MPO(s).

Funds are available to support the planning, capital and operating costs of transportation services that address the needs of welfare recipients and eligible low-income individuals that are not met by other transportation services. The transportation services may be provided by public, non-profit, or private-for-profit operators. The Federal share is 80 percent of capital expenses and 50 percent of operating expenses. Funds provided under other Federal programs (other than those of the U.S. DOT) may be used for local/State match for funds provided under section 5316, and revenue from service contracts may be used as local match.

Funding is available for transportation services provided by public, non-profit, or private-for-profit operators. Assistance may be provided for a variety of transportation services and strategies directed at assisting welfare recipients and eligible low-income individuals address unmet transportation needs, and to provide reverse commute services.

States and Designated Recipients may use up to ten percent of their annual apportionment to administer, plan, and provide technical assistance for a funded project. No local share is required for these program administrative funds. Funds used under this program for planning must be shown in the UPWP for MPO(s) with responsibility for that area.

The Designated Recipient must certify that: The projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes and funding for the program must included in the metropolitan and statewide Transportation Improvement Program (TIP and STIP) at a level of specificity or aggregation consistent with State and local policies and procedures. Finally, the State must certify that allocations of the grant to subrecipients are made on a fair and equitable basis.

The coordinated planning requirement is also a requirement in two additional programs. Projects selected for funding under the Section 5310 program and the New Freedom program are also required to be derived from a locally developed coordinated public transit-human service transportation plan. FTA anticipates that most areas will develop one consolidated plan for all the programs, which may include separate elements and other human service transportation programs.

The JARC program is subject to the relevant requirements of Section 5307, including the requirement for certification of labor protections. FTA published a proposed circular for this program and is currently reviewing comments submitted to the docket. The new circular will be posted on the FTA Web site at http://www.fta.dot.gov when it is issued.

4. Period of Availability

FTA is establishing a consistent three-year period of availability for JARC, New Freedom, and the Section 5310 program, which includes the year of apportionment plus two additional years. FY 2007 funding is available through FY 2009. Any funding that remains unobligated on September 30, 2009 will revert to FTA for reapportionment among the States and large UZAs under the JARC program.

5. Other Program or Apportionment Related Information and Highlights

a. Carryover Earmarks. Table 20 lists prior year carryover of $45,154,056 for JARC projects designated by Congress in FYs 2002-2005. JARC earmarks carried over from TEA-21 are subject to the terms and conditions under which they were originally appropriated, including the requirement for a 50 percent local share for both capital and operating assistance. All projects should be in a regional JARC Plan as required under TEA-21 or in the new local coordinated plan required by the new formula JARC program. FTA will award a grant for a designated project upon receipt of a complete application, but can honor changes to the original designation only if so directed by the Appropriations Committee chairs.

b. Designated Recipient. Beginning in FY 2007, FTA must have received formal notification from the Governor or Governor's designee of the Designated Recipient for JARC funds apportioned to a State or large UZA before awarding a grant to that area for JARC projects.

c. Transfers to Section 5307 or 5311. States may transfer JARC funds to Section 5307 or Section 5311, but only for projects competitively selected under the JARC program, not as a general supplement for those programs. FTA anticipates that the States would use this flexibility primarily for projects to be implemented by a Section 5307 recipient in a small urbanized area or for Federally recognized Indian Tribes that elect to receive funds as a direct recipient from FTA under Section 5311. FTA has established a new scope code (646) to track JARC projects included within a Section 5307 or 5311 grant. Transfer to Section 5307 or 5311 is permitted but not required. FTA will also award stand-alone Section 5316 grants to the State for any and all subrecipients. In order to track disbursements accurately against the appropriate program, FTA will not combine JARC funds with Section 5307 funds in a single Section 5307 grant, nor will FTA combine JARC with New Freedom funds in a single Section 5307 grant.

d. Evaluation. Section 5316(i)(2), as added by SAFETEA-LU, requires FTA to conduct a study to evaluate the effectiveness of the JARC program. To support the evaluation, annual GAO reports on the program, and DOT Performance Measures, while reducing the burden grantees previously experienced from separate reporting required for the JARC program under TEA-21, FTA has incorporated reporting for performance measures into the annual progress report all JARC grantees submit in TEAM.

N. New Freedom Program (49 U.S.C. 5317)

SAFETEA-LU established the New Freedom Program under 49 U.S.C. 5317. The program purpose is to provide new public transportation services and public transportation alternatives beyond those currently required by the Americans with Disabilities Act of 1990 (42 U.S.C. 12101 et seq.) that assist individuals with disabilities with transportation, including transportation to and from jobs and employment support services. For more information about the New Freedom program contact Henrika Buchanan-Smith, Office of Transit Programs, at (202) 366-2053.

1. Funding Availability in FY 2007

The Continuing Appropriations Resolution, 2007, provides $81,000,000 for the New Freedom Program. The entire amount is apportioned by formula, as shown in the table below.

New Freedom Program
Total Appropriation | $81,000,000
Total Apportioned | 81,000,000

Table 21 shows the FY 2007 New Freedom apportionments.

2. Basis for Formula Apportionment

By law, FTA allocates 60 percent of funds available to UZAs with populations of 200,000 or more persons (large UZAs); 20 percent to the States for urbanized areas with populations ranging from 50,000 to 200,000 persons (small UZAs), and 20 percent to the States for rural and small urban areas with populations of less than 50,000 persons. FTA apportions funds based upon the number of persons with disabilities over the age of five residing in a State or large urbanized area, using data from the 2000 Census. FTA publishes apportionments to each State for small UZAs and for rural and small urban areas and a single apportionment for each large UZA.

FTA has learned from the U.S. Bureau of the Census that there is a better source of disability data from the 2000 Census than the 2000 census file we had previously used for SAFETEA-LU projections and for the FY 2006 New Freedom program apportionments. We have therefore based the FY 2007 apportionments for the New Freedom program on the information for States and urbanized areas contained in the Census 2000 Summary File 3 (SF-3)—Sample Data (tables QT-P21 and P42), and Census publication PHC-2, which provides more accurate data for individuals with disabilities than the file based on projections from a sample that we had previously used. We will also base future apportionments on this data and will update the SAFETEA-LU estimates for FY 2008-2009 on the Web site. We regret any inconvenience this technical change in the source data for the formula may cause areas in their planning and selection of New Freedom projects.

The Designated Recipient, either for the State or for a large UZA, is responsible for further allocating the funds to specific projects and subrecipients through a competitive selection process. If the Governor has designated more than one recipient of JARC funds in a large UZA, the Designated Recipients may agree to conduct a single competitive selection process or sub-allocate funds to each Designated Recipient, based upon a percentage split agreed upon locally and conduct separate competitions.

3. Requirements

States and Designated Recipients must solicit grant applications and select projects competitively, based on application procedures and requirements established by the Designated Recipient, consistent with the Federal New Freedom program objectives. In the case of large UZAs, the area-wide solicitation shall be conducted in cooperation with the appropriate MPO(s).

Funds are available to support the capital and operating costs of new public transportation services and public transportation alternatives that are beyond those required by the Americans with Disabilities Act. Funds provided under other Federal programs (other than those of the DOT) may be used as match for capital funds provided under Section 5317, and revenue from contract services may be used as local match.

Funding is available for transportation services provided by public, non-profit, or private-for-profit operators. Assistance may be provided for a variety of transportation services and strategies directed at assisting persons with disabilities address unmet transportation needs. Eligible public transportation services and alternatives to public transportation funded under the New Freedom program must be both new and beyond the ADA. (Note, however, that FTA has published interim guidance holding Designated Recipients harmless for project selections conducted in good faith based on FTA's earlier preliminary determination that eligible services could be either new or beyond the ADA.)

The Federal share is 80 percent of capital expenses and 50 percent of operating expenses. Funds provided under other Federal programs (other than those of the DOT) may be used for local/state match for funds provided under Section 5317, and revenue from service contracts may be used as local match.

States and Designated Recipients may use up to ten percent of their annual apportionment to administer, plan, and provide technical assistance for a funded project. No local share is required for these program administrative funds. Funds used under this program for planning must be shown in the UPWP for MPO(s) with responsibility for that area.

The Designated Recipient must certify that: the projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes, and funding for the program must be included in the metropolitan and statewide Transportation Improvement Plan (TIP and STIP) at a level of specificity or aggregation consistent with State and local policies and procedures. Finally, the State must certify that allocations of the grant to subrecipients are made on a fair and equitable basis.

The coordinated planning requirement is also a requirement in two additional programs. Projects selected for funding under the Section 5310 program and the JARC program are also required to be derived from a locally developed coordinated public transit-human service transportation plan. FTA anticipates that most areas will develop one consolidated plan for all the programs, which may include separate elements and other human service transportation programs.

The New Freedom program is subject to the relevant requirements of Section 5307, but certification of labor protections is not required. FTA published a proposed circular for this program and is currently reviewing comments submitted to the docket. The new circular will be posted on the FTA Web site at http://www.fta.dot.gov when it is issued.

4. Period of Availability

FTA is establishing a consistent three-year period of availability for New Freedom, JARC, and the Section 5310 program, which includes the year of apportionment plus two additional years. FY 2007 funding is available through FY 2009. Any funding that remains unobligated on September 30, 2009 will revert to FTA for reapportionment among the States and large UZAs under the New Freedom program.

5. Other Program or Apportionment Related Information and Highlights

a. Designated Recipient. Beginning in FY 2007, FTA must have received formal notification from the Governor or Governor's designee of the Designated Recipient for New Freedom funds apportioned to a State or large UZA before awarding a grant to that area for New Freedom projects.

b. Transfers to Section 5307 or 5311. States may transfer New Freedom funds to Section 5307 or Section 5311, but only for projects competitively selected under the New Freedom program, not as a general supplement for those programs. FTA anticipates that the States would use this flexibility for projects to be implemented by a Section 5307 recipient in a small urbanized area or for Federally recognized Indian Tribes that elect to receive funds as a direct recipient from FTA under Section 5311. FTA has established a new scope code (647) to track New Freedom projects included within a Section 5307 or 5311 grant. Transfer to Section 5307 or 5311 is permitted but not required. FTA will also award stand-alone Section 5317 grants to the State for any and all subrecipients. In order to track disbursements accurately against the appropriate program, FTA will not combine New Freedom funds with Section 5307 funds in a single Section 5307 grant, nor will FTA combine New Freedom with JARC funds in a single Section 5307 grant.

c. Performance Measures. To support the evaluation of the program and Departmental reporting under the Governmental Performance and Results Act and the Office of Management and Budget's Performance Assessment and Rating Tool, FTA has incorporated reporting for performance measures into the annual progress report all New Freedom grantees submit in TEAM.

O. Alternative Transportation in Parks and Public Land (49 U.S.C. 5320)

The Alternative Transportation in Parks and Public Lands (ATPPL) program is administered by FTA in partnership with the Department of the Interior (DOI) and the U.S. Department of Agriculture's Forest Service. The purpose of the program is to enhance the protection of national parks and Federal lands, and increase the enjoyment of those visiting them. The program funds capital and planning expenses for alternative transportation systems such as buses and trams in federally managed parks and public lands. Federal land management agencies and State, tribal and local governments acting with the consent of a Federal land management agency are eligible to apply. DOI, after consultation with and in cooperation with FTA, determines the final selection and funding of projects.

1. FY 2007 Funding Availability

The Continuing Appropriations Resolution, 2007, makes $23 million available for the program in FY 2007. Ten percent of the funds are reserved for administration and technical assistance. FTA published a Notice of Funding Availability (NOFA) in the Federal Register on December 5, 2006, inviting applications for projects to be funded in FY 2007. Applications were due to the appropriate Federal Land Management Agency on February 16, 2007.

2. Program Requirements

Projects are competitively selected based on criteria specified in the Notice of Funding Availability. The terms and conditions applicable to the program are also specified in the NOFA. Projects must conserve natural, historical, and cultural resources, reduce congestion and pollution, and improve visitor mobility and accessibility. No more than 25 percent may be allocated for any one project.

3. Period of Availability

The funds under the Alternative Transportation in Parks and Public Lands remain available until expended.

4. Other Program or Apportionment Related Information and Highlights

Project selections for the FY 2006 funding were published in the Federal Register on September 12, 2006. Fifteen projects were awarded through direct grants to individual State and local governments. Twenty-seven projects were funded through reimbursable interagency agreements with the U.S. Forest Service, National Park Service, and Fish and Wildlife Service. Twenty-five of the projects (totaling $16 million) were capital projects and seventeen (totaling $3.6 million) were planning projects.

P. Alternatives Analysis Program (49 U.S.C. 5339)

The Alternatives Analysis Program provides grants to States, authorities of the States, metropolitan planning organizations, and local government authorities to develop studies as part of the transportation planning process. These studies include an assessment of a wide range of public transportation alternatives designed to address a transportation problem in a corridor or subarea; sufficient information to enable the Secretary to make the findings of project justification and local financial commitment required; the selection of a locally preferred alternative; and the adoption of the locally preferred alternative as part of the state or regional long-range transportation plan. For more information about this program contact Sean Libberton, Office of Planning and Environment, at (202) 366-4033.

1. FY 2007 Funding Availability

The Continuing Appropriations Resolution, 2007, provides $25,000,000 to the Alternatives Analysis Program (49 U.S.C. 5339). The Act made available $18,900,000 for discretionary allocation to the projects designated in SAFETEA-LU. The balance of $6,100,000 will be made available for competitive allocation.

Alternative Analysis Program
Total Appropriation | $25,000,000
Funds Allocated to SAFETEA-LU Earmarks | 6,100,000
Funds Available for Discretionary/Competitive Allocation | 18,900,000

Allocations to projects designated in SAFETEA-LU are displayed in Table 22.

2. Basis for Allocation of Funds

Section 3037(c) of SAFETEA-LU included 18 projects to be funded through Alternatives Analysis Program in FYs 2006 and 2007. Table 22 displays the amounts available in FY 2007 to the Alternatives Analysis projects designated in SAFETEA-LU. In a separate part of today's Federal Register, FTA is publishing a Notice of Funding Availability to solicit applications for alternatives analysis projects that advance the state of the art for the balance of FY 2007 funds and the carryover funds available for competitive allocation from FY 2006.

3. Requirements

Alternatives Analysis program funds may be made available to States, authorities of the States, metropolitan planning organizations, and local governmental authorities. The Government's share of the cost of an activity funded may not exceed 80 percent of the cost of the activity. The funds will be awarded as separate Section 5339 grants. The grant requirements will be comparable to those for Section 5309 grants. Eligible projects include planning and corridor studies and the adoption of locally preferred alternatives within the fiscally constrained Metropolitan Transportation Plan for that area. Funds awarded under the Alternatives Analysis Program must be shown in the UPWP for MPO(s) with responsibility for that area. Pre-award authority applies to these funds after Congress appropriates funds for these projects and the allocations are published in an FTA notice of apportionments and allocations.

Legislation to amend the earmark is necessary should a recipient wish to use funds provided under Section 5339 for eligible project activities outside the scope of the project description.

Unless otherwise specified in law, grants made under the Alternatives Analysis program must meet all other eligibility requirements as outlined in Section 5309.

4. Period of availability

Funds designated for specific Alternatives Analysis Program projects remain available for obligation for three fiscal years, which includes the year of appropriation plus two additional fiscal years. The FY 2007 funding for projects included in this notice remains available through September 30, 2009. Alternatives Analysis funds not obligated in an FTA grant for their original purpose at the end of the period of availability will generally be made available for other projects.

5. Other Program or Apportionment Related Information and Highlights

Table 23 lists prior year carryover of $19,305,000 for Alternative Analysis projects made available in FY 2006.

Q. Growing States and High Density States Formula Factors

The Continuing Appropriations Resolution, 2007, makes $404,000,000 available for apportionment in accordance with the formula factors prescribed for Growing States and High Density States in Section 5340 of SAFETEA-LU. Fifty percent of this amount (or $202,000,000) will be allotted eligible States and urbanized areas using the Growing State formula factors. The other 50 percent is apportioned to eligible States and urbanized areas using the High Density States formula factors. Based on application of the formulas, $138,734,486 of the Growing States funding was apportioned to urbanized areas and $63,265,514 to nonurbanized areas. All of the $202,000,000 allotted to High Density States is apportioned to urbanized areas.

The term “State” is defined only to mean the 50 States. For the Growing State portion of Section 5340, funds are allocated based on the population forecasts for fifteen years after the date of that census. Forecasts are based on the trend between the most recent decennial census and Census Bureau population estimates for the most current year. Funds allocated to the States are then sub-allocated to urbanized and non-urbanized areas based on forecast population, where available. If forecasted population data at the urbanized level is not available, funds are allocated to current urbanized and non-urbanized areas on the basis of current population. Funds allocated to urbanized areas are included in their Section 5307apportionment. Funds allocated for non-urbanized areas are included in the states' Section 5311 apportionments.

R. Over-the-Road Bus Accessibility Program (49 U.S.C. 5310 Note)

The Over-the-Road Bus Accessibility (OTRB) Program authorizes FTA to make grants to operators of over-the-road buses to help finance the incremental capital and training costs of complying with the DOT over-the-road bus accessibility final rule, 49 CFR Part 37, published on September 28, 1998 (63 FR 51670). FTA conducts a national solicitation of applications, and grantees are selected on a competitive basis. For more information about the OTRB program contact Blenda Younger, Office of Transit Programs, at (202) 366-2053.

1. Funding Availability in FY 2007

The Continuing Appropriations Resolution, 2007, provides $7,600,000 for the Over-the-Road Bus Accessibility (OTRB) Program, which is the total amount allocable for OTRB, as shown in the table below.

Total Appropriation | $7,600,000
Funds Available for Competitive Allocation | 7,600,000

Of this amount, $5,700,000 is allocable to providers of intercity fixed-route service, and $1,900,000 to other providers of over-the-road bus services, including local fixed-route service, commuter service, and charter and tour service.

2. Program Requirements

Projects are competitively selected. The Federal share of the project is 90 percent of net project cost. Program guidance is provided in the Federal Register notice soliciting applications. We will publish a notice in the near future for applications for applications for the FY 2007 funding made available under the Continuing Appropriations Resolution, 2007. Operators of over the road buses may apply through www.grants.gov, or by submitting an application to the appropriate FTA regional office. Assistance is available to operators of buses used substantially or exclusively in intercity, fixed route, over-the-road bus service. Capital projects eligible for funding include projects to add lifts and other accessibility components to new vehicle purchases and to purchase lifts to retrofit existing vehicles. Eligible training costs include developing training materials or providing training for local providers of over-the-road bus services.

3. Period of Availability

Funds are available until expended.

4. Other Program or Apportionment Related Information and Highlights

A Federal Register notice of FY 2006 project selections was published December 4, 2007, and is available at http://www.fta.dot.gov/laws/leg_reg_federal_register.html/.

V. FTA Policy and Procedures for FY 2007 Grants

A. Automatic Pre-Award Authority To Incur Project Costs

1. Caution to New Grantees. While we provide pre-award authority for many projects, we do not recommend that first-time grant recipients utilize the automatic pre-award authority to incur expenses before the grant is actually awarded by FTA. As a new grantee, it is easy to misunderstand pre-award authority conditions and not be aware of all of the applicable FTA requirements that must be met in order to be reimbursed for project expenditures incurred in advance of grant award. FTA programs have specific statutory requirements that are often different from those for other Federal grant programs with which new grantees may be familiar. If funds are expended for an ineligible project or activity, FTA will be unable to reimburse the project sponsor.

2. Policy. FTA provides blanket, or automatic, pre-award authority in certain program areas described below. This pre-award authority allows grantees to incur certain project costs prior to grant approval and retain their eligibility for subsequent reimbursement after grant approval. The grantee assumes all risk and is responsible for ensuring that all conditions are met to retain eligibility. This automatic pre-award spending authority permits a grantee to incur costs on an eligible transit capital, operating, planning, or administrative project without prejudice to possible future Federal participation in the cost of the project or. In the Federal Register Notice of November 30, 2006, FTA extended pre-award authority for capital assistance under all formula programs through FY 2009, the duration of SAFETEA-LU. FTA provides pre-award authority for planning and operating assistance under the formula programs without regard to the period of the authorization. In addition, we extend pre-award authority for certain discretionary programs based on the annual Appropriations Act each year. All pre-award authority is subject to conditions and triggers stated below:

a. FTA does not impose additional conditions on pre-award authority for operating, planning, or administrative assistance under the formula grant programs. Grantees may be reimbursed for expenses incurred prior to grant award so long as funds have been expended in accordance with all Federal requirements. In addition to cross-cutting Federal grant requirements, program specific requirements must be met. For example, a planning project must have been included in a UPWP; a New Freedom operating assistance project or a JARC planning or operating project must have been derived from a coordinated plan and competitively selected by the Designated Recipient prior to incurring expenses; expenditure on State Administration expenses under State Administered programs must be consistent with the State Management Plan. Designated Recipients for JARC and New Freedom have pre-award authority for the ten percent of the apportionment they may use for program administration.

b. Pre-Award authority for Alternatives Analysis planning projects designated in 49 U.S.C. 5339, as amended by SAFETEA-LU, is triggered by the publication of the allocation in FTA's Federal Register Notice of Apportionments and Allocations following the annual Appropriations Act and must be included in the UPWP of the MPO for that metropolitan area.

c. Pre-award authority for design and environmental work on a capital project is triggered by the authorization of formula funds, or the appropriation of funds for a discretionary project and publication of the project in FTA's annual Federal Register Notice of apportionments and allocations.

d. Following authorization of formula funds or appropriation and publication of discretionary projects, pre-award authority for capital project implementation activities including property acquisition, demolition, construction, and acquisition of vehicles, equipment, or construction materials is triggered by completion of the environmental review process with FTA's concurrence in the categorical exclusion (CE) determination or signing of an environmental Record of Decision (ROD) or Finding of No Significant Impact (FONSI). Prior to exercising pre-award authority, grantees must comply with the conditions and Federal requirements outlined in paragraph 3 below. Failure to do so will render an otherwise eligible project ineligible for FTA financial assistance. Capital projects under the Section 5310, JARC, and New Freedom programs must comply with specific program requirements, including coordinated planning and competitive selection. In addition, prior to incurring costs, grantees are strongly encouraged to consult with the appropriate FTA regional office regarding the eligibility of the project for future FTA funds and the applicability of the conditions and Federal requirements.

e. Pre-award authority does not apply to the Section 5309 Capital Investment Bus and Bus-Related Facilities and Clean Fuels program high priority project designations or any other transit discretionary projects designated in SAFETEA-LU until funds have been appropriated and the allocations published in the annual Federal Register Notice. Thus pre-award authority is extended now only for FY 2006 and FY 2007 project funding. For such Section 5309 Capital Investment Bus and Bus-Related, Clean Fuels Program, or other transit capital discretionary projects, the date that costs may be incurred is: (1) For design and environmental review, the date that the appropriation bill which funds the project was enacted; and (2) for property acquisition, demolition, construction, and acquisition of vehicles, equipment, or construction materials, the date that FTA approves the document (ROD, FONSI, or CE determination) that completes the environmental review process required by the National Environmental Policy Act (NEPA) and its implementing regulations. FTA introduced this new trigger for pre-award authority in FY 2006 in recognition of the growing prevalence of new grantees unfamiliar with Federal and FTA requirements to ensure FTA's continued ability to comply with NEPA and related environmental laws. Because FTA does not sign a final NEPA document until MPO and statewide planning requirements (including air quality conformity requirements, if applicable) have been satisfied, this new trigger for pre-award will ensure compliance with both planning and environmental requirements prior to irreversible action by the grantee.

f. In previous notices FTA extended pre-award authority to Section 330 projects and those surface transportation projects commonly referred to as Section 115 projects administered by FTA, for which amounts were provided in the Consolidated Appropriations Act, 2004 and Section 117 projects in the 2005 Appropriations Act administered by FTA. Pre-award authority is now extended to transit projects in Section 112 of the 2006 Appropriations Act that are to be administered by FTA. The same conditions described for bus projects apply to these projects. We strongly encourage any prospective applicant that does not have a previous relationship with FTA to review Federal grant requirements with the FTA regional office before incurring costs.

g. Blanket pre-award authority does not apply to Section 5309 Capital Investment New Starts funds. Specific instances of pre-award authority for Capital Investment New Starts projects are described in paragraph 4 below. Pre-award authority does not apply to Capital Investment Bus and Bus-Related or Clean Fuels projects authorized for funding beyond this fiscal year. Before an applicant may incur costs for Capital Investment New Starts projects, Bus and Bus-Related projects, or any other projects not yet published in a notice of apportionments and allocations, it must first obtain a written Letter of No Prejudice (LONP) from FTA. To obtain an LONP, a grantee must submit a written request accompanied by adequate information and justification to the appropriate FTA regional office, as described below.

3. Conditions. The conditions under which pre-award authority may be utilized are specified below:

a. Pre-award authority is not a legal or implied commitment that the subject project will be approved for FTA assistance or that FTA will obligate Federal funds. Furthermore, it is not a legal or implied commitment that all items undertaken by the applicant will be eligible for inclusion in the project.

b. All FTA statutory, procedural, and contractual requirements must be met.

c. No action will be taken by the grantee that prejudices the legal and administrative findings that the Federal Transit Administrator must make in order to approve a project.

d. Local funds expended by the grantee pursuant to and after the date of the pre-award authority will be eligible for credit toward local match or reimbursement if FTA later makes a grant or grant amendment for the project. Local funds expended by the grantee prior to the date of the pre-award authority will not be eligible for credit toward local match or reimbursement. Furthermore, the expenditure of local funds on activities such as land acquisition, demolition, or construction prior to the date of pre-award authority for those activities (i.e., the completion of the NEPA process) would compromise FTA's ability to comply with Federal environmental laws and may render the project ineligible for FTA funding.

e. The Federal amount of any future FTA assistance awarded to the grantee for the project will be determined on the basis of the overall scope of activities and the prevailing statutory provisions with respect to the Federal/local match ratio at the time the funds are obligated.

f. For funds to which the pre-award authority applies, the authority expires with the lapsing of the fiscal year funds.

g. When a grant for the project is subsequently awarded, the Financial Status Report, in TEAM-Web, must indicate the use of pre-award authority.

h. Environmental, Planning, and Other Federal Requirements.

All Federal grant requirements must be met at the appropriate time for the project to remain eligible for Federal funding. The growth of the Federal transit program has resulted in a growing number of inexperienced grantees who make compliance with Federal planning and environmental laws increasingly challenging. FTA has therefore modified its approach to pre-award authority to use the completion of the NEPA process, which has as a prerequisite the completion of planning and air quality requirements, as the trigger for pre-award authority for all activities except design and environmental review.

i. The requirement that a project be included in a locally adopted metropolitan transportation plan, the metropolitan transportation improvement program and Federally-approved statewide transportation improvement program (23 CFR Part 450) must be satisfied before the grantee may advance the project beyond planning and preliminary design with non-Federal funds under pre-award authority. If the project is located within an EPA-designated nonattainment area for air quality, the conformity requirements of the Clean Air Act, 40 CFR Part 93, must also be met before the project may be advanced into implementation-related activities under pre-award authority. Compliance with NEPA and other environmental laws and executive orders (e.g., protection of parklands, wetlands, and historic properties) must be completed before State or local funds are spent on implementation activities, such as site preparation, construction, and acquisition, for a project that is expected to be subsequently funded with FTA funds. The grantee may not advance the project beyond planning and preliminary design before FTA has determined the project to be a categorical exclusion, or has issued a finding of no significant impact (FONSI) or an environmental record of decision (ROD), in accordance with FTA environmental regulations, 23 CFR Part 771. For planning projects, the project must be included in a locally-approved Planning Work Program that has been coordinated with the State.

j. In addition, Federal procurement procedures, as well as the whole range of applicable Federal requirements (e.g., Buy America, Davis-Bacon Act, Disadvantaged Business Enterprise) must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

4. Pre-Award Authority for New Starts Projects.

a. Preliminary Engineering (PE) and Final Design (FD). Projects proposed for Section 5309 New Starts funds are required to follow a Federally defined New Starts project development process. This New Starts process includes, among other things, FTA approval of the entry of the project into PE and into FD. In accordance with Section 5309(d), FTA considers the merits of the project, the strength of its financial plan, and its readiness to enter the next phase in deciding whether or not to approve entry into PE or FD. Upon FTA approval to enter PE, FTA extends pre-award authority to incur costs for PE activities. Upon FTA approval to enter FD, FTA extends pre-award authority to incur costs for FD activities. The pre-award authority for each phase is automatic upon FTA's signing of a letter to the project sponsor approving entry into that phase. PE and FD are defined in the New Starts regulation entitled Major Capital Investment Projects, found at 49 CFR Part 611.

b. Real Property Acquisition Activities. FTA extends automatic pre-award authority for the acquisition of real property and real property rights for a New Starts project upon completion of the NEPA process for that project. The NEPA process is completed when FTA signs an environmental Record of Decision (ROD) or Finding of No Significant Impact (FONSI), or makes a Categorical Exclusion (CE) determination. With the limitations and caveats described below, real estate acquisition for a New Starts project may commence, at the project sponsor's risk, upon completion of the NEPA process.

For FTA-assisted projects, any acquisition of real property or real property rights must be conducted in accordance with the requirements of the Uniform Relocation Assistance and Real Property Acquisition Policies Act (URA) and its implementing regulations, 49 CFR Part 24. This pre-award authority is strictly limited to costs incurred: (i) to acquire real property and real property rights in accordance with the URA regulation, and (ii) to provide relocation assistance in accordance with the URA regulation. This pre-award authority is limited to the acquisition of real property and real property rights that are explicitly identified in the final environmental impact statement (FEIS), environmental assessment (EA), or CE document, as needed for the selected alternative that is the subject of the FTA-signed ROD or FONSI, or CE determination. This pre-award authority does not cover site preparation, demolition, or any other activity that is not strictly necessary to comply with the URA, with one exception. That exception is when a building that has been acquired, has been emptied of its occupants, and awaits demolition poses a potential fire-safety hazard or other hazard to the community in which it is located, or is susceptible to reoccupation by vagrants, demolition of the building is also covered by this pre-award authority upon FTA's written agreement that the adverse condition exists.

Pre-award authority for property acquisition is also provided when FTA makes a CE determination for a protective buy or hardship acquisition in accordance with 23 CFR 771.117(d)(12), and when FTA makes a CE determination for the acquisition of a pre-existing railroad right-of-way in accordance with 49 U.S.C. 5324(c). When a tiered environmental review in accordance with 23 CFR 771.111(g) is being used, pre-award authority is NOT provided upon completion of the first-tier environmental document except when the Tier-1 ROD or FONSI signed by FTA explicitly provides such pre-award authority for a particular identified acquisition.

FTA's rationale for providing this pre-award authority was described in the FY 2003 Apportionments and Allocations Notice published in the Federal Register on March 12, 2003 (68 FR 1106 et seq.). The FY 2003 Notice may be found on the FTA Web site at http://www.fta.dot.gov/library/legal/federalregister/2003/fr31203.pdf. Project sponsors should use pre-award authority for real property acquisition and relocation assistance very carefully, with a clear understanding that it does not constitute a funding commitment by FTA.

c. National Environmental Policy Act (NEPA) Activities. NEPA requires that major projects proposed for FTA funding assistance be subjected to a public and interagency review of the need for the project, its environmental and community impacts, and alternatives to avoid and reduce adverse impacts. Projects of more limited scope also need a level of environmental review, either to support an FTA finding of no significant impact (FONSI) or to demonstrate that the action is categorically excluded from the more rigorous level of NEPA review.

FTA's regulation entitled Environmental Impact and Related Procedures at 23 CFR Part 771 states that the costs incurred by a grant applicant for the preparation of environmental documents requested by FTA are eligible for FTA financial assistance (23 CFR 771.105(e)). Accordingly, FTA extends automatic pre-award authority for costs incurred to comply with NEPA regulations and to conduct NEPA-related activities for a proposed New Starts project, effective as of the date of the Federal approval of the relevant STIP or STIP amendment that includes the project or any phase of the project. NEPA-related activities include, but are not limited to, public involvement activities, historic preservation reviews, section 4(f) evaluations, wetlands evaluations, endangered species consultations, and biological assessments. This pre-award authority is strictly limited to costs incurred to conduct the NEPA process, and to prepare environmental, historic preservation and related documents. It does not cover PE activities beyond those necessary for NEPA compliance. As with any pre-award authority, FTA reimbursement for costs incurred is not guaranteed.

d. Other New Starts Activities Requiring Letter of No Prejudice (LONP). Except as discussed in paragraphs a) through c) above, a grant applicant must obtain a written LONP from FTA before incurring costs for any activity expected to be funded by New Start funds not yet granted. To obtain an LONP, an applicant must submit a written request accompanied by adequate information and justification to the appropriate FTA regional office, as described in B below.

5. Pre-Award Authority for Small Starts. When FTA issues a Project Development approval letter for a Small Starts project, FTA grants pre-award authority for the design and preliminary engineering activities associated with project development. When FTA issues a Project Construction Grant Agreement (PCGA), FTA grants pre-award authority for the construction phase of the project. Pre-award authority for NEPA-related work on a Small Starts project is granted under the same conditions and for the same reasons as New Starts projects, described in paragraph 4.c above. Pre-award authority for real property acquisition activities for a Small Starts project is granted under the same conditions and for the same reasons as New Starts projects, describe in paragraph 4.b above.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for Section 5309 New Starts funds not covered under a full funding grant agreement, or for Section 5309 Bus and Bus-Related funds not yet appropriated by Congress. At the end of an authorization period, LONPs may be issued for formula funds beyond the life of the current authorization or FTA's extension of automatic pre-award authority.

2. Conditions and Federal Requirements

The conditions for pre-award authority specified in section VIII A2 above apply to all LONPs. The Environmental, Planning and Other Federal Requirements described in section V.A.3, also apply to all LONPs. Because project implementation activities may not be initiated prior to NEPA completion, FTA will normally not issue an LONP for such activities until the NEPA process has been completed with a ROD, FONSI, or Categorical Exclusion determination.

3. Request for LONP

Before incurring costs for a project not covered by automatic pre-award authority, the project sponsor must first submit a written request for an LONP, accompanied by adequate information and justification, to the appropriate regional office and obtain written approval. As a prerequisite to FTA approval of an LONP for a New Starts project, FTA will require project sponsors to demonstrate project worthiness and readiness that establish the project as a candidate for an FFGA. Projects will be assessed based upon the criteria considered in the New Start evaluation process. Specifically, upon the request for an LONP, the applicant shall provide sufficient information to allow FTA to consider the following items:

a. Description of the activities to be covered by the LONP.

b. Justification for advancing the identified activities.

c. Data that indicates that the project will maintain its ability to receive a rating of “medium”, or better and that its cost-effectiveness rating will be “medium” or better, unless such project has been specifically exempt from such a requirement.

d. Allocated level of risk and contingency for the activity requested.

e. Status of procurement progress, including, if appropriate, submittal of bids for the activities covered by the LONP.

f. Strength of the capital and operating financial plan for the New Starts project and the future transit system.

g. Adequacy of the Project Management Plan.

h. Resolution of any readiness issues that would affect the project, such as land acquisition and technical capacity to carry out the project.

C. FTA FY 2007 Annual List of Certifications and Assurances

The full text of the FY 2007 Certifications and Assurances was published in the Federal Register on November 7, 2006, and is available on the FTA Web site and in TEAM-Web. The FY 2007 Certifications and Assurances must be used for all grants made in FY 2007, including obligation of carryover. All grantees with active grants were required to have signed the FY 2007 Certifications and Assurances within 90 days after publication. Any questions regarding this document may be addressed to the appropriate Regional Office or to Pat Simpich, in the FTA Office of Program Management, at (202) 366-1662.

D. FHWA Funds Used for Transit Purposes

SAFETEA-LU continues provisions in the Intermodal Surface Transportation Efficiency Act of 1991 (ISTEA) and TEA-21 that expanded modal choice in transportation funding by including substantial flexibility to transfer funds between FTA and FHWA formula program funding categories. In addition SAFETEA-LU included a provision allowing for transfer of certain discretionary program funds for administration of highway projects by FHWA and transit projects by FTA. FTA and FHWA execute Flex Funding Transfers between the Formula and Bus Grants Transit programs and the Federal Aid Highway programs. This has also included the transfer of State planning set-aside funds from FHWA to FTA to be combined with metropolitan and statewide planning resources as Consolidated Planning Grants (CPG). These transfers are based on States requests to transfer funding from the Highway and/or Transit programs to fund States and local project priorities, and joint planning needs. This practice can result in transfers to the Federal Transit Program from the Federal Aid Highway Program or vice versa.

1. Transfer Process for funds

SAFETEA-LU was enacted in August, 2005. With the enactment of SAFETEA-LU, beginning in FY2006, mass transit programs are funded solely from general funds or trust funds. The transit formula and bus grant programs are now funded from the Mass Transit Account of the Highway Trust Fund. The Formula and Bus Grant Programs receive flex funding transfers from the Federal Aid Highway Program.

As a result of the changes to program funding mechanisms, there is no longer a requirement to transfer budget authority and liquidating cash resources simultaneously upon the execution of a Flex Funding transfer request by a State. Since the transfers are between trust fund accounts, the only requirement is to transfer budget authority (obligation limitation) between the Federal Aid Program trust fund account and the Federal Transit Formula and Bus Grant Program account. At the point in time that the obligation resulting from the transfer of budgetary authority is expended, a transfer of liquidating cash will be required.

Beginning in FY 2007, the accounting process is changing for transfers of flex funds and other specific programs to allow budget authority to be transferred and the cash to be transferred separately. FTA is requiring that flexed fund transfers to FTA be in separate and identifiable grants in order to ensure that the draw-down of flexed funds can be tracked, thus securing the internal controls for monitoring these resources from the Federal Highway Administration to avoid deficiencies in FTA's Formula and Bus Grants account.

FTA will need to monitor the expenditures of flexed funded grants and request the transfer of liquidating cash from FHWA to ensure sufficient funds are available to meet expenditures. To facilitate tracking of grantees' flex funding expenditures, FTA developed new codes to provide distinct identification of “flex funds.”

The process for transferring flexible funds between FTA and FHWA programs is described below. Note that the new transfer process for “flex funds” beginning in FY 2007 does not apply to the transfer of State planning set-aside funds from FHWA to FTA to be combined with metropolitan and statewide planning resources as Consolidated Planning Grants (CPG). These transfers are based on States requests to transfer funding from the Highway and/or Transit programs to fund States and local project priorities, and joint planning needs. Planning funds transferred will be allowed to be merged in a single grant with FTA planning resources using the same process implemented in FY 2006. For information on the process for the transfer of funds between FTA and FHWA planning programs refer to section IV.A and B.

Note also that certain prior year appropriations earmarks (Sections 330, 115, 117, and 112) are allotted annually for administration rather than being transferred. For information regarding these procedures, please contact Kristen D. Clarke, FTA Budget Office, at (202) 366-1686; or Elissa Konove, FHWA Budget Division, at (202) 366-2845.

a. Transfer from FHWA to FTA. FHWA funds designated for use in transit capital projects must be derived from the metropolitan and statewide planning and programming process, and must be included in an approved STIP before the funds can be transferred. By letter, the State DOT requests the FHWA Division Office to transfer highway funds for a transit project. The letter should specify the project, amount to be transferred, apportionment year, State, urbanized area, Federal aid apportionment category (i.e., Surface Transportation Program (STP), Congestion Mitigation and Air Quality (CMAQ) or identification of the earmark and indication of the intended FTA formula program (i.e., Section 5307, 5311 or 5310) and should include a description of the project as contained in the STIP. Note that FTA may also administer certain transfers of statutory earmarks under the Section 5309 bus program, for tracking purposes.

The FHWA Division Office confirms that the apportionment amount is available for transfer and concurs in the transfer, by letter to the State DOT and FTA. The FHWA Office of Budget and Finance then transfers obligation authority and an equal amount of cash to FTA. All FHWA CMAQ and STP funds transferred to FTA will be transferred to one of the three FTA formula programs (i.e. Urbanized Area Formula (Section 5307), Nonurbanized Area Formula (Section 5311) or Elderly and Persons with Disabilities (Section 5310). High Priority projects in SAFETEA-LU Section 1702 or Transportation Improvement projects in SAFETEA-LU Section 1934 and other Congressional earmarks when necessary that are transferred to FTA will be aligned and administered through FTA's discretionary Bus Program (Section 5309).

The FTA grantee's application for the project must specify which program the funds will be used for, and the application must be prepared in accordance with the requirements and procedures governing that program. Upon review and approval of the grantee's application, FTA obligates funds for the project.

Transferred funds are treated as FTA formula or discretionary funds, but are assigned a distinct identifying code for tracking purposes. The funds may be transferred for any capital purpose eligible under the FTA formula program to which they are transferred and, in the case of CMAQ, for certain operating costs. FHWA issued revised interim guidance on project eligibility under the CMAQ program in a Notice at 71 FR 76038 et seq. (December 19, 2006) incorporating changes made by SAFETEA-LU. In accordance with 23 U.S.C. 104(k), all FTA requirements except local share are applicable to transferred funds. Earmarks that are transferred to the Section 5309 Bus Program for administration, however, can be used for the Congressionally designated transit purpose and are not limited to eligibility under the Bus Program.

In the event that transferred formula funds are not obligated for the intended purpose within the period of availability of the formula program to which they were transferred, they become available to the Governor for any eligible capital transit project.

b. Transfers from FTA to FHWA. The MPO submits a written request to the FTA regional office for a transfer of FTA Section 5307 formula funds (apportioned to a UZA 200,000 and over in population) to FHWA based on approved use of the funds for highway purposes, as contained in the Governor's approved State Transportation Improvement Program. The MPO must certify that: (1) The funds are not needed for capital investments required by the Americans with Disabilities Act; (2) notice and opportunity for comment and appeal has been provided to affected transit providers; and (3) local funds used for non-Federal match are eligible to provide assistance for either highway or transit projects. The FTA Regional Administrator reviews and concurs in the request, then forwards the approval in written format to FTA Headquarters, where a reduction equal to the dollar amount being transferred to FHWA is made to the grantee's Urbanized Area Formula Program apportionment.

Transfers of discretionary earmarks for administration by FHWA are handled on a case by case basis, by the FTA regional office, in consultation with the FTA Office of Program Management and Office of Budget and Policy.

c. Matching Share for FHWA Transfers. The provisions of Title 23 U.S.C. regarding the non-Federal share apply to Title 23 funds used for transit projects. Thus, FHWA funds transferred to FTA retain the same matching share that the funds would have if used for highway purposes and administered by FHWA.

There are three instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Second, commuter carpooling and vanpooling projects and transit safety projects using FHWA transfers administered by FTA may retain the same 100 percent Federal share that would be allowed for ride-sharing or safety projects administered by FHWA.

The third instance is the 100 percent Federally-funded safety projects; however, these are subject to a nationwide 10 percent program limitation.

d. Miscellaneous Transit Earmarks in FHWA Programs. The FY 2002 and FY 2003 Appropriations Acts and accompanying reports included Section 330, which identified a number of transit projects among projects designated to receive funding from certain FHWA funding sources. The FY 2004 Appropriations Act similarly included transit projects among projects designated to receive funding from certain FHWA sources in Section 115, the FY 2005 Appropriations Act included a set of designations under Section 117, and the FY 2006 Appropriations Act included designations under Section 112, which may include some projects that FHWA will identify to be administered by FTA. For those projects identified by FHWA as transit in nature, FHWA allots the funds to FTA to administer. The funds are available for the designated project until obligated and expended. Some of these FY 2002-2006 designations for transit projects have not yet been obligated. However, because these are FHWA funds, funds for projects unobligated at the end of the fiscal year are not automatically available as carry over made available in the following fiscal year. Instead FHWA re-allots obligation authority to FTA annually, after reconciling account balances. Because the requirements and procedures associated with these projects differ in some cases from those for the FTA programs that FTA grantees are familiar with, and the availability of funds for obligation by FTA depends on allotments from FHWA, transit applicants seeking funding under these miscellaneous FHWA designations must work closely with the appropriate FTA regional office and FHWA Division Office when applying for a grant under these designations.

E. Grant Application Procedures

1. Grantees must provide a Dun and Bradstreet (D&B) Data Universal Numbering System (DUNS) number for inclusion in all applications for a Federal grant or cooperative agreement. The DUNS number should be entered into the grantee profile in TEAM-Web. Additional information about this and other Federal grant streamlining initiatives mandated by the Federal Financial Assistance Management Improvement Act of 1999 (Pub. L. 106-107) can be accessed on OMB's Web site at http://www.whitehouse.gov/omb/grants/reform.html.

2. All applications for FTA funds should be submitted electronically to the appropriate FTA regional office through TEAM-Web, an Internet-accessible electronic grant application system. FTA has provided limited exceptions to the requirement for electronic filing of applications.

3. In FY 2007, FTA remains committed to processing applications promptly upon receipt of a completed application by the appropriate regional office. In order for an application to be considered complete and for FTA to assign a grant number, enabling submission in TEAM-Web, the following requirements must be met:

a. The project is listed in a currently FTA approved Metropolitan Transportation Plan, Metropolitan Transportation Improvement Program (TIP); Statewide Transportation Improvement Program (STIP), or Unified Planning Work Program (UPWP).

b. All eligibility issues have been resolved.

c. Required environmental findings have been made.

d. The project budget's Activity Line Items (ALI), scope, and project description meet FTA requirements.

e. Local share funding source(s) have been identified.

f. The grantee's required Civil Rights submissions are current.

g. Certifications and assurances are properly submitted.

h. Funding is available, including any flexible funds included in the budget.

i. For projects involving new construction (using at least $100 million in New Starts or formula funds), FTA engineering staff has reviewed the project management plan and given approval.

j. When required for grants related to New Starts projects, PE and/or FD has been approved.

k. Milestone information is complete, or FTA determines that milestone information can be finalized before the grant is ready for award. The grant must include sufficient milestones appropriate to the scale of the project to allow adequate oversight to monitor the progress of projects from the start through completion and closeout.

4. Under most FTA programs, grants involving funding related to transit operations, must be submitted to the Department of Labor for certification of labor protective arrangements, prior to grant award. In addition, before FTA can award grants for discretionary projects and activities designated by Congress, notification must be given to members of Congress, and in the case of awards greater than $1 million, to the House and Senate authorizing and appropriations committees. Discretionary grants allocated by FTA also go through the Congressional notification process if they are greater than $1 million.

5. Other important issues that impact FTA grant processing activities are discussed below.

a. Change in Budget Structure. Because SAFETEA-LU restructured FTA's accounts from all general funded accounts to one solely trust funded account and three general funded accounts, we are not able to mix funds from years prior to FY 2006 in the same grant with funds appropriated in FY 2006 and beyond (except for New Starts and research grants). Previously all programs were funded approximately 80 percent trust funds from the Mass Transit Account (MTA) of the Highway Trust Fund and 20 percent General Funds from the U.S. Treasury. The trust funds were transferred into the general funded accounts at the beginning of the year. Under SAFETEA-LU most programs are funded entirely from trust funds derived from the Mass Transit Account, while the New Starts and Research programs are funded with general funds. Carryover FY 2005 and prior funds currently available for obligation as well as FY 2006 and FY 2007 funds may be included in an amendment to an existing grant for a New Starts or research project.

For formula programs funded solely from trust funds beginning in FY 2006, grantees may not combine FY 2006 and FY 2007 funds in the same grant with FY 2005 and prior year funds. Grant amendments cannot be made to add FY 2006 and later year funds to a grant that includes FY 2005 or prior funds. Obligations of FY 2005 and prior year carryover funds must be made in the original program accounts established under TEA-21 (either as an amendment to an existing grant or as a new grant) and cannot be combined with funds appropriated in FY 2006 or later. However, grantees are able to amend new grants established with FY 2006 or later year funds to add funds made available after FY 2006. We regret any inconvenience this accounting change may cause as we implement new statutory requirements under SAFETEA-LU. We encourage grantees to spend down and close out old grants as quickly as possible to minimize the inconvenience.

b. Grant Budgets—SCOPE and ALI Codes. FTA uses the SCOPE and Activity Line Item (ALI) Codes in the grant budgets to track program trends, to report to Congress, and to respond to requests from the Inspector General and the Government Accountability Office (GAO), as well as to manage grants. The accuracy of the data is dependent on the careful and correct use of codes. We have revised the SCOPE and ALI table to include new codes for the newly eligible capital items, to better track certain expenditures, and to accommodate the new programs. We encourage grantees to review the table before selecting codes from the drop-down menus in TEAM-Web while creating a grant budget and to consult with the regional office in the correct use of codes. Additional information about how to use the SCOPE and ALI codes to accurately code budgets will be added to the resources available through TEAM-Web.

c. Earmark and Discretionary Program Tracking. FTA has implemented new procedures in TEAM-Web for relating grants to earmarks or projects selected by FTA under discretionary programs. Each earmark or selected discretionary project published in the Federal Register will have a unique identifier associated with it. Tables of earmarks and selected discretionary projects have also been established in TEAM-Web. When applying for a grant using funding designated by Congress or FTA for a particular project, grantees are asked to identify the amount of funding associated with specific earmark or discretionary project used in the grant. Further instructions are posted on the TEAM-Web site and regional staff can provide additional assistance.

d. New Freedom and JARC—Administering Agency. The Governor must designate the state agency or agencies charged with administering the New Freedom and JARC formula programs and the recipient(s) designated to administer the program in each large urbanized area before FTA can award a grant to that State or large urbanized area. FTA will award grants for these programs only to the Designated Recipient for JARC or New Freedom, or, in the case of a large urbanized area, pursuant to a supplemental agreement with the Designated Recipient for JARC or New Freedom, to another entity that is the Designated Recipient for the Section 5307 program. For Small Urbanized areas (under 200,000 population), the State Designated Recipient can transfer funds to the Section 5307 program for FTA to award direct grants to small urbanized area recipients.

F. Payments

Once a grant has been awarded and executed, requests for payment can be processed. To process payments FTA uses ECHO-Web, an Internet accessible system that provides grantees the capability to submit payment requests on-line, as well as receive user-IDs and passwords via e-mail. New applicants should contact the appropriate FTA regional office to obtain and submit the registration package necessary for set-up under ECHO-Web.

G. Oversight

FTA conducts periodic oversight reviews to assess grantee compliance with Federal requirements. Each UZA grantee is reviewed every three years (a Triennial Review). States are reviewed periodically for their management of the Section 5310 and 5311 programs. Other more detailed reviews are scheduled based on an annual grantee risk assessment, for example, reviews in the areas of Procurement, Financial Management, Safety and Civil Rights. FTA is developing appropriate oversight procedures for the new programs authorized by SAFETEA-LU.

H. Technical Assistance

FTA headquarters and regional staff will be pleased to answer your questions and provide any technical assistance you may need to apply for FTA program funds and manage the grants you receive. This notice and the program guidance circulars previously identified in this document may be accessed via the FTA Web site at http://www.fta.dot.gov.

In addition, copies of the following circulars and other useful information are available on the FTA Web site and may be obtained from FTA regional offices: 4220.1E, Third Party Contracting Requirements, dated June 19, 2003; and C5010.1C, Grant Management Guidelines, dated October 1, 1998. The FY 2007 Annual List of Certifications and Assurances and Master Agreement are also posted on the FTA Web site. The DOT final rule on “Participation by Disadvantaged Business Enterprises in Department of Transportation Financial Assistance Programs,” which was effective July 16, 2003, can be found at http://www.access.gpo.gov/nara/cfr/waisidx_04/49cfr26_04.html/.

Issued in Washington, DC, this 12th day of March, 2007.
James S. Simpson,
Administrator.

Appendix A—FTA Regional Offices

Richard H. Doyle, Regional Administrator, Region 1-Boston, Kendall Square, 55 Broadway, Suite 920, Cambridge, MA 02142-1093, Tel. 617 494-2055

States served: Connecticut, Maine, Massachusetts, New Hampshire, Rhode Island, and Vermont

Brigid Hynes-Cherin, Regional Administrator, Region 2-New York, One Bowling Green, Room 429, New York, NY 10004-1415, Tel. no. 212 668-2170

States served: New Jersey, New York

Herman Shipman, Deputy Regional Administrator, Region 3-Philadelphia, 1760 Market Street, Suite 500, Philadelphia, PA 19103-4124, Tel. 215 656-7100

States served: Delaware, Maryland, Pennsylvania, Virginia, West Virginia, and District of Columbia

Yvette Taylor, Regional Administrator, Region 4-Atlanta, Atlanta Federal Center, Suite 17T50, 61 Forsyth Street SW, Atlanta, GA 30303, Tel. 404 562-3500

States served: Alabama, Florida, Georgia, Kentucky, Mississippi, North Carolina, Puerto Rico, South Carolina, Tennessee, and Virgin Islands

Robert C. Patrick, Regional Administrator, Region 6-Ft. Worth, 819 Taylor Street, Room 8A36, Ft. Worth, TX 76102, Tel. 817 978-0550

States served: Arkansas, Louisiana, Oklahoma, New Mexico and Texas

Mokhtee Ahmad, Regional Administrator, Region 7-Kansas City, MO, 901 Locust Street, Room 404, Kansas City, MO 64106, Tel. 816 329-3920

States served: Iowa, Kansas, Missouri, and Nebraska

Letitia Thompson, Acting Regional Administrator, Region 8-Denver, 12300 West Dakota Ave., Suite 310, Lakewood, CO 80228-2583, Tel. 720-963-3300

States served: Colorado, Montana, North Dakota, South Dakota, Utah, and Wyoming

Leslie T. Rogers, Regional Administrator, Region 9-San Francisco, 201 Mission Street, Room 2210, San Francisco, CA 94105-1926, Tel. 415 744-3133

States served: American Samoa, Arizona, California, Guam, Hawaii, Nevada, and the Northern Mariana Islands

Marisol Simon, Regional Administrator, Region 5-Chicago, 200 West Adams Street, Suite 320, Chicago, IL 60606, Tel. 312 353-2789

States served: Illinois, Indiana, Michigan, Minnesota, Ohio, and Wisconsin

Rick Krochalis, Regional Administrator, Region 10-Seattle, Jackson Federal Building, 915 Second Avenue, Suite 3142, Seattle, WA 98174-1002, Tel. 206 220-7954

States served: Alaska, Idaho, Oregon, and Washington

Table 1.—FY 2007 Appropriations and Apportionments for Grant Programs
FORMULA AND BUS GRANTS
Section 5303 Metropolitan Transportation Planning Program:
Total Available | $81,892,800
Less Oversight (one-half percent) | (409,464)
Reapportioned Funds | 890,525
Total Apportioned | 82,373,861
Section 5304 Statewide Transportation Planning Program:
Total Available | 17,107,200
Less Oversight (one-half percent) | (85,536)
Reapportioned Funds | 230,988
Total Apportioned | 17,252,652
Section 5307 Urbanized Area Formula Program:
Total Available | 3,606,175,000
Less Oversight (three-fourths percent) | (27,046,313)
Reapportioned Funds | 4,957,616
Total Apportioned | 3,584,086,303
Section 5308 Clean Fuels Program | ¹ 18,721,000
Section 5309 Bus and Bus Facility Program:
Total Available | ² 881,779,000
Less Oversight (one percent) | (8,817,790)
Funds Available for Allocation | 872,961,210
Section 5309 Fixed Guideway Modernization:
Total Available | 1,448,000,000
Less Oversight (one percent) | (14,480,000)
Total Apportioned | 1,433,520,000
Section 5310 Special Needs for Elderly Individuals and Individuals with Disabilities Program:
Total Available | 117,000,000
Less Oversight (one-half percent) | (585,000)
Reapportioned Funds | 244,554
Total Apportioned | 116,659,554
Section 5311 Nonurbanized Area Formula Program:
Total Available | 385,920,000
Less Oversight (one-half percent) | (2,020,000)
Reapportioned Funds | 2,277,688
Total Apportioned | 386,177,688
Section 5311(b)(3) Rural Transit Assistance Program (RTAP):
Total Available | 8,080,000
Less Amount Reserved for National RTAP | (1,212,000)
Reapportioned Funds | 452,588
Total Apportioned | 7,320,588
Section 5311(c) Public Transportation on Indian Reservations | 10,000,000
Section 5316 Job Access and Reverse Commute Program:
Total Available | 144,000,000
Total Apportioned | 144,000,000
Section 5317 New Freedom Program:
Total Available | 81,000,000
Total Apportioned | 81,000,000
Section 5320 Alternative Transportation in Parks and Public Lands:
Total Available | 23,000,000
Less Oversight (one-half percent) | (115,000)
Funds Available for Allocation | 22,885,000
Section 5339 Alternative Analysis Program:
Total Available | 25,000,000
Funds Available for Allocation | 25,000,000
Section 5340 Growing States and High Density States Formula:
Total Available | ³ 404,000,000
Total Apportioned | 404,000,000
Over-the-Road Bus Accessibility Program (Pub. L. 105-85, Section 3038) | 7,600,000
CAPITAL INVESTMENT GRANTS
Section 5309 New Starts:
Total Available | 1,566,000,000
Less Oversight (one percent) | (15,660,000)
Funds Available for Allocation | 1,550,340,000
RESEARCH
Section 5314 National Research Program | 61,000,000
Total Appropriation (Above Grant Programs) | ⁴ 8,886,275,000
Total Apportionment/Allocation (Above Grant Programs) | 8,802,012,856
¹ Funding available for Cleans Fuels after $26,279,000 is transferred to the Bus and Bus Facility program.
² Includes $26,279,000 transferred from the Clean Fuels program.
³ Apportionments derived from the Section 5340 formula are combined with the Section 5307 or Section 5311 apportionments, as appropriate, in accordance with language in the SAFETEA-LU conference report. The amount of FY 2007 Section 5340 funds allotted to Sections 5307 and 5311 apportionments is $340,734,486 and $63,265,514, respectively.
⁴ The total amount appropriated for FTA programs in the 2007 Appropriations Act is $8.97 billion. The amount shown here only includes funding for the programs included in this notice and shown above.

Table 2.—FY 2007 Section 5303 Metropolitan Transportation Planning Program and Section 5304 Statewide Transportation Planning Program Apportionments
State | Section 5303 Apportionment | Section 5304 Apportionment
Alabama | $623,537 | $163,245
Alaska | 329,495 | 86,263
Arizona | 1,647,393 | 328,654
Arkansas | 329,495 | 86,263
California | 12,958,856 | 2,524,485
Colorado | 1,234,513 | 270,193
Connecticut | 915,017 | 239,542
Delaware | 329,495 | 86,263
District of Columbia | 329,495 | 86,263
Florida | 5,383,172 | 1,132,759
Georgia | 2,123,217 | 421,322
Hawaii | 329,495 | 86,263
Idaho | 329,495 | 86,263
Illinois | 4,568,170 | 818,866
Indiana | 1,241,016 | 286,840
Iowa | 358,083 | 93,748
Kansas | 418,685 | 101,572
Kentucky | 522,554 | 131,756
Louisiana | 816,375 | 213,231
Maine | 329,495 | 86,263
Maryland | 1,846,450 | 361,392
Massachusetts | 2,426,009 | 473,882
Michigan | 2,709,982 | 553,221
Minnesota | 1,156,508 | 228,043
Mississippi | 329,495 | 86,263
Missouri | 1,219,834 | 259,906
Montana | 329,495 | 86,263
Nebraska | 329,495 | 86,263
Nevada | 603,074 | 140,968
New Hampshire | 329,495 | 86,263
New Jersey | 3,821,314 | 652,050
New Mexico | 329,495 | 86,263
New York | 7,283,541 | 1,303,850
North Carolina | 1,208,033 | 316,268
North Dakota | 329,495 | 86,263
Ohio | 2,621,420 | 614,838
Oklahoma | 476,561 | 124,766
Oregon | 733,094 | 166,181
Pennsylvania | 3,384,274 | 690,499
Puerto Rico | 1,366,861 | 292,370
Rhode Island | 340,461 | 86,263
South Carolina | 601,892 | 157,578
South Dakota | 329,495 | 86,263
Tennessee | 952,301 | 249,316
Texas | 6,046,857 | 1,244,248
Utah | 561,502 | 147,004
Vermont | 329,495 | 86,263
Virginia | 1,869,384 | 396,362
Washington | 1,755,960 | 361,925
West Virginia | 329,495 | 86,263
Wisconsin | 976,546 | 239,038
Wyoming | 329,495 | 86,263
Total | 82,373,861 | 17,252,652

Table 3.—FY 2007 Section 5307 and Section 5340 Urbanized Area Apportionments
[Note: In accordance with language in the SAFETEA-LU conference report, an urbanized area apportionments for Section 5307 and Section 5340 were combined to show a single amount. An area's apportionment amount includes regular Section 5307 funds, Small Transit Intensive Cities funds, and Growing States and High Density States formula funds, as appropriate.]
Urbanized area/state | Apportionment
1,000,000 or more in Population | $2,813,049,899
200,000-999,999 in Population | 703,215,992
50,000-199,999 in Population | 408,554,898
National Total | 3,924,820,789
Amounts Apportioned to Urbanized Areas 1,000,000 or more in Population:
Atlanta, GA | $55,761,620
Baltimore, MD | 49,089,558
Boston, MA—NH—RI | 127,815,567
Chicago, IL—IN | 217,715,515
Cincinnati, OH—KY—IN | 17,033,068
Cleveland, OH | 27,673,490
Columbus, OH | 10,928,770
Dallas—Fort Worth—Arlington, TX | 59,020,474
Denver—Aurora, CO | 39,136,659
Detroit, MI | 38,094,061
Houston, TX | 58,301,315
Indianapolis, IN | 10,248,899
Kansas City, MO—KS | 12,881,212
Las Vegas, NV | 20,777,680
Los Angeles—Long Beach—Santa Ana, CA | 252,472,410
Miami, FL | 90,748,583
Milwaukee, WI | 19,252,383
Minneapolis—St. Paul, MN | 44,372,728
New Orleans, LA | 15,985,953
New York—Newark, NY—NJ—CT | 773,326,809
Orlando, FL | 17,277,382
Philadelphia, PA—NJ—DE—MD | 128,386,607
Phoenix—Mesa, AZ | 41,539,986
Pittsburgh, PA | 32,625,253
Portland, OR—WA | 33,570,887
Providence, RI—MA | 29,223,529
Riverside—San Bernardino, CA | 24,442,636
Sacramento, CA | 19,060,682
San Antonio, TX | 20,220,591
San Diego, CA | 50,877,342
San Francisco—Oakland, CA | 116,823,368
San Jose, CA | 35,547,337
San Juan, PR | 34,245,529
Seattle, WA | 81,229,871
St. Louis, MO—IL | 29,347,313
Tampa—St. Petersburg, FL | 21,325,746
Virginia Beach, VA | 15,781,255
Washington, DC—VA—MD | 140,887,831
Total | 2,813,049,899
Amounts Apportioned to Urbanized Areas 200,000 to 999,999 in Population:
Aguadilla—Isabela—San Sebastian, PR | 4,430,621
Akron, OH | 6,012,478
Albany, NY | 9,379,662
Albuquerque, NM | 7,085,159
Allentown—Bethlehem, PA—NJ | 7,088,907
Anchorage, AK | 21,287,890
Ann Arbor, MI | 4,224,205
Antioch, CA | 5,500,312
Asheville, NC | 1,628,856
Atlantic City, NJ | 9,300,302
Augusta—Richmond County, GA—SC | 2,235,714
Austin, TX | 16,379,355
Bakersfield, CA | 5,451,483
Barnstable Town, MA | 4,652,919
Baton Rouge, LA | 4,313,787
Birmingham, AL | 5,778,323
Boise City, ID | 2,373,419
Bonita Springs—Naples, FL | 2,379,398
Bridgeport—Stamford, CT—NY | 22,465,747
Buffalo, NY | 15,491,573
Canton, OH | 3,462,625
Cape Coral, FL | 3,793,233
Charleston—North Charleston, SC | 3,164,700
Charlotte, NC—SC | 13,294,549
Chattanooga, TN—GA | 2,944,537
Colorado Springs, CO | 5,130,742
Columbia, SC | 3,838,851
Columbus, GA—AL | 1,993,783
Concord, CA | 18,526,133
Corpus Christi, TX | 4,293,492
Davenport, IA—IL | 3,381,015
Dayton, OH | 13,892,841
Daytona Beach—Port Orange, FL | 4,045,922
Denton—Lewisville, TX | 2,476,542
Des Moines, IA | 4,951,610
Durham, NC | 5,433,693
El Paso, TX—NM | 9,813,797
Eugene, OR | 4,011,179
Evansville, IN—KY | 1,889,514
Fayetteville, NC | 2,141,034
Flint, MI | 5,533,594
Fort Collins, CO | 2,205,831
Fort Wayne, IN | 2,617,543
Fresno, CA | 7,498,898
Grand Rapids, MI | 6,374,744
Greensboro, NC | 3,562,705
Greenville, SC | 1,949,452
Gulfport—Biloxi, MS | 1,682,238
Harrisburg, PA | 4,565,188
Hartford, CT | 18,191,100
Honolulu, HI | 24,359,495
Huntsville, AL | 1,649,487
Indio—Cathedral City—Palm Springs, CA | 3,241,472
Jackson, MS | 2,277,259
Jacksonville, FL | 14,212,171
Knoxville, TN | 3,765,878
Lancaster, PA | 3,506,448
Lancaster—Palmdale, CA | 6,532,964
Lansing, MI | 4,609,169
Lexington—Fayette, KY | 2,893,966
Lincoln, NE | 2,467,031
Little Rock, AR | 3,579,121
Louisville, KY—IN | 11,007,849
Lubbock, TX | 2,550,878
Madison, WI | 6,222,444
McAllen, TX | 2,996,078
Memphis, TN—MS—AR | 11,980,593
Mission Viejo, CA | 8,662,702
Mobile, AL | 2,668,998
Modesto, CA | 3,649,709
Nashville—Davidson, TN | 7,261,045
New Haven, CT | 16,872,742
Ogden—Layton, UT | 5,501,787
Oklahoma City, OK | 6,652,716
Omaha, NE—IA | 6,472,286
Oxnard, CA | 6,883,603
Palm Bay—Melbourne, FL | 4,152,721
Pensacola, FL—AL | 2,688,166
Peoria, IL | 2,688,082
Port St. Lucie, FL | 2,108,150
Poughkeepsie—Newburgh, NY | 14,577,592
Provo—Orem, UT | 4,449,426
Raleigh, NC | 5,621,983
Reading, PA | 2,714,080
Reno, NV | 4,727,812
Richmond, VA | 9,102,781
Rochester, NY | 10,423,380
Rockford, IL | 2,428,345
Round Lake Beach—McHenry—Grayslake, IL—WI | 3,667,889
Salem, OR | 3,516,835
Salt Lake City, UT | 20,100,518
Santa Rosa, CA | 3,565,829
Sarasota—Bradenton, FL | 5,903,675
Savannah, GA | 2,877,433
Scranton, PA | 3,764,506
Shreveport, LA | 2,913,954
South Bend, IN—MI | 3,723,608
Spokane, WA—ID | 6,434,323
Springfield, MA—CT | 11,353,845
Springfield, MO | 1,966,333
Stockton, CA | 7,171,540
Syracuse, NY | 6,281,223
Tallahassee, FL | 2,354,393
Temecula—Murrieta, CA | 2,272,609
Thousand Oaks, CA | 2,596,721
Toledo, OH—MI | 5,842,150
Trenton, NJ | 8,347,699
Tucson, AZ | 10,230,078
Tulsa, OK | 5,489,623
Victorville—Hesperia—Apple Valley, CA | 2,303,151
Wichita, KS | 4,440,719
Winston—Salem, NC | 2,647,492
Worcester, MA—CT | 7,858,481
Youngstown, OH—PA | 3,309,761
Total | 703,215,992
Amounts Apportioned to State Governors for Urbanized Areas 50,000 to 199,999 in Population:
ALABAMA | 7,250,334
Anniston, AL | 673,045
Auburn, AL | 622,422
Decatur, AL | 592,014
Dothan, AL | 567,616
Florence, AL | 713,416
Gadsden, AL | 558,511
Montgomery, AL | 2,302,892
Tuscaloosa, AL | 1,220,418
ALASKA | 738,556
Fairbanks, AK | 738,556
ARIZONA | 3,452,918
Avondale, AZ | 869,823
Flagstaff, AZ | 645,037
Prescott, AZ | 672,195
Yuma, AZ—CA | 1,265,863
ARKANSAS | 4,901,814
Fayetteville—Springdale, AR | 1,829,368
Fort Smith, AR—OK | 1,205,345
Hot Springs, AR | 485,409
Jonesboro, AR | 508,041
Pine Bluff, AR | 631,462
Texarkana, TX—Texarkana, AR | 242,189
CALIFORNIA | 55,440,609
Atascadero—El Paso de Robles (Paso Robles), CA | 611,677
Camarillo, CA | 903,008
Chico, CA | 1,307,534
Davis, CA | 2,018,338
El Centro, CA | 799,940
Fairfield, CA | 2,174,306
Gilroy—Morgan Hill, CA | 1,045,584
Hanford, CA | 960,929
Hemet, CA | 1,639,472
Livermore, CA | 1,217,592
Lodi, CA | 1,345,377
Lompoc, CA | 732,286
Madera, CA | 773,862
Manteca, CA | 850,706
Merced, CA | 1,868,541
Napa, CA | 1,488,607
Petaluma, CA | 911,852
Porterville, CA | 851,929
Redding, CA | 1,212,665
Salinas, CA | 3,092,358
San Luis Obispo, CA | 1,349,204
Santa Barbara, CA | 3,728,441
Santa Clarita, CA | 3,265,667
Santa Cruz, CA | 2,952,024
Santa Maria, CA | 1,875,199
Seaside—Monterey—Marina, CA | 2,577,731
Simi Valley, CA | 2,108,442
Tracy, CA | 1,121,151
Turlock, CA | 1,148,728
Vacaville, CA | 1,572,378
Vallejo, CA | 3,769,659
Visalia, CA | 1,747,001
Watsonville, CA | 1,053,998
Yuba City, CA | 1,354,634
Yuma, AZ—CA | 9,789
COLORADO | 8,293,228
Boulder, CO | 2,127,250
Grand Junction, CO | 1,002,471
Greeley, CO | 1,312,260
Lafayette—Louisville, CO | 823,076
Longmont, CO | 1,468,975
Pueblo, CO | 1,559,196
CONNECTICUT | 17,987,220
Danbury, CT—NY | 6,896,204
Norwich—New London, CT | 3,177,682
Waterbury, CT | 7,913,334
DELAWARE | 1,317,343
Dover, DE | 1,288,816
Salisbury, MD—DE | 28,527
FLORIDA | 21,357,992
Brooksville, FL | 993,287
Deltona, FL | 1,610,174
Fort Walton Beach, FL | 1,636,390
Gainesville, FL | 2,641,987
Kissimmee, FL | 2,102,630
Lady Lake, FL | 464,231
Lakeland, FL | 2,417,959
Leesburg—Eustis, FL | 988,439
North Port—Punta Gorda, FL | 1,240,112
Ocala, FL | 1,028,813
Panama City, FL | 1,316,602
St. Augustine, FL | 568,072
Titusville, FL | 942,936
Vero Beach—Sebastian, FL | 1,263,626
Winter Haven, FL | 1,604,997
Zephyrhills, FL | 537,737
GEORGIA | 8,760,015
Albany, GA | 989,427
Athens—Clarke County, GA | 1,312,463
Brunswick, GA | 500,167
Dalton, GA | 536,009
Gainesville, GA | 805,000
Hinesville, GA | 578,175
Macon, GA | 1,486,745
Rome, GA | 1,083,099
Valdosta, GA | 608,832
Warner Robins, GA | 860,098
HAWAII | 2,026,247
Kailua (Honolulu County)—Kaneohe, HI | 2,026,247
IDAHO | 3,939,639
Coeur d'Alene, ID | 841,280
Idaho Falls, ID | 824,600
Lewiston, ID—WA | 356,711
Nampa, ID | 1,160,278
Pocatello, ID | 756,770
ILLINOIS | 10,882,018
Alton, IL | 910,786
Beloit, WI—IL | 141,978
Bloomington—Normal, IL | 1,874,630
Champaign, IL | 2,523,127
Danville, IL | 582,432
Decatur, IL | 1,350,371
DeKalb, IL | 825,760
Dubuque, IA—IL | 28,816
Kankakee, IL | 826,220
Springfield, IL | 1,817,898
INDIANA | 10,733,698
Anderson, IN | 1,012,189
Bloomington, IN | 1,483,511
Columbus, IN | 580,600
Elkhart, IN—MI | 1,409,420
Kokomo, IN | 831,958
Lafayette, IN | 2,300,689
Michigan City, IN—MI | 769,298
Muncie, IN | 1,451,646
Terre Haute, IN | 894,387
IOWA | 8,071,720
Ames, IA | 1,365,236
Cedar Rapids, IA | 2,080,013
Dubuque, IA—IL | 762,548
Iowa City, IA | 1,569,025
Sioux City, IA—NE—SD | 1,013,167
Waterloo, IA | 1,281,731
KANSAS | 3,073,575
Lawrence, KS | 1,383,389
St. Joseph, MO—KS | 12,124
Topeka, KS | 1,678,062
KENTUCKY | 2,857,079
Bowling Green, KY | 619,391
Clarksville, TN—KY | 267,824
Huntington, WV—KY—OH | 557,729
Owensboro, KY | 747,772
Radcliff—Elizabethtown, KY | 664,363
LOUISIANA | 8,036,529
Alexandria, LA | 769,069
Houma, LA | 1,334,550
Lafayette, LA | 2,026,465
Lake Charles, LA | 1,341,153
Mandeville—Covington, LA | 617,428
Monroe, LA | 1,147,923
Slidell, LA | 799,941
MAINE | 4,381,796
Bangor, ME | 613,623
Dover—Rochester, NH—ME | 109,513
Lewiston, ME | 896,326
Portland, ME | 2,678,244
Portsmouth, NH—ME | 84,090
MARYLAND | 10,670,642
Aberdeen—Havre de Grace—Bel Air, MD | 2,900,711
Cumberland, MD—WV—PA | 810,873
Frederick, MD | 1,915,132
Hagerstown, MD—WV—PA | 1,441,127
Salisbury, MD—DE | 905,376
St. Charles, MD | 1,464,195
Westminster, MD | 1,233,228
MASSACHUSETTS | 6,662,936
Leominster—Fitchburg, MA | 2,398,315
Nashua, NH—MA | 504
New Bedford, MA | 3,106,662
Pittsfield, MA | 1,157,455
MICHIGAN | 13,046,789
Battle Creek, MI | 825,952
Bay City, MI | 1,078,081
Benton Harbor—St. Joseph, MI | 612,662
Elkhart, IN—MI | 17,527
Holland, MI | 1,053,030
Jackson, MI | 1,198,756
Kalamazoo, MI | 2,305,463
Michigan City, IN—MI | 5,021
Monroe, MI | 591,206
Muskegon, MI | 1,617,501
Port Huron, MI | 1,146,273
Saginaw, MI | 1,613,157
South Lyon—Howell—Brighton, MI | 982,160
MINNESOTA | 5,052,284
Duluth, MN—WI | 1,369,705
Fargo, ND—MN | 489,703
Grand Forks, ND—MN | 104,502
La Crosse, WI—MN | 75,927
Rochester, MN | 1,500,230
St. Cloud, MN | 1,512,217
MISSISSIPPI | 1,220,077
Hattiesburg, MS | 647,302
Pascagoula, MS | 572,775
MISSOURI | 4,104,533
Columbia, MO | 1,135,945
Jefferson City, MO | 542,439
Joplin, MO | 698,235
Lee's Summit, MO | 714,301
St. Joseph, MO—KS | 1,013,613
MONTANA | 2,826,793
Billings, MT | 1,230,011
Great Falls, MT | 798,682
Missoula, MT | 798,100
N. MARIANA ISLANDS | 697,739
Saipan, MP | 697,739
NEBRASKA | 197,384
Sioux City, IA—NE—SD | 197,384
NEVADA | 713,838
Carson City, NV | 713,838
NEW HAMPSHIRE | 5,262,172
Dover—Rochester, NH—ME | 1,156,340
Manchester, NH | 1,695,898
Nashua, NH—MA | 2,009,813
Portsmouth, NH—ME | 400,121
NEW JERSEY | 3,960,617
Hightstown, NJ | 1,431,763
Vineland, NJ | 1,596,004
Wildwood—North Wildwood—Cape May, NJ | 932,850
NEW MEXICO | 2,771,368
Farmington, NM | 515,759
Las Cruces, NM | 1,119,267
Santa Fe, NM | 1,136,342
NEW YORK | 10,570,026
Binghamton, NY—PA | 2,695,012
Danbury, CT—NY | 73,552
Elmira, NY | 1,224,805
Glens Falls, NY | 794,650
Ithaca, NY | 1,245,902
Kingston, NY | 1,334,020
Middletown, NY | 710,718
Saratoga Springs, NY | 792,015
Utica, NY | 1,699,352
NORTH CAROLINA | 11,251,514
Burlington, NC | 972,420
Concord, NC | 1,125,674
Gastonia, NC | 1,355,445
Goldsboro, NC | 576,504
Greenville, NC | 963,326
Hickory, NC | 1,645,632
High Point, NC | 1,354,550
Jacksonville, NC | 994,423
Rocky Mount, NC | 645,662
Wilmington, NC | 1,617,878
NORTH DAKOTA | 3,535,331
Bismarck, ND | 1,158,007
Fargo, ND—MN | 1,608,082
Grand Forks, ND—MN | 769,242
OHIO | 9,376,620
Huntington, WV—KY—OH | 365,291
Lima, OH | 783,147
Lorain—Elyria, OH | 2,613,598
Mansfield, OH | 836,717
Middletown, OH | 1,092,416
Newark, OH | 1,054,173
Parkersburg, WV—OH | 257,045
Sandusky, OH | 554,395
Springfield, OH | 1,058,335
Weirton, WV—Steubenville, OH—PA | 441,368
Wheeling, WV—OH | 320,135
OKLAHOMA | 2,197,292
Fort Smith, AR—OK | 22,819
Lawton, OK | 956,432
Norman, OK | 1,218,041
OREGON | 2,902,420
Bend, OR | 611,658
Corvallis, OR | 687,751
Longview, WA—OR | 16,389
Medford, OR | 1,586,622
PENNSYLVANIA | 14,667,053
Altoona, PA | 1,008,352
Binghamton, NY—PA | 43,896
Cumberland, MD—WV—PA | 137
Erie, PA | 2,890,238
Hagerstown, MD—WV—PA | 12,605
Hazleton, PA | 574,760
Johnstown, PA | 1,204,512
Lebanon, PA | 767,631
Monessen, PA | 1,192,580
Pottstown, PA | 725,687
State College, PA | 1,817,883
Uniontown—Connellsville, PA | 812,804
Weirton, WV—Steubenville, OH—PA | 2,733
Williamsport, PA | 1,437,612
York, PA | 2,175,623
PUERTO RICO | 10,639,870
Arecibo, PR | 1,449,086
Fajardo, PR | 828,071
Florida—Barceloneta—Bajadero, PR | 644,671
Guayama, PR | 842,124
Juana Diaz, PR | 565,662
Mayaguez, PR | 1,310,689
Ponce, PR | 2,884,958
San German—Cabo Rojo—Sabana Grande, PR | 1,013,945
Yauco, PR | 1,100,664
RHODE ISLAND | 0
SOUTH CAROLINA | 6,726,460
Anderson, SC | 640,244
Florence, SC | 983,511
Mauldin—Simpsonville, SC | 786,738
Myrtle Beach, SC | 1,425,464
Rock Hill, SC | 659,663
Spartanburg, SC | 1,331,315
Sumter, SC | 899,525
SOUTH DAKOTA | 2,675,777
Rapid City, SD | 818,753
Sioux City, IA—NE—SD | 33,565
Sioux Falls, SD | 1,823,459
TENNESSEE | 6,725,215
Bristol, TN—Bristol, VA | 347,289
Clarksville, TN—KY | 1,010,092
Cleveland, TN | 556,853
Jackson, TN | 948,789
Johnson City, TN | 958,145
Kingsport, TN—VA | 840,182
Morristown, TN | 519,063
Murfreesboro, TN | 1,544,802
TEXAS | 34,766,686
Abilene, TX | 1,343,172
Amarillo, TX | 2,333,958
Beaumont, TX | 1,540,933
Brownsville, TX | 2,734,539
College Station—Bryan, TX | 1,824,951
Galveston, TX | 1,392,401
Harlingen, TX | 1,274,698
Killeen, TX | 2,279,352
Lake Jackson—Angleton, TX | 905,070
Laredo, TX | 3,593,958
Longview, TX | 827,477
McKinney, TX | 648,017
Midland, TX | 1,228,930
Odessa, TX | 1,349,048
Port Arthur, TX | 1,517,318
San Angelo, TX | 1,025,875
Sherman, TX | 629,197
Temple, TX | 801,485
Texarkana, TX—Texarkana, AR | 462,132
Texas City, TX | 1,170,152
The Woodlands, TX | 1,096,274
Tyler, TX | 1,138,058
Victoria, TX | 595,076
Waco, TX | 1,899,585
Wichita Falls, TX | 1,155,030
UTAH | 1,863,771
Logan, UT | 1,143,363
St. George, UT | 720,408
VERMONT | 1,508,546
Burlington, VT | 1,508,546
VIRGIN ISLANDS | ¹ 843,840
VIRGINIA | 9,280,295
Blacksburg, VA | 1,063,831
Bristol, TN—Bristol, VA | 202,992
Charlottesville, VA | 1,481,189
Danville, VA | 538,282
Fredericksburg, VA | 1,006,793
Harrisonburg, VA | 857,517
Kingsport, TN—VA | 15,906
Lynchburg, VA | 1,220,972
Roanoke, VA | 2,318,325
Winchester, VA | 574,488
WASHINGTON | 14,358,531
Bellingham, WA | 1,564,038
Bremerton, WA | 2,349,035
Kennewick—Richland, WA | 2,459,462
Lewiston, ID—WA | 208,036
Longview, WA—OR | 737,928
Marysville, WA | 1,208,535
Mount Vernon, WA | 790,127
Olympia—Lacey, WA | 2,246,977
Wenatchee, WA | 1,148,346
Yakima, WA | 1,646,047
WEST VIRGINIA | 5,794,143
Charleston, WV | 2,181,992
Cumberland, MD—WV—PA | 22,703
Hagerstown, MD—WV—PA | 297,138
Huntington, WV—KY—OH | 987,340
Morgantown, WV | 718,666
Parkersburg, WV—OH | 670,607
Weirton, WV—Steubenville, OH—PA | 306,355
Wheeling, WV—OH | 609,342
WISCONSIN | 16,669,410
Appleton, WI | 2,492,784
Beloit, WI—IL | 523,641
Duluth, MN—WI | 430,307
Eau Claire, WI | 1,329,387
Fond du Lac, WI | 649,706
Green Bay, WI | 2,339,401
Janesville, WI | 819,067
Kenosha, WI | 1,613,367
La Crosse, WI—MN | 1,275,881
Oshkosh, WI | 1,326,506
Racine, WI | 1,811,896
Sheboygan, WI | 1,049,497
Wausau, WI | 1,007,970
WYOMING | 1,512,596
Casper, WY | 710,204
Cheyenne, WY | 802,392
Total | 408,554,898
¹ Language in section 5307(l) provides for the treatment of the Virgin Islands as an urbanized area.

Table 4.—FY 2007 Section 5307 Apportionment Formula
Distribution of Available Funds
Of the funds made available to the Section 5307 program, a one percent takedown is authorized for Small Transit Intensive Cities. This amount is apportioned to the Governors based on a separate formula that uses criteria related to specific service performance categories.
The remaining 99% is apportioned to small, medium, and large sized urbanized areas (UZAs). 9.32% is made available for UZAs 50,000-199,999 in population, and 90.68% to UZAs 200,000 or more in population.
UZA Population and Weighting Factors
50,000-199,999 in population (Apportioned to Governors) | 9.32% of available Section 5307 funds.
| 50% apportioned based on population.
| 50% apportioned based on population × population density.
200,000 and greater in population (Apportioned to UZAs) | 90.68% of available Section 5307 funds.
| 33.29% (Fixed Guideway Tier*).
| 95.61% (Non-incentive Portion of Tier).
| —at least 0.75% to each UZA with commuter rail and pop. 750,000 or greater.
| 60%—fixed guideway revenue vehicle miles.
| 40%—fixed guideway route miles.
| 4.39% (“Incentive Portion” of Tier).
| —at least 0.75% to each UZA with commuter rail and pop. 750,000 or greater.
| —fixed guideway passenger miles × fixed guideway passenger miles/operating cost.
| 66.71% (“Bus” Tier).
| 90.8% (Non-incentive Portion of Tier).
| 73.39% for UZAs with population 1,000,000 or greater.
| 50%—bus revenue vehicle miles.
| 25%—population.
| 25%—population × population density.
| 26.61% for UZAs pop. < 1,000,000.
| 50%—bus revenue vehicle miles.
| 25%— population.
| 25%—population × density.
| 9.2% (“Incentive” Portion of Tier).
| —bus passenger miles × bus passenger miles/operating cost.
* Includes all fixed guideway modes, such as heavy rail, commuter rail, light rail, trolleybus, aerial tramway, inclined plane, cable car, automated guideway transit, ferryboats, exclusive busways, and HOV lanes.

Table 5.—Fiscal Year 2007 Formula Programs Apportionment Data Unit Values
| Apportionment data unit value
Section 5307 Urbanized Area Formula Program—Bus Tier:
Urbanized Areas Over 1,000,000:
Population | $3.00227624
Population × Density | 0.00076177
Bus Revenue Vehicle Mile | 0.39097622
Urbanized Areas Under 1,000,000:
Population | 2.75146798
Population × Density | 0.00120387
Bus Revenue Vehicle Mile | 0.51070792
Bus Incentive (PM denotes Passenger Mile):
Bus PM × Bus PM = Operating Cost | 0.00750408
Section 5307 Urbanized Area Formula Program—Fixed Guideway Tier:
Fixed Guideway Revenue Vehicle Mile | 0.58113740
Fixed Guideway Route Mile | 30,545
Commuter Rail Floor | 7,680,270
Fixed Guideway Incentive:
Fixed Guideway PM × Fixed Guideway PM = Operating Cost | 0.00065678
Commuter Rail Incentive Floor | 352,645
Section 5307 Urbanized Area Formula Program—Areas Under 200,000:
Population | $5.53398866
Population × Density | 0.00275286
Section 5307 Small Transit Intensive Cities:
For Each Qualifying Performance Category | 120,608
Section 5311 Urbanized Area Formula Program—Areas Under 50,000
Population | 4.31350350
Section 5309 Capital Program—Fixed Guideway Modernization:

| Tier 2 | Tier 3 | Tier 4 | Tier 5 | Tier 6 | Tier 7
Legislatively Specified Areas:
Revenue Vehicle Mile | $0.03043443 |  | $0.13671435 | $0.03477564 | $0.02292899 | $0.21152760
Route Mile | 2,122.43 |  | 7,825.39 | 2,620.89 | 1,728.06 | 15,941.94
Other Urbanized Areas:
Revenue Vehicle Mile | 0.16288440 | 0.00576164 | 0.13671435 | 0.06921684 | 0.05650354 | 0.78189598
Route Mile | 4,758.70 | 168.33 | 7,825.39 | 2,017.29 | 1,646.77 | 22,787.98
Notes:
1. Unit values for Section 5307 do not take into account Section 5340 funding added to the program.
2. The unit value for Section 5311 is based on the total nonurbanized/rural population for the States and territories. It does not take into account Section 5311 funds allocated based on land area in nonurbanized areas, or Section 5340 funding added to the program.

Table 6.—FY 2007 Small Transit Intensive Cities Performance Data and Apportionments
[Total funding available for apportionment = $36,061,750]
State | Urbanized area (UZA) description | Passenger miles per vehicle revenue mile | Passenger miles per vehicle revenue hour | Vehicle revenue mile per capita | Vehicle revenue hour per capita | Passenger miles per capita | Passenger trips per capita | Number of performance factors met or exceeded | STIC funding: @ $120,608 per factor met or exceeded
| Average for UZAs with populations 200,000-999,999 | 5.561 | 95.935 | 10.951 | 0.729 | 72.570 | 13.348
Alabama | Anniston, AL | 0.000 | 0.000 | 0.000 | 0.000 | 0.000 | 0.000 | 0 | $0
Alabama | Auburn, AL | 1.000 | 16.716 | 5.719 | 0.342 | 5.719 | 1.732 | 0 | 0
Alabama | Decatur, AL | 1.000 | 16.772 | 7.733 | 0.461 | 7.733 | 2.780 | 0 | 0
Alabama | Dothan, AL | 1.000 | 22.792 | 6.700 | 0.294 | 6.700 | 2.391 | 0 | 0
Alabama | Florence, AL | 1.093 | 15.975 | 8.252 | 0.565 | 9.021 | 2.577 | 0 | 0
Alabama | Gadsden, AL | 0.000 | 0.000 | 0.000 | 0.000 | 0.000 | 0.000 | 0 | 0
Alabama | Montgomery, AL | 2.897 | 46.236 | 6.732 | 0.422 | 19.501 | 3.807 | 0 | 0
Alabama | Tuscaloosa, AL | 2.680 | 28.693 | 2.829 | 0.264 | 7.579 | 1.181 | 0 | 0
Alaska | Fairbanks, AK | 6.859 | 105.298 | 8.463 | 0.551 | 58.051 | 8.092 | 2 | 241,216
Arizona | Avondale, AZ | 4.349 | 0.000 | 0.743 | 0.000 | 3.233 | 0.000 | 0 | 0
Arizona | Flagstaff, AZ | 2.540 | 34.781 | 7.905 | 0.577 | 20.076 | 7.800 | 0 | 0
Arizona | Prescott, AZ | 0.000 | 0.000 | 0.000 | 0.000 | 0.000 | 0.000 | 0 | 0
Arizona | Yuma, AZ—CA | 1.515 | 16.822 | 8.028 | 0.723 | 12.167 | 1.719 | 0 | 0
Arkansas | Fayetteville-Springdale, AR | 3.371 | 40.016 | 4.768 | 0.402 | 16.072 | 8.268 | 0 | 0
Arkansas | Fort Smith, AR—OK | 2.081 | 29.584 | 4.734 | 0.333 | 9.852 | 2.108 | 0 | 0
Arkansas | Hot Springs, AR | 0.000 | 0.000 | 0.000 | 0.000 | 0.000 | 0.000 | 0 | 0
Arkansas | Jonesboro, AR | 0.000 | 0.000 | 0.000 | 0.000 | 0.000 | 0.000 | 0 | 0
Arkansas | Pine Bluff, AR | 0.000 | 0.000 | 0.000 | 0.000 | 0.000 | 0.000 | 0 | 0
California | Atascadero—El Paso de Robles (Paso Robles), CA | 0.000 | 0.000 | 0.000 | 0.000 | 0.000 | 0.000 | 0 | 0
California | Camarillo, CA | 0.000 | 0.000 | 0.000 | 0.000 | 0.000 | 0.000 | 0 | 0
California | Chico, CA | 3.425 | 42.826 | 9.354 | 0.748 | 32.041 | 10.019 | 1 | 120,608
California | Davis, CA | 8.983 | 151.628 | 18.082 | 1.071 | 162.432 | 51.747 | 6 | 723,646
California | El Centro, CA | 0.000 | 0.000 | 0.000 | 0.000 | 0.000 | 0.000 | 0 | 0
California | Fairfield, CA | 3.274 | 63.781 | 13.171 | 0.676 | 43.116 | 7.041 | 1 | 120,608
California | Gilroy—Morgan Hill, CA | 0.000 | 0.000 | 0.000 | 0.000 | 0.000 | 0.000 | 0 | 0
California | Hanford, CA | 0.000 | 0.000 | 0.000 | 0.000 | 0.000 | 0.000 | 0 | 0
California | Hemet, CA | 1.893 | 0.000 | 7.263 | 0.000 | 13.749 | 0.000 | 0 | 0
California | Livermore, CA | 3.248 | 0.000 | 5.338 | 0.000 | 17.337 | 0.000 | 0 | 0
California | Lodi, CA | 1.944 | 21.289 | 6.952 | 0.635 | 13.511 | 5.269 | 0 | 0
California | Lompoc, CA | 7.519 | 112.958 | 8.249 | 0.549 | 62.028 | 5.958 | 2 | 241,216
California | Madera, CA | 0.000 | 0.000 | 0.000 | 0.000 | 0.000 | 0.000 | 0 | 0
California | Manteca, CA | 0.000 | 0.000 | 0.000 | 0.000 | 0.000 | 0.000 | 0 | 0
California | Merced, CA | 1.929 | 34.230 | 13.968 | 0.787 | 26.946 | 9.535 | 2 | 241,216
California | Napa, CA | 2.778 | 39.639 | 13.360 | 0.936 | 37.120 | 9.813 | 2 | 241,216
California | Petaluma, CA | 5.103 | 0.000 | 2.804 | 0.000 | 14.312 | 0.000 | 0 | 0
California | Porterville, CA | 3.225 | 48.188 | 8.955 | 0.599 | 28.880 | 8.041 | 0 | 0
California | Redding, CA | 3.438 | 55.384 | 11.285 | 0.701 | 38.801 | 7.876 | 1 | 120,608
California | Salinas, CA | 0.000 | 0.000 | 0.000 | 0.000 | 0.000 | 0.000 | 0 | 0
California | San Luis Obispo, CA | 22.048 | 263.797 | 7.402 | 0.619 | 163.195 | 16.362 | 4 | 482,431
California | Santa Barbara, CA | 10.352 | 140.225 | 13.451 | 0.993 | 139.238 | 36.757 | 6 | 723,646
California | Santa Clarita, CA | 12.879 | 418.549 | 31.535 | 0.970 | 406.124 | 20.689 | 6 | 723,646
California | Santa Cruz, CA | 8.392 | 125.105 | 24.349 | 1.633 | 204.347 | 35.654 | 6 | 723,646
California | Santa Maria, CA | 1.945 | 27.602 | 4.997 | 0.352 | 9.716 | 6.582 | 0 | 0
California | Seaside—Monterey—Marina, CA | 6.765 | 103.062 | 28.289 | 1.857 | 191.379 | 38.283 | 6 | 723,646
California | Simi Valley, CA | 4.548 | 118.010 | 10.348 | 0.399 | 47.063 | 4.209 | 1 | 120,608
California | Tracy, CA | 0.000 | 0.000 | 0.000 | 0.000 | 0.000 | 0.000 | 0 | 0
California | Turlock, CA | 0.000 | 0.000 | 0.000 | 0.000 | 0.000 | 0.000 | 0 | 0
California | Vacaville, CA | 5.892 | 0.000 | 0.805 | 0.000 | 4.745 | 0.000 | 1 | 120,608
California | Vallejo, CA | 9.476 | 244.654 | 24.678 | 0.956 | 233.857 | 18.416 | 6 | 723,646
California | Visalia, CA | 4.902 | 65.558 | 9.659 | 0.722 | 47.347 | 10.970 | 0 | 0
California | Watsonville, CA | 0.000 | 0.000 | 0.000 | 0.000 | 0.000 | 0.000 | 0 | 0
California | Yuba City, CA | 5.329 | 83.369 | 9.914 | 0.634 | 52.829 | 6.911 | 0 | 0
Colorado | Boulder, CO | 9.335 | 0.000 | 15.645 | 0.000 | 146.044 | 0.000 | 3 | 361,824
Colorado | Grand Junction, CO | 4.163 | 57.198 | 7.201 | 0.524 | 29.978 | 7.385 | 0 | 0
Colorado | Greeley, CO | 3.305 | 39.308 | 5.685 | 0.478 | 18.788 | 4.955 | 0 | 0
Colorado | Lafayette—Louisville, CO | 7.445 | 0.000 | 9.349 | 0.000 | 69.608 | 0.000 | 1 | 120,608
Colorado | Longmont, CO | 7.004 | 0.000 | 22.598 | 0.000 | 158.281 | 0.000 | 3 | 361,824
Colorado | Pueblo, CO | 3.762 | 53.996 | 6.932 | 0.483 | 26.081 | 8.324 | 0 | 0
Connecticut | Danbury, CT—NY | 21.337 | 1614.082 | 41.055 | 0.543 | 875.975 | 5.407 | 4 | 482,431
Connecticut | Norwich—New London, CT | 5.761 | 177.809 | 10.620 | 0.344 | 61.178 | 5.395 | 2 | 241,216
Connecticut | Waterbury, CT | 20.385 | 1130.418 | 34.678 | 0.625 | 706.904 | 10.075 | 4 | 482,431
Delaware | Dover, DE | 2.786 | 0.000 | 29.906 | 0.000 | 83.304 | 0.000 | 2 | 241,216
Florida | Brooksville, FL | 1.683 | 26.954 | 3.095 | 0.193 | 5.209 | 1.325 | 0 | 0
Florida | Deltona, FL | 3.296 | 0.000 | 9.152 | 0.000 | 30.164 | 0.000 | 0 | 0
Florida | Fort Walton Beach, FL | 1.057 | 16.369 | 8.221 | 0.531 | 8.691 | 1.340 | 0 | 0
Florida | Gainesville, FL | 9.524 | 109.979 | 18.039 | 1.562 | 171.808 | 50.648 | 6 | 723,646
Florida | Kissimmee, FL | 0.000 | 0.000 | 0.000 | 0.000 | 0.000 | 0.000 | 0 | 0
Florida | Lady Lake, FL | 0.000 | 0.000 | 0.000 | 0.000 | 0.000 | 0.000 | 0 | 0
Florida | Lakeland, FL | 2.378 | 38.374 | 20.144 | 1.248 | 47.893 | 11.172 | 2 | 241,216
Florida | Leesburg—Eustis, FL | 0.000 | 0.000 | 0.000 | 0.000 | 0.000 | 0.000 | 0 | 0
Florida | North Port—Punta Gorda, FL | 1.008 | 15.649 | 4.250 | 0.274 | 4.284 | 0.568 | 0 | 0
Florida | Ocala, FL | 3.569 | 49.160 | 3.921 | 0.285 | 13.991 | 2.870 | 0 | 0
Florida | Panama City, FL | 1.196 | 19.087 | 8.866 | 0.556 | 10.605 | 3.401 | 0 | 0
Florida | St. Augustine, FL | 0.000 | 0.000 | 0.000 | 0.000 | 0.000 | 0.000 | 0 | 0
Florida | Titusville, FL | 6.329 | 0.000 | 15.557 | 0.000 | 98.453 | 0.000 | 3 | 361,824
Florida | Vero Beach—Sebastian, FL | 0.000 | 0.000 | 0.000 | 0.000 | 0.000 | 0.000 | 0 | 0
Florida | Winter Haven, FL | 0.000 | 0.000 | 0.000 | 0.000 | 0.000 | 0.000 | 0 | 0
Florida | Zephyrhills, FL | 0.000 | 0.000 | 0.000 | 0.000 | 0.000 | 0.000 | 0 | 0
Georgia | Albany, GA | 5.160 | 82.472 | 7.089 | 0.443 | 36.576 | 7.233 | 0 | 0
Georgia | Athens—Clarke County, GA | 6.103 | 81.046 | 7.639 | 0.575 | 46.617 | 14.020 | 2 | 241,216
Georgia | Brunswick, GA | 0.000 | 0.000 | 0.000 | 0.000 | 0.000 | 0.000 | 0 | 0
Georgia | Dalton, GA | 0.000 | 0.000 | 0.000 | 0.000 | 0.000 | 0.000 | 0 | 0
Georgia | Gainesville, GA | 0.000 | 0.000 | 0.000 | 0.000 | 0.000 | 0.000 | 0 | 0
Georgia | Hinesville, GA | 0.000 | 0.000 | 0.000 | 0.000 | 0.000 | 0.000 | 0 | 0
Georgia | Macon, GA | 4.353 | 62.271 | 8.223 | 0.575 | 35.796 | 7.774 | 0 | 0
Georgia | Rome, GA | 15.144 | 286.192 | 9.379 | 0.496 | 142.038 | 14.248 | 4 | 482,431
Georgia | Valdosta, GA | 0.000 | 0.000 | 0.000 | 0.000 | 0.000 | 0.000 | 0 | 0
Georgia | Warner Robins, GA | 0.000 | 0.000 | 0.000 | 0.000 | 0.000 | 0.000 | 0 | 0
Hawaii | Kailua (Honolulu County)—Kaneohe, HI | 9.044 | 0.000 | 2.136 | 0.000 | 19.322 | 0.000 | 1 | 120,608
Idaho | Coeur d'Alene, ID | 0.000 | 0.000 | 0.000 | 0.000 | 0.000 | 0.000 | 0 | 0
Idaho | Idaho Falls, ID | 0.000 | 0.000 | 0.000 | 0.000 | 0.000 | 0.000 | 0 | 0
Idaho | Lewiston, ID—WA | 0.000 | 0.000 | 0.000 | 0.000 | 0.000 | 0.000 | 0 | 0
Idaho | Nampa, ID | 3.032 | 0.000 | 4.135 | 0.000 | 12.538 | 0.000 | 0 | 0
Idaho | Pocatello, ID | 5.309 | 64.497 | 6.859 | 0.565 | 36.414 | 7.586 | 0 | 0
Illinois | Alton, IL | 4.442 | 0.000 | 4.451 | 0.000 | 19.774 | 0.000 | 0 | 0
Illinois | Bloomington—Normal, IL | 3.753 | 50.475 | 11.621 | 0.864 | 43.618 | 11.694 | 2 | 241,216
Illinois | Champaign, IL | 9.207 | 104.802 | 22.557 | 1.982 | 207.674 | 81.684 | 6 | 723,646
Illinois | Danville, IL | 2.032 | 36.342 | 5.963 | 0.333 | 12.117 | 6.539 | 0 | 0
Illinois | Decatur, IL | 2.845 | 38.648 | 11.160 | 0.821 | 31.746 | 10.814 | 2 | 241,216
Illinois | DeKalb, IL | 0.000 | 0.000 | 0.000 | 0.000 | 0.000 | 0.000 | 0 | 0
Illinois | Kankakee, IL | 0.000 | 0.000 | 0.000 | 0.000 | 0.000 | 0.000 | 0 | 0
Illinois | Springfield, IL | 2.558 | 32.374 | 9.442 | 0.746 | 24.154 | 8.734 | 1 | 120,608
Indiana | Anderson, IN | 1.370 | 15.495 | 4.726 | 0.418 | 6.473 | 2.135 | 0 | 0
Indiana | Bloomington, IN | 6.828 | 72.674 | 10.499 | 0.986 | 71.691 | 23.619 | 3 | 361,824
Indiana | Columbus, IN | 0.000 | 0.000 | 0.000 | 0.000 | 0.000 | 0.000 | 0 | 0
Indiana | Elkhart, IN—MI | 1.637 | 25.774 | 6.212 | 0.394 | 10.167 | 2.245 | 0 | 0
Indiana | Kokomo, IN | 1.022 | 10.475 | 10.834 | 1.057 | 11.073 | 2.473 | 1 | 120,608
Indiana | Lafayette, IN | 9.352 | 110.918 | 11.821 | 0.997 | 110.553 | 33.814 | 6 | 723,646
Indiana | Michigan City, IN—MI | 0.000 | 0.000 | 0.000 | 0.000 | 0.000 | 0.000 | 0 | 0
Indiana | Muncie, IN | 4.339 | 55.708 | 12.793 | 0.996 | 55.505 | 20.253 | 3 | 361,824
Indiana | Terre Haute, IN | 1.114 | 10.396 | 4.395 | 0.471 | 4.898 | 2.523 | 0 | 0
Iowa | Ames, IA | 5.851 | 62.469 | 20.602 | 1.930 | 120.547 | 84.629 | 5 | 603,039
Iowa | Cedar Rapids, IA | 3.561 | 51.368 | 9.023 | 0.625 | 32.126 | 7.288 | 0 | 0
Iowa | Dubuque, IA—IL | 3.159 | 40.963 | 8.520 | 0.657 | 26.917 | 9.730 | 0 | 0
Iowa | Iowa City, IA | 4.351 | 48.382 | 20.356 | 1.831 | 88.575 | 60.513 | 4 | 482,431
Iowa | Sioux City, IA—NE—SD | 3.752 | 41.819 | 5.960 | 0.535 | 22.362 | 7.686 | 0 | 0
Iowa | Waterloo, IA | 1.046 | 16.200 | 8.615 | 0.556 | 9.014 | 4.238 | 0 | 0
Kansas | Lawrence, KS | 1.542 | 19.585 | 10.318 | 0.813 | 15.915 | 6.362 | 1 | 120,608
Kansas | Topeka, KS | 3.907 | 57.593 | 9.245 | 0.627 | 36.121 | 9.979 | 0 | 0
Kentucky | Bowling Green, KY | 0.000 | 0.000 | 0.000 | 0.000 | 0.000 | 0.000 | 0 | 0
Kentucky | Owensboro, KY | 0.000 | 0.000 | 0.000 | 0.000 | 0.000 | 0.000 | 0 | 0
Kentucky | Radcliff—Elizabethtown, KY | 0.000 | 0.000 | 0.000 | 0.000 | 0.000 | 0.000 | 0 | 0
Louisiana | Alexandria, LA | 4.818 | 73.290 | 7.022 | 0.462 | 33.834 | 8.149 | 0 | 0
Louisiana | Houma, LA | 0.000 | 0.000 | 0.000 | 0.000 | 0.000 | 0.000 | 0 | 0
Louisiana | Lafayette, LA | 7.035 | 96.853 | 4.853 | 0.353 | 34.146 | 7.735 | 2 | 241,216
Louisiana | Lake Charles, LA | 0.000 | 0.000 | 0.000 | 0.000 | 0.000 | 0.000 | 0 | 0
Louisiana | Mandeville—Covington, LA | 0.000 | 0.000 | 0.000 | 0.000 | 0.000 | 0.000 | 0 | 0
Louisiana | Monroe, LA | 0.000 | 0.000 | 6.234 | 0.441 | 0.000 | 8.528 | 0 | 0
Louisiana | Slidell, LA | 0.000 | 0.000 | 0.000 | 0.000 | 0.000 | 0.000 | 0 | 0
Maine | Bangor, ME | 5.056 | 66.260 | 9.264 | 0.707 | 46.842 | 11.554 | 0 | 0
Maine | Lewiston, ME | 1.499 | 22.244 | 16.243 | 1.094 | 24.344 | 6.553 | 2 | 241,216
Maine | Portland, ME | 11.014 | 225.504 | 15.863 | 0.775 | 174.722 | 14.007 | 6 | 723,646
Maryland | Aberdeen—Havre de Grace—Bel Air, MD | 0.000 | 0.000 | 0.000 | 0.000 | 0.000 | 0.000 | 0 | 0
Maryland | Cumberland, MD—WV—PA | 0.000 | 0.000 | 0.000 | 0.000 | 0.000 | 0.000 | 0 | 0
Maryland | Frederick, MD | 2.907 | 34.264 | 8.215 | 0.697 | 23.881 | 4.644 | 0 | 0
Maryland | Hagerstown, MD—WV—PA | 2.366 | 35.097 | 4.055 | 0.273 | 9.595 | 2.563 | 0 | 0
Maryland | Salisbury, MD—DE | 0.000 | 0.000 | 0.000 | 0.000 | 0.000 | 0.000 | 0 | 0
Maryland | St. Charles, MD | 1.000 | 16.484 | 16.509 | 1.002 | 16.509 | 5.497 | 2 | 241,216
Maryland | Westminster, MD | 1.285 | 14.512 | 11.387 | 1.008 | 14.630 | 2.398 | 2 | 241,216
Massachusetts | Leominster—Fitchburg, MA | 3.086 | 40.653 | 24.328 | 1.847 | 75.075 | 10.259 | 3 | 361,824
Massachusetts | New Bedford, MA | 2.992 | 55.171 | 16.915 | 0.917 | 50.617 | 11.564 | 2 | 241,216
Massachusetts | Pittsfield, MA | 1.000 | 18.899 | 15.536 | 0.822 | 15.536 | 9.641 | 2 | 241,216
Michigan | Battle Creek, MI | 3.325 | 48.817 | 7.142 | 0.486 | 23.747 | 6.658 | 0 | 0
Michigan | Bay City, MI | 1.779 | 30.715 | 22.091 | 1.279 | 39.296 | 7.846 | 2 | 241,216
Michigan | Benton Harbor—St. Joseph, MI | 1.454 | 18.988 | 6.443 | 0.493 | 9.370 | 2.625 | 0 | 0
Michigan | Holland, MI | 1.013 | 13.938 | 6.855 | 0.498 | 6.942 | 2.009 | 0 | 0
Michigan | Jackson, MI | 1.955 | 31.619 | 14.478 | 0.895 | 28.301 | 8.040 | 2 | 241,216
Michigan | Kalamazoo, MI | 4.279 | 51.456 | 10.919 | 0.908 | 46.721 | 15.554 | 2 | 241,216
Michigan | Monroe, MI | 2.233 | 0.000 | 8.699 | 0.000 | 19.426 | 0.000 | 0 | 0
Michigan | Muskegon, MI | 3.767 | 49.825 | 3.575 | 0.270 | 13.467 | 2.830 | 0 | 0
Michigan | Port Huron, MI | 1.262 | 19.105 | 21.936 | 1.449 | 27.675 | 10.026 | 2 | 241,216
Michigan | Saginaw, MI | 4.331 | 45.565 | 4.239 | 0.403 | 18.358 | 4.558 | 0 | 0
Michigan | South Lyon—Howell—Brighton, MI | 0.000 | 0.000 | 0.000 | 0.000 | 0.000 | 0.000 | 0 | 0
Minnesota | Duluth, MN—WI | 4.716 | 61.291 | 15.634 | 1.203 | 73.725 | 23.122 | 4 | 482,431
Minnesota | Rochester, MN | 5.253 | 75.693 | 11.377 | 0.790 | 59.761 | 14.724 | 3 | 361,824
Minnesota | St. Cloud, MN | 4.256 | 57.593 | 15.536 | 1.148 | 66.127 | 20.310 | 3 | 361,824
Mississippi | Hattiesburg, MS | 0.000 | 0.000 | 0.000 | 0.000 | 0.000 | 0.000 | 0 | 0
Mississippi | Pascagoula, MS | 2.585 | 0.000 | 0.913 | 0.000 | 2.360 | 0.000 | 0 | 0
Missouri | Columbia, MO | 3.873 | 45.856 | 5.470 | 0.462 | 21.185 | 5.469 | 0 | 0
Missouri | Jefferson City, MO | 2.682 | 38.910 | 9.855 | 0.679 | 26.428 | 7.530 | 0 | 0
Missouri | Joplin, MO | 0.000 | 0.000 | 0.000 | 0.000 | 0.000 | 0.000 | 0 | 0
Missouri | Lee's Summit, MO | 1.709 | 0.000 | 0.340 | 0.000 | 0.581 | 0.000 | 0 | 0
Missouri | St. Joseph, MO—KS | 2.035 | 20.631 | 8.766 | 0.865 | 17.839 | 3.750 | 1 | 120,608
Montana | Billings, MT | 3.115 | 46.552 | 8.029 | 0.537 | 25.008 | 7.198 | 0 | 0
Montana | Great Falls, MT | 1.599 | 18.232 | 8.128 | 0.713 | 12.996 | 7.075 | 0 | 0
Montana | Missoula, MT | 4.097 | 59.850 | 9.654 | 0.661 | 39.554 | 9.587 | 0 | 0
N. Mariana Islands | Saipan, MP | 0.000 | 0.000 | 0.000 | 0.000 | 0.000 | 0.000 | 0 | 0
Nevada | Carson City, NV | 0.000 | 0.000 | 0.000 | 0.000 | 0.000 | 0.000 | 0 | 0
New Hampshire | Dover—Rochester, NH—ME | 7.043 | 200.293 | 11.188 | 0.393 | 78.799 | 3.921 | 4 | 482,431
New Hampshire | Manchester, NH | 2.422 | 30.917 | 3.789 | 0.297 | 9.176 | 2.950 | 0 | 0
New Hampshire | Nashua, NH—MA | 3.974 | 51.853 | 2.325 | 0.178 | 9.238 | 1.794 | 0 | 0
New Hampshire | Portsmouth, NH—ME | 5.238 | 0.000 | 2.790 | 0.000 | 14.614 | 0.000 | 0 | 0
New Jersey | Hightstown, NJ | 0.000 | 0.000 | 0.000 | 0.000 | 0.000 | 0.000 | 0 | 0
New Jersey | Vineland, NJ | 1.000 | 12.815 | 7.706 | 0.601 | 7.706 | 1.666 | 0 | 0
New Jersey | Wildwood—North Wildwood—Cape May, NJ | 0.000 | 0.000 | 0.000 | 0.000 | 0.000 | 0.000 | 0 | 0
New Mexico | Farmington, NM | 0.000 | 0.000 | 0.000 | 0.000 | 0.000 | 0.000 | 0 | 0
New Mexico | Las Cruces, NM | 3.994 | 49.054 | 5.472 | 0.446 | 21.855 | 6.431 | 0 | 0
New Mexico | Santa Fe, NM | 2.025 | 25.982 | 12.897 | 1.005 | 26.112 | 7.556 | 2 | 241,216
New York | Binghamton, NY—PA | 3.711 | 49.460 | 16.368 | 1.228 | 60.741 | 18.853 | 3 | 361,824
New York | Elmira, NY | 2.463 | 49.413 | 15.358 | 0.765 | 37.821 | 8.935 | 2 | 241,216
New York | Glens Falls, NY | 3.323 | 51.206 | 5.420 | 0.352 | 18.009 | 5.009 | 0 | 0
New York | Ithaca, NY | 4.114 | 55.888 | 35.366 | 2.603 | 145.491 | 58.887 | 4 | 482,431
New York | Kingston, NY | 15.198 | 761.431 | 37.582 | 0.750 | 571.166 | 8.743 | 5 | 603,039
New York | Middletown, NY | 0.000 | 0.000 | 0.000 | 0.000 | 0.000 | 0.000 | 0 | 0
New York | Saratoga Springs, NY | 5.826 | 0.000 | 2.680 | 0.000 | 15.616 | 0.000 | 1 | 120,608
New York | Utica, NY | 0.000 | 0.000 | 0.000 | 0.000 | 0.000 | 0.000 | 0 | 0
North Carolina | Burlington, NC | 0.000 | 0.000 | 0.000 | 0.000 | 0.000 | 0.000 | 0 | 0
North Carolina | Concord, NC | 0.000 | 0.000 | 0.000 | 0.000 | 0.000 | 0.000 | 0 | 0
North Carolina | Gastonia, NC | 0.000 | 0.000 | 0.000 | 0.000 | 0.000 | 0.000 | 0 | 0
North Carolina | Goldsboro, NC | 0.000 | 0.000 | 0.000 | 0.000 | 0.000 | 0.000 | 0 | 0
North Carolina | Greenville, NC | 0.000 | 0.000 | 0.000 | 0.000 | 0.000 | 0.000 | 0 | 0
North Carolina | Hickory, NC | 0.000 | 0.000 | 0.000 | 0.000 | 0.000 | 0.000 | 0 | 0
North Carolina | High Point, NC | 2.229 | 45.998 | 6.640 | 0.322 | 14.802 | 5.357 | 0 | 0
North Carolina | Jacksonville, NC | 0.000 | 0.000 | 0.000 | 0.000 | 0.000 | 0.000 | 0 | 0
North Carolina | Rocky Mount, NC | 0.000 | 0.000 | 0.000 | 0.000 | 0.000 | 0.000 | 0 | 0
North Carolina | Wilmington, NC | 2.721 | 33.338 | 7.116 | 0.581 | 19.363 | 7.643 | 0 | 0
North Dakota | Bismarck, ND | 1.015 | 13.622 | 13.516 | 1.007 | 13.719 | 3.750 | 2 | 241,216
North Dakota | Fargo, ND—MN | 3.316 | 43.693 | 7.275 | 0.552 | 24.124 | 8.410 | 0 | 0
North Dakota | Grand Forks, ND—MN | 0.944 | 15.058 | 10.318 | 0.647 | 9.738 | 5.550 | 0 | 0
Ohio | Lima, OH | 0.000 | 0.000 | 0.000 | 0.000 | 0.000 | 0.000 | 0 | 0
Ohio | Lorain—Elyria, OH | 3.159 | 112.180 | 16.299 | 0.459 | 51.489 | 4.421 | 2 | 241,216
Ohio | Mansfield, OH | 3.190 | 34.016 | 3.869 | 0.363 | 12.339 | 4.090 | 0 | 0
Ohio | Middletown, OH | 4.599 | 65.193 | 2.723 | 0.192 | 12.523 | 2.477 | 0 | 0
Ohio | Newark, OH | 0.578 | 8.976 | 16.137 | 1.040 | 9.331 | 3.358 | 2 | 241,216
Ohio | Sandusky, OH | 1.538 | 19.927 | 4.907 | 0.379 | 7.547 | 1.755 | 0 | 0
Ohio | Springfield, OH | 2.853 | 34.643 | 2.889 | 0.238 | 8.242 | 3.452 | 0 | 0
Ohio | Weirton, WV—Steubenville, OH—PA | 0.000 | 0.000 | 0.000 | 0.000 | 0.000 | 0.000 | 0 | 0
Oklahoma | Lawton, OK | 2.437 | 35.614 | 6.546 | 0.448 | 15.951 | 2.944 | 0 | 0
Oklahoma | Norman, OK | 4.961 | 57.268 | 5.082 | 0.440 | 25.210 | 11.149 | 0 | 0
Oregon | Bend, OR | 0.000 | 0.000 | 0.000 | 0.000 | 0.000 | 0.000 | 0 | 0
Oregon | Corvallis, OR | 0.000 | 0.000 | 0.000 | 0.000 | 0.000 | 0.000 | 0 | 0
Oregon | Medford, OR | 3.065 | 35.614 | 7.111 | 0.612 | 21.793 | 10.218 | 0 | 0
Pennsylvania | Altoona, PA | 3.895 | 51.980 | 6.838 | 0.512 | 26.631 | 8.142 | 0 | 0
Pennsylvania | Erie, PA | 3.512 | 42.414 | 13.364 | 1.107 | 46.937 | 14.458 | 3 | 361,824
Pennsylvania | Hazleton, PA | 0.000 | 0.000 | 0.000 | 0.000 | 0.000 | 0.000 | 0 | 0
Pennsylvania | Johnstown, PA | 7.474 | 82.666 | 9.135 | 0.826 | 68.280 | 16.500 | 3 | 361,824
Pennsylvania | Lebanon, PA | 0.000 | 0.000 | 0.000 | 0.000 | 0.000 | 0.000 | 0 | 0
Pennsylvania | Monessen, PA | 13.967 | 275.664 | 15.981 | 0.810 | 223.212 | 6.348 | 5 | 603,039
Pennsylvania | Pottstown, PA | 0.000 | 0.000 | 0.000 | 0.000 | 0.000 | 0.000 | 0 | 0
Pennsylvania | State College, PA | 10.498 | 107.483 | 16.299 | 1.592 | 171.115 | 84.811 | 6 | 723,646
Pennsylvania | Uniontown—Connellsville, PA | 2.255 | 43.590 | 16.953 | 0.877 | 38.229 | 4.163 | 2 | 241,216
Pennsylvania | Williamsport, PA | 7.269 | 113.177 | 12.912 | 0.829 | 93.853 | 21.403 | 6 | 723,646
Pennsylvania | York, PA | 3.332 | 42.664 | 10.778 | 0.842 | 35.916 | 8.523 | 1 | 120,608
Puerto Rico | Arecibo, PR | 0.000 | 0.000 | 0.000 | 0.000 | 0.000 | 0.000 | 0 | 0
Puerto Rico | Fajardo, PR | 0.000 | 0.000 | 0.000 | 0.000 | 0.000 | 0.000 | 0 | 0
Puerto Rico | Florida—Barceloneta—Bajadero, PR | 0.000 | 0.000 | 0.000 | 0.000 | 0.000 | 0.000 | 0 | 0
Puerto Rico | Guayama, PR | 0.000 | 0.000 | 0.000 | 0.000 | 0.000 | 0.000 | 0 | 0
Puerto Rico | Juana Diaz, PR | 0.000 | 0.000 | 0.000 | 0.000 | 0.000 | 0.000 | 0 | 0
Puerto Rico | Mayaguez, PR | 0.000 | 0.000 | 0.000 | 0.000 | 0.000 | 0.000 | 0 | 0
Puerto Rico | Ponce, PR | 0.000 | 0.000 | 0.000 | 0.000 | 0.000 | 0.000 | 0 | 0
Puerto Rico | San German—Cabo Rojo—Sabana Grande, PR | 0.000 | 0.000 | 0.000 | 0.000 | 0.000 | 0.000 | 0 | 0
Puerto Rico | Yauco, PR | 0.000 | 0.000 | 0.000 | 0.000 | 0.000 | 0.000 | 0 | 0
South Carolina | Anderson, SC | 0.000 | 0.000 | 0.000 | 0.000 | 0.000 | 0.000 | 0 | 0
South Carolina | Florence, SC | 3.144 | 74.706 | 49.005 | 2.062 | 154.059 | 9.948 | 3 | 361,824
South Carolina | Mauldin-Simpsonville, SC | 0.000 | 0.000 | 0.000 | 0.000 | 0.000 | 0.000 | 0 | 0
South Carolina | Myrtle Beach, SC | 1.923 | 37.376 | 17.376 | 0.894 | 33.411 | 5.704 | 2 | 241,216
South Carolina | Rock Hill, SC | 0.000 | 0.000 | 0.000 | 0.000 | 0.000 | 0.000 | 0 | 0
South Carolina | Spartanburg, SC | 3.754 | 62.435 | 8.842 | 0.532 | 33.192 | 4.622 | 0 | 0
South Carolina | Sumter, SC | 1.823 | 35.954 | 31.545 | 1.600 | 57.515 | 5.492 | 2 | 241,216
South Dakota | Rapid City, SD | 2.698 | 32.025 | 5.780 | 0.487 | 15.597 | 3.823 | 0 | 0
South Dakota | Sioux Falls, SD | 2.655 | 33.059 | 9.870 | 0.793 | 26.206 | 6.659 | 1 | 120,608
Tennessee | Bristol, TN—Bristol, VA | 0.000 | 0.000 | 0.000 | 0.000 | 0.000 | 0.000 | 0 | 0
Tennessee | Clarksville, TN—KY | 3.521 | 56.530 | 8.544 | 0.532 | 30.086 | 5.265 | 0 | 0
Tennessee | Cleveland, TN | 0.000 | 0.000 | 0.000 | 0.000 | 0.000 | 0.000 | 0 | 0
Tennessee | Jackson, TN | 2.985 | 40.313 | 11.140 | 0.825 | 33.257 | 6.949 | 2 | 241,216
Tennessee | Johnson City, TN | 3.258 | 36.171 | 4.374 | 0.394 | 14.250 | 3.909 | 0 | 0
Tennessee | Kingsport, TN—VA | 0.000 | 0.000 | 0.000 | 0.000 | 0.000 | 0.000 | 0 | 0
Tennessee | Morristown, TN | 0.000 | 0.000 | 0.000 | 0.000 | 0.000 | 0.000 | 0 | 0
Tennessee | Murfreesboro, TN | 7.178 | 0.000 | 0.296 | 0.000 | 2.128 | 0.000 | 1 | 120,608
Texas | Abilene, TX | 2.458 | 34.052 | 9.894 | 0.714 | 24.320 | 5.667 | 0 | 0
Texas | Amarillo, TX | 1.766 | 27.759 | 4.882 | 0.311 | 8.623 | 2.161 | 0 | 0
Texas | Beaumont, TX | 3.481 | 48.579 | 6.096 | 0.437 | 21.218 | 4.820 | 0 | 0
Texas | Brownsville, TX | 16.391 | 188.614 | 5.245 | 0.456 | 85.964 | 10.111 | 3 | 361,824
Texas | College Station—Bryan, TX | 1.408 | 28.726 | 6.826 | 0.335 | 9.613 | 4.643 | 0 | 0
Texas | Galveston, TX | 1.355 | 15.379 | 16.687 | 1.470 | 22.614 | 16.695 | 3 | 361,824
Texas | Harlingen, TX | 0.919 | 0.000 | 0.283 | 0.000 | 0.260 | 0.000 | 0 | 0
Texas | Killeen, TX | 1.986 | 31.134 | 6.495 | 0.414 | 12.900 | 2.590 | 0 | 0
Texas | Lake Jackson—Angleton, TX | 2.001 | 0.000 | 1.380 | 0.000 | 2.761 | 0.000 | 0 | 0
Texas | Laredo, TX | 6.149 | 63.678 | 11.315 | 1.093 | 69.573 | 22.498 | 4 | 482,431
Texas | Longview, TX | 0.000 | 0.000 | 0.000 | 0.000 | 0.000 | 0.000 | 0 | 0
Texas | McKinney, TX | 0.000 | 0.000 | 0.000 | 0.000 | 0.000 | 0.000 | 0 | 0
Texas | Midland, TX | 0.000 | 0.000 | 0.000 | 0.000 | 0.000 | 0.000 | 0 | 0
Texas | Odessa, TX | 0.000 | 0.000 | 6.105 | 0.394 | 0.000 | 2.812 | 0 | 0
Texas | Port Arthur, TX | 2.923 | 45.102 | 2.780 | 0.180 | 8.127 | 1.196 | 0 | 0
Texas | San Angelo, TX | 2.236 | 31.010 | 5.438 | 0.392 | 12.160 | 2.047 | 0 | 0
Texas | Sherman, TX | 2.037 | 33.628 | 6.888 | 0.417 | 14.027 | 2.420 | 0 | 0
Texas | Temple, TX | 0.000 | 0.000 | 0.000 | 0.000 | 0.000 | 0.000 | 0 | 0
Texas | Texarkana, TX—Texarkana, AR | 0.000 | 0.000 | 0.000 | 0.000 | 0.000 | 0.000 | 0 | 0
Texas | Texas City, TX | 1.994 | 61.129 | 13.093 | 0.427 | 26.110 | 1.091 | 1 | 120,608
Texas | The Woodlands, TX | 0.000 | 0.000 | 0.000 | 0.000 | 0.000 | 0.000 | 0 | 0
Texas | Tyler, TX | 0.000 | 0.000 | 0.000 | 0.000 | 0.000 | 0.000 | 0 | 0
Texas | Victoria, TX | 0.000 | 0.000 | 5.992 | 0.450 | 0.000 | 2.597 | 0 | 0
Texas | Waco, TX | 4.440 | 60.950 | 4.880 | 0.356 | 21.668 | 3.723 | 0 | 0
Texas | Wichita Falls, TX | 0.000 | 0.000 | 0.000 | 0.000 | 0.000 | 0.000 | 0 | 0
Utah | Logan, UT | 4.694 | 55.718 | 10.754 | 0.906 | 50.478 | 19.840 | 2 | 241,216
Utah | St. George, UT | 0.000 | 0.000 | 0.000 | 0.000 | 0.000 | 0.000 | 0 | 0
Vermont | Burlington, VT | 4.303 | 57.819 | 14.331 | 1.067 | 61.670 | 18.301 | 3 | 361,824
Virgin Islands | Virgin Islands | 0.000 | 0.000 | 0.000 | 0.000 | 0.000 | 0.000 | 0 | 0
Virginia | Blacksburg, VA | 0.042 | 0.410 | 12.573 | 1.275 | 0.522 | 41.869 | 3 | 361,824
Virginia | Charlottesville, VA | 4.660 | 64.138 | 16.451 | 1.195 | 76.658 | 17.780 | 4 | 482,431
Virginia | Danville, VA | 0.968 | 13.828 | 6.207 | 0.434 | 6.006 | 4.356 | 0 | 0
Virginia | Fredericksburg, VA | 4.136 | 63.583 | 6.073 | 0.395 | 25.120 | 3.385 | 0 | 0
Virginia | Harrisonburg, VA | 5.428 | 56.195 | 9.156 | 0.884 | 49.699 | 21.843 | 2 | 241,216
Virginia | Lynchburg, VA | 5.530 | 83.076 | 11.470 | 0.763 | 63.424 | 11.329 | 2 | 241,216
Virginia | Roanoke, VA | 4.659 | 63.125 | 10.001 | 0.738 | 46.597 | 9.954 | 1 | 120,608
Virginia | Winchester, VA | 0.000 | 0.000 | 0.000 | 0.000 | 0.000 | 0.000 | 0 | 0
Washington | Bellingham, WA | 5.389 | 73.671 | 24.068 | 1.761 | 129.709 | 41.983 | 4 | 482,431
Washington | Bremerton, WA | 4.874 | 91.030 | 33.516 | 1.795 | 163.367 | 29.793 | 4 | 482,431
Washington | Kennewick—Richland, WA | 6.743 | 148.616 | 50.971 | 2.313 | 343.693 | 28.448 | 6 | 723,647
Washington | Longview, WA—OR | 4.212 | 48.298 | 5.856 | 0.511 | 24.665 | 6.044 | 0 | 0
Washington | Marysville, WA | 5.204 | 0.000 | 9.283 | 0.000 | 48.307 | 0.000 | 0 | 0
Washington | Mount Vernon, WA | 0.000 | 0.000 | 18.337 | 1.041 | 0.000 | 6.933 | 2 | 241,216
Washington | Olympia—Lacey, WA | 5.800 | 106.663 | 31.193 | 1.696 | 180.913 | 23.426 | 6 | 723,647
Washington | Wenatchee, WA | 5.101 | 92.754 | 30.350 | 1.669 | 154.813 | 14.543 | 4 | 482,431
Washington | Yakima, WA | 3.793 | 58.670 | 12.519 | 0.809 | 47.488 | 10.799 | 2 | 241,216
West Virginia | Charleston, WV | 3.629 | 60.941 | 16.392 | 0.976 | 59.487 | 11.786 | 2 | 241,216
West Virginia | Huntington, WV—KY—OH | 3.187 | 46.737 | 6.202 | 0.423 | 19.762 | 4.101 | 0 | 0
West Virginia | Morgantown, WV | 0.246 | 4.153 | 11.403 | 0.676 | 2.806 | 7.006 | 1 | 120,608
West Virginia | Parkersburg, WV—OH | 0.000 | 0.000 | 0.000 | 0.000 | 0.000 | 0.000 | 0 | 0
West Virginia | Wheeling, WV—OH | 2.672 | 33.877 | 8.607 | 0.679 | 23.002 | 5.737 | 0 | 0
Wisconsin | Appleton, WI | 3.362 | 51.983 | 9.456 | 0.612 | 31.790 | 6.161 | 0 | 0
Wisconsin | Beloit, WI-IL | 2.809 | 45.416 | 6.251 | 0.387 | 17.559 | 4.850 | 0 | 0
Wisconsin | Eau Claire, WI | 3.212 | 47.703 | 16.319 | 1.099 | 52.412 | 14.366 | 3 | 361,824
Wisconsin | Fond du Lac, WI | 0.000 | 0.000 | 7.694 | 0.628 | 0.000 | 3.752 | 0 | 0
Wisconsin | Green Bay, WI | 3.555 | 52.536 | 10.398 | 0.704 | 36.963 | 9.781 | 0 | 0
Wisconsin | Janesville, WI | 3.951 | 61.073 | 7.152 | 0.463 | 28.259 | 7.840 | 0 | 0
Wisconsin | Kenosha, WI | 5.066 | 74.233 | 10.673 | 0.728 | 54.073 | 14.949 | 1 | 120,608
Wisconsin | La Crosse, WI—MN | 3.332 | 45.203 | 12.191 | 0.899 | 40.626 | 12.520 | 2 | 241,216
Wisconsin | Oshkosh, WI | 2.906 | 45.383 | 16.840 | 1.078 | 48.932 | 15.821 | 3 | 361,824
Wisconsin | Racine, WI | 4.294 | 58.394 | 9.696 | 0.713 | 41.631 | 11.738 | 0 | 0
Wisconsin | Sheboygan, WI | 2.687 | 33.331 | 10.450 | 0.842 | 28.076 | 7.943 | 1 | 120,608
Wisconsin | Wausau, WI | 3.426 | 50.537 | 11.298 | 0.766 | 38.709 | 12.237 | 2 | 241,216
Wyoming | Casper, WY | 1.000 | 12.032 | 5.675 | 0.472 | 5.675 | 1.651 | 0 | 0
Wyoming | Cheyenne, WY | 1.520 | 22.089 | 7.253 | 0.499 | 11.025 | 2.842 | 0 | 0
Total |  |  |  |  |  |  |  | 299 | $36,061,750

Table 7.—Urbanized Areas 200,000 or More in Population Eligible To Use Section 5307 Funds for Operating Assistance
State | 2000 Census urbanized area description | Population | FY 2002 Apportionment | FY 2007 Apportionment operating limitation ᵃ
AL | Huntsville, AL | 213,253 | $1,677,473 | $419,368
CA | Antioch, CA | 217,591 | 1,914,688 | 478,672
CA | Indio—Cathedral City—Palm Springs, CA | 254,856 | 1,849,608 | 462,402
| (Indio—Coachella, CA—$621,797)
| (Palm Springs, CA—$1,227,811)
CA | Lancaster—Palmdale, CA | 263,532 | 2,206,544 | 551,636
CA | Santa Rosa, CA | 285,408 | 2,636,339 | 659,085
CA | Victorville—Hesperia—Apple Valley, CA | 200,436 | 1,311,837 | 327,959
CA | Temecula—Murrieta, CA | 229,810 |  | 311,908
CO | Fort Collins, CO | 206,757 | 1,156,197 | 289,049
CT | Bridgeport—Stamford, CT—NY | 888,890 | 9,676,425 | 2,419,106
| (Stamford, CT—NY—5,332,860)
| (Norwalk, CT—$4,343,565)
CT | Hartford, CT | 851,535 | 2,824,453 | 706,113
| (Bristol, CT—$983,277)
| (New Britain, CT—$1,841,176)
FL | Port St. Lucie, FL | 270,774 | 1,982,206 | 495,552
| (Fort Pierce, FL—$1,142,501)
| (Stuart, FL—$839,705)
FL | Bonita Springs—Naples, FL | 221,251 | 954,953 | 238,738
FL | Tallahassee, FL | 204,260 | 1,617,975 | 404,494
GA | Savannah, GA | 208,886 | 1,824,225 | 456,056
ID | Boise City, ID | 272,625 | 2,021,464 | 505,366
IL | Round Lake Beach—McHenry—Grayslake, IL—WI | 226,848 | 1,088,609 | 272,152
IL | Chicago, IL—IN | 8,307,904 | 6,599,240 | 1,649,810
| (Aurora, IL—$2,290,318)
| (Crystal Lake, IL—$746,464)
| (Elgin, IL—$1,652,124)
| (Joliet, IL—$1,910,334)
IN | Evansville, IN—KY | 211,989 | 2,251,898 | 562,975
MA | Barnstable Town, MA | 243,667 | 538,120 | 134,530
MA | Boston, MA—NH—RI | 4,032,484 | 4,760,673 | 1,190,168
| (Brockton, MA—$1,906,558)
| (Lowell, MA—NH—2,366,926)
| (Taunton, MA—$487,189)
MD | Baltimore, MD | 2,076,354 | 858,335 | 214,584
| (Annapolis, MD—$858,335)
MO | Springfield, MO | 215,004 | 1,748,930 | 437,233
MS | Gulfport—Biloxi, MS | 205,754 | 1,687,127 | 421,782
NC | Winston-Salem, NC | 299,290 | 1,811,413 | 452,853
NC | Asheville, NC | 221,570 | 968,044 | 242,011
NC | Greensboro, NC | 267,884 | 2,211,540 | 552,885
NE | Lincoln, NE | 226,582 | 2,658,761 | 664,690
NJ | Atlantic City, NJ | 227,180 | 1,842,968 | 460,742
NY | Poughkeepsie—Newburgh, NY | 351,982 | 2,225,147 | 556,287
| (Poughkeepsie, NY—$1,507,504)
| (Newburgh, NY—$717,643)
OH | Youngstown, OH—PA | 417,437 | 465,043 | 116,261
| (Sharon, PA—OH—$465,043)
OH | Cincinnati, OH—KY—IN | 1,503,262 | 1,384,842 | 346,211
| (Hamilton, OH—$1,384,842)
OR | Eugene, OR | 224,049 | 2,559,936 | 639,984
OR | Salem, OR | 207,229 | 2,070,221 | 517,555
PA | Reading, PA | 240,264 | 2,636,837 | 659,209
PA | Lancaster, PA | 323,554 | 2,258,871 | 564,718
PR | Aguadilla—Isabela—San Sebastian, PR | 299,086 | 1,148,984 | 287,246
PR | San Juan, PR | 2,216,616 | 5,925,223 | 1,481,306
| (Caguas, PR—$2,811,557)
| (Cayey, PR—$831,273)
| (Humacao, PR—$719,451)
| (Vega Baja—Manati, PR—$1,562,942)
RI | Providence, RI—MA | 1,174,548 | 2,695,482 | 673,871
| (Newport, RI—$644,329)
| (Fall River, MA—RI—$2,051,153)
TX | Lubbock, TX | 202,225 | 1,939,424 | 484,856
TX | Denton—Lewisville, TX | 299,823 | 1,291,722 | 322,931
| (Denton, TX—$599,570)
| (Lewisville, TX—$692,152)
VA | Richmond, VA | 818,836 | 1,016,957 | 254,239
| (Petersburg, VA—$1,016,957)
ᵃ The amount shown represents the maximum amount allowable, in accordance with section 5307(b)(2), based on funding provided in the Continuing Appropriations Resolution, 2007. In cases where an urbanized area's FY 2007 apportionment is less than the maximum, FTA will set the operating assistance budget, in TEAM-Web, at an amount not to exceed the FY 2007 aortionment.
Note: For informational purposes, the affected 1990 census small urbanized areas (less than 200,000 population) that were merged into an existing urbanized area of at least 200,000 population are shown in parentheses immediately below the eligible 2000 census urbanized area. FTA is unable to identify the urbanized areas which now incorporate rural areas that received Section 5311 in FY 2002 and they are not included in this table.

Table 8.—Fiscal Year 2007 Section 5308 Clean Fuels Program Allocations
State | Earmark ID | SAFETEA-LU Project No. | Project | Unobligated allocation
California | E2007-CLNF-001 | 611 | San Joaquin Region Transit District, California, Hybrid Diesel—Electric Replacement Buses | $250,000
Colorado | E2007-CLNF-002 | 519 | Denver Regional Transit District—Bus Replacements | 952,000
Delaware | E2007-CLNF-003 | 517 | Delaware Statewide Bus and Bus Replacement (with Clean Fuel (hybrid) vehicles)) | 2,000,000
Delaware | E2007-CLNF-004 | 648 | University of Delaware Fuel Cell Bus Program | 165,000
Georgia | E2007-CLNF-005 | 578 | Metropolitan Atlanta Rapid Transit Authority—Clean Fuel Buses | 2,380,000
Kentucky | E2007-CLNF-006 | 640 | Transit Authority of Northern Kentucky—TANK Bus Replacement Project | 476,000
Kentucky | E2007-CLNF-007 | 641 | Transit Authority of River City—New Hybrid Electric Bus | 714,000
New Mexico | E2007-CLNF-008 | 497 | Santa Fe, NM, Trails Bus and Bus Facilities | 714,000
Nevada | E2007-CLNF-009 | 612 | Lake Tahoe, NV, MPO Bus Replacement | 500,000
New York | E2007-CLNF-010 | 557 | Westchester, NY, Bee Line Bus Replacement | 1,000,000
Ohio | E2007-CLNF-011 | 659 | Southwest Ohio Regional Transit Authority—Bus Replacements | 500,000
Rhode Island | E2007-CLNF-012 | 631 | Rhode Island, Statewide Bus and Van Replacement | 714,000
Tennessee | E2007-CLNF-013 | 605 | Sevierville County, TN, Transportation Board—Alternative Fuel Buses | 5,500,000
Texas | E2007-CLNF-014 | 614 | City of El Paso—Sun Metro—Bus Replacements | 238,000
Texas | E2007-CLNF-015 | 575 | METRO of Harris County—Discretionary Bus Program | 2,380,000
Texas | E2007-CLNF-016 | 638 | The District, The Woodlands, TX—Bus Replacement Program | 238,000
Total Allocation | ᵃ 18,721,000
ᵃ Funds in the amount of $26,279,000 were transferred to the Bus and Bus Facilities program.

Table 9.—Prior Year Unobligated Section 5308 Clean Fuels Allocations
State | Earmark ID | Project location and description | Unobligated allocation
FY 2006 Unobligated Allocations:
CO | E2006-CLNF-001 | Denver Regional Transit District—Bus Replacements | $906,840
DE | E2006-CLNF-002 | Delaware Statewide Bus and Bus Replacement (with Clean Fuel (hybrid) vehicles)) | 1,732,500
GA | E2006-CLNF-004 | Metropolitan Atlanta Rapid Transit Authority—Clean Fuel Buses | 2,268,090
KY | E2006-CLNF-005 | Transit Authority of Northern Kentucky—TANK Bus Replacement Project | 453,420
KY | E2006-CLNF-006 | Transit Authority of River City—New Hybrid Electric Bus | 680,130
NV | E2006-CLNF-009 | Lake Tahoe, NV MPO Bus Replacement | 990,000
NY | E2006-CLNF-010 | Westchester, NY, Bee Line Bus Replacement | 445,500
OH | E2006-CLNF-011 | Southwest Ohio Regional Transit Authority—Bus Replacements | 680,130
RI | E2006-CLNF-012 | Rhode Island, Statewide Bus and Van Replacement | 5,197,500
TX | E2006-CLNF-015 | The District, The Woodlands, TX—Bus Replacement Program | 226,710
TX | E2006-CLNF-007 | City of El Paso—Sun Metro—Bus Replacements | 680,130
TX | E2006-CLNF-014 | METRO of Harris County—Discretionary Bus Program | 2,268,090
Total Unobligated Allocations | 16,529,040

Table 10.—FY 2007 Section 5309 Fixed Guideway Modernization Apportionments
State | Area | Apportionment
Alaska | Anchorage, AK-Alaska Railroad | $15,304,279
Arizona | Phoenix-Mesa, AZ | 2,727,749
California | Antioch, CA | 2,397,573
California | Concord, CA | 14,827,853
California | Lancaster-Palmdale, CA | 2,472,963
California | Los Angeles-Long Beach-Santa Ana, CA | 47,162,438
California | Mission Viejo, CA | 1,669,337
California | Oxnard, CA | 1,361,410
California | Riverside-San Bernardino, CA | 4,674,142
California | Sacramento, CA | 4,217,137
California | San Diego, CA | 17,096,411
California | San Francisco-Oakland, CA | 78,470,061
California | San Jose, CA | 15,813,901
California | Stockton, CA | 1,858,672
California | Thousand Oaks, CA | 749,991
Colorado | Denver-Aurora, CO | 3,817,847
Connecticut | Hartford, CT | 1,857,763
Connecticut | Southwestern Connecticut | 42,377,921
District of Columbia | Washington, DC-VA-MD | 88,798,182
Florida | Jacksonville, FL | 339,321
Florida | Miami, FL | 23,791,654
Florida | Orlando, FL | 194,236
Florida | Tampa-St. Petersburg, FL | 153,077
Georgia | Atlanta, GA | 31,502,427
Hawaii | Honolulu, HI | 1,469,728
Illinois | Chicago, IL-IN | 158,124,928
Illinois | Round Lake Beach—McHenry—Grayslake, IL-WI | 2,661,899
Indiana | South Bend, IN-MI | 929,785
Louisiana | New Orleans, LA | 3,344,890
Maryland | Baltimore Commuter Rail | 21,514,734
Maryland | Baltimore, MD | 10,875,752
Massachusetts | Boston, MA | 82,507,419
Massachusetts | Worcester, MA-CT | 1,196,344
Michigan | Detroit, MI | 633,165
Minnesota | Minneapolis-St. Paul, MN | 9,206,554
Missouri | Kansas City, MO-KS | 36,707
Missouri | St. Louis, MO-IL | 4,511,230
New Jersey | Atlantic City, NJ | 1,344,854
New Jersey | Northeastern New Jersey | 98,770,666
New Jersey | Trenton, NJ | 1,817,555
New York | Buffalo, NY | 1,433,849
New York | New York | 413,117,471
New York | Poughkeepsie—Newburgh, NY | 2,602,812
North Carolina | Charlotte, NC-SC | 193,962
Ohio | Cleveland, OH | 13,568,489
Ohio | Dayton, OH | 6,101,723
Oregon | Portland, OR-WA | 8,508,419
Pennsylvania | Harrisburg, PA | 900,502
Pennsylvania | Philadelphia, PA-NJ-DE-MD | 103,056,750
Pennsylvania | Pittsburgh, PA | 21,369,178
Puerto Rico | San Juan, PR | 2,695,830
Rhode Island | Providence, RI-MA | 2,817,164
Tennessee | Chattanooga, TN-GA | 99,359
Tennessee | Memphis, TN-MS-AR | 442,377
Texas | Dallas-Fort Worth-Arlington, TX | 7,350,589
Texas | Houston, TX | 9,430,395
Virginia | Virginia Beach, VA | 1,430,582
Washington | Seattle, WA | 31,857,041
West Virginia | Morgantown, WV | 2,772,852
Wisconsin | Madison, WI | 869,698
Wisconsin | Milwaukee, WI | 318,403
Total |  | $1,433,520,000

Table 11.—FY 2007 Fixed Guideway Modernization Program Apportionment Formula
Tier 1 | First $497,7000,000 to the following areas:
| Baltimore | $8,372,000
| Boston | 38,948,000
| Chicago/NW. Indiana | 78,169,000
| Cleveland | 9,509,500
| New Orleans | 1,730,588
| New York | 176,034,461
| NE. New Jersey | 50,604,653
| Philadelphia/So. New Jersey | 58,924,764
| Pittsburgh | 13,662,463
| San Francisco | 33,989,571
| SW. Connecticut | 27,755,000
Tier 2 | Next $70,000,000 as follows: Tier 2(A): 50 percent is allocated to areas identified in Tier 1; Tier 2(B): 50 percent is allocated to other urbanized areas with fixed guideway tiers in operation at least seven years. Funds are allocated by the Urbanized Area Formula Program fixed guideway tier formula factors that were used to apportion funds for the fixed guideway modernization program in FY 1997.
Tier 3 | Next $5,700,000 as follows: Pittsburgh 61.76%; Cleveland 10.73%; New Orleans 5.79%; and 21.72% is allocated to all other areas in Tier 2(B) by the same fixed guideway tier formula factors used in fiscal year 1997.
Tier 4 | Next $186,600,000 as follows: All eligible areas using the same year fixed guideway tier formula factors used in fiscal year 1997.
Tier 5 | Next $70,000,000 as follows: 65% to the 11 areas identified in Tier 1, and 35% to all other areas using the most current Urbanized Area Formula Program fixed guideway tier formula factors. Any segment that is less than 7 years old in the year of the apportionment will be deleted from the database.
Tier 6 | Next $50,000,000 as follows: 60% to the 11 areas identified in Tier 1, and 40% to all other areas using the most current Urbanized Area Formula Program fixed guideway tier formula factors. Any segment less than 7 years old in the year of the apportionment will be deleted from the database.
Tier 7 | Remaining amounts as follows: 50% to the 11 areas identified in Tier 1, and 50% to all other areas using the most current Urbanized Area Formula Program fixed guideway formula factors. Any segment that is less than 7 years old in the year of the apportionment will be deleted from the database.

Table 12.—FY 2007 Section 5309 Bus and Bus Facility Allocations
State | Earmark ID | SAFETEA-LU Project No. | Project description | Allocation
AK | E2007-BUSP-0001 | 427 | Alaska Native Medical Center intermodal parking facility | $1,200,000
AK | E2007-BUSP-0002 | 466 | Anchorage-Transit Needs | 238,000
AK | E2007-BUSP-0003 | 422 | C Street Expanded bus facility and inter-modal parking garage, Anchorage, AK | 1,200,000
AK | E2007-BUSP-0004 | 425 | CITC Non-profit Services Center inter-modal parking facility, Anchorage, AK | 720,000
AK | E2007-BUSP-0005 | 541 | Hoonah, AK-Intermodal Ferry Dock | 476,000
AK | E2007-BUSP-0006 | 416 | Improve marine inter-modal facilities in Ketchikan | 3,360,000
AK | E2007-BUSP-0007 | 436 | Intermodal facility improvements at the Port of Anchorage | 6,000,000
AK | E2007-BUSP-0008 | 236 | Juneau, Alaska-transit bus acquisition and transit center | 360,000
AK | E2007-BUSP-0009 | 550 | Juneau-Transit Bus Acquisition and Transit Center | 357,000
AK | E2007-BUSP-0010 | 553 | Ketchikan, Alaska-Transit Needs | 60,000
AK | E2007-BUSP-0011 | 574 | Matsu, Alaska-Transit Needs | 119,000
AK | E2007-BUSP-0012 | 423 | Morris Thompson Cultural and Visitors Center intermodal parking facility, Fairbanks, AK | 600,000
AK | E2007-BUSP-0013 | 596 | North Slope Borough, AK-Transit Purposes | 476,000
AK | E2007-BUSP-0014 | 597 | North Star Borough, AK-Transit Purposes | 238,000
AK | E2007-BUSP-0015 | 616 | Sitka, Alaska-Transit Needs | 60,000
AK | E2007-BUSP-0016 | 664 | Wrangell, AK-Ferry Infrastructure | 238,000
AL | E2007-BUSP-0017 | 461 | Alabama Institute for Deaf and Blind-Bus project | 119,000
AL | E2007-BUSP-0018 | 462 | Alabama State Port Authority-Choctaw Point Terminal | 4,760,000
AL | E2007-BUSP-0019 | 437 | American Village/Montevallo, Alabama construction of closed loop Access Road, bus lanes and parking facility | 80,256
AL | E2007-BUSP-0020 | 469 | Auburn University-Intermodal Parking Garage | a/ 952,000
AL | E2007-BUSP-0021 | 98 | Birmingham, AL Expansion of Downtown Intermodal Facility, Phase II | 401,280
AL | E2007-BUSP-0022 | 496 | City of Birmingham, AL-Birmingham Downtown Intermodal Terminal, Phase II | 1,190,000
AL | E2007-BUSP-0023 | 501 | City of Huntsville, AL-Cummings Park Intermodal Center | 1,190,000
AL | E2007-BUSP-0024 | 503 | City of Montgomery, AL-ITS Acquisition and Implementation | 952,000
AL | E2007-BUSP-0025 | 504 | City of Montgomery, AL-Montgomery Airport Intermodal Center | 952,000
AL | E2007-BUSP-0026 | 507 | City of Tuscaloosa, AL-Intermodal Facility | 1,428,000
AL | E2007-BUSP-0027 | 528 | Gadsden, AL-Community Buses | 119,000
AL | E2007-BUSP-0028 | 534 | Gulf Shores, AL-Community Bases | 238,000
AL | E2007-BUSP-0029 | 582 | Mobile County, AL Commission-Bus project | 119,000
AL | E2007-BUSP-0030 | 644 | University of Alabama in Birmingham Intermodal Facility | 1,666,000
AL | E2007-BUSP-0031 | 645 | University of Alabama in Huntsville Intermodal Facility | 1,428,000
AL | E2007-BUSP-0032 | 646 | University of Alabama Intermodal Facility South | 2,142,000
AL | E2007-BUSP-0033 | 647 | University of Alabama Transit System | 357,000
AL | E2007-BUSP-0034 | 650 | US Space and Rocket Center, AL-Tramway Expansion | 238,000
AR | E2007-BUSP-0035 | 487 | Central Arkansas Transit Authority Facility Upgrades | 550,000
AR | E2007-BUSP-0036 | 231 | Harrison, Arkansas-Trolley Barn | 8,026
AR | E2007-BUSP-0037 | 263 | Wilmar, AR Develop the Southeast Arkansas Intermodal Facility | 401,280
AZ | E2007-BUSP-0038 | 304 | Coconino County buses and bus facilities for Flagstaff, AZ | 250,800
AZ | E2007-BUSP-0039 | 229 | Coconino County, Arizona-Bus and bus facilities for the Sedona Transit System | 190,608
AZ | E2007-BUSP-0040 | 47 | Phoenix, AZ Construct City of Phoenix para-transit facility (Dial-A-Ride) | 200,640
AZ | E2007-BUSP-0041 | 346 | Phoenix, AZ Construct metro bus facility in Phoenix's West Valley | 1,003,200
AZ | E2007-BUSP-0042 | 150 | Phoenix, AZ Construct regional heavy bus maintenance facility | 200,640
AZ | E2007-BUSP-0043 | 26 | Scottsdale, Arizona-Plan, design, and construct intermodal center | 501,600
AZ | E2007-BUSP-0044 | 203 | Tempe, Arizona-Construct East Valley Metro Bus Facility | 1,304,160
CA | E2007-BUSP-0045 | 75 | Alameda County, CA AC Transit Bus Rapid Transit Corridor Project | 100,320
CA | E2007-BUSP-0046 | 288 | Alameda County, CA AC Transit Bus Rapid Transit Corridor Project | 401,280
CA | E2007-BUSP-0047 | 398 | Amador County, California-Regional Transit Center | 200,640
CA | E2007-BUSP-0048 | 76 | Baldwin Park, CA Construct vehicle and bicycle parking lot and pedestrian rest area at transit center | 401,280
CA | E2007-BUSP-0049 | 227 | Berkeley, CA Construct Ed Roberts Campus Intermodal Transit Disability Center | 601,920
CA | E2007-BUSP-0050 | 119 | Burbank, CA CNG Transit Vehicles Purchase for Local Transit Network Expansion | 90,288
CA | E2007-BUSP-0051 | 396 | Burbank, CA Construction of Empire Area Transit Center near Burbank Airport | 50,160
CA | E2007-BUSP-0052 | 190 | Calexico, CA Purchase new buses for the Calexico Transit System | 60,192
CA | E2007-BUSP-0053 | 132 | Carson, CA Purchase one bus | 50,160
CA | E2007-BUSP-0054 | 407 | Carson, CA Purchase one trolley-bus vehicle | 50,160
CA | E2007-BUSP-0055 | 108 | Carson, CA Purchase two transfer facility | 100,320
CA | E2007-BUSP-0056 | 54 | City of Alameda, CA Plan, design, and construct intermodal facility | 401,280
CA | E2007-BUSP-0057 | 155 | City of Livermore, CA Construct Bus Facility for Livermore Amador Valley Transit Authority | 451,440
CA | E2007-BUSP-0058 | 158 | Covina, El Monte, Baldwin Park, Upland, CA Parking and Electronic Signage Improvements | 351,120
CA | E2007-BUSP-0059 | 207 | Culver City, CA Purchase compressed natural gas buses and expand natural gas fueling facility | 742,368
CA | E2007-BUSP-0060 | 17 | Davis, CA Davis Multi-Modal Station to improve entrance to Amtrak Depot and parking lot, provide additional parking and improve service | 200,640
CA | E2007-BUSP-0061 | 11 | Development of Gold Country Stage Transit Transfer Center, Nevada County, CA | 186,659
CA | E2007-BUSP-0062 | 339 | East San Diego County, California-Bus Maintenance Facility Expansion | 401,280
CA | E2007-BUSP-0063 | 101 | Emeryville, CA Expand & Improve Inter-modal Transit Center at Amtrak Station | 200,640
CA | E2007-BUSP-0064 | 222 | Escondido, CA-Construct Bus Maintenance Facility | 100,320
CA | E2007-BUSP-0065 | 387 | Fresno, CA-Develop program of low-emission transit vehicles | 200,640
CA | E2007-BUSP-0066 | 260 | Gardena, CA Purchase of alternative fuel buses for service expansion, on-board security system and bus facility training equipment | 1,229,923
CA | E2007-BUSP-0067 | 212 | Glendale, CA Construction of Downtown Streetcar Project | 200,640
CA | E2007-BUSP-0068 | 1 | Glendale, CA Purchase of CNG Buses for Glendale Beeline Transit System | 92,696
CA | E2007-BUSP-0069 | 414 | Hercules, CA Inter-modal Rail Station Improvements | 300,960
CA | E2007-BUSP-0070 | 276 | Long Beach, Ca Museum of Latin American Art, Long Beach, to build intermodal park and ride facility | 401,280
CA | E2007-BUSP-0071 | 332 | Long Beach, CA Park and Ride Facility | 200,640
CA | E2007-BUSP-0072 | 295 | Long Beach, CA Purchase one larger (75 passengers) and two smaller (40 passengers) ferryboats and construct related dock work to facilitate the use and accessibility of the ferryboats | 601,920
CA | E2007-BUSP-0073 | 410 | Long Beach, CA Purchase ten clean fuel buses | 601,920
CA | E2007-BUSP-0074 | 443 | Los Angeles County Metropolitan Transit Authority, CA capital funds for facility improvements to support the Cal State Northridge tram system | 65,208
CA | E2007-BUSP-0075 | 140 | Los Angeles, CA Crenshaw Bus Rapid Transit | 1,711,058
CA | E2007-BUSP-0076 | 223 | Los Angeles, CA Design and construct improved transit and pedestrian linkages between Los Angeles Community College and nearby MTA rail stop and bus lines | 300,960
CA | E2007-BUSP-0077 | 307 | Los Angeles, CA Improve safety, mobility and access between LATTC, Metro line and nearby bus stops on Grand Ave between Washington and 23rd | 100,320
CA | E2007-BUSP-0078 | 121 | Los Angeles, CA Improve transit shelters, sidewalks lighting and landscaping around Cedar's-Sinai Medical Center | 300,960
CA | E2007-BUSP-0079 | 326 | Los Angeles, CA Install permanent irrigation system and enhanced landscaping on San Fernando Valley rapid bus transit way | 601,920
CA | E2007-BUSP-0080 | 36 | Los Angeles, CA Wilshire-Vermont subway station reconstruction | 200,640
CA | E2007-BUSP-0081 | 6 | Los Angeles, CA, Construction of Intermodal Transit Center at California State University Los Angeles | 158,506
CA | E2007-BUSP-0082 | 567 | Los Angeles, CA, Fly-Away Bus System Expansion | 550,000
CA | E2007-BUSP-0083 | 566 | Los Angeles, CA, LAX Intermodal Transportation Center Rail and Bus System Expansion | 550,000
CA | E2007-BUSP-0084 | 311 | Mammoth Lakes, California-Regional Transit Maintenance Facility | 100,320
CA | E2007-BUSP-0085 | 112 | Mariposa, CA-Yosemite National Park CNG-Hydrogen transit buses and facilities | 501,600
CA | E2007-BUSP-0086 | 266 | Martinez, CA Inter-modal Facility Restoration | 300,960
CA | E2007-BUSP-0087 | 285 | Metro Gold Line Foothill Extension Light Rail Transit Project from Pasadena, CA to Montclair, CA | 3,009,600
CA | E2007-BUSP-0088 | 39 | Monrovia, California-Transit Village Project | 601,920
CA | E2007-BUSP-0089 | 200 | Montebello, CA Bus Lines Bus Fleet Replacement Project | 140,448
CA | E2007-BUSP-0090 | 321 | Monterey Park, CA Catch Basins at Transit Stop Installation | 64,205
CA | E2007-BUSP-0091 | 191 | Monterey Park, CA Safety improvements at a bus stop including creation of bus loading areas and street improvements | 321,024
CA | E2007-BUSP-0092 | 375 | Monterey, CA Purchase bus equipment | 200,640
CA | E2007-BUSP-0093 | 43 | Needles, California-El Garces Intermodal Facility | 401,280
CA | E2007-BUSP-0094 | 92 | Norwalk, CA Transit System Bus Procurement and Los Angeles World Airport Remote Fly-Away Facility Project | 160,512
CA | E2007-BUSP-0095 | 392 | Oakland, CA Construct Bay Trail between Coliseum BART station and Martin Luther King, Jr. Regional Shoreline | 180,576
CA | E2007-BUSP-0096 | 352 | Oakland, CA Construct streetscape & intermodal improvements at BART Station Transit Villages | 200,640
CA | E2007-BUSP-0097 | 173 | Ontario, CA Construct Omnitrans Transcenter | 200,640
CA | E2007-BUSP-0098 | 194 | Orange County Transit Authority, California-Security surveillance and monitoring equipment | 1,061,386
CA | E2007-BUSP-0099 | 244 | Orange County, CA Purchase buses for rapid transit | 200,640
CA | E2007-BUSP-0100 | 366 | Orange County, CA Transportation Projects to Encourage Use of Transit to Reduce Congestion | 200,640
CA | E2007-BUSP-0101 | 45 | Palm Springs, California-Sunline Transit bus purchase | 100,320
CA | E2007-BUSP-0102 | 70 | Palm Springs, California-Sunline Transit: CalStrat-Weststart fuel cell bus program | 200,640
CA | E2007-BUSP-0103 | 399 | Pasadena, CA ITS Improvements | 200,640
CA | E2007-BUSP-0104 | 116 | Pleasant Hill, CA Construct Diablo Valley College Bus Transit Center | 300,960
CA | E2007-BUSP-0105 | 251 | Redondo Beach, CA Capital Equipment procurement of 12. Compressed Natural Gas (CNG) Transit Vehicles for Coastal Shuttle Services by Beach Cities Transit | 160,512
CA | E2007-BUSP-0106 | 286 | Richmond, CA BART Parking Structure | 1,003,200
CA | E2007-BUSP-0107 | 171 | Riverside, California-RTA Advanced Traveler Information System | 100,320
CA | E2007-BUSP-0108 | 189 | Sacramento, CA Bus enhancement and improvements-construct maintenance facility and purchase clean-fuel buses to improve transit service | 401,280
CA | E2007-BUSP-0109 | 84 | Sacramento, CA Construct intermodal station and related improvements | 1,404,480
CA | E2007-BUSP-0110 | 253 | San Bernardino, CA Implement Santa Fe Depot improvements in San Bernardino | 100,320
CA | E2007-BUSP-0111 | 282 | San Diego, CA Completion of San Diego Joint Transportation Operations Center (JTOC) | 401,280
CA | E2007-BUSP-0112 | 314 | San Diego, CA Widen sidewalks and bus stop entrance, and provide diagonal parking, in the Skyline Paradise Hills neighborhood (Reo Drive) | 60,192
CA | E2007-BUSP-0113 | 183 | San Fernando Valley, CA Reseda Blvd. Bus Rapid Transit Route | 120,384
CA | E2007-BUSP-0114 | 127 | San Fernando, CA Purchase CNG buses and related equipment and construct facilities | 609,946
CA | E2007-BUSP-0115 | 377 | San Francisco, CA Construct San Francisco Muni Islais Creek Maintenance Facility | 1,203,840
CA | E2007-BUSP-0116 | 287 | San Francisco, CA Implement ITS on Muni Transit System | 601,920
CA | E2007-BUSP-0117 | 403 | San Francisco, CA Implement Transbay Terminal-Caltrain Downtown Extension Project | 2,808,960
CA | E2007-BUSP-0118 | 381 | San Francisco, CA Redesign and renovate intermodal facility at Glen Park Community | 827,640
CA | E2007-BUSP-0119 | 341 | San Gabriel Valley, CA-Foothill Transit Park and Rides | 1,906,080
CA | E2007-BUSP-0120 | 254 | San Joaquin, California Regional Rail-Altamont Commuter Express Corridor inter-modal centers | 802,560
CA | E2007-BUSP-0121 | 382 | San Luis Ray, California-Transit Center Project | 100,320
CA | E2007-BUSP-0122 | 145 | Santa Ana, CA Improve Santa Ana transit terminal | 200,640
CA | E2007-BUSP-0123 | 147 | Santa Barbara, CA-Expansion of Regional Intermodal Transit Center | 60,192
CA | E2007-BUSP-0124 | 364 | Santa Monica, CA Construct intermodal park-and-ride facility at Santa Monica College campus on South Bundy Drive near Airport Avenue | 200,640
CA | E2007-BUSP-0125 | 172 | Santa Monica, CA Purchase and service LNG buses for Santa Monica's Big Blue Bus to meet increased ridership needs and reduce emissions | 752,400
CA | E2007-BUSP-0126 | 313 | Solana Beach, CA-Construct Intermodal Facility | 300,960
CA | E2007-BUSP-0127 | 27 | Sonoma County, CA Purchase of CNG buses | 100,320
CA | E2007-BUSP-0128 | 401 | South Pasadena, CA Silent Night Grade Crossing Project | 180,576
CA | E2007-BUSP-0129 | 383 | South San Francisco, CA Construction of Ferry Terminal at Oyster Point in South San Francisco to the San Francisco Bay Water Transit Authority | 953,040
CA | E2007-BUSP-0130 | 388 | Sylmar, CA Los Angeles Mission College Transit Center construction | 50,160
CA | E2007-BUSP-0131 | 315 | Temecula, California-Intermodal Transit Facility | 100,320
CA | E2007-BUSP-0132 | 85 | Torrance Transit System, CA Acquisition of EPA and CARB-certified low emission replacement buses | 601,920
CA | E2007-BUSP-0133 | 459 | Transbay Terminal/ Caltrain Downtown Extension Project | 4,200,000
CA | E2007-BUSP-0134 | 35 | Union City, CA Inter-modal Station, Phase 1: Modify BART station | 852,720
CA | E2007-BUSP-0135 | 195 | Woodland Hills, CA Los Angeles Pierce College Bus Rapid Transit Station Extension | 200,640
CA | E2007-BUSP-0136 | 83 | Woodland, CA Yolobus operations, maintenance, administration facility expansion and improvements to increase bus service with alternative fuel buses | 401,280
CO | E2007-BUSP-0137 | 449 | City of Aspen, CO Bus and Bus Facilities | 140,448
CO | E2007-BUSP-0138 | 448 | City of Durango, CO Bus and Bus Facilities | 50,160
CO | E2007-BUSP-0139 | 509 | Colorado Association of Transit Agencies/Colorado Transit Coalition-Colorado Statewide Buses and Bus Facilities | 6,188,000
CO | E2007-BUSP-0140 | 518 | Denver Regional Transit District-Bus Maintenance Facility | 714,000
CO | E2007-BUSP-0141 | 520 | Denver Regional Transit District-Denver Union Station Multimodal Renovations | 476,000
CO | E2007-BUSP-0142 | 521 | Denver Regional Transit District-US 36 Corridor BRT | 1,666,000
CO | E2007-BUSP-0143 | 167 | Denver, CO Denver Union Station Inter-modal Center | 1,103,520
CO | E2007-BUSP-0144 | 435 | Denver, Colorado-Regional Transportation District Bus Replacement | 401,280
CO | E2007-BUSP-0145 | 441 | Grand Valley Transit, CO Bus and Bus Facilities | 100,320
CO | E2007-BUSP-0146 | 188 | Mountain Express, Crested Butte, CO Bus and Bus Facilities | 100,320
CO | E2007-BUSP-0147 | 444 | Pueblo Transit, CO Bus and Bus Facilities | 50,160
CO | E2007-BUSP-0148 | 445 | Roaring Fork Transit Authority, CO Bus and Bus Facilities | 150,480
CO | E2007-BUSP-0149 | 446 | Steamboat Springs, CO Bus and Bus Facilities | 150,480
CO | E2007-BUSP-0150 | 450 | Town of Snowmass Village, CO Bus and Bus Facilities | 60,192
CO | E2007-BUSP-0151 | 447 | Town of Telluride, CO Bus and Bus Facilities | 64,821
CT | E2007-BUSP-0152 | 44 | Bridgeport, Connecticut-Greater Bridgeport Transit Authority Bus Facility | 100,320
CT | E2007-BUSP-0153 | 478 | Bridgeport, CT Facility Expansion/Improvement | 400,000
CT | E2007-BUSP-0154 | 90 | Buses and bus related facilities throughout the State of Connecticut | 1,203,840
CT | E2007-BUSP-0155 | 523 | Downtown Middletown, CT, Transportation Infrastructure Improvement Project | 2,150,000
CT | E2007-BUSP-0156 | 218 | Enfield, Connecticut-intermodal station | 601,920
CT | E2007-BUSP-0157 | 394 | Hartford, CT Buses and bus-related facilities | 802,560
CT | E2007-BUSP-0158 | 267 | Middletown, CT Construct intermodal center | 300,960
CT | E2007-BUSP-0159 | 589 | New Haven, CT Bus Maintenance Facility | 2,150,000
CT | E2007-BUSP-0160 | 269 | New London, Connecticut-Intermodal Transportation Center and Streetscapes | 100,320
CT | E2007-BUSP-0161 | 369 | Norwalk, Connecticut-Pulse Point Joint Development inter-modal facility | 100,320
CT | E2007-BUSP-0162 | 131 | Stonington and Mystic, Connecticut-Intermodal Center parking facility and Streetscape | 489,562
CT | E2007-BUSP-0163 | 32 | Torrington, CT Construct bus-related facility (Northwestern Connecticut Central Transit District) | 401,280
CT | E2007-BUSP-0164 | 270 | Vernon, Connecticut-Intermodal Center, Parking and Streetscapes | 1,524,846
CT | E2007-BUSP-0165 | 657 | Waterbury, CT Bus Maintenance Facility | 2,300,000
DE | E2007-BUSP-0166 | 169 | Delaware-University of Delaware Fuel Cell Bus Deployment | 100,320
FL | E2007-BUSP-0167 | 470 | Bay County, FL - Transit Facility | 476,000
FL | E2007-BUSP-0168 | 297 | Broward County, FL - Purchase Buses and construct bus facilities | 401,280
FL | E2007-BUSP-0169 | 69 | Broward County, FL Buses & Bus Facilities | 1,304,160
FL | E2007-BUSP-0170 | 479 | Broward County-Bus and Bus Facilities | 476,000
FL | E2007-BUSP-0171 | 117 | Broward, FL Purchase new articulated buses and bus stop improvements on State Road 7. (SR 7) between Golden Glades Interchange and Glades Road | 100,320
FL | E2007-BUSP-0172 | 439 | Central Florida Commuter Rail intermodal facilities | 1,003,200
FL | E2007-BUSP-0173 | 453 | Central Florida Commuter Rail Intermodal Facilities | 720,000
FL | E2007-BUSP-0174 | 488 | Central Florida Regional Transportation Authority-LYNX Bus Fleet Expansion Program | 1,190,000
FL | E2007-BUSP-0175 | 498 | City of Gainesville Regional Transit System-Facility Expansion | 238,000
FL | E2007-BUSP-0176 | 508 | Collier County Transit-Transit Facility | 238,000
FL | E2007-BUSP-0177 | 23 | Construct intermodal transportation & parking facility, City of Winter Park, Florida | 100,320
FL | E2007-BUSP-0178 | 80 | Flagler County, Florida-bus facility | 120,384
FL | E2007-BUSP-0179 | 527 | Florida Department of Transportation-Palm Beach County Replacement Buses | 238,000
FL | E2007-BUSP-0180 | 344 | Gainesville, FL Bus Facility Expansion | 802,560
FL | E2007-BUSP-0181 | 213 | Gainesville, FL Bus Rapid Transit Study | 100,320
FL | E2007-BUSP-0182 | 95 | Gainesville, FL Bus Replacement | 802,560
FL | E2007-BUSP-0183 | 538 | Hillsborough Area Regional Transit-Bus Rapid Transit Improvements | 476,000
FL | E2007-BUSP-0184 | 539 | Hillsborough, FL, Hillsborough Area regional Transit Authority | 1,000,000
FL | E2007-BUSP-0185 | 548 | Jacksonville Transportation Authority-Bus Fleet Replacement and Equipment | 1,190,000
FL | E2007-BUSP-0186 | 306 | Jacksonville, FL Bus Replacement | 1,404,480
FL | E2007-BUSP-0187 | 107 | Jacksonville, FL Paratransit Vehicles | 902,880
FL | E2007-BUSP-0188 | 549 | Jacksonville, FL Transportation Authority Paratransit Program | 0
FL | E2007-BUSP-0189 | 558 | Lakeland Area Mass Transit District/Citrus Connection-Capital Funding Needs | 476,000
FL | E2007-BUSP-0190 | 238 | Levy County, Florida-Purchase 2. wheel chair equipped passenger buses and related equipment | 60,192
FL | E2007-BUSP-0191 | 103 | Longwood, Florida-Construct Intermodal Transportation Facility | 100,320
FL | E2007-BUSP-0192 | 308 | Miami Dade, FL N.W. 7th Avenue Transit Hub | 601,920
FL | E2007-BUSP-0193 | 211 | Miami-Dade County, Florida-buses and bus facilities | 1,203,840
FL | E2007-BUSP-0194 | 432 | Miami-Dade County, Florida-buses and bus facilities | 802,560
FL | E2007-BUSP-0195 | 133 | Miami-Dade County, Florida-Transit Security System | 599,914
FL | E2007-BUSP-0196 | 580 | Miami-Dade Transit 7th Avenue NW Transit Hub | 238,000
FL | E2007-BUSP-0197 | 454 | Miami-Dade Transit Dadeland South Intermodal Center | 480,000
FL | E2007-BUSP-0198 | 136 | Ocala and Marion County, Florida-replacement buses | 601,920
FL | E2007-BUSP-0199 | 294 | Orlando, FL Bus Replacement | 802,560
FL | E2007-BUSP-0200 | 14 | Orlando, Florida-LYNX Bus Fleet Expansion Program | 180,576
FL | E2007-BUSP-0201 | 125 | Palm Beach County, FL Plan and Construct Belle Glade Combined Passenger Transit Facility | 702,240
FL | E2007-BUSP-0202 | 367 | Palm Beach, FL 20 New Buses for Palm Tran | 300,960
FL | E2007-BUSP-0203 | 248 | Palm Beach, FL Palm Tran AVL-APC system with smart card fare boxes | 50,160
FL | E2007-BUSP-0204 | 600 | Pinellas County Metropolitan Planning Organization-Pinellas Mobility Initiative: BRT and Guide way | 238,000
FL | E2007-BUSP-0205 | 415 | Purchase Buses and construct bus facilities in Broward County, FL | 451,440
FL | E2007-BUSP-0206 | 420 | Purchase Buses and construct bus facilities in Broward County, FL | 401,280
FL | E2007-BUSP-0207 | 400 | South FL Region, FL Regional Universal Automated Fare Collection System (UAFC) (for bus system) | 401,280
FL | E2007-BUSP-0208 | 623 | South Florida Regional Transportation Authority-West Palm Beach Intermodal Facility | 476,000
FL | E2007-BUSP-0209 | 622 | South Florida Regional Transportation Authority-West Palm Improvements, for any activity eligible under section 5309 | 3,570,000
FL | E2007-BUSP-0210 | 31 | St. Augustine, Florida-Intermodal Transportation Center and related pedestrian and landscape improvements | 200,640
FL | E2007-BUSP-0211 | 390 | St. Lucie County, FL Purchase Buses | 200,640
FL | E2007-BUSP-0212 | 402 | Tampa, FL Establish Transit Emphasis Corridor Project | 150,480
FL | E2007-BUSP-0213 | 148 | Tampa, FL Purchase buses and construct bus facilities | 451,440
GA | E2007-BUSP-0214 | 355 | Albany, GA Bus replacement | 60,192
GA | E2007-BUSP-0215 | 255 | Albany, GA Multimodal Facility | 160,512
GA | E2007-BUSP-0216 | 357 | Athens, GA Buses and Bus Facilities | 284,909
GA | E2007-BUSP-0217 | 247 | Atlanta, GA Inter-modal Passenger Facility Improvements | 401,280
GA | E2007-BUSP-0218 | 384 | Atlanta, GA MARTA Clean Fuel Bus Acquisition | 1,203,840
GA | E2007-BUSP-0219 | 144 | Augusta, GA Buses and Bus Facilities | 80,256
GA | E2007-BUSP-0220 | 110 | Cobb County, GA Cobb County Smart Card Technology/ Bus Facility Improvements | 200,640
GA | E2007-BUSP-0221 | 91 | Columbus, GA Bus replacement | 60,192
GA | E2007-BUSP-0222 | 510 | Columbus, Georgia/Phoenix City, Alabama-National Infantry Museum Multimodal Facility | 405,000
GA | E2007-BUSP-0223 | 49 | Columbus, Georgia-Buses & Bus Facilities | 194,420
GA | E2007-BUSP-0224 | 530 | Georgia Department of Transportation-Georgia Statewide Bus and Bus Facilities | 2,142,000
GA | E2007-BUSP-0225 | 60 | Georgia Statewide Bus Program | 40,128
GA | E2007-BUSP-0226 | 275 | Jesup, Georgia-Train Depot intermodal center | 200,640
GA | E2007-BUSP-0227 | 374 | Metro-Atlanta, GA MARTA Automated Smart-Card Fare Collection System | 200,640
GA | E2007-BUSP-0228 | 406 | Moultrie, GA Inter-modal facility | 60,192
GA | E2007-BUSP-0229 | 329 | Quitman, Clay, Randolph, Stewart Co., GA Bus project | 50,160
GA | E2007-BUSP-0230 | 256 | Savannah, GA Bus and Bus Facilities-Chatham Area Transit | 1,003,200
GA | E2007-BUSP-0231 | 348 | Savannah, Georgia-Water Ferry River walk intermodal facilities | 401,280
GA | E2007-BUSP-0232 | 206 | Sylvester, GA Inter-modal Facility | 40,128
GA | E2007-BUSP-0233 | 298 | Thomasville, GA Bus Replacement | 40,128
HI | E2007-BUSP-0234 | 540 | Honolulu, HI, Bus Facilities | 1,300,000
IA | E2007-BUSP-0235 | 440 | Ames, Iowa-Expansion of CyRide Bus Maintenance Facility | 401,280
IA | E2007-BUSP-0236 | 475 | Black Hawk County, IA UNI Multimodal Project | 714,000
IA | E2007-BUSP-0237 | 242 | Des Moines, IA Purchase 40 foot buses | 200,640
IA | E2007-BUSP-0238 | 545 | Iowa Department of Transportation-Iowa Statewide Buses and Bus Replacement | 2,856,000
ID | E2007-BUSP-0239 | 176 | Boise, ID-Multimodal facility | 902,880
ID | E2007-BUSP-0240 | 543 | Idaho Department of Transportation— Idaho Statewide ITS for Public Transportation | 357,000
ID | E2007-BUSP-0241 | 652 | Valley Regional Transit, ID-Downtown Boise Multimodal | 1,381,000
IL | E2007-BUSP-0242 | 433 | Centralia, Illinois-South Central Mass Transit District Improvements | 80,256
IL | E2007-BUSP-0243 | 226 | Champaign, IL-Construct park and ride lot with attached daycare facility | 300,690
IL | E2007-BUSP-0244 | 221 | Chicago, IL Construct intermodal facility at 35th Street at Metra Ride Line (Northside) | 1,003,200
IL | E2007-BUSP-0245 | 219 | Chicago, IL Feasibility Study for intermodal station on the Metra Rock Island near Kennedy-King College | 60,192
IL | E2007-BUSP-0246 | 491 | Chicago, IL, Cermak Road, Bus Rapid Transit | 250,000
IL | E2007-BUSP-0247 | 358 | Cicero, Chicago Establish Transit Signal Priority, Cicero Ave., Pace Suburban Bus | 200,640
IL | E2007-BUSP-0248 | 4 | Des Plaines, Wauconda, Cook and Lake Counties, IL Rand Road Transit Signal Priority | 160,512
IL | E2007-BUSP-0249 | 296 | Elgin to Rockford, Illinois-Intermodal stations along planned Metra Union Pacific West Line extension alignment, including necessary alternatives analysis | 100,320
IL | E2007-BUSP-0250 | 114 | Geneva, Illinois-Construct commuter parking deck for Metra Service | 802,560
IL | E2007-BUSP-0251 | 291 | Joliet, Illinois-Union Station commuter parking facility | 576,840
IL | E2007-BUSP-0252 | 250 | Maywood, IL Purchase buses | 10,032
IL | E2007-BUSP-0253 | 186 | Mattoon, Illinois— historic railroad depot restoration/intermodal center | ᵇ 321,024
IL | E2007-BUSP-0254 | 429 | Normal, Illinois-Multimodal Transportation Center | 401,280
IL | E2007-BUSP-0255 | 163 | Normal, Illinois-Multimodal Transportation Center, including facilities for adjacent public and nonprofit uses | 1,003,200
IL | E2007-BUSP-0256 | 365 | Pace Suburban Bus, IL South Suburban BRT Mobility Network | 100,320
IL | E2007-BUSP-0257 | 404 | Rock Island, IL Improve Rock Island Mass Transit District Bus Facility | 100,320
IL | E2007-BUSP-0258 | 608 | Rock Island, Illinois, Metrolink Transit Maintenance Facility | 250,000
IL | E2007-BUSP-0259 | 632 | Springfield, IL, Multimodal Transit Terminal | 1,100,000
IL | E2007-BUSP-0260 | 259 | St. Charles, IL-Intermodal Parking Structures | 902,880
IL | E2007-BUSP-0261 | 265 | Village of Tinley Park, Illinois, 80th Avenue Commuter Rail Station reconstruction and site enhancements | 160,512
IL | E2007-BUSP-0262 | 135 | Wheaton, IL Pace Suburban Bus-Purchase buses | 200,640
IN | E2007-BUSP-0263 | 109 | Bloomington, IN-Bus and transfer facility | 965,078
IN | E2007-BUSP-0264 | 529 | Gary, Indiana, Gary Airport Station Modernization and Shuttle Service Project | 400,000
IN | E2007-BUSP-0265 | 544 | Indianapolis Downtown Transit Center | 900,000
IN | E2007-BUSP-0266 | 235 | Indianapolis, IN Construct the Ivy Tech State College Multi-Modal Facility | 1,003,200
IN | E2007-BUSP-0267 | 5 | Indianapolis, IN Downtown Transit Center | 2,808,960
IN | E2007-BUSP-0268 | 220 | Indianapolis, IN IndySMART program to relieve congestion, improve safety and air quality | 401,280
IN | E2007-BUSP-0269 | 378 | Indianapolis, IN Relocate and improve inter-modal transportation for pedestrian to Children's Museum of Indianapolis | 2,808,960
IN | E2007-BUSP-0270 | 417 | Indianapolis, Indiana-Children's Museum Intermodal Center | 200,640
IN | E2007-BUSP-0271 | 546 | Ivy Tech State College, Indiana Multimodal Center | 200,000
IN | E2007-BUSP-0272 | 556 | Lafayette, Indiana, City Bus of Greater Lafayette | ᶜ 550,000
IN | E2007-BUSP-0273 | 617 | South Bend, Indiana, TRANSPO Bus Operations Center | 900,000
IN | E2007-BUSP-0274 | 141 | South Bend, Indiana-Construct South Bend Bus Operations Center | 200,640
IN | E2007-BUSP-0275 | 637 | Terre Haute, Indiana-Cherry Street Joint Development Project | 900,000
KS | E2007-BUSP-0276 | 53 | Johnson Co., KS Bus and bus related facilities [I-35. corridor], Johnson Co. Transit | 401,280
KS | E2007-BUSP-0277 | 551 | Kansas City Area Transportation Authority-Bus Project | 2,380,000
KS | E2007-BUSP-0278 | 552 | Kansas Department of Transportation-Kansas Statewide Transit Buses, Bus Facilities, and Bus ITS | 2,856,000
KY | E2007-BUSP-0279 | 372 | Richmond, KY Purchase buses, bus equipment and facilities | 144,461
KY | E2007-BUSP-0280 | 639 | Transit Authority of Lexington, KY-Rehabilitation of Building for Maintenance and Administration | 952,000
LA | E2007-BUSP-0281 | 484 | Capital Area Transit System-Baton Rouge BRT | 714,000
LA | E2007-BUSP-0282 | 72 | Hammond, Louisiana-Passenger Intermodal facility at Southeastern University | 40,128
LA | E2007-BUSP-0283 | 555 | Lafayette City-Parish Consolidated Government, LA-Lafayette Multimodal Transportation Facility | 238,000
LA | E2007-BUSP-0284 | 239 | Lafayette, Louisiana-Lafayette Transit System bus replacement program | 180,576
LA | E2007-BUSP-0285 | 356 | Lafayette, Louisiana-Multimodal center, Final Phase | 601,920
LA | E2007-BUSP-0286 | 568 | Louisiana Department of Transportation and Development-Statewide Vehicles and Equipment | 238,000
LA | E2007-BUSP-0287 | 170 | Louisiana-Construct pedestrian walkways between Caddo St. and Milam St. along Edwards St. in Shreveport, LA | 203,640
LA | E2007-BUSP-0288 | 55 | New Orleans, LA Inter-modal Riverfront Center | 100,320
LA | E2007-BUSP-0289 | 67 | New Orleans, LA Plan and construct New Orleans Union Passenger Terminal intermodal facilities | 200,640
LA | E2007-BUSP-0290 | 243 | New Orleans, LA Regional Planning Commission, bus and bus facilities | 100,320
LA | E2007-BUSP-0291 | 310 | River Parishes, LA South Central Planning and Development Commission, bus and bus facilities | 200,640
LA | E2007-BUSP-0292 | 606 | River Parishes, Louisiana, South Central Planning and Development Commission, bus and bus facilities | 180,000
LA | E2007-BUSP-0293 | 277 | Shreveport, LA-intermodal Transit Facility | 672,144
LA | E2007-BUSP-0294 | 625 | Southeastern Louisiana University Intermodal Facility | 450,000
LA | E2007-BUSP-0295 | 283 | St. Bernard Parish, LA Intermodal facility improvements | 200,640
MA | E2007-BUSP-0296 | 118 | Attleboro, MA Construction, engineering and site improvements at the Attleboro Intermodal Center | 401,280
MA | E2007-BUSP-0297 | 472 | Berkshire, MA, Berkshire Regional Transit Authority Bus Maintenance Facility | 30,000
MA | E2007-BUSP-0298 | 59 | Beverly, MA Design and Construct Beverly Deport Intermodal Transportation Center | 401,280
MA | E2007-BUSP-0299 | 273 | Boston, MA Harbor Park Pavilion & Inter-modal Station | 250,800
MA | E2007-BUSP-0300 | 174 | Brockton, MA Bus replacement for the Brockton Area Transit Authority | 300,960
MA | E2007-BUSP-0301 | 330 | Framingham, MA Local Intra-Framingham Transit System enhancements | 361,152
MA | E2007-BUSP-0302 | 124 | Haverhill, MA Design and Construct Inter-modal Transit Parking Improvements | 1,123,584
MA | E2007-BUSP-0303 | 21 | Hingham, MA Higham Marine Intermodal Center Improvements: Enhance public transportation infrastructure/parking | 1,805,760
MA | E2007-BUSP-0304 | 563 | Lawrence, MA, Gateway Intermodal and Quadant Area Reuse Project | 800,000
MA | E2007-BUSP-0305 | 280 | Lowell, MA Implementation of LRTA bus replacement plan | 200,640
MA | E2007-BUSP-0306 | 569 | Lowell, MA, Lowell Regional Transit | 800,000
MA | E2007-BUSP-0307 | 42 | Medford, MA Downtown revitalization featuring construction of a 200 space Park and Ride Facility | 401,280
MA | E2007-BUSP-0308 | 257 | Newburyport, MA Design and Construct Intermodal Facility | 401,280
MA | E2007-BUSP-0309 | 139 | Quincy, MA MBTA Purchase high speed catamaran ferry for Quincy Harbor Express Service | 401,280
MA | E2007-BUSP-0310 | 161 | Revere, MA Inter-modal transit improvements in the Wonderland station (MBTA) area | 361,152
MA | E2007-BUSP-0311 | 88 | Rockport, MA Rockport Commuter Rail Station Improvements | 551,760
MA | E2007-BUSP-0312 | 370 | Salem, MA Design and Construct Salem Intermodal Transportation Center | 401,280
MA | E2007-BUSP-0313 | 205 | Woburn, MA Construction of an 89 space park and ride facility to be located on Magazine Hill, in the Heart of Woburn Square | 361,152
MD | E2007-BUSP-0314 | 122 | Baltimore, MD Construct Intercity Bus Intermodal Terminal | 1,003,200
MD | E2007-BUSP-0315 | 303 | Howard County, MD Construct Central Maryland Transit Operations and Maintenance Facility | 1,003,200
MD | E2007-BUSP-0316 | 542 | Howard County, MD Construct Central Maryland Transit Operations and Maintenance Facility | 220,000
MD | E2007-BUSP-0317 | 571 | MARC Intermodal Odenton and Edgewood Station Improvements | 380,000
MD | E2007-BUSP-0318 | 573 | Maryland Statewide Bus Facilities and Buses | 5,750,000
MD | E2007-BUSP-0319 | 224 | Montgomery County, MD Wheaton CBD Intermodal Access Program | 100,320
MD | E2007-BUSP-0320 | 214 | Mount Rainier, MD Intermodal and Pedestrian Project | 90,288
MD | E2007-BUSP-0321 | 615 | Silver Spring, Maryland, Transit Center | 6,000,000
MD | E2007-BUSP-0322 | 8 | Silver Spring, MD Construct Silver Spring Transit Center in downtown Silver Spring | 732,336
MD | E2007-BUSP-0323 | 629 | Southern Maryland Commuter Initiative | 2,800,000
ME | E2007-BUSP-0324 | 19 | Bar Harbor, ME Purchase new buses to enhance commuting near the Jackson Labs | 60,192
ME | E2007-BUSP-0325 | 483 | Campobello Park, ME, Bus Acquisition | 34,000
ME | E2007-BUSP-0326 | 570 | Maine Department of Transportation-Acadia Intermodal Facility | 714,000
MI | E2007-BUSP-0327 | 301 | Barry County, MI-Barry County Transit equipments and dispatching software | 30,096
MI | E2007-BUSP-0328 | 204 | Boysville of Michigan Transportation System | 674,150
MI | E2007-BUSP-0329 | 502 | City of Kalamazoo, MI bus Replacement | 1,800,000
MI | E2007-BUSP-0330 | 319 | Detroit Bus Maintenance Facility | 1,805,760
MI | E2007-BUSP-0331 | 522 | Detroit Department of Transportation Bus Replacement | 2,100,000
MI | E2007-BUSP-0332 | 2 | Detroit Fare Collection System | 802,560
MI | E2007-BUSP-0333 | 156 | Detroit Replacement Buses | 1,003,200
MI | E2007-BUSP-0334 | 320 | Detroit, MI Bus Replacement | 1,504,800
MI | E2007-BUSP-0335 | 9 | Detroit, MI Enclosed heavy-duty maintenance facility with full operational functions for up to 300 buses | 902,880
MI | E2007-BUSP-0336 | 208 | Eastern Upper Peninsula, MI Ferry Dock and Facility upgrades for Drummond Island Ferry Services | 50,160
MI | E2007-BUSP-0337 | 526 | Flint, MI, Mass Transportation Authority Bus Maintenance Facility | 650,000
MI | E2007-BUSP-0338 | 531 | Grand Rapids, Michigan, The Rapid, Bus Replacement | 1,100,000
MI | E2007-BUSP-0339 | 249 | Grand Rapids, MI-Purchase replacement and expansion buses | 2,939,376
MI | E2007-BUSP-0340 | 79 | Ionia County, MI-Purchase and Implementation of communication equipment improvements | 118,378
MI | E2007-BUSP-0341 | 560 | Lansing, MI, Capital Area Transportation Authority, Bus Replacement and Bus Related ITS | 850,000
MI | E2007-BUSP-0342 | 572 | Marquette County, Michigan Transit Authority Bus passenger facility | 300,000
MI | E2007-BUSP-0343 | 581 | Michigan Department of Transportation (MDOT) Bus Replacement | 2,200,000
MI | E2007-BUSP-0344 | 293 | Muskegon, Michigan-Muskegon Area Transit Terminal and related improvements | 401,280
MI | E2007-BUSP-0345 | 601 | Port Huron, Michigan, Blue Water Area Transportation Commission, Bus Maintenance Facility | 1,250,000
MI | E2007-BUSP-0346 | 634 | Suburban Mobility Authority for Regional Transportation (SMART) Bus Maintenance Facility | 1,750,000
MN | E2007-BUSP-0347 | 40 | Duluth, MN Downtown Duluth Area Transit facility improvements | 401,280
MN | E2007-BUSP-0348 | 177 | Fond du Lac Reservation, MN Purchase buses | 30,096
MN | E2007-BUSP-0349 | 577 | Metro Transit/Metropolitan Council, MN-Bus/Bus Capital | 2,261,000
MN | E2007-BUSP-0350 | 185 | St. Paul to Hinckley, MN Construct bus amenities along Rush Line Corridor | 300,960
MN | E2007-BUSP-0351 | 342 | St. Paul, MN Union Depot Multi Modal Transit Facility | 401,280
MO | E2007-BUSP-0352 | 473 | Bi-State Development Agency-St. Louis Bridge Repair/Reconstruction, for any activity eligible under section 5309 | ᵈ 1,190,000
MO | E2007-BUSP-0353 | 474 | Bi-State Development Agency-St. Louis Metro Bus Fare Collection Program | ᵈ 3,808,000
MO | E2007-BUSP-0354 | 345 | Kansas City, MO Bus Transit Infrastructure | 200,640
MO | E2007-BUSP-0355 | 598 | OATS, Incorporated, MO-ITS Information and Billing System and Bus Facilities | 4,046,000
MO | E2007-BUSP-0356 | 624 | Southeast Missouri Transportation Service-Bus Project | 476,000
MS | E2007-BUSP-0357 | 130 | Coahoma County, Mississippi Purchase buses for the Aaron E. Henry Community Health Services Center, Inc./DARTS transit service | 30,096
MS | E2007-BUSP-0358 | 547 | Jackson State University, MS-Busing Project | 1,190,000
MT | E2007-BUSP-0359 | 129 | Bozeman, Montana-Vehicular Parking Facility | 802,560
MT | E2007-BUSP-0360 | 476 | Bozeman, MT, Intermodal and parking facility | 171,000
MT | E2007-BUSP-0361 | 584 | Montana Department of Transportation-Statewide Bus Facilities and Buses | 714,000
NC | E2007-BUSP-0362 | 490 | Charlotte Area Transit System/City of Charlotte-Charlotte Multimodal Station | 2,380,000
NC | E2007-BUSP-0363 | 217 | Charlotte, NC Construct Charlotte Multimodal Station | 1,564,992
NC | E2007-BUSP-0364 | 351 | Charlotte, North Carolina-Eastland Community Transit Center | 401,280
NC | E2007-BUSP-0365 | 228 | Charlotte, North Carolina-Multimodal Station | 802,560
NC | E2007-BUSP-0366 | 154 | City of Greenville, NC Expansion Buses and Greenville Intermodal Center | 715,081
NC | E2007-BUSP-0367 | 324 | Elon, North Carolina-Piedmont Authority for Regional Transportation buses and bus facilities | 240,768
NC | E2007-BUSP-0368 | 302 | Greensboro, North Carolina-Piedmont Authority for Regional Transportation Multimodal Transportation Center | 2,512,013
NC | E2007-BUSP-0369 | 52 | Greensboro, North Carolina-Replacement buses | ᵉ 1,159,699
NC | E2007-BUSP-0370 | 537 | High Point, NC-Intermodal Facility | 286,000
NC | E2007-BUSP-0371 | 335 | High Point, North Carolina-Bus Terminal | 1,203,840
NC | E2007-BUSP-0372 | 594 | North Carolina Department of Transportation-North Carolina Statewide Bus and Bus Facilities | 5,950,000
NC | E2007-BUSP-0373 | 143 | Raleigh, NC Purchase eighteen replacement buses to replace buses that have reached their useful life according to Federal Transit Administration regulations | 401,280
NC | E2007-BUSP-0374 | 134 | Town of Chapel Hill, NC Park and Ride Lot | 300,960
NC | E2007-BUSP-0375 | 57 | Wilmington, NC Build Intermodal Center | 200,640
ND | E2007-BUSP-0376 | 595 | North Dakota Department of Transportation/Statewide Bus | 1,100,000
NE | E2007-BUSP-0377 | 505 | City of Omaha-Creighton University Intermodal Facility | 714,000
NE | E2007-BUSP-0378 | 160 | Kearney, Nebraska-RYDE Transit Bus Maintenance and Storage Facility | 401,280
NE | E2007-BUSP-0379 | 586 | Nebraska Department of Roads-Bus Maintenance and Storage Facility for RYDE in Kearney, NE | 476,000
NE | E2007-BUSP-0380 | 587 | Nebraska Department of Roads-Statewide Vehicles, Facilities, and Related Equipment Purchases | 952,000
NE | E2007-BUSP-0381 | 240 | Nebraska-statewide transit vehicles, facilities, and related equipment | 802,560
NE | E2007-BUSP-0382 | 599 | Omaha, NE, Buses and Fare boxes | 650,000
NH | E2007-BUSP-0383 | 418 | Windham, New Hampshire—Construction of Park and Ride Bus facility at Exit 3 | 742,368
NJ | E2007-BUSP-0384 | 468 | Atlantic City, NJ Jitney | 750,000
NJ | E2007-BUSP-0385 | 86 | Burlington County, NJ-BurLink and Burlington County Transportation System vehicles and equipment | 802,560
NJ | E2007-BUSP-0386 | 28 | Camden, NJ Construction of the Camden County Intermodal Facility in Cramer Hill | 200,640
NJ | E2007-BUSP-0387 | 12 | Hoboken, NJ Rehabilitation of Hoboken Inter-modal Terminal | 762,432
NJ | E2007-BUSP-0388 | 102 | Jersey City, NJ Construct West Entrance to Pavonia-Newport PATH Station | 401,280
NJ | E2007-BUSP-0389 | 389 | Lakewood, NJ-Ocean County Bus service and parking facilities | 601,920
NJ | E2007-BUSP-0390 | 138 | Long Branch, NJ Design and construct facilities for ferry service from Long Branch, NJ to New York City and other destinations | 802,560
NJ | E2007-BUSP-0391 | 38 | Monmouth County, NJ Construction of main bus facility for Freehold Township, including a terminal and repair shop | 401,280
NJ | E2007-BUSP-0392 | 209 | Morristown, New Jersey-Intermodal Historic Station | 200,640
NJ | E2007-BUSP-0393 | 46 | National Park Service Design and construct 2.1-mile segment to complete Sandy Hook multiuse pathway in Sandy Hook, NJ | 200,640
NJ | E2007-BUSP-0394 | 340 | New Jersey Inter-modal Facilities and Bus Rolling Stock | 601,920
NJ | E2007-BUSP-0395 | 328 | New Jersey Transit Community Shuttle Buses | 100,320
NJ | E2007-BUSP-0396 | 13 | Newark, NJ Penn Station Intermodal Improvements including the rehabilitation of boarding areas | 200,640
NJ | E2007-BUSP-0397 | 29 | Sandy Hook, NJ National Park Service Construct year-round ferry dock at Sandy Hook Unit of Gateway National Recreation Area | 200,640
NJ | E2007-BUSP-0398 | 393 | South Amboy, NJ Construction of improvements to facilities at South Amboy Station under S Amboy, NJ Regional Intermodal Initiative | 1,605,120
NJ | E2007-BUSP-0399 | 618 | South Brunswick, NJ Transit System | 1,000,000
NJ | E2007-BUSP-0400 | 643 | Trenton Intermodal Station | 4,250,000
NJ | E2007-BUSP-0401 | 61 | Trenton, New Jersey-Trenton Train Station Rehabilitation | 300,960
NJ | E2007-BUSP-0402 | 181 | Trenton, NJ Development of Trenton Trolley System | 200,640
NJ | E2007-BUSP-0403 | 62 | Trenton, NJ Reconstruction and rehabilitation of the Trenton Train Station | 1,404,480
NM | E2007-BUSP-0404 | 464 | Albuquerque, NM, Ride Bus and Bus Facilities | 1,500,000
NM | E2007-BUSP-0405 | 562 | Las Cruces, NM, Road Runner Bus and Bus Facilities | 250,000
NV | E2007-BUSP-0406 | 405 | Las Vegas, NV Construct Boulder Highway BRT system and purchase vehicles and related equipment | 401,280
NV | E2007-BUSP-0407 | 199 | Las Vegas, NV Construct Central City Inter-modal Transportation Terminal | 1,203,840
NV | E2007-BUSP-0408 | 371 | Las Vegas, NV Construct Las Vegas West Care Intermodal Facility | 50,160
NV | E2007-BUSP-0409 | 603 | Regional Transportation Commission of Southern Nevada-Central City Intermodal Transportation Terminal | 952,000
NV | E2007-BUSP-0410 | 18 | Reno-Sparks, Nevada-Intermodal Transportation Terminals and Related Development | 802,560
NV | E2007-BUSP-0411 | 630 | Southern Nevada Transit Coalition, Public Transit Building Acquisition | 300,000
NV | E2007-BUSP-0412 | 656 | Washoe County, NV Bus and Bus Facilities | 1,500,000
NY | E2007-BUSP-0413 | 74 | Albany-Schenectady, NY Bus Rapid Transit Improvements in NY Route 5. Corridor | 200,640
NY | E2007-BUSP-0414 | 463 | Albany-Schenectady, NY, Bus Rapid Transit Improvements in NY Route 5 | 800,000
NY | E2007-BUSP-0415 | 271 | Bronx, NY Botanical Garden metro North Rail station Intermodal Facility | 200,640
NY | E2007-BUSP-0416 | 20 | Bronx, NY Establish an intermodal transportation facility at the Wildlife Conservation Society Bronx Zoo | 200,640
NY | E2007-BUSP-0417 | 279 | Bronx, NY Establish an intermodal transportation facility at the Wildlife Conservation Society Bronx Zoo | 200,640
NY | E2007-BUSP-0418 | 166 | Bronx, NY Hebrew Home for the Aged elderly and disabled transportation support | 37,620
NY | E2007-BUSP-0419 | 338 | Bronx, NY Intermodal Facility near Exit 6. of the Bronx River Parkway | 50,160
NY | E2007-BUSP-0420 | 234 | Bronx, NY Jacobi Intermodal Center to North Central Bronx Hospital bus system | 62,700
NY | E2007-BUSP-0421 | 10 | Bronx, NY Wildlife Conservation Society intermodal transportation facility at the Bronx Zoo | 87,780
NY | E2007-BUSP-0422 | 197 | Brooklyn, NY Construct a multi-modal transportation facility | 280,896
NY | E2007-BUSP-0423 | 408 | Brooklyn, NY Construct a multi-modal transportation facility in the vicinity of Downstate Medical Center | 200,640
NY | E2007-BUSP-0424 | 41 | Brooklyn, NY New Urban Center-Broadway Junction Intermodal Center | 192,614
NY | E2007-BUSP-0425 | 56 | Brooklyn, NY-Rehabilitation of Bay Ridge 86th Street Subway Station | 802,560
NY | E2007-BUSP-0426 | 419 | Brooklyn, NY—Rehabilitation of Bay Ridge 86th Street Subway Station | 802,560
NY | E2007-BUSP-0427 | 192 | Buffalo, NY Inter-modal Center Parking Facility | 200,640
NY | E2007-BUSP-0428 | 245 | Bus to provide York-town, New York internal circulator to provide transportation throughout the Town | 37,118
NY | E2007-BUSP-0429 | 230 | Construction of Third Bus Depot on Staten Island | 2,407,680
NY | E2007-BUSP-0430 | 146 | Cooperstown, New York-Intermodal Transit Center | 1,003,200
NY | E2007-BUSP-0431 | 363 | Corning, New York-Transportation Center | 1,003,200
NY | E2007-BUSP-0432 | 512 | Corning, NY, Phase II Corning Preserve Transportation Enhancement Project | 450,000
NY | E2007-BUSP-0433 | 284 | Cornwall, NY-Purchase Bus | 17,456
NY | E2007-BUSP-0434 | 300 | Geneva, New York-Multimodal facility-Construct passenger rail center | 100,320
NY | E2007-BUSP-0435 | 317 | Jamestown, NY Rehabilitation of Intermodal Facility and associated property | 401,280
NY | E2007-BUSP-0436 | 343 | Kings County, NY Construct a multi-modal transportation facility | 200,640
NY | E2007-BUSP-0437 | 368 | Nassau County, NY Conduct planning and engineering for transportation system (HUB) | 1,404,480
NY | E2007-BUSP-0438 | 585 | Nassau County, NY, Conduct planning, engineering, and construction for transportation system (HUB) | 1,200,000
NY | E2007-BUSP-0439 | 25 | New York City, NY First Phase Implementation of Bus Rapid Transit System | 200,640
NY | E2007-BUSP-0440 | 376 | New York City, NY Purchase Handicapped-Accessible Livery Vehicles | 220,640
NY | E2007-BUSP-0441 | 590 | New York City, NY, Bronx Zoo Intermodal Facility | 450,000
NY | E2007-BUSP-0442 | 591 | New York City, NY, Enhance Transportation Facilities Near W. 65th Street and Broadway | 450,000
NY | E2007-BUSP-0443 | 592 | New York City, NY, Highline Project, for Studies, Design, and Construction | 1,200,000
NY | E2007-BUSP-0444 | 593 | New York, Improvements to Moynihan Station | 1,200,000
NY | E2007-BUSP-0445 | 77 | Niagara Falls, NY Relocation, Development, and Enhancement of Niagara Falls International Railway Station/Intermodal Transportation Center | 1,123,584
NY | E2007-BUSP-0446 | 373 | Niagara Frontier Transportation Authority, NY Replacement Buses | 200,640
NY | E2007-BUSP-0447 | 322 | Oneonta, New York-bus replacement | 30,096
NY | E2007-BUSP-0448 | 379 | Ramapo, NY Transportation Safety Field Bus | 50,160
NY | E2007-BUSP-0449 | 252 | Rochester, New York-Renaissance Square transit center | 902,880
NY | E2007-BUSP-0450 | 430 | Rochester, New York-Renaissance Square Transit Center | 451,440
NY | E2007-BUSP-0451 | 607 | Rochester, NY, Renaissance Square Intermodal Facility, Design and Construction | 1,400,000
NY | E2007-BUSP-0452 | 609 | Rockland County, NY Express Bus | 700,000
NY | E2007-BUSP-0453 | 386 | Suffolk County, NY Design and construction of intermodal transit facility in Wyandanch | 922,944
NY | E2007-BUSP-0454 | 353 | Suffolk County, NY Purchase four handicapped accessible vans to transport veterans to and from the VA facility in Northport | 56,179
NY | E2007-BUSP-0455 | 635 | Syracuse, New York, Syracuse University Connective Corridor Transit Project | 950,000
NY | E2007-BUSP-0456 | 261 | Thendra-Webb and Utica, New York-Install handicap lifts in intermodal centers | 20,064
NY | E2007-BUSP-0457 | 289 | Town of Warwick, NY Bus Facility Warwick Transit System | 110,352
NY | E2007-BUSP-0458 | 451 | Utica, New York Transit Multimodal Facilities | 1,200,000
NY | E2007-BUSP-0459 | 78 | Utica, New York-Union Station Boehlert Center siding track improvements | 20,064
NY | E2007-BUSP-0460 | 182 | Utica, New York-Union Station rehabilitation and related infrastructure improvements | 100,320
NY | E2007-BUSP-0461 | 264 | Westchester County, NY Bus replacement program | 752,400
NY | E2007-BUSP-0462 | 149 | Yonkers, NY Trolley Bus Acquisition | 75,240
OH | E2007-BUSP-0463 | 362 | Akron, OH Construct City of Akron Commuter Bus Transit Facility | 300,960
OH | E2007-BUSP-0464 | 318 | Akron, Ohio Construct Downtown Multi-modal Transportation Center | 802,560
OH | E2007-BUSP-0465 | 105 | Akron, Ohio-West Market Street transit center and related pedestrian improvements | 130,416
OH | E2007-BUSP-0466 | 489 | Central Ohio Transit Authority-Paratransit and Small Bus Service Facility | 476,000
OH | E2007-BUSP-0467 | 241 | Cincinnati, Ohio-Construct Uptown Crossings Joint Development Transit Project | 601,920
OH | E2007-BUSP-0468 | 89 | Cincinnati, Ohio-Metro Regional Transit Hub Network Eastern Neighborhoods | 185,592
OH | E2007-BUSP-0469 | 327 | Cleveland, OH Construct East Side Transit Center | 601,920
OH | E2007-BUSP-0470 | 202 | Cleveland, OH Construct Fare Collection System Project, Cuyahoga County | 100,320
OH | E2007-BUSP-0471 | 179 | Cleveland, OH Construct passenger inter-modal center near Dock 32 | 172,550
OH | E2007-BUSP-0472 | 411 | Cleveland, OH Construction of an inter-modal facility and related improvements at University Hospitals facility on Euclid Avenue | 200,640
OH | E2007-BUSP-0473 | 51 | Cleveland, Ohio acquisition of buses Greater Cleveland Regional Transit Authority | 200,640
OH | E2007-BUSP-0474 | 258 | Cleveland, Ohio-Euclid Avenue and East 93rd Street intermodal facility | 1,705,440
OH | E2007-BUSP-0475 | 198 | Cleveland, Ohio-Euclid Avenue University Hospital intermodal facility | 902,880
OH | E2007-BUSP-0476 | 50 | Cleveland, Ohio-University Circle Intermodal facility | 1,705,440
OH | E2007-BUSP-0477 | 380 | Columbiana County, OH Construct Inter-modal Facility | 1,003,200
OH | E2007-BUSP-0478 | 7 | Columbus, OH-Central Ohio Transit Authority Paratransit Facility | 1,203,840
OH | E2007-BUSP-0479 | 292 | Cuyahoga County, Ohio-Ohio Department of Transportation transit improvements | 30,096
OH | E2007-BUSP-0480 | 120 | Dayton Airport Inter-modal Rail Feasibility Study | 150,480
OH | E2007-BUSP-0481 | 516 | Dayton-Wright Stop Plaza | 476,000
OH | E2007-BUSP-0482 | 347 | Eastlake, Ohio-Eastlake Stadium transit intermodal facility | 852,720
OH | E2007-BUSP-0483 | 309 | Elyria, OH Construct the New York Central Train Station into an intermodal transportation hub | 410,911
OH | E2007-BUSP-0484 | 349 | Kent, OH Construct Kent State University Intermodal Facility serving students and the general public | 200,640
OH | E2007-BUSP-0485 | 104 | Marietta, Ohio Construction of transportation hub to accommodate regional bus traffic | 100,320
OH | E2007-BUSP-0486 | 576 | Metro Regional Transit Authority/City of Akron-Downtown Transit Center/Akron | 1,666,000
OH | E2007-BUSP-0487 | 87 | Niles, OH Acquisition of bus operational and service equipment of Niles Trumbull Transit | 40,128
OH | E2007-BUSP-0488 | 385 | Springfield, OH-City of Springfield Bus Transfer Station and Associated Parking | 50,160
OH | E2007-BUSP-0489 | 34 | Toledo, OH TARTA/TARPS Passenger Inter-modal Facility construction | 1,504,800
OH | E2007-BUSP-0490 | 64 | Zanesville, OH-bus system signage and shelters | 16,302
OR | E2007-BUSP-0491 | 442 | Albany, OR North Albany Park and Ride | 191,086
OR | E2007-BUSP-0492 | 165 | Albany, OR Rehabilitate Building At Multimodal Transit Station | 305,737
OR | E2007-BUSP-0493 | 272 | Bend, Oregon-replacement vans | 200,640
OR | E2007-BUSP-0494 | 66 | Canby, OR bus and bus facilities | 30,096
OR | E2007-BUSP-0495 | 187 | Columbia County, OR To purchase buses | 28,090
OR | E2007-BUSP-0496 | 299 | Corvallis, OR Bus Replacement | 296,183
OR | E2007-BUSP-0497 | 159 | Eugene, OR Lane Transit District, Vehicle Replacement | 716,571
OR | E2007-BUSP-0498 | 325 | Grants Pass, OR Purchase Vehicles For Use By Josephine Community Transit | 40,845
OR | E2007-BUSP-0499 | 99 | Gresham, Oregon Construct a new light rail station and transit plaza on Portland MAX system and serve Gresham Civic neighborhood | 280,896
OR | E2007-BUSP-0500 | 168 | Lane Transit District, Bus Rapid Transit Progressive Corridor Enhancements | 594,621
OR | E2007-BUSP-0501 | 323 | Lincoln, County, OR bus purchase | 50,160
OR | E2007-BUSP-0502 | 175 | Molalla, OR South Clackamas Transportation District, bus purchase | 20,064
OR | E2007-BUSP-0503 | 16 | Portland, OR Renovation of Union Station, including structural reinforcement and public safety upgrades | 20,064
OR | E2007-BUSP-0504 | 93 | Salem, OR bus and bus facilities | 401,280
OR | E2007-BUSP-0505 | 106 | Sandy, Oregon Transit Bus Facility | 140,448
OR | E2007-BUSP-0506 | 180 | Tillamook, OR construction of a transit facility | 20,064
OR | E2007-BUSP-0507 | 216 | Wilsonville, OR South Metro Area Rapid Transit, bus and bus facilities | 50,160
OR | E2007-BUSP-0508 | 82 | Yamhill County, OR For the construction of bus shelters, park and ride facilities, and a signage strategy to increase ridership | 22,070
PA | E2007-BUSP-0509 | 225 | Allentown, Pennsylvania-Design and Construct Intermodal Transportation Center | 401,280
PA | E2007-BUSP-0510 | 456 | Altoona Multimodal Transportation Facility Parking Garage | 240,000
PA | E2007-BUSP-0511 | 465 | AMTRAN Altoona, PA-Buses and Transit System Improvements | 714,000
PA | E2007-BUSP-0512 | 467 | Area Transportation Authority of North Central Pennsylvania-Vehicle Replacements | 238,000
PA | E2007-BUSP-0513 | 471 | Beaver County, PA Transit Authority Bus Replacement/ Related Equipment Replacement | 238,000
PA | E2007-BUSP-0514 | 481 | Butler Township, PA-Cranbury Area Transit Service | 833,000
PA | E2007-BUSP-0515 | 428 | Butler, PA-Multimodal Transit Center Construction | 200,640
PA | E2007-BUSP-0516 | 482 | Cambria County, PA Transit Authority-Bus Replacements | 714,000
PA | E2007-BUSP-0517 | 123 | Cheltenham, PA Glenside Rail Station Parking Garage project involving the construction of a 300-400 space parking lot at Easton Road and Glenside Avenue | 200,640
PA | E2007-BUSP-0518 | 500 | City of Hazleton, PA-Hazleton Intermodal Center | 333,000
PA | E2007-BUSP-0519 | 513 | County of Lackawanna Transit System-Scranton Intermodal Transportation Center | 238,000
PA | E2007-BUSP-0520 | 514 | Cumberland-Dauphin-Harrisburg Transit Authority-Purchase of Buses and Spare Units | 238,000
PA | E2007-BUSP-0521 | 81 | Easton, Pennsylvania-Design and construct Intermodal Transportation Center | 401,280
PA | E2007-BUSP-0522 | 524 | Erie, PA Metropolitan Transit Authority-Bus Acquisitions | 238,000
PA | E2007-BUSP-0523 | 431 | Erie, PA-EMTA Vehicle Acquisition | 401,280
PA | E2007-BUSP-0524 | 331 | Gettysburg, Pennsylvania-transit transfer center | 180,375
PA | E2007-BUSP-0525 | 458 | Hershey, Pennsylvania Intermodal Center and Parking Garage | 60,000
PA | E2007-BUSP-0526 | 233 | Intermodal Facilities in Bucks County (Croydon and Levittown Stations) | 601,920
PA | E2007-BUSP-0527 | 457 | Lancaster County, Pennsylvania Intermodal Center and Parking Facility | 60,000
PA | E2007-BUSP-0528 | 37 | Lancaster, PA-bus replacement | 190,608
PA | E2007-BUSP-0529 | 559 | Lancaster, PA-Intermodal Project | 167,000
PA | E2007-BUSP-0530 | 564 | Lehigh and Northampton Transportation Authority, PA-Allentown Intermodal Transportation Center | 476,000
PA | E2007-BUSP-0531 | 583 | Monroe Township, PA-Clarion County Buses | 157,000
PA | E2007-BUSP-0532 | 588 | New Castle, PA Area Transit Authority-Bus Purchases/Park and Ride Facility | 176,000
PA | E2007-BUSP-0533 | 201 | Philadelphia, PA Cruise Terminal Transportation Ctr. Phila. Naval Shipyard | 702,240
PA | E2007-BUSP-0534 | 137 | Philadelphia, PA Improvements to the existing Penn's Landing Ferry Terminal | 802,560
PA | E2007-BUSP-0535 | 413 | Philadelphia, PA Penn's Landing water shuttle parking lot expansion and water shuttle ramp infrastructure construction | 220,704
PA | E2007-BUSP-0536 | 22 | Philadelphia, PA Philadelphia Zoo Intermodal Transportation project w/parking consolidation, pedestrian walkways, public transportation complements & landscape improvements to surface parking lots | 1,003,200
PA | E2007-BUSP-0537 | 274 | Philadelphia, PA SEPTA's Market St. Elevated Rail project in conjunction with Philadelphia Commercial Development Corporation for improvements and assistance to entities along rail corridor | 280,896
PA | E2007-BUSP-0538 | 316 | Philadelphia, Pennsylvania-SEPTA Market Street Elevated Line parking facility | 802,560
PA | E2007-BUSP-0539 | 126 | Pittsburgh, PA Clean Fuel Bus Procurement | 100,320
PA | E2007-BUSP-0540 | 397 | Pottsville, PA Union Street Trade and Transfer Center Intermodal Facility | 401,280
PA | E2007-BUSP-0541 | 48 | Project provides for the engineering and construction of a transportation center in Paoli, Chester County | 200,640
PA | E2007-BUSP-0542 | 96 | SEPTA Montgomery County Intermodal Improvements at Glenside and Jenkintown Station Parking Garages | ᵃ 1,003,200
PA | E2007-BUSP-0543 | 424 | Sharon, PA-Bus Facility Construction | 100,320
PA | E2007-BUSP-0544 | 626 | Southeastern Pennsylvania Transportation Authority-Bucks County Intermodal (Croydon and Levittown) | 714,000
PA | E2007-BUSP-0545 | 627 | Southeastern Pennsylvania Transportation Authority-Paoli Transportation Center | 714,000
PA | E2007-BUSP-0546 | 628 | Southeastern Pennsylvania Transportation Authority-Villanova-SEPTA Intermodal | 714,000
PA | E2007-BUSP-0547 | 642 | Transit Authority of Warren County, PA-Impact Warren | 238,000
PA | E2007-BUSP-0548 | 33 | Warren, PA-Construct Intermodal Transportation Center and related pedestrian and landscape improvements | 300,960
PA | E2007-BUSP-0549 | 660 | Westmoreland County Transit Authority, PA-Bus Replacement | 238,000
PA | E2007-BUSP-0550 | 661 | Wilkes-Barre Intermodal Facility | 1,428,000
PA | E2007-BUSP-0551 | 662 | Williamsport, PA Bureau of Transportation-Williamsport Trade and Transit Centre Expansion | 714,000
PA | E2007-BUSP-0552 | 65 | York, Pennsylvania-Rabbit Transit facilities and communications equipment | 555,873
PR | E2007-BUSP-0553 | 128 | Bayamon, Puerto Rico-bus terminal | 120,384
PR | E2007-BUSP-0554 | 421 | Bayamon, Puerto Rico-Purchase of Trolley Cars | 170,544
PR | E2007-BUSP-0555 | 3 | Lares, PR-Trolley buses-for the purchase of two trolley buses that will offer transportation through the urban zone in the Municipality of Lares | 52,969
PR | E2007-BUSP-0556 | 164 | Puerto Rico-Caribbean National Forest buses and nonprofit uses | 601,920
PR | E2007-BUSP-0557 | 152 | San Juan, Puerto Rico-bus security equipment | 601,920
PR | E2007-BUSP-0558 | 71 | San Juan, Puerto Rico-Buses | 200,640
PR | E2007-BUSP-0559 | 58 | Yabucoca, Puerto Rico-Trolley Buses | 35,112
RI | E2007-BUSP-0560 | 246 | Providence, RI Expansion of Elmwood Paratransit Maintenance Facility | 1,003,200
RI | E2007-BUSP-0561 | 604 | Rhode Island, RIPTA Elmwood Facility Expansion | 1,700,000
RI | E2007-BUSP-0562 | 115 | Rhode Island Statewide Bus Fleet | 1,203,840
SC | E2007-BUSP-0563 | 533 | Greensville, SC Transit Authority-City of Greenville Multimodal Transportation Center Improvements | 238,000
SC | E2007-BUSP-0564 | 619 | South Carolina Department of Transportation-Transit Facilities Construction Program | 476,000
SC | E2007-BUSP-0565 | 620 | South Carolina Department of Transportation-Vehicle Acquisition Program | 1,904,000
SD | E2007-BUSP-0566 | 621 | South Dakota Department of Transportation-Statewide Buses and Bus Facilities | 3,452,000
TN | E2007-BUSP-0567 | 237 | Knoxville, Tennessee-Central Station Transit Center | 2,046,528
TN | E2007-BUSP-0568 | 554 | Knoxville, TN-Central Station | 595,000
TN | E2007-BUSP-0569 | 565 | Lipscomb University, TN-Intermodal Parking Garage | 357,000
TN | E2007-BUSP-0570 | 579 | Metropolitan Transit Authority-Nashville Downtown Transit Transfer Facility | 2,856,000
TN | E2007-BUSP-0571 | 268 | Nashville, TN Construct a parking garage on the campus of Lipscomb University, Nashville | 401,280
TN | E2007-BUSP-0572 | 412 | Nashville, TN Construct Downtown Nashville Transit Transfer Facility | 300,960
TN | E2007-BUSP-0573 | 30 | Sevier County, Tennessee-U.S. 441 bus rapid transit | 50,160
TN | E2007-BUSP-0574 | 636 | Tennessee Department of Transportation-Statewide Tennessee Transit ITS and Bus Replacement Project | 2,856,000
TN | E2007-BUSP-0575 | 649 | University of Memphis-Pedestrian Bridge | 714,000
TX | E2007-BUSP-0576 | 426 | Abilene, TX Vehicle replacement and facility improvements for transit system | 80,256
TX | E2007-BUSP-0577 | 480 | Brownsville Urban System, TX—City-Wide Transit Improvement Project | 952,000
TX | E2007-BUSP-0578 | 162 | Brownsville, TX Brownsville Urban System City-Wide Transit Improvement Project | 501,600
TX | E2007-BUSP-0579 | 153 | Bryan, TX The District-Bryan Intermodal Transit Terminal and Parking Facility | 601,920
TX | E2007-BUSP-0580 | 485 | Capital Metropolitan Transportation Authority, TX-Bus Replacements | 2,380,000
TX | E2007-BUSP-0581 | 455 | Carrollton, Texas Downtown Regional Multimodal Transit Hub | 240,000
TX | E2007-BUSP-0582 | 506 | City of Round Rock, TX-Downtown Intermodal Transportation Terminal | 238,000
TX | E2007-BUSP-0583 | 111 | Construct West Houston and Fort Bend County, Texas-bus transit corridor | 401,280
TX | E2007-BUSP-0584 | 438 | Corpus Christi, TX Corpus Regional Transit Authority for maintenance facility improvements | 501,600
TX | E2007-BUSP-0585 | 515 | Dallas Area Rapid Transit-Bus passenger Facilities | 238,000
TX | E2007-BUSP-0586 | 336 | Dallas, TX Bus Passenger Facilities | 2,568,192
TX | E2007-BUSP-0587 | 196 | Design Downtown Carrollton, Texas Regional Multi-Modal Transit Hub Station | 401,280
TX | E2007-BUSP-0588 | 290 | Galveston, Texas-Intermodal center and parking facility, The Strand | 902,880
TX | E2007-BUSP-0589 | 536 | Harris County-West Houston-Fort Bend Bus Transit Corridor: Uptown Westpark Terminal | 238,000
TX | E2007-BUSP-0590 | 561 | Laredo-North Laredo Transit Hub-Bus Maintenance Facility | 714,000
TX | E2007-BUSP-0591 | 24 | Roma, TX Bus Facility | 105,336
TX | E2007-BUSP-0592 | 610 | San Angelo, TX Street Railroad Company-Transit Fleet Replacement | 238,000
TX | E2007-BUSP-0593 | 210 | San Antonio, TX Improve VIA bus facility and purchase new buses | 1,404,480
TX | E2007-BUSP-0594 | 653 | VIA Metropolitan Transit Authority, TX-Bus & Bus Facility Improvements | 1,190,000
TX | E2007-BUSP-0595 | 63 | Zapata, Texas Purchase Bus vehicles | 62,700
UT | E2007-BUSP-0596 | 178 | Sandy City, UT Construct transit hub station and TRAX station at 9400 South | 401,280
UT | E2007-BUSP-0597 | 651 | Utah Statewide Bus and Bus Facilities | 7,148,000
VA | E2007-BUSP-0598 | 409 | Alexandria, VA Eisenhower Avenue Intermodal Station improvements, including purchase of buses and construction of bus shelters | 501,600
VA | E2007-BUSP-0599 | 232 | Alexandria, VA Royal Street Bus Garage Replacement | 100,320
VA | E2007-BUSP-0600 | 278 | Arlington County, VA Columbia Pike Bus Improvements | 702,240
VA | E2007-BUSP-0601 | 142 | Arlington County, VA Crystal City-Potomac Yard Busway, including construction of bus shelters | 601,920
VA | E2007-BUSP-0602 | 359 | Arlington County, VA Pentagon City Multimodal Improvements | 401,280
VA | E2007-BUSP-0603 | 157 | Bealeton, Virginia-Intermodal Station Depot Refurbishment | 55,176
VA | E2007-BUSP-0604 | 492 | City of Alexandria, VA-City-Wide Transit Improvements | 238,000
VA | E2007-BUSP-0605 | 493 | City of Alexandria, VA-Potomac Yard Transit Improvements | 238,000
VA | E2007-BUSP-0606 | 494 | City of Alexandria, VA-Replace Royal Street Bus Garage | 714,000
VA | E2007-BUSP-0607 | 495 | City of Alexandria, VA-Valley Pedestrian & Transit | 238,000
VA | E2007-BUSP-0608 | 511 | Commonwealth of Virginia-Statewide Bus Capital Program | 3,570,000
VA | E2007-BUSP-0609 | 15 | Fairfax County, VA Richmond Highway (U.S. Route 1) Public Transportation Improvements | 401,280
VA | E2007-BUSP-0610 | 525 | Fairfax County, Virginia-Richmond Highway Initiative | 476,000
VA | E2007-BUSP-0611 | 281 | Falls Church, VA Falls Church Intermodal Transportation Center | 401,280
VA | E2007-BUSP-0612 | 97 | Fredericksburg, Virginia-Improve and repair Fredericksburg Station | 501,600
VA | E2007-BUSP-0613 | 532 | Greater Richmond Transit, VA-Bus Operations/Maintenance Facility | 1,190,000
VA | E2007-BUSP-0614 | 535 | Hampton Roads Transit, VA-Southside Bus Facility | 238,000
VA | E2007-BUSP-0615 | 391 | Hampton Roads, VA Final design and construction for a Hampton Roads Transit Southside Bus Facility | 401,280
VA | E2007-BUSP-0616 | 354 | Norfolk, Virginia-Final Design and Construction Southside Bus Facility | 351,120
VA | E2007-BUSP-0617 | 68 | Northern Neck and Middle Peninsula, Virginia-Bay Transit Multimodal Facilities | 652,080
VA | E2007-BUSP-0618 | 602 | Potomac & Rappahannock Transportation Commission, VA-Buses for Service Expansion | 238,000
VA | E2007-BUSP-0619 | 360 | Richmond, VA Design and construction for a bus operations and maintenance facility for Greater Richmond Transit Company | 300,960
VA | E2007-BUSP-0620 | 184 | Richmond, VA Renovation and construction for Main Street Station | 220,704
VA | E2007-BUSP-0621 | 434 | Roanoke, VA-Bus restoration in the City of Roanoke | 50,160
VA | E2007-BUSP-0622 | 312 | Roanoke, Virginia-Improve Virginian Railway Station | 50,160
VA | E2007-BUSP-0623 | 305 | Roanoke, Virginia-Intermodal Facility | 40,128
VA | E2007-BUSP-0624 | 361 | Roanoke, Virginia-Roanoke Railway and Link Passenger facility | 100,320
VT | E2007-BUSP-0625 | 477 | Brattleborough, VT, Intermodal Center | 200,000
VT | E2007-BUSP-0626 | 486 | CCTA, VT, Bus, Facilities and Equipment | 400,000
VT | E2007-BUSP-0627 | 633 | State of Vermont Buses, Facilities and Equipment | 350,000
WA | E2007-BUSP-0628 | 94 | Ilwaco, WA Procure shuttles for Lewis and Clark National Historical Park | 20,064
WA | E2007-BUSP-0629 | 395 | Ilwaco, WA Construct park and ride | 20,064
WA | E2007-BUSP-0630 | 337 | Island Transit, WA Operations Base Facilities Project | 481,536
WA | E2007-BUSP-0631 | 193 | Mukilteo, WA Multi-Modal Terminal | 1,163,712
WA | E2007-BUSP-0632 | 334 | North Bend, Washington-Park and Ride | 160,512
WA | E2007-BUSP-0633 | 333 | Oak Harbor, WA Multimodal Facility | 200,640
WA | E2007-BUSP-0634 | 613 | Seattle, WA Multimodal Terminal Redevelopment & Expansion | 900,000
WA | E2007-BUSP-0635 | 113 | Snohomish County, WA Community Transit bus purchases and facility enhancement | 601,920
WA | E2007-BUSP-0636 | 151 | Thurston County, WA Replace Thurston County Buses | 180,576
WA | E2007-BUSP-0637 | 654 | Washington Southworth Terminal Redevelopment | 1,150,000
WA | E2007-BUSP-0638 | 655 | Washington, King Street Transportation Center-Intercity Bus Terminal Component | 60,000
WI | E2007-BUSP-0639 | 350 | Milwaukee, WI Rehabilitate Intermodal transportation facility at downtown Milwaukee's Amtrak Station, increase parking for bus passengers | 902,880
WI | E2007-BUSP-0640 | 100 | State of Wisconsin buses and bus facilities | 3,280,464
WI | E2007-BUSP-0641 | 452 | State of Wisconsin Transit Intermodal Facilities | 1,200,000
WI | E2007-BUSP-0642 | 663 | Wisconsin, Statewide Buses and Bus Facilities | 610,000
WV | E2007-BUSP-0643 | 73 | West Virginia Construct Beckley Intermodal Gateway pursuant to the eligibility provisions for projects listed under section 3030(d)(3) of P.L. 105-178 | 4,815,360
WV | E2007-BUSP-0644 | 658 | West Virginia, Statewide Bus and Bus Facilities | 5,000,000
WY | E2007-BUSP-0645 | 665 | Wyoming Department of Transportation-Wyoming Statewide Bus and Bus Related Facilities | 714,000
|  |  | Subtotal | 435,170,089
Ferry Boat Systems Projects:
CA | E2007-BUSP-0646 |  | San Francisco Water Transit Authority | 2,500,000
MA | E2007-BUSP-0647 |  | Massachusetts Bay Transportation Authority Ferry System | 2,500,000
ME | E2007-BUSP-0648 |  | Maine State Ferry Service, Rockland | 650,000
ME | E2007-BUSP-0649 |  | Swans Island, Maine Ferry Service | 350,000
NJ | E2007-BUSP-0650 |  | Camden, New Jersey Ferry System | 1,000,000
NY | E2007-BUSP-0651 |  | Governor's Island, New York Ferry System | 1,000,000
NY | E2007-BUSP-0652 |  | Staten Island Ferry | 1,000,000
PA | E2007-BUSP-0653 |  | Philadelphia Penn's Landing Ferry Terminal | 1,000,000
|  |  | Subtotal | 10,000,000
Other Projects:
--- | E2007-BUSP-0654 |  | Fuel Cell Bus Program | 11,500,000
PA | E2007-BUSP-0655 |  | Bus Testing | 3,000,000
|  |  | Subtotal | 14,500,000
|  |  | Unallocated Amount Transferred from Clean Fuels | 26,279,000
|  |  | Unallocated Amount | 413,291,121
Grand Total |  | 872,961,210
ᵃ This allocation was incorrectly listed as a Georgia project in the Federal Register Notice of February 3, 2006.
ᵇ The State and description for the project listed are incorrectly shown as CA-Monterey Park, CA bus enchancement and improvements - construct maintenance facility and purchase clean-fuel buses to improve transit service. The correct State is IL and the correct project description is Mattoon, Illinois—historic railroad depot restoration/intermodal center in the Federal Register Notice of February 3, 2006.
ᶜ This allocation was incorrectly listed as a Louisiana project in the Federal Register Notice of February 3, 2006.
ᵈ This allocation was incorrectly listed as a Illinois project in the Federal Register Notice of February 3, 2006.
ᵉ This Amount was incorrectly listed as $1,156,699 in Federal Register Notice of February 3, 2006.

Table 13.—Prior Year Unobligated Section 5309 Bus and Bus-Related Facilities Allocations
State | Earmark ID | SAFETEA-LU Project No. | Project | Unobligated allocation
FY 2005 Unobligated Allocations:
AK | E2005-BUSP-000 |  | Alaska Mental Health Trust bus program, Alaska | $189,844
AK | E2005-BUSP-001 |  | Alaska Native Medical Center intermodal bus/parking facility, Alaska | 675,686
AK | E2005-BUSP-002 |  | Anchorage Museum/Transit intermodal depot, Alaska | 1,457,667
AK | E2005-BUSP-004 |  | Anchorage Ship Creek intermodal facility, Alaska | 2,429,445
AK | E2005-BUSP-005 |  | Copper River Transit program, Alaska | 1,457,667
AK | E2005-BUSP-008 |  | Knik Arm intermodal facility terminal, Alaska | 506,764
AK | E2005-BUSP-011 |  | Whittier Intermodal Facility, Alaska | 1,181,937
AL | E2005-BUSP-012 |  | Alabama State Docks intermodal facility, Alabama | 3,378,430
AL | E2005-BUSP-013 |  | Birmingham Intermodel Facility-Phase II, Alabama | 3,401,224
AL | E2005-BUSP-014 |  | City of Orange Beach senior activity bus, Alabama | 33,784
AL | E2005-BUSP-016 |  | Jacksonville State University buses, Alabama | 1,943,557
AL | E2005-BUSP-018 |  | Oakwood College shuttle bus project, Alabama | 90,572
AL | E2005-BUSP-021 |  | Vans, CASA of Marshall County, Alabama | 97,177
AR | E2005-BUSP-023 |  | Arkansas Statewide buses and bus facilities | 6,893,126
AR | E2005-BUSP-024 |  | CATA bus replacement, Arkansas | 388,711
AZ | E2005-BUSP-027 |  | Coconino County-Sedona bus system, Arizona | 800,000
CA | E2005-BUSP-035 |  | Bellflower Dial-a-Ride, California | 116,614
CA | E2005-BUSP-709 |  | Los Angeles County Metropolitan Transportation Authority for bus and bus facility improvements | ᵃ ᵍ 728,834
CA | E2005-BUSP-036 |  | Calabasas Transit, California | 485,888
CA | E2005-BUSP-037 |  | Catalina Transit Terminal, Redondo Beach, California | 971,779
CA | E2005-BUSP-041 |  | Downtown transit center ITS, California | 97,177
CA | E2005-BUSP-044 |  | Elk Grove Park and Ride Facilities, California | 971,779
CA | E2005-BUSP-045 |  | Fairfield/Vacaville Intermodal Transit Station, California | 485,888
CA | E2005-BUSP-046 |  | Fresno Area Express bus program, California | 971,779
CA | E2005-BUSP-048 |  | Hemet Transit Center bus facility, California | 340,123
CA | E2005-BUSP-049 |  | I-15 Managed Lanes/Bus Rapid Transit, San Diego, California | 1,652,023
CA | E2005-BUSP-050 |  | LAVTA buses and bus facilities, California | 168,921
CA | E2005-BUSP-051 |  | LAVTA satellite maintenance, operations and administrative facility, California | 101,353
CA | E2005-BUSP-054 |  | Los Angeles Trade Tech intermodal links with bus and Metro, California | 485,888
CA | E2005-BUSP-055 |  | Los Angeles Valley College bus station extension, California | 485,888
CA | E2005-BUSP-058 |  | Modesto bus facility, California | 337,843
CA | E2005-BUSP-060 |  | Municipal Transit Operators Coalition, California | 971,779
CA | E2005-BUSP-061 |  | Napa Transit Center construction, California | 485,888
CA | E2005-BUSP-063 |  | Palm Springs bus station relocation, California | 29,154
CA | E2005-BUSP-064 |  | Palo Alto Intermodal Transit Center, California | 728,834
CA | E2005-BUSP-065 |  | Riverbank vehicle garage renovation, California | 121,472
CA | E2005-BUSP-071 |  | San Luis Rey Transit Center, California | 388,711
CA | E2005-BUSP-072 |  | Santa Clara VTA bus signal priority project, California | 728,834
CA | E2005-BUSP-077 |  | South Gate Clean Air buses, California | 242,945
CA | E2005-BUSP-083 |  | Transit Oriented Neighborhood Program, California | 121,541
CO | E2005-BUSP-089 |  | Colorado Statewide buses and bus facilities | 2,738,091
CT | E2005-BUSP-090 |  | Bridgeport Intermodal Transportation Center, Connecticut | 583,427
CT | E2005-BUSP-092 |  | Hartford/New Britain Busway, Connecticut | 3,887,113
CT | E2005-BUSP-093 |  | Pulse Point Joint Development safety improvements, Connecticut | 168,921
CT | E2005-BUSP-094 |  | Stamford Urban Transitway Phase II, Connecticut | 5,830,669
CT | E2005-BUSP-095 |  | Waterbury bus maintenance facility, Connecticut | 485,888
CT | E2005-BUSP-096 |  | West Haven/Orange Intermodal Facility, Connecticut | 971,779
DC | E2005-BUSP-098 |  | Union Station Intermodal Transportation Center, Washington, DC | 728,834
DE | E2005-BUSP-099 |  | Delaware Statewide buses and bus facilities | 1,278,334
FL | E2005-BUSP-710 |  | Bus stop, bus pullout and transit improvements consistent with the City of Ft. Lauderdale Community Redevelopment Agency plan | ᵇ ᵍ 971,779
FL | E2005-BUSP-101 |  | DeBary Intermodal Transportation Facility, Florida | 242,945
FL | E2005-BUSP-103 |  | Gainesville Regional Airport multi-modal facility, Florida | 291,534
FL | E2005-BUSP-105 |  | Hillsborough Area Regional Transit (HART), Florida | 485,888
FL | E2005-BUSP-106 |  | Homestead East-West bus connector, Florida | 242,945
FL | E2005-BUSP-110 |  | Miami Beach Intermodal Greenway Transit Facility, Florida | 680,245
FL | E2005-BUSP-111 |  | Miami Beach Intermodal Transit Facility, Florida | 680,245
FL | E2005-BUSP-112 |  | Miami Intermodal Center, Florida | 5,830,669
FL | E2005-BUSP-113 |  | Miami-Dade County bus procurement, Florida | 485,888
FL | E2005-BUSP-114 |  | Miramar Parkway transit shelter enhancements, Florida | 97,177
FL | E2005-BUSP-116 |  | North Florida and West Coast Transit Coalition Bus Acquisition | 834,466
FL | E2005-BUSP-119 |  | Putnam County RideSolutions buses and bus facilities, Florida | 1,457,667
FL | E2005-BUSP-121 |  | Southwest Broward bus facility, Florida | 1,166,133
FL | E2005-BUSP-124 |  | St. Petersburg intermodal facility, Florida | 485,888
FL | E2005-BUSP-126 |  | Trolley System, Boynton Beach, Florida | 242,945
GA | E2005-BUSP-130 |  | Atlantic Station, Georgia | 1,068,956
GA | E2005-BUSP-700 |  | Georgia Regional Transportation Authority (GRTA) | 4,373,003
GA | E2005-BUSP-135 |  | Moultrie Intermodal Facility, Georgia | 485,888
IA | E2005-BUSP-144 |  | UNI multimodal project, Iowa | 2,797,380
ID | E2005-BUSP-145 |  | Idaho Transit Coalition Statewide buses and bus facilities | 1,069,753
IL | E2005-BUSP-146 |  | Bus facilities for Bloomington, Macomb, Peoria, and Rock Island (from Illinois Statewide buses and bus facilities) | 1,181,668
IL | E2005-BUSP-147 |  | Champaign Day Care Center/Park-n-Ride (from Illinois Statewide buses and bus facilities) | 728,834
IL | E2005-BUSP-148 |  | City of Chicago's Free Trolley System (from Illinois Statewide buses and bus facilities) | 728,833
IL | E2005-BUSP-149 |  | Downstate Illinois replacement buses (from Illinois Statewide buses and bus facilities) | 2,915,335
IN | E2005-BUSP-155 |  | Citilink, Indiana | 514,687
IN | E2005-BUSP-157 |  | Ivy Tech State College multmodal facility, Indiana | 485,888
KS | E2005-BUSP-164 |  | Kansas statewide bus and bus facilities | 491,839
KS | E2005-BUSP-165 |  | Lawrence Transit System maintenance facility, Kansas | 388,711
KS | E2005-BUSP-166 |  | Regional maintenance/paratransit scheduling facility, Kansas | 777,422
KS | E2005-BUSP-167 |  | Wichita Transit Authority buses and bus facilities, Kansas | 242,945
KY | E2005-BUSP-171 |  | Manchester, Clay County Intermodal Facility, Kentucky | 1,943,557
KY | E2005-BUSP-172 |  | Murray/Calloway County Transit Authority, Kentucky | 1,447,701
KY | E2005-BUSP-175 |  | Southern and Eastern Kentucky buses and bus facilities | 500,000
KY | E2005-BUSP-177 |  | Transit Authority of River City, Louisville, Kentucky | 203,212
KY | E2005-BUSP-178 |  | University of Louisville bus shuttle program, Kentucky | 2,429,445
LA | E2005-BUSP-180 |  | Louisiana Statewide buses and bus facilities | 3,417,992
MA | E2005-BUSP-183 |  | Attleboro Intermodal Transportation Center, Massachusetts | 1,943,557
MA | E2005-BUSP-190 |  | Lechmere Station intermodal, Massachusetts | 971,779
MA | E2005-BUSP-194 |  | Salem Intermodal Center improvement project, Massachusetts | 971,779
MA | E2005-BUSP-195 |  | Springfield Union Station, Springfield, Massachusetts | 6,505,083
MA | E2005-BUSP-196 |  | UMass Transit RTIC and training facility, Massachusetts | 3,887,113
MA | E2005-BUSP-197 |  | Wonderland Station improvements, Revere, Massachusetts | 1,943,557
MD | E2005-BUSP-198 |  | Glenmont Metrorail parking garage expansion, Maryland | 485,888
MD | E2005-BUSP-199 |  | Howard County Transit repair facility, Maryland | 485,888
MD | E2005-BUSP-200 |  | Maryland Statewide buses and bus facilities | 3,609,668
MD | E2005-BUSP-201 |  | Rockville Town Center transit project, Maryland | 971,779
ME | E2005-BUSP-206 |  | Millinocket Airport transfer bus project, Maine | 34,012
MI | E2005-BUSP-207 |  | Allegan County Transportation, Michigan | 1,132,067
MI | E2005-BUSP-209 |  | Ann Arbor Transit Authority (AATA) transit center, Michigan | 337,843
MI | E2005-BUSP-223 |  | Harbor Transit, Michigan | 194,357
MI | E2005-BUSP-237 |  | Muskegon Area Transit System, Michigan | 485,888
MN | E2005-BUSP-246 |  | Como Rider program, Minnesota | 1,457,667
MN | E2005-BUSP-248 |  | Greater Minnesota Transit | 112,000
MN | E2005-BUSP-711 |  | White Earth Tribal Nation bus and bus related activities, MN | ᶜ ᵍ 971,779
MO | E2005-BUSP-258 |  | Missouri statewide bus and bus facilities | 855,797
MO | E2005-BUSP-259 |  | Southern Missouri buses and bus facilities | 320,297
MS | E2005-BUSP-260 |  | Harrison County HOV/Bus rapid transit Canal Road intermodal connector, Mississippi | 1,943,557
MS | E2005-BUSP-704 |  | City of Jackson, Mississippi | ᵈ 2,915,334
MS | E2005-BUSP-263 |  | Mississippi Valley State University mass transit program expansion, Mississippi | 194,357
MT | E2005-BUSP-266 |  | Billings public bus and medical transfer facility, Montana | 2,429,445
NC | E2005-BUSP-268 |  | Chapel Hill replacement buses, North Carolina | 24,422
NC | E2005-BUSP-269 |  | Charlotte Multi-modal Transportation Center, North Carolina | 17,839
NC | E2005-BUSP-271 |  | North Carolina Statewide buses and bus facilities | 2,682,851
NC | E2005-BUSP-272 |  | Triangle Transit Authority replacement buses, North Carolina | 971,779
ND | E2005-BUSP-273 |  | North Dakota Statewide buses and bus facilities | 626,797
NE | E2005-BUSP-274 |  | Kearney RYDE Transit, Nebraska | 1,020,367
NJ | E2005-BUSP-280 |  | Bergen Intermodal Stations and Park N'Rides, New Jersey | 1,943,557
NJ | E2005-BUSP-281 |  | Englewood bus purchase, New Jersey | 364,417
NJ | E2005-BUSP-285 |  | Park and Ride for the Edison Train Station, New Jersey | 971,779
NM | E2005-BUSP-289 |  | New Mexico Statewide bus and bus facilities | 93,097
NM | E2005-BUSP-291 |  | West Side transit facility, New Mexico | 371,779
NV | E2005-BUSP-292 |  | Bus Rapid Transit, Virginia Street Phase 1, Nevada | 291,779
NV | E2005-BUSP-294 |  | Las Vegas buses, Nevada | 971,779
NY | E2005-BUSP-296 |  | Boro Park JCC bus purchase, New York | 194,357
NY | E2005-BUSP-297 |  | Brookhaven Town Senior Citizen Jitney Bus, New York | 121,472
NY | E2005-BUSP-298 |  | Broome County hybrid buses, New York | 1,554,845
NY | E2005-BUSP-300 |  | Bus Facility, 65th Street Intermodal Station, New York | 7,288,337
NY | E2005-BUSP-301 |  | Central New York Regional Transportation Authority, New York | 3,158,279
NY | E2005-BUSP-302 |  | Fort Edward Intermodal Station, New York | 291,534
NY | E2005-BUSP-303 |  | Irvington Intermodal Upgrades, New York | 242,945
NY | E2005-BUSP-304 |  | Jacobi Transportation Facility, New York | 971,779
NY | E2005-BUSP-305 |  | Jamaica Intermodal Facilities, New York | 1,943,557
NY | E2005-BUSP-306 |  | JCC of Coney Island Bus Purchase, New York | 97,177
NY | E2005-BUSP-308 |  | Pelham Intermodal Improvements, New York | 485,888
NY | E2005-BUSP-309 |  | Renaissance Square, New York | 6,316,558
NY | E2005-BUSP-310 |  | Rochester Central Bus Terminal, New York | 5,441,959
NY | E2005-BUSP-311 |  | Senior Bus Service Bus Replacement, North Hempstead, New York | 291,534
NY | E2005-BUSP-314 |  | Sullivan County buses and bus facilities, New York | 485,888
NY | E2005-BUSP-316 |  | Tuckahoe Intermodal Improvements, New York | 38,872
NY | E2005-BUSP-317 |  | Ulster County Hybrid Buses, New York | 1
NY | E2005-BUSP-318 |  | Westchester County Bee Line Bus Replacement, New York | 3,887,113
NY | E2005-BUSP-319 |  | White Plains Downtown Circulator, New York | 242,945
OH | E2005-BUSP-321 |  | Central Ohio Transit Authority Paratransit Facility | 534,478
OH | E2005-BUSP-322 |  | Central Ohio Transity Authority ITS Phase III | 194,357
OH | E2005-BUSP-323 |  | Cincinnati Local Community bus enhancements, Ohio | 777,422
OH | E2005-BUSP-324 |  | Cleveland Clinic Pedestrian Access Tunnel, Ohio | 971,779
OH | E2005-BUSP-325 |  | Cuyahoga County Plan for Senior Transportation, Ohio | 971,779
OH | E2005-BUSP-328 |  | Ohio statewide buses and bus facilities | 529,163
OH | E2005-BUSP-330 |  | TARTA/TARPS Intermodal Facility, Ohio | 1,457,667
OK | E2005-BUSP-331 |  | Lawton buses and bus facilities, Oklahoma | 201,158
OK | E2005-BUSP-333 |  | Northern Oklahoma regional multimodal facilities and transit system, Oklahoma | 4,858,891
OK | E2005-BUSP-334 |  | Oklahoma DOT Transit Program, Oklahoma | 2,300,771
OK | E2005-BUSP-706 |  | Tulsa transit buses and equipment/Tulsa Transit Multi-use facility in Tulsa, Oklahoma | ᵉ 1,943,557
OR | E2005-BUSP-338 |  | Lewis and Clark explorer shuttle parking, Oregon | 485,888
OR | E2005-BUSP-341 |  | South Metro Area Rapid Transit park-and-ride facility and transit center, Oregon | 485,888
OR | E2005-BUSP-343 |  | Yamhill County Transit bus and bus facilities, Oregon | 81,028
PA | E2005-BUSP-346 |  | Ardmore transit center, Pennsylvania | 5,404,669
PA | E2005-BUSP-347 |  | Area Transit Authority, Pennsylvania | 1,384,784
PA | E2005-BUSP-348 |  | Area Transportation Authority of North Central Pennsylvania passenger terminal, Pennsylvania | 766,724
PA | E2005-BUSP-357 |  | Cruise Terminal Intermodal Facility, Pennsylvania | 485,888
PA | E2005-BUSP-360 |  | Harrisburg Transportation Center, Pennsylvania | 971,779
PA | E2005-BUSP-362 |  | Incline Plane Cable Replacement, Johnstown, Pennsylvania | 116,614
PA | E2005-BUSP-363 |  | Mid Mon Valley Transit Authority, Charleroi, Pennsylvania | 585,013
PA | E2005-BUSP-364 |  | Mid-County Transit Authority Kittanning, Pennsylvania | 213,792
PA | E2005-BUSP-366 |  | Northumberland County Transportation, Pennsylvania | 97,177
PA | E2005-BUSP-368 |  | Union Station Intermodal Trade and Transit Center, Schuylkill County, Pennsylvania | 1,943,557
PA | E2005-BUSP-369 |  | Union/Snyder Transportation Alliance, Union County, Pennsylvania | 1,457,667
PR | E2005-BUSP-372 |  | Carolina Mini-Buses, Puerto Rico | 1,846,378
RI | E2005-BUSP-373 |  | Elmwood Facility Expansion, Rhode Island | 1,943,557
SC | E2005-BUSP-376 |  | South Carolina Statewide buses and bus facilities | 858,714
TN | E2005-BUSP-381 |  | Memphis Airport Intermodal Facility, Tennessee | 2,915,334
TN | E2005-BUSP-382 |  | Southeast Tennessee Human Resource Agency | 728,834
TN | E2005-BUSP-383 |  | Tennessee Statewide buses and bus facilities | 3,714,644
TX | E2005-BUSP-386 |  | Brazos Transit District passenger shelter program, Texas | 485,888
TX | E2005-BUSP-387 |  | Bryan Intermodel Transit Terminal with Parking, Texas | 317,061
TX | E2005-BUSP-388 |  | Bryan/College Station Bus Replacement Program, Texas | 1,259,424
TX | E2005-BUSP-389 |  | Capital Metro North Operating Facility, Texas | 405,411
TX | E2005-BUSP-390 |  | Capitol Metro buses and bus facilities, Texas | 675,686
TX | E2005-BUSP-392 |  | CNG bus replacement, Texas | 388,711
TX | E2005-BUSP-393 |  | Corpus Christi buses and bus facilities, Texas | 691,008
TX | E2005-BUSP-395 |  | Denton Downtown multimodal transit facility, Texas | 3,109,690
TX | E2005-BUSP-396 |  | EL Paso buses, Texas | 1
TX | E2005-BUSP-399 |  | Houston METRO, Park and Rides, Texas | 4,581,945
TX | E2005-BUSP-401 |  | Hunt County Committee on Aging Transit Vehicles, Texas | 971,779
TX | E2005-BUSP-403 |  | Laredo Bus Hub and Maintenance Facility, Texas | 1,943,557
TX | E2005-BUSP-405 |  | The Woodlands Capital Cost of Contracting Program, Texas | 437,301
TX | E2005-BUSP-406 |  | Waco Transit Alternative Fueled Bus Purchase, Texas | 3,887,113
VA | E2005-BUSP-415 |  | Hampton Roads Transit New Maintenance Facilities, Virginia | 2,186,501
VA | E2005-BUSP-416 |  | I-66/Vienna Metrorail Accessibility Improvements, Virginia | 583,067
VA | E2005-BUSP-417 |  | James City County natural gas buses, Virginia | 815,334
VA | E2005-BUSP-419 |  | Potomac Yard Transit Way, Virginia | 777,422
VT | E2005-BUSP-712 |  | Connecticut River Transit for bus and bus related projects in Southeastern Vermont | ᵃᵇ 1,943,557
VT | E2005-BUSP-425 |  | Vermont Statewide buses and bus facilities | 700,481
WA | E2005-BUSP-426 |  | Ben Franklin Transit Facility Improvements, Washington | 1,020,367
WA | E2005-BUSP-429 |  | Community Transit Bus and Van Replacement, Washington | 971,779
WA | E2005-BUSP-430 |  | Edmonds Crossing Mulitmodal Transportation Project, Washington | 337,843
WA | E2005-BUSP-433 |  | Grant Transit Authority vehicle replacement, Washington | 777,422
WA | E2005-BUSP-438 |  | Jefferson Transit operations/maintenance facility, Washington | 202,706
WA | E2005-BUSP-441 |  | King County Metro, King County Airfield Transfer Area, Washington | 1,443,557
WA | E2005-BUSP-446 |  | Pierce Transit Base expansion, Washington | 971,779
WA | E2005-BUSP-447 |  | Port Angeles International Gateway Center, Washington | ᶠ 971,779
WA | E2005-BUSP-437 |  | Jefferson Transit (Washington Small Bus System Program of Projects, Washington) | 728,834
Subtotal FY 2005 Unobligated Allocations | $249,592,772
FY 2006 Unobligated Allocations:
AK | E-2006-BUSP-000 |  | Alaska Native Medical Center intermodal bus/parking facility | 742,500
AK | E-2006-BUSP-001 | 427 | Alaska Native Medical Center intermodal parking facility | 1,138,500
AK | E-2006-BUSP-002 | 466 | Anchorage-Transit Needs | 226,710
AK | E-2006-BUSP-003 | 422 | C Street Expanded bus facility and inter-modal parking garage, Anchorage, AK | 1,138,500
AK | E-2006-BUSP-004 | 425 | CITC Non-profit Services Center inter-modal parking facility, Anchorage, AK | 683,100
AK | E-2006-BUSP-005 | 541 | Hoonah, AK-Intermodal Ferry Dock | 453,420
AK | E-2006-BUSP-006 | 416 | Improve marine inter-modal facilities in Ketchikan | 3,187,800
AK | E-2006-BUSP-007 | 236 | Juneau, Alaska-transit bus acquisition and transit center | 341,550
AK | E-2006-BUSP-008 | 550 | Juneau-Transit Bus Acquisition and Transit Center | 340,560
AK | E-2006-BUSP-009 | 553 | Ketchikan, Alaska-Transit Needs | 56,430
AK | E-2006-BUSP-010 | 574 | Matsu, Alaska-Transit Needs | 113,850
AK | E-2006-BUSP-011 | 423 | Morris Thompson Cultural and Visitors Center intermodal parking facility, Fairbanks, AK | 569,250
AK | E-2006-BUSP-012 | 596 | North Slope Borough, AK-Transit Purposes | 453,420
AK | E-2006-BUSP-013 | 597 | North Star Borough, AK-Transit Purposes | 226,710
AK | E-2006-BUSP-014 | 616 | Sitka, Alaska-Transit Needs | 56,430
AK | E-2006-BUSP-015 |  | Skagway Intermodal facility, Alaska | 425,793
AK | E-2006-BUSP-016 | 664 | Wrangell, AK-Ferry Infrastructure | 226,710
AL | E-2006-BUSP-018 | 461 | Alabama Institute for Deaf and Blind-Bus project | 113,850
AL | E-2006-BUSP-019 |  | Alabama State Docks Choctaw Point Terminal | 2,138,400
AL | E-2006-BUSP-020 | 462 | Alabama State Port Authority-Choctaw Point Terminal | 4,536,180
AL | E-2006-BUSP-021 | 437 | American Village/Montevallo, Alabama construction of closed loop Access Road, bus lanes and parking facility | 76,143
AL | E-2006-BUSP-329 | 469 | Auburn University-Intermodal Parking Garage | 906,840
AL | E-2006-BUSP-022 | 98 | Birmingham, AL Expansion of Downtown Intermodal Facility, Phase II | 380,714
AL | E-2006-BUSP-023 | 496 | City of Birmingham, AL-Birmingham Downtown Intermodal Terminal, Phase II | 1,133,550
AL | E-2006-BUSP-024 | 501 | City of Huntsville, AL-Cummings Park Intermodal Center | 1,133,550
AL | E-2006-BUSP-026 | 504 | City of Montgomery, AL-Montgomery Airport Intermodal Center | 906,840
AL | E-2006-BUSP-027 | 507 | City of Tuscaloosa, AL-Intermodal Facility | ʰ 1,360,260
AL | E-2006-BUSP-028 |  | Family Connection of Shelby County Trans Project, AL | 49,500
AL | E-2006-BUSP-029 |  | Gadsden State Community College Transit Project, AL | 594,000
AL | E-2006-BUSP-030 | 528 | Gadsden, AL-Community Buses | 113,850
AL | E-2006-BUSP-032 |  | Lawson State Community College, Alabama | 445,500
AL | E-2006-BUSP-033 | 582 | Mobile County, AL Commission-Bus project | 113,850
AL | E-2006-BUSP-034 |  | Mobile Waterfront Infrastructure Development, AL | 594,000
AL | E-2006-BUSP-036 |  | Trolley Plaza, AL | 123,750
AL | E-2006-BUSP-037 | 644 | University of Alabama in Birmingham Intermodal Facility | 1,587,960
AL | E-2006-BUSP-038 | 645 | University of Alabama in Huntsville Intermodal Facility | 1,360,260
AL | E-2006-BUSP-039 | 646 | University of Alabama Intermodal Facility South | 2,041,380
AL | E-2006-BUSP-040 | 647 | University of Alabama Transit System | 340,560
AL | E-2006-BUSP-041 | 650 | US Space and Rocket Center, AL-Tramway Expansion | 226,710
AR | E-2006-BUSP-042 | 487 | Central Arkansas Transit Authority Facility Upgrades | 445,500
AR | E-2006-BUSP-044 | 231 | Harrison, Arkansas-Trolley Barn | 7,614
AR | E-2006-BUSP-045 |  | State of Arkansas-Bus and Bus Facilities | 3,960,000
AZ | E-2006-BUSP-047 |  | Coconino County Bus Facilities, AZ | 990,000
AZ | E-2006-BUSP-048 | 304 | Coconino County buses and bus facilities for Flagstaff, AZ | 237,947
AZ | E-2006-BUSP-049 | 229 | Coconino County, Arizona-Bus and bus facilities for the Sedona Transit System | 180,839
AZ | E-2006-BUSP-050 |  | East Valley Bus Maintenance Facility, AZ | 990,000
AZ | E-2006-BUSP-051 |  | Intermodal Center, Scottsdale, AZ | 801,900
AZ | E-2006-BUSP-052 | 47 | Phoenix, AZ Construct City of Phoenix para-transit facility (Dial-A-Ride) | 190,357
AZ | E-2006-BUSP-053 | 346 | Phoenix, AZ Construct metro bus facility in Phoenix's West Valley | 951,786
AZ | E-2006-BUSP-054 | 150 | Phoenix, AZ Construct regional heavy bus maintenance facility | 190,357
AZ | E-2006-BUSP-055 |  | Phoenix/Avondale/Glendale Bus Expansion, Arizona | 1,485,000
AZ | E-2006-BUSP-056 |  | Phoenix/Glendale West Valley Operating Facility, Arizona | 990,000
AZ | E-2006-BUSP-057 | 26 | Scottsdale, Arizona-Plan, design, and construct intermodal center | 475,893
AZ | E-2006-BUSP-1113 |  | Bio-diesel vehicles in Tucson, AZ | ⁱ 1,980,000
AZ | E-2006-BUSP-059 | 203 | Tempe, Arizona-Construct East Valley Metro Bus Facility | 1,237,322
AZ | E-2006-BUSP-060 |  | Tucson SunTran Alternative Fuel Bus Replacement, AZ | 1,485,000
AZ | E-2006-BUSP-061 |  | Tucson SunTran Bus Storage and Maintenance Facility, AZ | 4,950,000
CA | E-2006-BUSP-062 |  | ADA Paratransit Vehicles, San Diego, CA | 495,000
CA | E-2006-BUSP-065 | 398 | Amador County, California-Regional Transit Center | 190,357
CA | E-2006-BUSP-066 | 76 | Baldwin Park, CA Construct vehicle and bicycle parking lot and pedestrian rest area at transit center | 380,714
CA | E-2006-BUSP-067 | 227 | Berkeley, CA Construct Ed Roberts Campus Intermodal Transit Disability Center | 571,072
CA | E-2006-BUSP-068 |  | Blue Line Trolley Shelter Improvements, CA | 346,500
CA | E-2006-BUSP-069 |  | Burbank Airport Hybrid Shuttle Demonstration Project, CA | 495,000
CA | E-2006-BUSP-070 | 119 | Burbank, CA CNG Transit Vehicles Purchase for Local Transit Network Expansion | 85,661
CA | E-2006-BUSP-071 | 396 | Burbank, CA Construction of Empire Area Transit Center near Burbank Airport | 47,589
CA | E-2006-BUSP-072 | 190 | Calexico, CA Purchase new buses for the Calexico Transit System | 57,107
CA | E-2006-BUSP-073 | 132 | Carson, CA Purchase one bus | 47,589
CA | E-2006-BUSP-074 | 407 | Carson, CA Purchase one trolley-bus vehicle | 47,589
CA | E-2006-BUSP-075 | 108 | Carson, CA Purchase two transfer facility | 95,179
CA | E-2006-BUSP-076 | 54 | City of Alameda, CA Plan, design, and construct intermodal facility | 380,714
CA | E-2006-BUSP-077 | 155 | City of Livermore, CA Construct Bus Facility for Livermore Amador Valley Transit Authority | 428,304
CA | E-2006-BUSP-078 |  | City of Modesto's Bus Maintenance Facility, CA | 495,000
CA | E-2006-BUSP-079 |  | Construct bus shelters in Bellflower, CA | 247,500
CA | E-2006-BUSP-080 |  | Corona Transit Center, CA | 495,000
CA | E-2006-BUSP-081 | 158 | Covina, El Monte, Baldwin Park, Upland, CA Parking and Electronic Signage Improvements | 333,125
CA | E-2006-BUSP-082 | 207 | Culver City, CA Purchase compressed natural gas buses and expand natural gas fueling facility | 704,322
CA | E-2006-BUSP-083 | 17 | Davis, CA Davis Multi-Modal Station to improve entrance to Amtrak Depot and parking lot, provide additional parking and improve service | 190,357
CA | E-2006-BUSP-084 | 11 | Development of Gold Country Stage Transit Transfer Center, Nevada County, CA | 177,093
CA | E-2006-BUSP-087 |  | Ed Roberts Campus, Berkeley, CA | 297,000
CA | E-2006-BUSP-088 |  | El Garces Intermodal Station, Needles, CA | 1,980,000
CA | E-2006-BUSP-089 | 101 | Emeryville, CA Expand & Improve Inter-modal Transit Center at Amtrak Station | 190,357
CA | E-2006-BUSP-091 |  | Fairfield/Vacaville Intermodal Station, CA | 495,000
CA | E-2006-BUSP-092 |  | Foothill Transit, San Gabriel Valley, CA | 3,267,000
CA | E-2006-BUSP-093 | 387 | Fresno, CA-Develop program of low-emission transit vehicles | 190,357
CA | E-2006-BUSP-094 | 260 | Gardena, CA Purchase of alternative fuel buses for service expansion, on-board security system and bus facility training equipment | 1,166,889
CA | E-2006-BUSP-095 | 212 | Glendale, CA Construction of Downtown Streetcar Project | 190,357
CA | E-2006-BUSP-096 | 1 | Glendale, CA Purchase of CNG Buses for Glendale Beeline Transit System | 87,945
CA | E-2006-BUSP-097 |  | Golden Empire Transit traffic signal priority project, CA | 247,500
CA | E-2006-BUSP-098 |  | Greater Sacramento Regional Bus Replacement/Bus Facility Expansion, CA | 990,000
CA | E-2006-BUSP-099 | 414 | Hercules, CA Inter-modal Rail Station Improvements | 285,536
CA | E-2006-BUSP-1107 |  | Intermodal Park and Ride Facility at Discovery Science Center, Santa Ana, CA | ʲ 297,000
CA | E-2006-BUSP-101 |  | Intermodal Transit Center, Bell Gardens, CA | 396,000
CA | E-2006-BUSP-103 |  | La Habra Shuttle Senior Transportation Program, CA | 155,430
CA | E-2006-BUSP-104 |  | Lakewood Bus Stop Improvements, Lakewood, California | 396,000
CA | E-2006-BUSP-105 |  | Livermoore Amador Valley Satellite Maintenance and Operations Facility, California | 990,000
CA | E-2006-BUSP-106 |  | Long Beach Transit Bus Purchase, California | 742,500
CA | E-2006-BUSP-107 | 276 | Long Beach, Ca Museum of Latin American Art, Long Beach, to build intermodal park and ride facility | 380,714
CA | E-2006-BUSP-108 | 332 | Long Beach, CA Park and Ride Facility | 190,357
CA | E-2006-BUSP-109 | 295 | Long Beach, CA Purchase one larger (75. passengers) and two smaller (40 passengers) ferryboats and construct related dock work to facilitate the use and accessibility of the ferryboats | 571,072
CA | E-2006-BUSP-110 | 410 | Long Beach, CA Purchase ten clean fuel buses | 571,072
CA | E-2006-BUSP-111 | 443 | Los Angeles County Metropolitan Transit Authority, CA capital funds for facility improvements to support the Cal State Northridge tram system | 61,866
CA | E-2006-BUSP-112 |  | Los Angeles Valley College Bus Station Extension, California | 742,500
CA | E-2006-BUSP-113 | 140 | Los Angeles, CA Crenshaw Bus Rapid Transit | 1,623,366
CA | E-2006-BUSP-114 | 223 | Los Angeles, CA Design and construct improved transit and pedestrian linkages between Los Angeles Community College and nearby MTA rail stop and bus lines | 285,536
CA | E-2006-BUSP-115 | 307 | Los Angeles, CA Improve safety, mobility and access between LATTC, Metro line and nearby bus stops on Grand Ave between Washington and 23rd | 95,179
CA | E-2006-BUSP-116 | 121 | Los Angeles, CA Improve transit shelters, sidewalks lighting and landscaping around Cedar's-Sinai Medical Center | 285,536
CA | E-2006-BUSP-118 | 36 | Los Angeles, CA Wilshire-Vermont subway station reconstruction | 190,357
CA | E-2006-BUSP-119 | 6 | Los Angeles, CA, Construction of Intermodal Transit Center at California State University Los Angeles | 150,382
CA | E-2006-BUSP-120 | 567 | Los Angeles, CA, Fly-Away Bus System Expansion | 495,000
CA | E-2006-BUSP-121 | 566 | Los Angeles, CA, LAX Intermodal Transportation Center Rail and Bus System Expansion | 495,000
CA | E-2006-BUSP-122 | 311 | Mammoth Lakes, California-Regional Transit Maintenance Facility | 95,179
CA | E-2006-BUSP-123 | 112 | Mariposa, CA-Yosemite National Park CNG-Hydrogen transit buses and facilities | 475,893
CA | E-2006-BUSP-124 | 266 | Martinez, CA Inter-modal Facility Restoration | 285,536
CA | E-2006-BUSP-125 | 285 | Metro Gold Line Foothill Extension Light Rail Transit Project from Pasadena, CA to Montclair, CA | 2,855,358
CA | E-2006-BUSP-126 | 39 | Monrovia, California-Transit Village Project | 571,072
CA | E-2006-BUSP-127 |  | Monrovia, Los Angeles County, CA, Transit Village | 1,485,000
CA | E-2006-BUSP-128 | 200 | Montebello, CA Bus Lines Bus Fleet Replacement Project | 133,250
CA | E-2006-BUSP-130 | 321 | Monterey Park, CA Catch Basins at Transit Stop Installation | 60,915
CA | E-2006-BUSP-131 | 191 | Monterey Park, CA Safety improvements at a bus stop including creation of bus loading areas and street improvements | 304,572
CA | E-2006-BUSP-132 |  | Monterey Salinas Transit, Monterey, California | 396,000
CA | E-2006-BUSP-133 | 375 | Monterey, CA Purchase bus equipment | 190,357
CA | E-2006-BUSP-134 | 43 | Needles, California-El Garces Intermodal Facility | 380,714
CA | E-2006-BUSP-135 |  | New Bus Facility Capital Improvements, California (San Joaquin) | 990,000
CA | E-2006-BUSP-136 | 92 | Norwalk, CA Transit System Bus Procurement and Los Angeles World Airport Remote Fly-Away Facility Project | 152,286
CA | E-2006-BUSP-137 | 392 | Oakland, CA Construct Bay Trail between Coliseum BART station and Martin Luther King, Jr. Regional Shoreline | 171,321
CA | E-2006-BUSP-138 | 352 | Oakland, CA Construct streetscape & intermodal improvements at BART Station Transit Villages | 190,357
CA | E-2006-BUSP-139 |  | OCTA BRT | 1,485,000
CA | E-2006-BUSP-142 | 173 | Ontario, CA Construct Omnitrans Transcenter | 190,654
CA | E-2006-BUSP-143 | 194 | Orange County Transit Authority, California-Security surveillance and monitoring equipment | 1,006,989
CA | E-2006-BUSP-144 | 244 | Orange County, CA Purchase buses for rapid transit | 190,357
CA | E-2006-BUSP-145 | 366 | Orange County, CA Transportation Projects to Encourage Use of Transit to Reduce Congestion | 190,357
CA | E-2006-BUSP-146 |  | Pacific Station Multimodal Facility, Santa Cruz, California | 396,000
CA | E-2006-BUSP-147 |  | Palm Springs Aerial Tramway Bus Project, CA | 594,000
CA | E-2006-BUSP-148 | 45 | Palm Springs, California-Sunline Transit bus purchase | 95,179
CA | E-2006-BUSP-149 | 70 | Palm Springs, California-Sunline Transit: CalStrat-Weststart fuel cell bus program | 190,357
CA | E-2006-BUSP-150 |  | Paramount Easy Rider Clean-Air Buses, Paramount, California | 198,000
CA | E-2006-BUSP-151 | 399 | Pasadena, CA ITS Improvements | 190,357
CA | E-2006-BUSP-395 |  | Placerville Station II | ᵏ 990,000
CA | E-2006-BUSP-152 | 116 | Pleasant Hill, CA Construct Diablo Valley College Bus Transit Center | 285,536
CA | E-2006-BUSP-153 |  | Redondo Beach Coastal Shuttle Transit Vehicles, California | 693,000
CA | E-2006-BUSP-154 | 251 | Redondo Beach, CA Capital Equipment procurement of 12. Compressed Natural Gas (CNG) Transit Vehicles for Coastal Shuttle Services by Beach Cities Transit | 152,286
CA | E-2006-BUSP-155 | 286 | Richmond, CA BART Parking Structure | 951,786
CA | E-2006-BUSP-156 |  | Riverside Transit Center, CA | 742,500
CA | E-2006-BUSP-157 | 171 | Riverside, California-RTA Advanced Traveler Information System | 95,179
CA | E-2006-BUSP-158 |  | Rosemary Children's Services' Transportation Program, California | 74,250
CA | E-2006-BUSP-159 | 189 | Sacramento, CA Bus enhancement and improvements-construct maintenance facility and purchase clean-fuel buses to improve transit service | 380,714
CA | E-2006-BUSP-160 | 84 | Sacramento, CA Construct intermodal station and related improvements | 1,332,500
CA | E-2006-BUSP-162 | 253 | San Bernardino, CA Implement Santa Fe Depot improvements in San Bernardino | 95,179
CA | E-2006-BUSP-164 | 282 | San Diego, CA Completion of San Diego Joint Transportation Operations Center (JTOC) | 380,714
CA | E-2006-BUSP-165 | 314 | San Diego, CA Widen sidewalks and bus stop entrance, and provide diagonal parking, in the Skyline Paradise Hills neighborhood (Reo Drive) | 57,107
CA | E-2006-BUSP-166 | 183 | San Fernando Valley, CA Reseda Blvd. Bus Rapid Transit Route | 114,214
CA | E-2006-BUSP-167 | 127 | San Fernando, CA Purchase CNG buses and related equipment and construct facilities | 578,686
CA | E-2006-BUSP-173 | 341 | San Gabriel Valley, CA-Foothill Transit Park and Rides | 1,808,393
CA | E-2006-BUSP-174 | 254 | San Joaquin, California Regional Rail-Altamont Commuter Express Corridor inter-modal centers | 761,429
CA | E-2006-BUSP-175 | 382 | San Luis Ray, California-Transit Center Project | 95,179
CA | E-2006-BUSP-176 |  | San Luis Rey Transit Center | 495,000
CA | E-2006-BUSP-177 | 145 | Santa Ana, CA Improve Santa Ana transit terminal | 190,357
CA | E-2006-BUSP-178 | 147 | Santa Barbara, CA-Expansion of Regional Intermodal Transit Center | 57,107
CA | E-2006-BUSP-180 | 364 | Santa Monica, CA Construct intermodal park-and-ride facility at Santa Monica College campus on South Bundy Drive near Airport Avenue | 190,357
CA | E-2006-BUSP-181 | 172 | Santa Monica, CA Purchase and service LNG buses for Santa Monica's Big Blue Bus to meet increased ridership needs and reduce emissions | 713,840
CA | E-2006-BUSP-182 |  | Shuttle bus to transport seniors in Bell Gardens, California | 99,000
CA | E-2006-BUSP-183 |  | Simi Valley Public Transit Radio Communications, CA | 247,500
CA | E-2006-BUSP-186 | 27 | Sonoma County, CA Purchase of CNG buses | 95,179
CA | E-2006-BUSP-187 | 401 | South Pasadena, CA Silent Night Grade Crossing Project | 171,321
CA | E-2006-BUSP-188 | 383 | South San Francisco, CA Construction of Ferry Terminal at Oyster Point in South San Francisco to the San Francisco Bay Water Transit Authority | 904,197
CA | E-2006-BUSP-189 |  | Spencer Avenue Bus Transfer Center, Oroville, CA | 346,500
CA | E-2006-BUSP-190 | 388 | Sylmar, CA Los Angeles Mission College Transit Center construction | 47,589
CA | E-2006-BUSP-191 | 315 | Temecula, California-Intermodal Transit Facility | 95,179
CA | E-2006-BUSP-192 | 85 | Torrance Transit System, CA Acquisition of EPA and CARB-certified low emission replacement buses | 571,072
CA | E-2006-BUSP-193 |  | Torrance Transit System, California | 396,000
CA | E-2006-BUSP-195 | 35 | Union City, CA Inter-modal Station, Phase 1: Modify BART station | 809,018
CA | E-2006-BUSP-197 |  | Victor Valley Trans Operation/Maintenance Facility | 742,500
CA | E-2006-BUSP-200 | 195 | Woodland Hills, CA Los Angeles Pierce College Bus Rapid Transit Station Extension | 190,357
CA | E-2006-BUSP-201 | 83 | Woodland, CA Yolobus operations, maintenance, administration facility expansion and improvements to increase bus service with alternative fuel buses | 380,714
CA | E-2006-BUSP-202 |  | Yorba Linda Senior Mobility Program—TRAILS | 40,590
CA | E-2006-BUSP-203 |  | Yosemite Area Regional Transportation System | 247,500
CA | E-2006-BUSP-204 |  | Zero Emission Bus Demonstration, Santa Clara, California | 396,000
CO | E-2006-BUSP-206 | 449 | City of Aspen, CO Bus and Bus Facilities | 133,250
CO | E-2006-BUSP-207 | 448 | City of Durango, CO Bus and Bus Facilities | 47,589
CO | E-2006-BUSP-208 | 509 | Colorado Association of Transit Agencies/Colorado Transit Coalition-Colorado Statewide Buses and Bus Facilities | 4,029,135
CO | E-2006-BUSP-210 | 518 | Denver Regional Transit District-Bus Maintenance Facility | 680,130
CO | E-2006-BUSP-211 | 520 | Denver Regional Transit District-Denver Union Station Multimodal Renovations | 453,420
CO | E-2006-BUSP-212 | 521 | Denver Regional Transit District-US 36 Corridor BRT | 1,587,960
CO | E-2006-BUSP-213 | 167 | Denver, CO Denver Union Station Inter-modal Center | 1,046,965
CO | E-2006-BUSP-216 | 188 | Mountain Express, Crested Butte, CO Bus and Bus Facilities | 95,179
CO | E-2006-BUSP-218 | 445 | Roaring Fork Transit Authority, CO Bus and Bus Facilities | 142,768
CO | E-2006-BUSP-220 | 450 | Town of Snowmass Village, CO Bus and Bus Facilities | 57,107
CT | E-2006-BUSP-222 |  | Bridgeport Intermodal Transport Center, CT | 3,960,000
CT | E-2006-BUSP-223 | 44 | Bridgeport, Connecticut-Greater Bridgeport Transit Authority Bus Facility | 95,179
CT | E-2006-BUSP-224 | 478 | Bridgeport, CT Facility Expansion/Improvement | 346,500
CT | E-2006-BUSP-225 | 90 | Buses and bus related facilities throughout the State of Connecticut | 1,142,143
CT | E-2006-BUSP-226 | 523 | Downtown Middletown, CT, Transportation Infrastructure Improvement Project | 1,980,000
CT | E-2006-BUSP-227 | 218 | Enfield, Connecticut-intermodal station | 571,072
CT | E-2006-BUSP-229 |  | Inter-Modal Center, Middletown, CT | 297,000
CT | E-2006-BUSP-230 | 267 | Middletown, CT Construct intermodal center | 285,536
CT | E-2006-BUSP-231 | 589 | New Haven, CT Bus Maintenance Facility | 1,980,000
CT | E-2006-BUSP-232 | 269 | New London, Connecticut-Intermodal Transportation Center and Streetscapes | 95,179
CT | E-2006-BUSP-233 |  | Northwestern Connecticut Central Transit Facility | 297,000
CT | E-2006-BUSP-234 |  | Norwalk Pulse Point Joint Improvements, CT | 247,500
CT | E-2006-BUSP-235 | 369 | Norwalk, Connecticut-Pulse Point Joint Development inter-modal facility | 95,179
CT | E-2006-BUSP-236 |  | South Norwalk Intermodal Facility, Norwalk, CT | 990,000
CT | E-2006-BUSP-237 |  | Stamford Urban Transitway Phase II, CT | 2,970,000
CT | E-2006-BUSP-238 | 131 | Stonington and Mystic, Connecticut-Intermodal Center parking facility and Streetscape | 464,471
CT | E-2006-BUSP-239 | 32 | Torrington, CT Construct bus-related facility (Northwestern Connecticut Central Transit District) | 380,714
CT | E-2006-BUSP-240 | 270 | Vernon, Connecticut-Intermodal Center, Parking and Streetscapes | 1,446,715
CT | E-2006-BUSP-241 | 657 | Waterbury, CT Bus Maintenance Facility | 1,980,000
DC | E-2006-BUSP-242 |  | Union Station Intermodal Transportation Center, Washington, D.C | 693,000
DC | E-2006-BUSP-243 |  | WMATA Bus Purchase | 1,485,000
DE | E-2006-BUSP-245 |  | Bus Replacement and Facilities, DE | 990,000
FL | E-2006-BUSP-247 |  | 2nd St/Andrews Ave/3rd St Enhancements, Fort Lauderdale, FL | 495,000
FL | E-2006-BUSP-248 |  | 7th Avenue Transit Hub, FL | 396,000
FL | E-2006-BUSP-249 |  | Alternative fuel buses, Broward County, FL | 990,000
FL | E-2006-BUSP-250 | 470 | Bay County, FL-Transit Facility | 453,420
FL | E-2006-BUSP-251 |  | Broward County Alternative Fuel Buses, FL | 113,850
FL | E-2006-BUSP-252 |  | Broward County Southwest Bus Facility, FL | 990,000
FL | E-2006-BUSP-253 | 297 | Broward County, FL-Purchase Buses and construct bus facilities | 380,714
FL | E-2006-BUSP-254 | 69 | Broward County, FL Buses & Bus Facilities | 1,237,322
FL | E-2006-BUSP-255 | 479 | Broward County-Bus and Bus Facilities | 453,420
FL | E-2006-BUSP-256 | 117 | Broward, FL Purchase new articulated buses and bus stop improvements on State Road 7. (SR 7) between Golden Glades Interchange and Glades Road | 95,179
FL | E-2006-BUSP-257 | 439 | Central Florida Commuter Rail intermodal facilities | 951,786
FL | E-2006-BUSP-258 | 453 | Central Florida Commuter Rail Intermodal facilities | 683,100
FL | E-2006-BUSP-262 | 508 | Collier County Transit-Transit Facility | 226,710
FL | E-2006-BUSP-263 | 23 | Construct intermodal transportation & parking facility, City of Winter Park, Florida | 95,179
FL | E-2006-BUSP-264 |  | Flagler County Buses and Bus Facilities, FL | 297,000
FL | E-2006-BUSP-265 | 80 | Flagler County, Florida-bus facility | 114,214
FL | E-2006-BUSP-266 | 527 | Florida Department of Transportation-Palm Beach County Replacement Buses | 226,710
FL | E-2006-BUSP-267 | 344 | Gainesville, FL Bus Facility Expansion | 761,429
FL | E-2006-BUSP-270 | 538 | Hillsborough Area Regional Transit-Bus Rapid Transit Improvements | 453,420
FL | E-2006-BUSP-271 | 539 | Hillsborough, FL, Hillsborough Area Regional Transit Authority | 990,000
FL | E-2006-BUSP-272 |  | Homestead East-West Bus Connector, FL | 495,000
FL | E-2006-BUSP-273 |  | Intermodal Terminal Center, Jacksonville, FL | 990,000
FL | E-2006-BUSP-274 |  | Jacksonville Transportation Authority Bus and Bus Facilities, FL | 336,600
FL | E-2006-BUSP-279 |  | JARC Hartline, Hillsborough County, FL | 247,500
FL | E-2006-BUSP-280 |  | Key West Buses and Bus Facilities, FL | 495,000
FL | E-2006-BUSP-281 |  | Lakeland Area Citrus Connection Transit Systems | 247,500
FL | E-2006-BUSP-282 | 558 | Lakeland Area Mass Transit District/Citrus Connection-Capital Funding Needs | 453,420
FL | E-2006-BUSP-284 | 103 | Longwood, Florida-Construct Intermodal Transportation Facility | 95,179
FL | E-2006-BUSP-285 | 308 | Miami Dade, FL N.W. 7th Avenue Transit Hub | 571,072
FL | E-2006-BUSP-286 | 211 | Miami-Dade County, Florida-buses and bus facilities | 1,142,143
FL | E-2006-BUSP-287 | 432 | Miami-Dade County, Florida-buses and bus facilities | 761,429
FL | E-2006-BUSP-288 | 133 | Miami-Dade County, Florida-Transit Security System | 569,168
FL | E-2006-BUSP-289 | 580 | Miami-Dade Transit 7th Avenue NW Transit Hub | 226,710
FL | E-2006-BUSP-290 | 454 | Miami-Dade Transit Dadeland South Intermodal Center | 455,400
FL | E-2006-BUSP-291 |  | Miramar Town Center Transit Hub, Miramar, Florida | 495,000
FL | E-2006-BUSP-293 | 136 | Ocala and Marion County, Florida-replacement buses | 571,072
FL | E-2006-BUSP-296 | 125 | Palm Beach County, FL Plan and Construct Belle Glade Combined Passenger Transit Facility | 666,250
FL | E-2006-BUSP-297 | 367 | Palm Beach, FL 20 New Buses for Palm Tran | 285,536
FL | E-2006-BUSP-298 | 248 | Palm Beach, FL Palm Tran AVL-APC system with smart card fare boxes | 47,589
FL | E-2006-BUSP-299 |  | Palm Tran, Palm Beach County, FL | 247,500
FL | E-2006-BUSP-303 | 600 | Pinellas County Metropolitan Planning Organization-Pinellas Mobility Initiative: BRT and Guide way | 226,710
FL | E-2006-BUSP-304 | 415 | Purchase Buses and construct bus facilities in Broward County, FL | 428,304
FL | E-2006-BUSP-305 | 420 | Purchase Buses and construct bus facilities in Broward County, FL | 380,714
FL | E-2006-BUSP-307 |  | Putnam County, FL Ride Solutions Buses | 742,500
FL | E-2006-BUSP-309 | 623 | South Florida Regional Transportation Authority-West Palm Beach Intermodal Facility | 453,420
FL | E-2006-BUSP-311 |  | Space Coast Area Transit Bus Terminal, FL | 198,000
FL | E-2006-BUSP-312 |  | St. Johns County, FL Council on Aging Buses | 495,000
FL | E-2006-BUSP-313 | 31 | St. Augustine, Florida-Intermodal Transportation Center and related pedestrian and landscape improvements | 190,357
FL | E-2006-BUSP-314 | 390 | St. Lucie County, FL Purchase Buses | 190,357
FL | E-2006-BUSP-317 | 402 | Tampa, FL Establish Transit Emphasis Corridor Project | 142,768
FL | E-2006-BUSP-318 | 148 | Tampa, FL Purchase buses and construct bus facilities | 428,304
FL | E-2006-BUSP-319 |  | Treasure Coast Connector, St. Lucie County, FL | 495,000
FL | E-2006-BUSP-320 |  | Trolley Shelter, West Palm Beach, Florida | 247,500
FL | E-2006-BUSP-321 |  | Trolley System, Boynton Beach, FL | 247,500
GA | E-2006-BUSP-324 | 355 | Albany, GA Bus replacement | 57,107
GA | E-2006-BUSP-325 | 255 | Albany, GA Multimodal Facility | 152,286
GA | E-2006-BUSP-326 | 357 | Athens, GA Buses and Bus Facilities | 270,308
GA | E-2006-BUSP-327 | 247 | Atlanta, GA Inter-modal Passenger Facility Improvements | 380,714
GA | E-2006-BUSP-330 | 144 | Augusta, GA Buses and Bus Facilities | 76,143
GA | E-2006-BUSP-331 |  | Buses and Bus Facilities, GA | 495,000
GA | E-2006-BUSP-332 |  | Chatham Area Transit Authority bus and facility, GA | 495,000
GA | E-2006-BUSP-333 |  | City of Moultrie, Georgia, Intermodal Facility | 495,000
GA | E-2006-BUSP-335 | 91 | Columbus, GA Bus replacement | 57,107
GA | E-2006-BUSP-336 | 510 | Columbus, Georgia/Phoenix City, Alabama-National Infantry Museum Multimodal Facility | 385,110
GA | E-2006-BUSP-337 | 49 | Columbus, Georgia-Buses & Bus Facilities | 184,456
GA | E-2006-BUSP-338 | 530 | Georgia Department of Transportation-Georgia Statewide Bus and Bus Facilities | 2,041,380
GA | E-2006-BUSP-339 |  | Georgia GRTA Xpress Implementation Buses | ˡ 2,227,500
GA | E-2006-BUSP-340 | 60 | Georgia Statewide Bus Program | 38,071
GA | E-2006-BUSP-341 | 275 | Jesup, Georgia-Train Depot intermodal center | 190,357
GA | E-2006-BUSP-346 | 406 | Moultrie, GA Inter-modal facility | 57,107
GA | E-2006-BUSP-347 |  | Purchase Transit Buses for Macon Transit Authority, Georgia | 495,000
GA | E-2006-BUSP-348 | 329 | Quitman, Clay, Randolph, Stewart Co., GA Bus project | 47,589
GA | E-2006-BUSP-349 | 256 | Savannah, GA Bus and Bus Facilities-Chatham Area Transit | 951,786
GA | E-2006-BUSP-350 | 348 | Savannah, Georgia-Water Ferry River walk intermodal facilities | 380,714
GA | E-2006-BUSP-352 | 206 | Sylvester, GA Inter-modal Facility | 38,071
GA | E-2006-BUSP-353 | 298 | Thomasville, GA Bus Replacement | 38,071
GU | E-2006-BUSP-354 |  | MTA transit vehicles for disabled persons, Guam | 297,000
HI | E-2006-BUSP-355 |  | Honolulu Bus and Bus Facilities, HI | 2,800,000
HI | E-2006-BUSP-356 | 540 | Honolulu, HI, Bus Facilities | 1,336,500
IA | E-2006-BUSP-358 |  | 10 new fixed-route buses, Cedar Rapids, IA | 148,500
IA | E-2006-BUSP-360 | 475 | Black Hawk County, IA UNI Multimodal Project | 680,130
IA | E-2006-BUSP-361 |  | City of Coralville Intermodal Facility, IA | 569,250
IA | E-2006-BUSP-365 |  | Johnson County SEATS Para-Transit Facility Program, IA | 99,000
IA | E-2006-BUSP-367 |  | UNI Multimodal Project, Cedar Falls, Iowa | 1,559,250
IA | E-2006-BUSP-368 |  | University of Northern Iowa Multi | 247,500
ID | E-2006-BUSP-369 | 176 | Boise, ID-Multimodal facility | 456,607
ID | E-2006-BUSP-371 |  | Idaho Statewide ITS | 99,000
ID | E-2006-BUSP-372 |  | Idaho Transit Coalition Bus Capital Investment | 2,128,500
ID | E-2006-BUSP-373 |  | Idaho Transit Coalition Buses and Bus Facilities | 742,500
ID | E-2006-BUSP-374 | 652 | Valley Regional Transit, ID-Downtown Boise Multimodal | 1,315,710
IL | E-2006-BUSP-378 | 433 | Centralia, Illinois-South Central Mass Transit District Improvements | 76,143
IL | E-2006-BUSP-379 | 226 | Champaign, IL-Construct park and ride lot with attached daycare facility | 285,536
IL | E-2006-BUSP-382 | 491 | Chicago, IL, Cermak Road, Bus Rapid Transit | 198,000
IL | E-2006-BUSP-383 | 358 | Cicero, Chicago Establish Transit Signal Priority, Cicero Ave., Pace Suburban Bus | 190,357
IL | E-2006-BUSP-384 | 4 | Des Plaines, Wauconda, Cook and Lake Counties, IL Rand Road Transit Signal Priority | 152,286
IL | E-2006-BUSP-385 | 296 | Elgin to Rockford, Illinois-Intermodal stations along planned Metra Union Pacific West Line extension alignment, including necessary alternatives analysis | 95,179
IL | E-2006-BUSP-386 | 114 | Geneva, Illinois-Construct commuter parking deck for Metra Service | 761,429
IL | E-2006-BUSP-387 |  | IL Statewide buses and facilities | 7,920,000
IL | E-2006-BUSP-388 | 291 | Joliet, Illinois-Union Station commuter parking facility | 547,277
IL | E-2006-BUSP-129 | 186 | Mattoon, Illinois-historic railroad depot restoration/intermodal center | ᵐ 304,572
IL | E-2006-BUSP-389 | 250 | Maywood, IL Purchase buses | 9,518
IL | E-2006-BUSP-390 | 429 | Normal, Illinois-Multimodal Transportation Center | 380,714
IL | E-2006-BUSP-391 | 163 | Normal, Illinois-Multimodal Transportation Center, including facilities for adjacent public and nonprofit uses | 951,786
IL | E-2006-BUSP-392 |  | PACE Bus Service to the College of DuPage, Glen Ellyn, IL | 198,000
IL | E-2006-BUSP-393 |  | Pace Suburban Bus Transit Signal Priority, Illinois | 495,000
IL | E-2006-BUSP-394 | 365 | Pace Suburban Bus, IL South Suburban BRT Mobility Network | 95,179
IL | E-2006-BUSP-398 | 632 | Springfield, IL, Multimodal Transit Terminal | 792,000
IL | E-2006-BUSP-399 | 259 | St. Charles, IL-Intermodal Parking Structures | 856,607
IL | E-2006-BUSP-400 |  | Town of Normal Multimodal Transportation Center, IL | 1,980,000
IL | E-2006-BUSP-402 | 135 | Wheaton, IL Pace Suburban Bus-Purchase buses | 190,357
IN | E-2006-BUSP-403 |  | Bloomington Public Transportation Corporation, IN | 272,382
IN | E-2006-BUSP-404 | 109 | Bloomington, IN-Bus and transfer facility | 915,618
IN | E-2006-BUSP-405 |  | Bloomington, Indiana University Campus Bus System, IN | 594,000
IN | E-2006-BUSP-408 |  | City of Anderson Intermodal Center Project, IN | 123,750
IN | E-2006-BUSP-409 |  | Fort Wayne Citilink, IN | 123,750
IN | E-2006-BUSP-410 | 529 | Gary, Indiana, Gary Airport Station Modernization and Shuttle Service Project | 346,500
IN | E-2006-BUSP-411 | 544 | Indianapolis Downtown Transit Center | 792,000
IN | E-2006-BUSP-412 | 235 | Indianapolis, IN Construct the Ivy Tech State College Multi-Modal Facility | 951,786
IN | E-2006-BUSP-413 | 5 | Indianapolis, IN Downtown Transit Center | 2,665,001
IN | E-2006-BUSP-414 | 220 | Indianapolis, IN IndySMART program to relieve congestion, improve safety and air quality | 380,714
IN | E-2006-BUSP-415 | 378 | Indianapolis, IN Relocate and improve inter-modal transportation for pedestrian to Children's Museum of Indianapolis | 2,665,001
IN | E-2006-BUSP-416 | 417 | Indianapolis, Indiana-Children's Museum Intermodal Center | 190,357
IN | E-2006-BUSP-417 |  | Ivy Tech Multi-Modal Facility, Indianapolis, IN | 297,000
IN | E-2006-BUSP-418 |  | Ivy Tech State College Multi-Modal Facility, IN | 173,250
IN | E-2006-BUSP-419 | 546 | Ivy Tech State College, Indiana Multimodal Center | 148,500
IN | E-2006-BUSP-421 |  | Lake County Bus Systems, IN | 148,500
IN | E-2006-BUSP-423 |  | N. Indiana Mental Health Trans. Partnership | 247,500
IN | E-2006-BUSP-424 |  | NIMHTP, Madison Center, South Bend, IN | 495,000
IN | E-2006-BUSP-425 | 617 | South Bend, Indiana, TRANSPO Bus Operations Center | 792,000
IN | E-2006-BUSP-426 | 141 | South Bend, Indiana-Construct South Bend Bus Operations Center | 190,357
KS | E-2006-BUSP-428 | 53 | Johnson Co., KS Bus and bus related facilities [I-35. corridor], Johnson Co. Transit | 380,714
KS | E-2006-BUSP-429 |  | Johnson County Fleet Vehicle Replacement, KS | 346,500
KS | E-2006-BUSP-432 |  | Kansas Statewide Bus and Bus Facilities, KS | 693,000
KS | E-2006-BUSP-433 |  | Wichita Transit Authority, KS | 792,000
KS | E-2006-BUSP-434 |  | Wyandotte County Unified Government Transit, KS | 495,000
KY | E-2006-BUSP-435 |  | Foothills Community Action Partnership Foothills Express Transit Expansion Project, KY | 346,500
KY | E-2006-BUSP-437 |  | Harlan County Transit Center, KY | 495,000
KY | E-2006-BUSP-439 |  | Lincoln County Senior Citizen Bus, Kentucky | ⁿ 54,000
KY | E-2006-BUSP-442 | 372 | Richmond, KY Purchase buses, bus equipment and facilities | 137,058
KY | E-2006-BUSP-443 |  | Southern and Eastern Ky Bus and Bus Facilities | 495,000
KY | E-2006-BUSP-444 |  | TARC—purchase of 10 hybrid electric buses | 495,000
LA | E-2006-BUSP-446 |  | Bus Terminal and Support Facility, Lake Charles, LA | 990,000
LA | E-2006-BUSP-447 | 484 | Capital Area Transit System-Baton Rouge BRT | 680,130
LA | E-2006-BUSP-448 |  | Greater Ouachita Port intermodal facility, LA | 396,000
LA | E-2006-BUSP-449 | 72 | Hammond, Louisiana-Passenger Intermodal facility at Southeastern University | 38,071
LA | E-2006-BUSP-450 |  | Intermodal Facility, Ouachita Parish, LA | 495,000
LA | E-2006-BUSP-451 |  | LA Statewide buses and facilities | 3,781,065
LA | E-2006-BUSP-452 | 555 | Lafayette City-Parish Consolidated Government, LA-Lafayette Multimodal Transportation Facility | 226,710
LA | E-2006-BUSP-453 |  | Lafayette Louisiana Multimodal Transportation Facility | 148,500
LA | E-2006-BUSP-455 | 239 | Lafayette, Louisiana-Lafayette Transit System bus replacement program | 171,321
LA | E-2006-BUSP-456 | 356 | Lafayette, Louisiana-Multimodal center, Final Phase | 571,072
LA | E-2006-BUSP-458 | 170 | Louisiana-Construct pedestrian walkways between Caddo St. and Milam St. along Edwards St. in Shreveport, LA | 193,327
LA | E-2006-BUSP-459 |  | New Orleans Union Passenger Terminal Rehab, Louisiana | 990,000
LA | E-2006-BUSP-460 | 55 | New Orleans, LA Inter-modal Riverfront Center | 95,179
LA | E-2006-BUSP-462 | 243 | New Orleans, LA Regional Planning Commission, bus and bus facilities | 95,179
LA | E-2006-BUSP-463 | 310 | River Parishes, LA South Central Planning and Development Commission, bus and bus facilities | 190,357
LA | E-2006-BUSP-464 | 606 | River Parishes, Louisiana, South Central Planning and Development Commission, bus and bus facilities | 158,400
LA | E-2006-BUSP-465 |  | RiverSphere Multimodal Facility, Louisiana | 198,000
LA | E-2006-BUSP-466 | 277 | Shreveport, LA-intermodal Transit Facility | 637,697
LA | E-2006-BUSP-467 | 625 | Southeastern Louisiana University Intermodal Facility | 297,000
LA | E-2006-BUSP-468 | 283 | St. Bernard Parish, LA Intermodal facility improvements | 190,357
MA | E-2006-BUSP-470 | 118 | Attleboro, MA Construction, engineering and site improvements at the Attleboro Intermodal Center | 380,714
MA | E-2006-BUSP-471 | 472 | Berkshire, MA, Berkshire Regional Transit Authority Bus Maintenance Facility | 49,500
MA | E-2006-BUSP-472 | 59 | Beverly, MA Design and Construct Beverly Deport Intermodal Transportation Center | 380,714
MA | E-2006-BUSP-473 | 273 | Boston, MA Harbor Park Pavilion & Inter-modal Station | 237,947
MA | E-2006-BUSP-476 |  | Construction of Amesbury Bus Facility, MA | 1,188,000
MA | E-2006-BUSP-477 | 330 | Framingham, MA Local Intra-Framingham Transit System enhancements | 342,643
MA | E-2006-BUSP-478 |  | Franklin Multimodal Center, MA | 1,485,000
MA | E-2006-BUSP-480 | 124 | Haverhill, MA Design and Construct Inter-modal Transit Parking Improvements | 1,066,000
MA | E-2006-BUSP-481 | 21 | Hingham, MA Higham Marine Intermodal Center Improvements: Enhance public transportation infrastructure/parking | 1,713,215
MA | E-2006-BUSP-482 |  | Holyoke Multimodal Center, MA | 1,732,500
MA | E-2006-BUSP-483 |  | Intermodal Station Improvements, Salem and Beverly, MA | 1,188,000
MA | E-2006-BUSP-484 | 563 | Lawrence, MA, Gateway Intermodal and Quadant Area Reuse Project | 594,000
MA | E-2006-BUSP-487 |  | MART Advanced Vehicle Locator System (AVL), Massachusetts | 495,000
MA | E-2006-BUSP-1108 |  | MART Maintenance facility expansion, Worcester County, MA | ᵒ 1,188,000
MA | E-2006-BUSP-490 | 42 | Medford, MA Downtown revitalization featuring construction of a 200 space Park and Ride Facility | 380,714
MA | E-2006-BUSP-491 | 257 | Newburyport, MA Design and Construct Intermodal Facility | 380,714
MA | E-2006-BUSP-492 |  | North Leomister Parking Improvements, Massachusetts | 712,800
MA | E-2006-BUSP-493 |  | Public Transit for STCC College Students, Massachusetts | 381,000
MA | E-2006-BUSP-494 | 139 | Quincy, MA MBTA Purchase high speed catamaran ferry for Quincy Harbor Express Service | 380,714
MA | E-2006-BUSP-495 |  | Rapid Transit Handicap Accessibility, Newton, Massachusetts | 1,188,000
MA | E-2006-BUSP-496 | 161 | Revere, MA Inter-modal transit improvements in the Wonderland station (MBTA) area | 342,643
MA | E-2006-BUSP-497 | 88 | Rockport, MA Rockport Commuter Rail Station Improvements | 523,482
MA | E-2006-BUSP-498 | 370 | Salem, MA Design and Construct Salem Intermodal Transportation Center | 380,714
MA | E-2006-BUSP-499 | 205 | Woburn, MA Construction of an 89 space park and ride facility to be located on Magazine Hill, in the Heart of Woburn Square | 342,643
MD | E-2006-BUSP-500 | 122 | Baltimore, MD Construct Intercity Bus Intermodal Terminal | 951,786
MD | E-2006-BUSP-501 | 499 | City of Gaithersburg, Maryland-Bus and paratransit vehicle for seniors | 110,880
MD | E-2006-BUSP-502 | 303 | Howard County, MD Construct Central Maryland Transit Operations and Maintenance Facility | 951,786
MD | E-2006-BUSP-503 | 542 | Howard County, MD Construct Central Maryland Transit Operations and Maintenance Facility | 247,500
MD | E-2006-BUSP-504 | 571 | MARC Intermodal Odenton and Edgewood Station Improvements | 364,320
MD | E-2006-BUSP-505 | 573 | Maryland Statewide Bus Facilities and Buses | 5,445,000
MD | E-2006-BUSP-506 |  | Maryland Statewide Bus Program | 495,000
MD | E-2006-BUSP-507 | 224 | Montgomery County, MD Wheaton CBD Intermodal Access Program | 95,179
MD | E-2006-BUSP-508 | 214 | Mount Rainier, MD Intermodal and Pedestrian Project | 85,661
MD | E-2006-BUSP-509 |  | Silver Spring Transit Center, Maryland | 2,970,000
MD | E-2006-BUSP-510 | 615 | Silver Spring, Maryland, Transit Center | 6,930,000
MD | E-2006-BUSP-511 | 8 | Silver Spring, MD Construct Silver Spring Transit Center in downtown Silver Spring | 694,804
MD | E-2006-BUSP-512 |  | Southern Maryland Commuter Bus Initiative | 1,980,000
MD | E-2006-BUSP-513 | 629 | Southern Maryland Commuter Initiative | 2,673,000
ME | E-2006-BUSP-514 | 19 | Bar Harbor, ME Purchase new buses to enhance commuting near the Jackson Labs | 57,107
ME | E-2006-BUSP-515 | 483 | Campobello Park, ME, Bus Acquisition | 21,780
ME | E-2006-BUSP-516 |  | Intermodal Facility, Augusta, ME | 693,000
MI | E-2006-BUSP-518 |  | 1st District Bus Replacement and Facilities, MI | 1,980,000
MI | E-2006-BUSP-519 |  | Allegan County Transportation Services, MI | 88,110
MI | E-2006-BUSP-1109 |  | The Rapid | ᵖ 1,287,000
MI | E2006-BUSP-520 |  | Automation Alley/BUSolutions, MI | ᵖ 693,000
MI | E-2006-BUSP-521 | 301 | Barry County, MI-Barry County Transit equipments and dispatching software | 28,554
MI | E-2006-BUSP-524 |  | Berrien County Public Transportation, MI | 148,500
MI | E-2006-BUSP-525 | 204 | Boysville of Michigan Transportation System | 639,600
MI | E-2006-BUSP-527 |  | Cass County Transit, MI | 79,200
MI | E-2006-BUSP-528 | 502 | City of Kalamazoo, MI bus Replacement | 2,475,000
MI | E-2006-BUSP-529 |  | City of Midland Dial-A-Ride Section 5309, MI | 362,340
MI | E-2006-BUSP-530 |  | Clare County Transit Administration Facility, MI | 455,400
MI | E-2006-BUSP-531 |  | Communication Equipment and Bus, Belding, MI | 75,240
MI | E-2006-BUSP-532 |  | Deneka Maintenance Facility, MI | 495,000
MI | E-2006-BUSP-540 |  | Dowagiac Dial A Ride, MI | 49,500
MI | E-2006-BUSP-541 | 208 | Eastern Upper Peninsula, MI Ferry Dock and Facility upgrades for Drummond Island Ferry Services | 47,589
MI | E-2006-BUSP-543 | 526 | Flint, MI, Mass Transportation Authority Bus Maintenance Facility | 742,500
MI | E-2006-BUSP-546 |  | Greater Lapeer Transportation Authority, MI | 495,000
MI | E-2006-BUSP-547 |  | Harbor Transit, MI | 399,960
MI | E-2006-BUSP-548 |  | Hillsdale Dial-A-Ride, MI | 495,000
MI | E-2006-BUSP-549 | 79 | Ionia County, MI-Purchase and Implementation of communication equipment improvements | 112,311
MI | E-2006-BUSP-550 |  | Kalamazoo Metro Transit, MI | 990,000
MI | E-2006-BUSP-551 |  | Kalkaska County Transportation Facility, MI | 396,000
MI | E-2006-BUSP-555 |  | Ludington Mass Transportation Authority | 316,801
MI | E-2006-BUSP-556 |  | Macatawa Area Express | 247,500
MI | E-2006-BUSP-557 | 572 | Marquette County, Michigan Transit Authority Bus passenger facility | 297,000
MI | E-2006-BUSP-558 | 581 | Michigan Department of Transportation (MDOT) Bus Replacement | 1,980,000
MI | E-2006-BUSP-976 |  | Midland County Board of Commissioners Connection | 495,000
MI | E-2006-BUSP-559 | 293 | Muskegon, Michigan-Muskegon Area Transit Terminal and related improvements | 380,714
MI | E-2006-BUSP-561 |  | Roscommon Transportation Authority Route Service | 198,000
MI | E-2006-BUSP-562 |  | Sanilac Co. Transit Authority, MI | 495,000
MI | E-2006-BUSP-563 |  | St. Joseph County Transit | 79,200
MI | E-2006-BUSP-564 | 634 | Suburban Mobility Authority for Regional Transportation (SMART) Bus Maintenance Facility | 880,000
MI | E-2006-BUSP-566 |  | Vehicle Acquisition for Ionia Dial-A-Ride, MI | 142,560
MI | E-2006-BUSP-567 |  | Yates Township Dial-A-Ride Transportation System, MI | 396,000
MI | E-2006-BUSP-581 |  | Twin Cities Dial A Ride | 88,110
MN | E-2006-BUSP-568 |  | Cedar Avenue Bus Rapid Transit, Dakota County, MN | 742,500
MN | E-2006-BUSP-569 |  | City of Northfield, MN Transit Station | 277,200
MN | E-2006-BUSP-570 | 40 | Duluth, MN Downtown Duluth Area Transit facility improvements | 380,714
MN | E-2006-BUSP-571 | 177 | Fond du Lac Reservation, MN Purchase buses | 28,554
MN | E-2006-BUSP-572 |  | Greater Minnesota Transit Capital | 560,000
MN | E-2006-BUSP-573 |  | Greater Minnesota Transit Capitol—5309 Buses and Bus Facilities, Rock County | 495,000
MN | E-2006-BUSP-574 |  | I-35W BRT 46th Street Station, Minneapolis, MN | 990,000
MN | E-2006-BUSP-575 | 577 | Metro Transit/Metropolitan Council, MN-Bus/Bus Capital | 2,154,240
MN | E-2006-BUSP-576 |  | Minnesota Transit Cap.—5309 Buses and Bus Facilities—St. Peter | 247,500
MN | E-2006-BUSP-577 |  | Northwest Busway, Minneapolis, Minnesota | 990,000
MN | E-2006-BUSP-578 | 185 | St. Paul to Hinckley, MN Construct bus amenities along Rush Line Corridor | 285,536
MN | E-2006-BUSP-579 | 342 | St. Paul, MN Union Depot Multi Modal Transit Facility | 380,714
MN | E-2006-BUSP-580 |  | The UEL Bus Stop, University of Minnesota Twin Cities Transitway, MN | 49,500
MO | E-2006-BUSP-585 |  | City Utilities of Springfield bus facilities, MO | 1,633,500
MO | E-2006-BUSP-587 |  | Intermodal Transfer Facility at Duncan and Boyle, MO | 693,000
MO | E-2006-BUSP-589 | 345 | Kansas City, MO Bus Transit Infrastructure | 61,005
MO | E-2006-BUSP-1110 |  | METRO Downtown Bus Transfer Center in St. Louis, MO. | q 742,500
MO | E-2006-BUSP-593 | 598 | OATS, Incorporated, MO-ITS Information and Billing System and Bus Facilities | 3,855,060
MO | E-2006-BUSP-595 |  | South East Missouri Transportation Service, Missouri | 635,580
MO | E-2006-BUSP-596 | 624 | Southeast Missouri Transportation Service-Bus Project | 453,420
MO | E-2006-BUSP-597 |  | Southern Missouri Buses and Bus Facilities | 1,144,144
MS | E-2006-BUSP-598 | 130 | Coahoma County, Mississippi Purchase buses for the Aaron E. Henry Community Health Services Center, Inc./DARTS transit service | 28,554
MS | E-2006-BUSP-599 |  | Handicap Buses Desoto County, MS | 148,500
MS | E-2006-BUSP-600 |  | Inter-city Transit Companies, Meridian, MS | 198,000
MS | E-2006-BUSP-601 | 547 | Jackson State University, MS-Busing Project | 1,133,550
MS | E-2006-BUSP-602 |  | JATRAN bus replacement, MS | 544,500
MT | E-2006-BUSP-603 |  | Billings Public Bus and Transfer, MT | 1,237,500
MT | E-2006-BUSP-604 | 129 | Bozeman, Montana-Vehicular Parking Facility | 761,459
MT | E-2006-BUSP-605 | 476 | Bozeman, MT, Intermodal and parking facility | 166,320
MT | E-2006-BUSP-606 |  | Helena Transit Facility, MT | 247,500
MT | E-2006-BUSP-607 |  | Kalispell Buses, MT | 99,000
MT | E-2006-BUSP-608 |  | Lewistown Bus Facility, Montana | 297,000
MT | E-2006-BUSP-609 | 584 | Montana Department of Transportation-Statewide Bus Facilities and Buses | 680,130
MT | E-2006-BUSP-610 |  | Mountain Line Bus, Montana | 498,250
MT | E-2006-BUSP-611 |  | Pablo Bus Facility, Montana | 198,000
MT | E-2006-BUSP-612 |  | Pablo Buses, Montana | 148,500
MT | E-2006-BUSP-613 |  | Poplar Transit Facility Renovation, Montana | 79,200
MT | E-2006-BUSP-614 |  | Public Bus Transfer and Parking Facility, MT | 1,237,500
MT | E-2006-BUSP-615 |  | University of Montana bus maintenance facility | 247,500
NC | E-2006-BUSP-616 | 490 | Charlotte Area Transit System/City of Charlotte-Charlotte Multimodal Station | 203,030
NC | E-2006-BUSP-617 | 217 | Charlotte, NC Construct Charlotte Multimodal Station | 1,484,786
NC | E-2006-BUSP-618 | 351 | Charlotte, North Carolina-Eastland Community Transit Center | 380,714
NC | E-2006-BUSP-619 | 228 | Charlotte, North Carolina-Multimodal Station | 761,429
NC | E-2006-BUSP-620 | 154 | City of Greenville, NC Expansion Buses and Greenville Intermodal Center | 678,433
NC | E-2006-BUSP-622 | 302 | Greensboro, North Carolina-Piedmont Authority for Regional Transportation Multimodal Transportation Center | 2,383,273
NC | E-2006-BUSP-623 | 52 | Greensboro, North Carolina-Replacement buses | 1,100,264
NC | E-2006-BUSP-627 | 594 | North Carolina Department of Transportation-North Carolina Statewide Bus and Bus Facilities | 2,645,730
NC | E-2006-BUSP-629 |  | Statewide Bus and Bus Facilities, NC | 43,600
NC | E-2006-BUSP-632 |  | Triangle Transit Authority Replacement Buses, North Carolina | 495,000
NC | E-2006-BUSP-633 | 57 | Wilmington, NC Build Intermodal Center | 190,357
NC | E-2006-BUSP-634 |  | Winston-Salem Union Station Intermodal Facility, NC | 247,500
ND | E-2006-BUSP-635 | 595 | North Dakota Department of Transportation/Statewide Bus | 990,000
ND | E-2006-BUSP-636 |  | North Dakota Statewide Transit | 1,237,500
NE | E-2006-BUSP-637 | 505 | City of Omaha-Creighton University Intermodal Facility | 680,130
NE | E-2006-BUSP-638 | 160 | Kearney, Nebraska-RYDE Transit Bus Maintenance and Storage Facility | 380,714
NE | E-2006-BUSP-639 | 586 | Nebraska Department of Roads-Bus Maintenance and Storage Facility for RYDE in Kearney, NE | 453,420
NE | E-2006-BUSP-640 | 587 | Nebraska Department of Roads-Statewide Vehicles, Facilities, and Related Equipment Purchases | 906,840
NE | E-2006-BUSP-641 | 240 | Nebraska-statewide transit vehicles, facilities, and related equipment | 761,429
NE | E-2006-BUSP-642 | 599 | Omaha, NE, Buses and Fare boxes | 603,900
NE | E-2006-BUSP-643 |  | StarTran Farebox Technology Upgrades, Nebraska | 64,350
NH | E-2006-BUSP-644 | 418 | Windham, New Hampshire-Construction of Park and Ride Bus facility at Exit 3 | 704,322
NJ | E-2006-BUSP-645 |  | Atlantic City Regional Medical Center Bus Project, NJ | 247,500
NJ | E-2006-BUSP-646 | 468 | Atlantic City, NJ Jitney | 742,500
NJ | E-2006-BUSP-647 |  | Bergen Intermodal Stations and Park N'Rides, NJ | 1,980,000
NJ | E-2006-BUSP-648 |  | Bloomfield Intermodal Facilities and Park-and-Ride, NJ | 495,000
NJ | E-2006-BUSP-649 | 86 | Burlington County, NJ-BurLink and Burlington County Transportation System vehicles and equipment | 761,429
NJ | E-2006-BUSP-650 | 28 | Camden, NJ Construction of the Camden County Intermodal Facility in Cramer Hill | 190,357
NJ | E-2006-BUSP-651 |  | Central NJ Intermodal Stations and Park & Rides | 495,000
NJ | E-2006-BUSP-652 | 12 | Hoboken, NJ Rehabilitation of Hoboken Inter-modal Terminal | 723,357
NJ | E-2006-BUSP-653 | 102 | Jersey City, NJ Construct West Entrance to Pavonia-Newport PATH Station | 380,714
NJ | E-2006-BUSP-654 |  | Kapkowski Road Transportation Planning Area Project, NJ | 495,000
NJ | E-2006-BUSP-655 | 389 | Lakewood, NJ-Ocean County Bus service and parking facilities | 571,072
NJ | E-2006-BUSP-656 | 138 | Long Branch, NJ Design and construct facilities for ferry service from Long Branch, NJ to New York City and other destinations | 761,429
NJ | E-2006-BUSP-657 | 38 | Monmouth County, NJ Construction of main bus facility for Freehold Township, including a terminal and repair shop | 380,714
NJ | E-2006-BUSP-658 |  | Morristown Intermodal Historic Station, NJ | 2,970,000
NJ | E-2006-BUSP-659 | 209 | Morristown, New Jersey-Intermodal Historic Station | 190,357
NJ | E-2006-BUSP-660 | 46 | National Park Service Design and construct 2.1-mile segment to complete Sandy Hook multiuse pathway in Sandy Hook, NJ | 190,357
NJ | E-2006-BUSP-661 | 340 | New Jersey Inter-modal Facilities and Bus Rolling Stock | 571,072
NJ | E-2006-BUSP-662 | 328 | New Jersey Transit Community Shuttle Buses | 95,179
NJ | E-2006-BUSP-663 |  | Newark Penn Station Intermodal Improvements, New Jersey | 990,000
NJ | E-2006-BUSP-664 | 13 | Newark, NJ Penn Station Intermodal Improvements including the rehabilitation of boarding areas | 190,357
NJ | E-2006-BUSP-665 |  | NJ Transit Jitney Bus Replacement, Atlantic City | 247,500
NJ | E-2006-BUSP-666 |  | NW NJ Multi-County Intermodal Transit Initiative | 990,000
NJ | E-2006-BUSP-667 |  | Regional Intermodal Transportation, South Amboy, New Jersey | 495,000
NJ | E-2006-BUSP-668 |  | Saint Peter's McGrinley Square Intermodal Facility, New Jersey | 792,000
NJ | E-2006-BUSP-669 | 29 | Sandy Hook, NJ National Park Service Construct year-round ferry dock at Sandy Hook Unit of Gateway National Recreation Area | 190,357
NJ | E-2006-BUSP-670 | 393 | South Amboy, NJ Construction of improvements to facilities at South Amboy Station under S Amboy, NJ Regional Intermodal Initiative | 1,522,858
NJ | E-2006-BUSP-671 | 618 | South Brunswick, NJ Transit System | 990,000
NJ | E-2006-BUSP-672 | 643 | Trenton Intermodal Station | 5,445,000
NJ | E-2006-BUSP-673 | 61 | Trenton, New Jersey-Trenton Train Station Rehabilitation | 285,536
NJ | E-2006-BUSP-674 | 181 | Trenton, NJ Development of Trenton Trolley System | 190,357
NJ | E-2006-BUSP-675 | 62 | Trenton, NJ Reconstruction and rehabilitation of the Trenton Train Station | 1,332,500
NJ | E-2006-BUSP-676 |  | Valley Hospital Bus Transportation, NJ | 74,250
NM | E-2006-BUSP-681 | 562 | Las Cruces, NM, Road Runner Bus and Bus Facilities | 198,000
NM | E-2006-BUSP-682 |  | Northern New Mexico Park and Ride | 445,500
NM | E-2006-BUSP-684 |  | West Side Transit Facility, Albuquerque, NM | 816,750
NV | E-2006-BUSP-685 |  | Boulder Highway Max Bus Rapid Transit System, NV | 445,500
NV | E-2006-BUSP-686 | 405 | Las Vegas, NV Construct Boulder Highway BRT system and purchase vehicles and related equipment | 380,714
NV | E-2006-BUSP-687 | 199 | Las Vegas, NV Construct Central City Inter-modal Transportation Terminal | 1,142,143
NV | E-2006-BUSP-688 | 371 | Las Vegas, NV Construct Las Vegas West Care Intermodal Facility | 47,589
NV | E-2006-BUSP-689 |  | Nevada Statewide Bus and Bus Facilities, NV | 2,970,000
NV | E-2006-BUSP-690 | 603 | Regional Transportation Commission of Southern Nevada-Central City Intermodal Transportation Terminal | 906,840
NV | E-2006-BUSP-693 |  | RTC Transit Maintenance Facility, NV | 495,000
NV | E-2006-BUSP-694 | 630 | Southern Nevada Transit Coalition, Public Transit Building Acquisition | 297,000
NY | E-2006-BUSP-696 |  | Albany-Schenectady, NY Bus Rapid Transit Improvements in NY Route 5, Corridor | 57
NY | E-2006-BUSP-698 |  | Automated Light study along Route 59, NY | 99,000
NY | E-2006-BUSP-699 |  | Boro Park JCC Bus Purchase, NY | 247,500
NY | E-2006-BUSP-700 | 271 | Bronx, NY Botanical Garden metro North Rail station Intermodal Facility | 190,357
NY | E-2006-BUSP-703 | 166 | Bronx, NY Hebrew Home for the Aged elderly and disabled transportation support | 35,692
NY | E-2006-BUSP-704 | 338 | Bronx, NY Intermodal Facility near Exit 6. of the Bronx River Parkway | 47,589
NY | E-2006-BUSP-705 | 234 | Bronx, NY Jacobi Intermodal Center to North Central Bronx Hospital bus system | 59,487
NY | E-2006-BUSP-706 | 10 | Bronx, NY Wildlife Conservation Society intermodal transportation facility at the Bronx Zoo | 83,282
NY | E-2006-BUSP-707 | 197 | Brooklyn, NY Construct a multi-modal transportation facility | 266,500
NY | E-2006-BUSP-708 | 408 | Brooklyn, NY Construct a multi-modal transportation facility in the vicinity of Downstate Medical Center | 190,357
NY | E-2006-BUSP-709 | 41 | Brooklyn, NY New Urban Center-Broadway Junction Intermodal Center | 182,743
NY | E-2006-BUSP-710 | 56 | Brooklyn, NY-Rehabilitation of Bay Ridge 86th Street Subway Station | 761,429
NY | E-2006-BUSP-711 | 419 | Brooklyn, NY-Rehabilitation of Bay Ridge 86th Street Subway Station | 761,429
NY | E-2006-BUSP-712 | 192 | Buffalo, NY Inter-modal Center Parking Facility | 190,357
NY | E-2006-BUSP-1111 |  | White Plains for bus and bus facilities | ʳ 198,000
NY | E-2006-BUSP-1112 |  | Rockland County, NY , mini-buses for service in Clarkstown, NY | ʳ 99,000
NY | E-2006-BUSP-714 |  | Bus Facility 65th Intermodal Station, NY | 990,000
NY | E-2006-BUSP-715 | 245 | Bus to provide Yorktown, New York internal circulator to provide transportation throughout the Town | 35,216
NY | E-2006-BUSP-716 |  | Central New York Regional Transportation Authority | 1,485,000
NY | E-2006-BUSP-717 | 230 | Construction of Third Bus Depot on Staten Island | 2,284,286
NY | E-2006-BUSP-718 | 146 | Cooperstown, New York-Intermodal Transit Center | 951,786
NY | E-2006-BUSP-719 | 363 | Corning, New York-Transportation Center | 951,786
NY | E-2006-BUSP-720 | 512 | Corning, NY, Phase II Corning Preserve Transportation Enhancement Project | 346,500
NY | E-2006-BUSP-721 | 284 | Cornwall, NY-Purchase Bus | 16,561
NY | E-2006-BUSP-722 |  | Electric, Next-Generation Transit Buses, Broome County Transit, NY | 792,000
NY | E-2006-BUSP-723 | 300 | Geneva, New York-Multimodal facility-Construct passenger rail center | 95,179
NY | E-2006-BUSP-724 |  | Intermodal transportation facility, Huntington Hospital, NY | 495,000
NY | E-2006-BUSP-725 | 317 | Jamestown, NY Rehabilitation of Intermodal Facility and associated property | 380,714
NY | E-2006-BUSP-726 | 343 | Kings County, NY Construct a multi-modal transportation facility | 190,357
NY | E-2006-BUSP-727 |  | Lakeside Center Hub, Prospect Park, Brooklyn, New York | 693,000
NY | E-2006-BUSP-728 |  | Nassau County Hub and Centre, NY | 990,000
NY | E-2006-BUSP-729 |  | Nassau County, New York Bus Replacement | 990,000
NY | E-2006-BUSP-730 | 368 | Nassau County, NY Conduct planning and engineering for transportation system (HUB) | 1,332,500
NY | E-2006-BUSP-731 | 585 | Nassau County, NY, Conduct planning, engineering, and construction for transportation system (HUB) | 990,000
NY | E-2006-BUSP-732 | 25 | New York City, NY First Phase Implementation of Bus Rapid Transit System | 190,357
NY | E-2006-BUSP-733 | 376 | New York City, NY Purchase Handicapped-Accessible Livery Vehicles | 190,357
NY | E-2006-BUSP-734 | 590 | New York City, NY, Bronx Zoo Intermodal Facility | 346,500
NY | E-2006-BUSP-735 | 591 | New York City, NY, Enhance Transportation Facilities Near W. 65th Street and Broadway | 346,500
NY | E-2006-BUSP-736 | 592 | New York City, NY, Highline Project, for Studies, Design, and Construction | 990,000
NY | E-2006-BUSP-738 |  | NFTA Hybrid Buses, Amherst, Erie County, New York | 742,500
NY | E-2006-BUSP-739 | 77 | Niagara Falls, NY Relocation, Development, and Enhancement of Niagara Falls International Railway Station/Intermodal Transportation Center | 1,066,000
NY | E-2006-BUSP-740 |  | Niagara Frontier Transportation Authority Buses, New York | 495,000
NY | E-2006-BUSP-741 | 373 | Niagara Frontier Transportation Authority, NY Replacement Buses | 190,357
NY | E-2006-BUSP-742 |  | North Hempstead Green Bus Fleet, New York | 594,000
NY | E-2006-BUSP-743 | 322 | Oneonta, New York-bus replacement | 28,554
NY | E-2006-BUSP-744 | 379 | Ramapo, NY Transportation Safety Field Bus | 47,589
NY | E-2006-BUSP-745 |  | Renaissance Square, NY | 4,950,000
NY | E-2006-BUSP-747 | 252 | Rochester, New York-Renaissance Square transit center | 856,607
NY | E-2006-BUSP-748 | 430 | Rochester, New York-Renaissance Square Transit Center | 428,304
NY | E-2006-BUSP-749 | 607 | Rochester, NY, Renaissance Square Intermodal Facility, Design and Construction | 990,000
NY | E-2006-BUSP-750 | 609 | Rockland County, NY Express Bus | 594,000
NY | E-2006-BUSP-751 |  | Seniors Transportation, Inc. Buses and Bus Facilities, New York | 99,000
NY | E-2006-BUSP-752 |  | St. George Terminal, Staten Island, NY | 990,000
NY | E-2006-BUSP-753 |  | Suffolk County Buses and Bus Facilities, New York | 396,000
NY | E-2006-BUSP-754 | 386 | Suffolk County, NY Design and construction of intermodal transit facility in Wyandanch | 875,643
NY | E-2006-BUSP-755 | 353 | Suffolk County, NY Purchase four handicapped accessible vans to transport veterans to and from the VA facility in Northport | 53,300
NY | E-2006-BUSP-756 | 635 | Syracuse, New York, Syracuse University Connective Corridor Transit Project | 792,000
NY | E-2006-BUSP-757 | 261 | Thendra-Webb and Utica, New York-Install handicap lifts in intermodal centers | 19,036
NY | E-2006-BUSP-758 |  | Third Bus Depot on Staten Island, NY—South Shore | 1,980,000
NY | E-2006-BUSP-759 | 289 | Town of Warwick, NY Bus Facility Warwick Transit System | 104,696
NY | E-2006-BUSP-760 | 451 | Utica, New York Transit Multimodal Facilities | 1,138,500
NY | E-2006-BUSP-761 | 78 | Utica, New York-Union Station Boehlert Center siding track improvements | 19,036
NY | E-2006-BUSP-762 | 182 | Utica, New York-Union Station rehabilitation and related infrastructure improvements | 95,179
NY | E-2006-BUSP-763 |  | Westchester County Bee-Line Bus Replacement, New York | 247,500
NY | E-2006-BUSP-764 | 264 | Westchester County, NY Bus replacement program | 713,840
NY | E-2006-BUSP-765 | 149 | Yonkers, NY Trolley Bus Acquisition | 71,384
OH | E-2006-BUSP-766 | 362 | Akron, OH Construct City of Akron Commuter Bus Transit Facility | 285,536
OH | E-2006-BUSP-767 | 318 | Akron, Ohio Construct Downtown Multi-modal Transportation Center | 761,429
OH | E-2006-BUSP-769 |  | Central Ohio Transit Authority Paratransit Facility | 1,485,000
OH | E-2006-BUSP-770 | 489 | Central Ohio Transit Authority-Paratransit and Small Bus Service Facility | 453,420
OH | E-2006-BUSP-771 | 241 | Cincinnati, Ohio-Construct Uptown Crossings Joint Development Transit Project | 571,072
OH | E-2006-BUSP-772 | 89 | Cincinnati, Ohio-Metro Regional Transit Hub Network Eastern Neighborhoods | 176,080
OH | E-2006-BUSP-774 | 202 | Cleveland, OH Construct Fare Collection System Project, Cuyahoga County | 95,179
OH | E-2006-BUSP-775 | 179 | Cleveland, OH Construct passenger inter-modal center near Dock 32 | 163,707
OH | E-2006-BUSP-776 | 411 | Cleveland, OH Construction of an inter-modal facility and related improvements at University Hospitals facility on Euclid Avenue | 190,357
OH | E-2006-BUSP-777 |  | Cleveland, Ohio acquisition of buses Greater Cleveland Regional Transit Authority | 190,357
OH | E-2006-BUSP-778 | 258 | Cleveland, Ohio-Euclid Avenue and East 93rd Street intermodal facility | 1,618,036
OH | E-2006-BUSP-779 | 198 | Cleveland, Ohio-Euclid Avenue University Hospital intermodal facility | 856,607
OH | E-2006-BUSP-780 | 50 | Cleveland, Ohio-University Circle Intermodal facility | 1,618,036
OH | E-2006-BUSP-782 | 7 | Columbus, OH-Central Ohio Transit Authority Paratransit Facility | 532,478
OH | E-2006-BUSP-783 | 292 | Cuyahoga County, Ohio-Ohio Department of Transportation transit improvements | 28,554
OH | E-2006-BUSP-784 | 120 | Dayton Airport Inter-modal Rail Feasibility Study | 142,768
OH | E-2006-BUSP-785 | 516 | Dayton-Wright Stop Plaza | 453,420
OH | E-2006-BUSP-786 |  | Downtown Akron Transportation Center, OH | 297,000
OH | E-2006-BUSP-788 | 309 | Elyria, OH Construct the New York Central Train Station into an intermodal transportation hub | 389,851
OH | E-2006-BUSP-789 | 349 | Kent, OH Construct Kent State University Intermodal Facility serving students and the general public | 190,357
OH | E-2006-BUSP-790 | 104 | Marietta, Ohio Construction of transportation hub to accommodate regional bus traffic | 95,179
OH | E-2006-BUSP-791 | 576 | Metro Regional Transit Authority/City of Akron-Downtown Transit Center/Akron | 1,587,960
OH | E-2006-BUSP-792 | 87 | Niles, OH Acquisition of bus operational and service equipment of Niles Trumbull Transit | 38,071
OH | E-2006-BUSP-793 |  | Ohio Statewide Buses and Bus Facilities | 5,204,615
OH | E-2006-BUSP-795 | 385 | Springfield, OH-City of Springfield Bus Transfer Station and Associated Parking | 47,589
OH | E-2006-BUSP-796 |  | Tech Town Transportation Center, OH | 742,500
OH | E-2006-BUSP-797 | 34 | Toledo, OH TARTA/TARPS Passenger Inter-modal Facility construction | 1,427,679
OH | E-2006-BUSP-798 |  | Uptown Crossings Joint Development Transit Project, Cincinnati, OH | 990,000
OH | E-2006-BUSP-799 | 64 | Zanesville, OH-bus system signage and shelters | 15,467
OK | E-2006-BUSP-800 |  | Enhance Oklahoma Transit Association Public System | 495,000
OK | E-2006-BUSP-801 |  | Oklahoma DOT Transit Program Division | 495,000
OR | E-2006-BUSP-802 | 442 | Albany, OR North Albany Park and Ride | 181,293
OR | E-2006-BUSP-803 | 165 | Albany, OR Rehabilitate Building at Multimodal Transit Station | 290,068
OR | E-2006-BUSP-804 | 272 | Bend, Oregon-replacement vans | 190,357
OR | E-2006-BUSP-805 | 66 | Canby, OR bus and bus facilities | 28,554
OR | E-2006-BUSP-806 | 187 | Columbia County, OR To purchase buses | 26,650
OR | E-2006-BUSP-809 | 325 | Grants Pass, OR Purchase Vehicles For Use By Josephine Community Transit | 38,752
OR | E-2006-BUSP-810 | 99 | Gresham, Oregon Construct a new light rail station and transit plaza on Portland MAX system and serve Gresham Civic neighborhood | 266,500
OR | E-2006-BUSP-812 | 323 | Lincoln, County, OR bus purchase | 47,589
OR | E-2006-BUSP-813 | 175 | Molalla, OR South Clackamas Transportation District, bus purchase | 19,036
OR | E-2006-BUSP-814 |  | Park and Ride Facility, Ashland, OR | 247,500
OR | E-2006-BUSP-815 | 16 | Portland, OR Renovation of Union Station, including structural reinforcement and public safety upgrades | 19,036
OR | E-2006-BUSP-816 | 93 | Salem, OR bus and bus facilities | 380,714
OR | E-2006-BUSP-817 |  | Sandy Transit Bus Facility, Oregon | 371,250
OR | E-2006-BUSP-818 | 106 | Sandy, Oregon Transit Bus Facility | 133,250
OR | E-2006-BUSP-819 |  | SMART Multi-Modal Transit Center and Bus Maintenance Facility, Oregon | 495,000
OR | E-2006-BUSP-820 | 180 | Tillamook, OR construction of a transit facility | 19,036
OR | E-2006-BUSP-821 | 216 | Wilsonville, OR South Metro Area Rapid Transit, bus and bus facilities | 47,589
OR | E-2006-BUSP-822 | 82 | Yamhill County, OR For the construction of bus shelters, park and ride facilities, and a signage strategy to increase ridership | 20,939
PA | E-2006-BUSP-823 |  | Adams Co. Transit Authority purchase of buses, PA | 495,000
PA | E-2006-BUSP-824 | 225 | Allentown, Pennsylvania-Design and Construct Intermodal Transportation Center | 380,714
PA | E-2006-BUSP-825 | 456 | Altoona Multimodal Transportation Facility Parking Garage | 227,700
PA | E-2006-BUSP-827 |  | Area Transit Authority, PA | 990,000
PA | E-2006-BUSP-828 | 467 | Area Transportation Authority of North Central Pennsylvania-Vehicle Replacements | 226,710
PA | E-2006-BUSP-831 | 471 | Beaver County, PA Transit Authority Bus Replacement/Related Equipment Replacement | 226,710
PA | E-2006-BUSP-832 |  | Bucks County Intermodal Facility, PA | 495,000
PA | E-2006-BUSP-833 |  | Bus Purchase for Red Rose Transit Authority, Lancaster, PA | 742,500
PA | E-2006-BUSP-835 | 481 | Butler Township, PA-Cranbury Area Transit Service | 793,980
PA | E-2006-BUSP-839 |  | Capital Area Transit (CAT), PA | 742,500
PA | E-2006-BUSP-840 |  | Centre Area Transportation Intermodal Facility, PA | 495,000
PA | E-2006-BUSP-841 | 123 | Cheltenham, PA Glenside Rail Station Parking Garage project involving the construction of a 300-400 space parking lot at Easton Road and Glenside Avenue | 190,357
PA | E-2006-BUSP-842 |  | Chestnut Hill Parking Foundation, Cheltenham, PA | 247,500
PA | E-2006-BUSP-843 |  | Church Street Transportation Center, PA | 222,750
PA | E-2006-BUSP-845 |  | Coatesville Train Station, Coatesville, PA | 990,000
PA | E-2006-BUSP-846 | 513 | County of Lackawanna Transit System-Scranton Intermodal Transportation Center | 226,710
PA | E-2006-BUSP-847 |  | County of Lebanon Transit (COLT), PA | 297,000
PA | E-2006-BUSP-848 |  | Crawford Intermodal Transportation Facility, PA | 346,500
PA | E-2006-BUSP-849 | 514 | Cumberland-Dauphin-Harrisburg Transit Authority-Purchase of Buses and Spare Units | 226,710
PA | E-2006-BUSP-850 |  | Easton Intermodal, PA | 396,000
PA | E-2006-BUSP-851 | 81 | Easton, Pennsylvania-Design and construct Intermodal Transportation Center | 380,714
PA | E-2006-BUSP-852 |  | Endless Mountain Transportation Authority, Bradford County, PA | 297,000
PA | E-2006-BUSP-853 | 524 | Erie, PA Metropolitan Transit Authority-Bus Acquisitions | 226,710
PA | E-2006-BUSP-854 | 431 | Erie, PA-EMTA Vehicle Acquisition | 380,714
PA | E-2006-BUSP-855 |  | Fayette Area Coordinated Transportation, PA | 1,485,000
PA | E-2006-BUSP-856 |  | Gettysburg Bus and Bus Facilities, PA | 247,500
PA | E-2006-BUSP-857 | 331 | Gettysburg, Pennsylvania-transit transfer center | 171,131
PA | E-2006-BUSP-859 | 458 | Hershey, Pennsylvania Intermodal Center and Parking Garage | 56,925
PA | E-2006-BUSP-860 | 233 | Intermodal Facilities in Bucks County (Croydon and Levittown Stations) | 571,072
PA | E-2006-BUSP-861 | 457 | Lancaster County, Pennsylvania Intermodal Center and Parking Facility | 56,925
PA | E-2006-BUSP-862 |  | Lancaster Intermodal, Pennsylvania | 1,980,000
PA | E-2006-BUSP-863 | 37 | Lancaster, PA-bus replacement | 180,839
PA | E-2006-BUSP-864 | 559 | Lancaster, PA-Intermodal Project | 158,400
PA | E-2006-BUSP-865 | 564 | Lehigh and Northampton Transportation Authority, PA-Allentown Intermodal Transportation Center | 453,420
PA | E-2006-BUSP-866 |  | Mid Mon Valley Transit Authority, Pennsylvania | 1,485,000
PA | E-2006-BUSP-867 | 583 | Monroe Township, PA-Clarion County Buses | 149,490
PA | E-2006-BUSP-868 |  | Monroe Township/Clarion University Transit | 653,400
PA | E-2006-BUSP-869 |  | Montgomery County Intermodal, Pennsylvania | 495,000
PA | E-2006-BUSP-870 | 588 | New Castle, PA Area Transit Authority-Bus Purchases/Park and Ride Facility | 168,300
PA | E-2006-BUSP-871 |  | Northumberland County Transportation, PA | 198,000
PA | E-2006-BUSP-872 |  | Paoli Transportation Center | 1,980,000
PA | E-2006-BUSP-873 | 201 | Philadelphia, PA Cruise Terminal Transportation Ctr. Phila. Naval Shipyard | 666,250
PA | E-2006-BUSP-874 | 137 | Philadelphia, PA Improvements to the existing Penn's Landing Ferry Terminal | 761,429
PA | E-2006-BUSP-875 | 413 | Philadelphia, PA Penn's Landing water shuttle parking lot expansion and water shuttle ramp infrastructure construction | 209,393
PA | E-2006-BUSP-876 | 22 | Philadelphia, PA Philadelphia Zoo Intermodal Transportation project w/parking consolidation, pedestrian walkways, public transportation complements & landscape improvements to surface parking lots | 951,786
PA | E-2006-BUSP-877 | 274 | Philadelphia, PA SEPTA's Market St. Elevated Rail project in conjunction with Philadelphia Commercial Development Corporation for improvements and assistance to entities along rail corridor | 266,500
PA | E-2006-BUSP-878 | 316 | Philadelphia, Pennsylvania-SEPTA Market Street Elevated Line parking facility | 761,429
PA | E-2006-BUSP-879 | 126 | Pittsburgh, PA Clean Fuel Bus Procurement | 95,179
PA | E-2006-BUSP-880 |  | Port Authority of Allegheny County Bus Acquisition, Pennsylvania | 3,069,000
PA | E-2006-BUSP-881 | 397 | Pottsville, PA Union Street Trade and Transfer Center Intermodal Facility | 380,714
PA | E-2006-BUSP-882 | 48 | Project provides for the engineering and construction of a transportation center in Paoli, Chester County | 190,357
PA | E-2006-BUSP-884 | 424 | Sharon, PA-Bus Facility Construction | 95,179
PA | E-2006-BUSP-885 |  | Shenango Valley Shuttle Service, Pennsylvania | 247,500
PA | E-2006-BUSP-351 | 96 | SEPTA Montgomery County Intermodal Improvements at Glenside and Jenkintown Station Parking Garages | ˢ 951,786
PA | E-2006-BUSP-886 | 626 | Southeastern Pennsylvania Transportation Authority-Bucks County Intermodal (Croydon and Levittown) | 680,130
PA | E-2006-BUSP-887 | 627 | Southeastern Pennsylvania Transportation Authority-Paoli Transportation Center | 680,130
PA | E-2006-BUSP-888 | 628 | Southeastern Pennsylvania Transportation Authority-Villanova-SEPTA Intermodal | 680,130
PA | E-2006-BUSP-890 |  | Union Station Intermodal Trade and Transit Center, Pennsylvania | 1,237,500
PA | E-2006-BUSP-891 |  | Union/Snyder Transportation Authority Union County, PA | 990,000
PA | E-2006-BUSP-893 | 660 | Westmoreland County Transit Authority, PA-Bus Replacement | 226,710
PA | E-2006-BUSP-894 |  | Westmoreland Transit Authority, Pennsylvania | 742,500
PA | E-2006-BUSP-896 |  | Williamsport Trade and Transit Centre Expansion, Pennsylvania | 668,250
PA | E-2006-BUSP-897 | 662 | Williamsport, PA Bureau of Transportation-Williamsport Trade and Transit Centre Expansion | 680,130
PR | E-2006-BUSP-900 | 128 | Bayamon, Puerto Rico-bus terminal | 114,214
PR | E-2006-BUSP-901 | 421 | Bayamon, Puerto Rico-Purchase of Trolley Cars | 161,804
PR | E-2006-BUSP-902 | 3 | Lares, PR-Trolley buses-for the purchase of two trolley buses that will offer transportation through the urban zone in the Municipality of Lares | 50,254
PR | E-2006-BUSP-903 | 164 | Puerto Rico-Caribbean National Forest bus and bus facilities | 571,072
PR | E-2006-BUSP-904 | 152 | San Juan, Puerto Rico-bus security equipment | 571,072
PR | E-2006-BUSP-905 | 71 | San Juan, Puerto Rico-Buses | 190,357
PR | E-2006-BUSP-906 | 58 | Yabucoca, Puerto Rico-Trolley Buses | 33,313
RI | E-2006-BUSP-907 | 246 | Providence, RI Expansion of Elmwood Paratransit Maintenance Facility | 951,786
RI | E-2006-BUSP-908 |  | Rhode Island Public Transit Authority Elmwood Avenue Maintenance Facility Improvements | 1,227,600
RI | E-2006-BUSP-909 |  | Rhode Island Public Transit Authority Transit Security Improvements | 198,000
RI | E-2006-BUSP-910 | 115 | Rhode Island Statewide Bus Fleet | 1,142,143
RI | E-2006-BUSP-911 |  | Rhode Island Statewide Vehicle Replacement | 495,000
RI | E-2006-BUSP-912 | 604 | Rhode Island, RIPTA Elmwood Facility Expansion | 1,584,000
RI | E-2006-BUSP-913 |  | Warwick Para-Transit Vehicles, Rhode Island | 133,650
SC | E-2006-BUSP-914 | 533 | Greensville, SC Transit Authority-City of Greenville Multimodal Transportation Center Improvements | 226,710
SC | E-2006-BUSP-915 | 619 | South Carolina Department of Transportation-Transit Facilities Construction Program | 453,420
SC | E-2006-BUSP-916 | 620 | South Carolina Department of Transportation-Vehicle Acquisition Program | 1,814,670
SC | E-2006-BUSP-917 |  | Vehicle Acquisition, SC | 1,584,000
SD | E-2006-BUSP-918 |  | Pine Ridge Transit System, South Dakota | 594,000
SD | E-2006-BUSP-919 | 621 | South Dakota Department of Transportation-Statewide Buses and Bus Facilities | 1,380,820
SD | E-2006-BUSP-920 |  | Statewide Bus and Bus Facilities, SD | 1,665,660
TN | E-2006-BUSP-922 |  | Knoxville Electric Transit Intermodal Center, TN | 990,000
TN | E-2006-BUSP-923 | 237 | Knoxville, Tennessee-Central Station Transit Center | 1,941,643
TN | E-2006-BUSP-924 | 554 | Knoxville, TN-Central Station | 567,270
TN | E-2006-BUSP-925 | 565 | Lipscomb University, TN-Intermodal Parking Garage | 340,560
TN | E-2006-BUSP-926 |  | Memphis Airport Intermodal Facility, Tennessee | 1,361,250
TN | E-2006-BUSP-928 | 268 | Nashville, TN Construct a parking garage on the campus of Lipscomb University, Nashville | 380,714
TN | E-2006-BUSP-930 | 30 | Sevier County, Tennessee-U.S. 441 bus rapid transit | 47,589
TN | E-2006-BUSP-931 |  | Southeast Tennessee Human Resource Agency | 495,000
TN | E-2006-BUSP-932 |  | Tennessee Department of Transportation Buses and Bus Facilities | 477,570
TN | E-2006-BUSP-933 | 636 | Tennessee Department of Transportation-Statewide Tennessee Transit ITS and Bus Replacement Project | 2,721,510
TN | E-2006-BUSP-934 |  | TN DOT Job Access Reverse Commute | 495,000
TN | E-2006-BUSP-935 |  | TN Statewide Bus and Bus Facilities | 5,102,430
TN | E-2006-BUSP-936 | 649 | University of Memphis-Pedestrian Bridge | 680,130
TN | E-2006-BUSP-937 |  | Upper Cumberland Human Resource Agency, Tennessee | 346,500
TX | E-2006-BUSP-938 | 426 | Abilene, TX Vehicle replacement and facility improvements for transit system | 76,143
TX | E-2006-BUSP-939 |  | Brazos Transit District Bus Replacement, TX | 123,750
TX | E-2006-BUSP-940 |  | Brazos Transit District, Capital Cost Contracting, TX | 990,000
TX | E-2006-BUSP-943 | 153 | Bryan, TX The District-Bryan Intermodal Transit Terminal and Parking Facility | 571,072
TX | E-2006-BUSP-945 |  | Bus Shelters, Dallas, TX | 495,000
TX | E-2006-BUSP-946 |  | Bus/Vehicle Replacement, Lufkin, TX | 297,000
TX | E-2006-BUSP-947 |  | Capital Metro Expansion and Improvement, TX | 2,079,000
TX | E-2006-BUSP-948 |  | Capital Metro North Operating Facility, TX | 495,000
TX | E-2006-BUSP-949 |  | Capital Metro Rapid Bus Project, TX | 742,500
TX | E-2006-BUSP-950 | 485 | Capital Metropolitan Transportation Authority, TX-Bus Replacements | 2,268,090
TX | E-2006-BUSP-951 | 455 | Carrollton, Texas Downtown Regional Multimodal Transit Hub | 227,700
TX | E-2006-BUSP-953 |  | City of El Paso Sun Metro Bus Replacement, TX | 1,980,000
TX | E-2006-BUSP-954 |  | City of Lubbock Citibus Improvement, TX | 495,000
TX | E-2006-BUSP-955 | 506 | City of Round Rock, TX-Downtown Intermodal Transportation Terminal | 226,710
TX | E-2006-BUSP-957 |  | Compressed Natural Gas (CNG) Buses, TX | 990,000
TX | E-2006-BUSP-958 | 111 | Construct West Houston and Fort Bend County, Texas-bus transit corridor | 380,714
TX | E-2006-BUSP-959 |  | Corpus Christi Bus and Bus Facilities, TX | 79,200
TX | E-2006-BUSP-960 | 438 | Corpus Christi, TX Corpus Regional Transit Authority for maintenance facility improvements | 475,893
TX | E-2006-BUSP-961 | 515 | Dallas Area Rapid Transit-Bus passenger Facilities | 226,710
TX | E-2006-BUSP-962 | 336 | Dallas, TX Bus Passenger Facilities | 2,436,572
TX | E-2006-BUSP-963 | 196 | Design Downtown Carrollton, Texas Regional Multi-Modal Transit Hub Station | 380,714
TX | E-2006-BUSP-964 |  | Enhancements to Bus Terminal in McAllen, TX | 495,000
TX | E-2006-BUSP-965 |  | Fort Bend Co, TX, Park & Ride | 495,000
TX | E-2006-BUSP-966 | 290 | Galveston, Texas-Intermodal center and parking facility, The Strand | 856,607
TX | E-2006-BUSP-967 | 536 | Harris County-West Houston-Fort Bend Bus Transit Corridor: Uptown Westpark Terminal | 226,710
TX | E-2006-BUSP-968 |  | Hill County Transit Administration Facility, TX | 337,000
TX | E-2006-BUSP-969 |  | Houston METRO Bus Transit Centers, TX | 2,009,700
TX | E-2006-BUSP-970 |  | Hunt County Committee on Aging, TX | 495,000
TX | E-2006-BUSP-972 | 561 | Laredo-North Laredo Transit Hub-Bus Maintenance Facility | 680,130
TX | E-2006-BUSP-973 |  | Lubbock/Citibus Low-Floor Buses, Paratransit Vans and Facilities, and Passenger Amenities, TX | 79,200
TX | E-2006-BUSP-974 |  | Midland Bus Facilities, Texas | 79,200
TX | E-2006-BUSP-975 |  | Midland Bus Facilities, TX | 49,500
TX | E-2006-BUSP-977 |  | Rolling Stock for HCTD Urban System, TX | 1,485,000
TX | E-2006-BUSP-978 | 24 | Roma, TX Bus Facility | 99,938
TX | E-2006-BUSP-979 | 610 | San Angelo, TX Street Railroad Company-Transit Fleet Replacement | 226,710
TX | E-2006-BUSP-982 |  | The District-Bryan/College Station Bus Replacement, Texas | 495,000
TX | E-2006-BUSP-984 | 63 | Zapata, Texas Purchase Bus vehicles | 59,487
UT | E-2006-BUSP-985 |  | Brigham City Buses and Bus Facilities, UT | 148,500
UT | E-2006-BUSP-986 |  | Commuter Rail Hub Planning and Renovation of the Historic Brigham City Train Depot, UT | 74,250
UT | E-2006-BUSP-987 |  | Ogden Buses and Bus Facilities, UT | 247,500
UT | E-2006-BUSP-990 |  | Statewide Bus and Bus Facilities, Utah | 1,274,427
UT | E-2006-BUSP-995 |  | West Valley City Intermodal Terminal, Utah | 211,250
UT | E-2006-BUSP-996 |  | Westminster College Intermodal Transportation Facilities Expansion for Shuttle Buses, Utah | 1,237,500
VA | E-2006-BUSP-997 |  | Alexandria Transit Service Improvements, VA | 990,000
VA | E-2006-BUSP-998 | 409 | Alexandria, VA Eisenhower Avenue Inter-modal Station improvements, including purchase of buses and construction of bus shelters | 475,893
VA | E-2006-BUSP-999 | 232 | Alexandria, VA Royal Street Bus Garage Replacement | 95,179
VA | E-2006-BUSP-1000 |  | Arlington County Bus Transfer Facility, VA | 396,000
VA | E-2006-BUSP-1001 | 278 | Arlington County, VA Columbia Pike Bus Improvements | 666,250
VA | E-2006-BUSP-1002 | 142 | Arlington County, VA Crystal City-Potomac Yard Busway, including construction of bus shelters | 571,072
VA | E-2006-BUSP-1003 | 359 | Arlington County, VA Pentagon City Multimodal Improvements | 380,714
VA | E-2006-BUSP-1004 | 157 | Bealeton, Virginia-Intermodal Station Depot Refurbishment | 52,348
VA | E-2006-BUSP-1005 |  | Blacksburg Transit Intermodal Facility, VA | 198,000
VA | E-2006-BUSP-1006 |  | Buses and Bus Facilities, Danville, VA | 297,000
VA | E-2006-BUSP-1007 | 492 | City of Alexandria, VA-City-Wide Transit Improvements | 226,710
VA | E-2006-BUSP-1008 | 493 | City of Alexandria, VA-Potomac Yard Transit Improvements | 226,710
VA | E-2006-BUSP-1009 | 494 | City of Alexandria, VA-Replace Royal Street Bus Garage | 680,130
VA | E-2006-BUSP-1010 | 495 | City of Alexandria, VA-Valley Pedestrian & Transit | 226,710
VA | E-2006-BUSP-1011 | 511 | Commonwealth of Virginia-Statewide Bus Capital Program | 3,401,640
VA | E-2006-BUSP-1012 | 15 | Fairfax County, VA Richmond Highway (U.S. Route1) Public Transportation Improvements | 380,714
VA | E-2006-BUSP-1013 | 525 | Fairfax County, Virginia-Richmond Highway Initiative | 453,420
VA | E-2006-BUSP-1014 | 281 | Falls Church, VA Falls Church Intermodal Transportation Center | 380,714
VA | E-2006-BUSP-1015 | 97 | Fredericksburg, Virginia-Improve and repair Fredericksburg Station | 475,893
VA | E-2006-BUSP-1016 |  | Greater Lynchburg Transit Company Vehicle Replacement, VA | 396,000
VA | E-2006-BUSP-1019 |  | Hampton Roads Southside Bus Facility, VA | 990,000
VA | E-2006-BUSP-1020 |  | Hampton Roads Transit Bus Facilities, VA | 2,227,500
VA | E-2006-BUSP-1021 | 535 | Hampton Roads Transit, VA-Southside Bus Facility | 226,710
VA | E-2006-BUSP-1022 | 391 | Hampton Roads, VA Final design and construction for a Hampton Roads Transit Southside Bus Facility | 380,714
VA | E-2006-BUSP-1023 |  | Jamestown 2007 Natural Gas Bus purchase, VA | 247,500
VA | E-2006-BUSP-1024 | 354 | Norfolk, Virginia-Final Design and Construction Southside Bus Facility | 333,125
VA | E-2006-BUSP-1025 | 68 | Northern Neck and Middle Peninsula, Virginia-Bay Transit Multimodal Facilities | 618,661
VA | E-2006-BUSP-1026 |  | Park-and-Ride Lot, Springfield, VA | 990,000
VA | E-2006-BUSP-1027 |  | Petersburg Multi-Modal Transit Center, VA | 495,000
VA | E-2006-BUSP-1028 |  | Petersburg Transit Intermodal Facility, VA | 297,000
VA | E-2006-BUSP-1029 | 602 | Potomac & Rappahannock Transportation Commission, VA-Buses for Service Expansion | 226,710
VA | E-2006-BUSP-1030 |  | Potomac and Rappahannock Transit Commission Buses for service expansion, VA | 1,188,000
VA | E-2006-BUSP-1031 |  | Richmond Highway Public Transportation Initiative, VA | 2,376,000
VA | E-2006-BUSP-1033 | 184 | Richmond, VA Renovation and construction for Main Street Station | 209,393
VA | E-2006-BUSP-1034 | 434 | Roanoke, VA-Bus restoration in the City of Roanoke | 47,589
VA | E-2006-BUSP-1035 | 312 | Roanoke, Virginia-Improve Virginian Railway Station | 47,589
VA | E-2006-BUSP-1036 | 305 | Roanoke, Virginia-Intermodal Facility | 38,071
VA | E-2006-BUSP-1037 | 361 | Roanoke, Virginia-Roanoke Railway and Link Passenger facility | 95,179
VI | E-2006-BUSP-1038 |  | Virgin Island Transit VITRAN, Virgin Islands | 297,000
VT | E-2006-BUSP-1116 |  | Connecticut River Transit for bus and bus related projects in Southeastern Vermont | ᵗ 990,000
VT | E-2006-BUSP-1040 | 477 | Brattleborough, VT, Intermodal Center | 594,000
VT | E-2006-BUSP-1041 |  | Burlington Transit Facilities, VT | 990,000
VT | E-2006-BUSP-1042 | 486 | CCTA, VT, Bus, Facilities and Equipment | 297,000
VT | E-2006-BUSP-1043 | 633 | State of Vermont Buses, Facilities and Equipment | 247,500
WA | E-2006-BUSP-1044 |  | Ben Franklin Transit, Maintenance and Operations Facility, WA | 495,000
WA | E-2006-BUSP-1046 |  | Everett Transit, Bus and Paratransit Vehicle Replacement, WA | 816,750
WA | E-2006-BUSP-1048 |  | Grays Harbor Transit, Transit Center Expansion, WA | 772,200
WA | E-2006-BUSP-1050 | 395 | Ilwaco, WA Construct park and ride | 19,036
WA | E-2006-BUSP-1051 | 94 | Ilwaco, WA Procure shuttles for Lewis and Clark National Historical Park | 19,036
WA | E-2006-BUSP-1053 | 337 | Island Transit, WA Operations Base Facilities Project | 456,857
WA | E-2006-BUSP-1055 |  | King County Airfield Transfer Area, WA | 1,188,000
WA | E-2006-BUSP-1058 |  | Link Transit Low Floor Coaches Chelan/Leavenworth, WA | 495,000
WA | E-2006-BUSP-1061 | 334 | North Bend, Washington-Park and Ride | 152,286
WA | E-2006-BUSP-1062 | 333 | Oak Harbor, WA Multimodal Facility | 190,357
WA | E-2006-BUSP-1063 |  | Port Angeles International Gateway Project, Washington | 792,000
WA | E-2006-BUSP-1065 |  | Puyallup Transit Center Park and Ride, Washington | 772,200
WA | E-2006-BUSP-1066 | 613 | Seattle, WA Multimodal Terminal Redevelopment & Expansion | 792,000
WA | E-2006-BUSP-1068 |  | Skagit Transit Chuckanut Dr. Station in Burlington, Washington | 297,000
WA | E-2006-BUSP-1069 | 113 | Snohomish County, WA Community Transit bus purchases and facility enhancement | 571,072
WA | E-2006-BUSP-1071 |  | SW King County-Highline CC Intermodal Transit Facility and Parking Garage | 841,500
WA | E-2006-BUSP-1072 | 151 | Thurston County, WA Replace Thurston County Buses | 171,321
WA | E-2006-BUSP-1075 | 654 | Washington Southworth Terminal Redevelopment | 990,000
WA | E-2006-BUSP-1076 | 655 | Washington, King Street Transportation Center-Intercity Bus Terminal Component | 49,500
WI | E-2006-BUSP-1077 |  | 7th District Buses and Bus Facilities, WI | 968,547
WI | E-2006-BUSP-1080 | 452 | State of Wisconsin Transit Intermodal Facilities | 1,138,500
WI | E-2006-BUSP-1081 |  | Wisconsin Statewide Buses and Bus Facilities | 8,000
WV | E-2006-BUSP-1083 | 73 | West Virginia Construct Beckley Intermodal Gateway pursuant to the eligibility provisions for projects listed under section 3030(d)(3) of P.L. 105-178 | 4,568,573
WY | E-2006-BUSP-1085 | 665 | Wyoming Department of Transportation-Wyoming Statewide Bus and Bus Related Facilities | 680,130
Subtotal FY 2006 Unobligated Allocations | $565,807,839
FY 2006 Unobligated Ferry Boat Systems Allocations:
CA | E-2006-BUSP-1086 |  | San Francisco Water Transit Authority | 2,475,000
MA | E-2006-BUSP-1087 |  | Massachusetts Bay Transportation Authority Ferry System | 2,475,000
ME | E-2006-BUSP-1088 |  | Maine State Ferry Service, Rockland | 643,500
ME | E-2006-BUSP-1089 |  | Swans Island, Maine Ferry Service | 346,500
NJ | E-2006-BUSP-1090 |  | Camden, New Jersey Ferry System | 990,000
NY | E-2006-BUSP-1091 |  | Governor's Island, New York Ferry System | 990,000
NY | E-2006-BUSP-1092 |  | Staten Island Ferry | 990,000
PA | E-2006-BUSP-1093 |  | Philadelphia Penn's Landing Ferry Terminal | 990,000
Subtotal FY 2006 Unobligated Ferry Boat Systems Allocations | $9,900,000
FY 2006 Unobligated Other Project Allocations:
| E-2006-BUSP-1094 |  | Fuel Cell Bus Program | 11,137,500
Subtotal FY 2006 Unobligated Other Project Allocations | $11,137,500
| FY 2006 Unallocated Amount |  |  | 24,893,251
Total FY 2006 Unobligated Allocations | $611,738,590
Unobligated Allocations Grand Total | $861,331,362
Fiscal Years 2002, 2003 and 2004 Extended Allocations:
AK | E-2003-BUSP-801 |  | Anchorage International Airport Intermodal Facility, 2003 | ᵘ $1,967,357
CA | E-2002-BUSP-601 |  | Orange County Transportation Authority | ᵛ $247,507
CA | E-2004-BUSP-049 |  | Hybrid buses in Eureka, CA 2004 | ʷ 242,718
MT | E-2002-BUSP-319 |  | Statewide bus and bus facilities, MT 2002 | ˣ 806,496
NV | E-2003-BUSP-802 |  | Regional Transportation Commission of Southern Nevada for bus facilities, including bus rapid transit projects | ʸ 4,918,393
NY | E-2003-BUSP-705 |  | Buffalo, New York Inner Harbor Redevelopment Project | ᶻ 4,918,393
NY | E-2002-BUSP-600 |  | City of Poughkeepsie for bus and bus facilities | ᵃᵃ 320,000
NY | E-2003-BUSP-706 |  | Oneida County buses and transit items, 2003 | ᵃᵇ 885,311
Total Extended Allocations | $14,306,175
ᵃ Funds originally designated for the Metro Red Line Wilshire Vermont Station (E-2005-BUSP-057) shall be available to the Los Angeles County Metropolitan Transportation Authority for bus and bus facility improvements. (July 7, 2006, DOT response to Knollenberg/Bond Letter May 12, 2006).
ᵇ Funds originally designated for Sistrunk Transit and Pedestrian Access Improvement, FL (E-2005-BUSP-120) are now made available to implement bus stop, bus pullout and transit improvements consistent with the City of Ft. Lauderdale Community Redevelopment Agency plan. (July 7, 2006, DOT response to Knollenberg/Bond Letter May 12, 2006).
ᶜ Funds originally designated for White Earth Tribal Nation Transit Center, MN/White Earth Tribal Nation Transit Center (E-2005-BUSP-703) shall be available for the purchase of buses for the White Earth Tribal Nation bus and bus related activities, MN. (July 7, 2006, DOT response to Knollenberg/Bond Letter May 25, 2005).
ᵈ Funds originally designated for JATRAN fixed route vehicles, Mississippi shall now be made available to the City of Jackson, Mississippi, of which up to $2,000,000 shall be available for pedestrian access to the Jackson intermodal facility, beautification to bridge structure and brickwork. (October 13, 2005 response to Knollenberg/Bond Letter May 25, 2005).
ᵉ Funds originally designated for Tulsa Transit Multi-Use facility in Tulsa, Oklahoma shall be available for Transit buses and equipment in Tulsa. (October 13, 2005, DOT response to Knollenberg/Bond Letter of May 25, 2005).
ᶠ The project is a multimodal parking facility. (October 13, 2005 DOT response to Knollenberg/Bond Letter of May 25, 2005).
ᵍ Period of availability extended to September 30, 2008 by reprogramming.
ʰ This allocation was incorrectly listed as a Georgia project in the Federal Register Notice of February 3, 2006.
ⁱ Funds originally designated for Sun Tran CNG Buses and Facilities made available to purchase bio-diesel vehicles in Tucson, AZ. (July 7, 2006 DOT response to Knollenberg/Bond letter May 12, 2006).
ʲ Funds originally designated for Intermodal Park and Ride Facility at Discovery, CA (E-2006-BUSP-100) shall now be available to the Intermodal Park and Ride Facility at Discovery Science Center, Santa Ana, CA. The redirected funds are awarded to a State or local government entity and expended on activities that meet the buses criteria set forth in 49 U.S.C. 5309. (July 7, 2006 DOT response to Knollenberg/Bond letter May 12, 2006).
ᵏ This allocation was incorrectly listed as a Illinois project in the Federal Register Notice of February 3, 2006.
ˡ The Statement of the Managers accompanying in the Fiscal Year 2006 DOT Appropriations bill includes $2,250,000 for GRTA Xpress Implement Buses. The funds shall be made available for both bus and bus facilities. (July 7, 2006 DOT response to Knollenbeng/Bond letter May 12, 2006).
ᵐ This allocation was incorrectly listed as a California project and had the wrong project description in the Federal Register Notice of February 3, 2006.
ⁿ April 12, 2006, DOT response to Knollenberg/Bond letter January 12, 2006, listed specific projects for which funds were made available. $342,000 was previously obligated leaving a remaining balance of $54,000, for Lincoln County Senior Citizen Bus, Kentucky.
ᵒ Funds originally designated for MART Maintenance Facility, Fitchburg, MA. (E-2006-BUSP-488), shall be available for the MART maintenance facility expansion, Worcester County, MA. (November 20, 2006, DOT response to Knollenberg/Bond letter September 29, 2006).
ᵖ Funds originally designated for Automation Alley/BUSolutions, MI (E-2006-BUSP-520), $1,300,000 made available to The Rapid, the transit provider in the Grand Rapids, Michigan area, for bus acquisition. $700,000 remains available to Automation Alley/BUSsolutions in Michigan. (April 12, 2006, DOT response to Knollenberg/Bond letter January 12, 2006).
q Funds originally designated for METRO St. Louis Downtown Shuttle Trolley, MO. (E-2006-BUSP-591), shall be available for the METRO Downtown Bus Transfer Center in St. Louis, MO. (November 20, 2006, DOT response to Knollenberg/Bond letter September 29, 2006).
ʳ Funds originally designated for bus and bus facilities Clarkstown and White Plains, NY (E-2006-BUSP-713), $200,000 made available to White Plains for bus and bus facilities. $100,000 made available to Rockland County, NY, to procure mini-buses for service in Clarkstown, NY. (April 12, 2006 DOT response to Knollenberg/Bond letter January 12, 2006).
ˢ This allocation was incorrectly listed as a Georgia project in the Federal Register Notice of February 3, 2006.
ᵗ The Statement of the Managers accompanying the Fiscal Year 2005 DOT Appropriations bill (H. Rpt. 108-792) includes $2,000,000 under the Bus and Bus Facilities for Bellows Falls Transit Improvements, Vermont (E-2005-BUSP-424). In addition, the Statement of the Managers accompanying the Fiscal Year 2006 DOT Appropriations bill includes $1,000,000 under the Bus and Bus Facilities for the Bellows Falls Multimodal Facility, VT (E-2006-BUSP-1039). It is the intent of the conferees that remaining funds be made available to a State or local governmental entity, who may apply on behalf of Connecticut River Transit for bus and bus related projects in Southeastern Vermont. (February 7, 2007, DOT response to Knollenberg/Bond letter of December 19, 2006).
ᵘ It is the intent of the conferees that these funds shall be available for projects related to this facility through Fiscal Year 2007, including related surface transportation projects. (November 26, 2006, DOT response to Knollenberg/Bond letter September 29, 2006).
ᵛ The committee directs that amounts made available in Fiscal Year 2002 for Costa Mesa CNG facility, shall now be made available for Orange County Transportation Authority. (February 7, 2007, DOT response to Knollenberg/Bond letter of December 19, 2006).
ʷ Funds originally designated for Bus and Bus facilities for the Eureka Intermodal Depot, CA (E-2004-BUSP-049), shall be available for the purchase of hybrid buses in Eureka, CA. (November 20, 2006, DOT response to Knollenberg/Bond letter September 29, 2006).
ˣ Reprogrammed in FY 2005 (H. Rept. 108-792).
ʸ The committee directs that amounts made available in fiscal year 2003 for Regional Transportation Commission of Southern Nevada, shall now be made available for the Regional Transportation Commission of Southern Nevada for bus and bus facilities, including bus rapid transit projects. (February 7, 2007, DOT response to Knollenberg/Bond letter of September 29, 2006).
ᶻ Reprogrammed in FY 2005 (H. Rept. 4818, Sec. 527).
ᵃᵃ The committee directs that amounts made available in Fiscal Year 2002 for the City of Middletown buses and bus facilities shall be redirected for the City of Poughkeepsie for bus and bus facilities. (April 12, 2006, DOT response to Knollenberg/Bond letter of January 12, 2006).
ᵃᵇ Reprogrammed in FY 2005 from original earmark Utica Transit Authority Buses (H. Rept. 108-192).

Table 14.—FY 2007 Section 5309 New Starts Allocations
State | Earmark ID | Project location and description | Allocation
Alaska | D2007-NWST-001 | Denali Commission | $5,000,000
Alaska/Hawaii | D2007-NWST-002 | Alaska and Hawaii Ferry | 15,000,000
Arizona | D2007-NWST-003 | Central Phoenix/East Valley LRT | 90,000,000
California | D2007-NWST-004 | Metro Gold Line Eastside Light Rail Extension | 100,000,000
California | D2007-NWST-005 | Mission Valley East | 806,654
California | D2007-NWST-006 | Oceanside Escondido Rail Project | 684,040
California | D2007-NWST-007 | BART Extension to San Francisco International Airport | 2,424,694
Colorado | D2007-NWST-008 | Southeast Corridor LRT | 80,000,000
Colorado | D2007-NWST-009 | West Corridor LRT | 35,000,000
District of Columbia/Maryland | D2007-NWST-026 | Largo Metrorail Extension | 35,000,000
Illinois | D2007-NWST-010 | Douglas Branch Reconstruction | 1,573,675
Illinois | D2007-NWST-011 | Ravenswood Line Extension | 40,000,000
Illinois | D2007-NWST-012 | Union-Pacific West Line Extension | 1,255,978
Maryland | D2007-NWST-013 | Central Light Rail Double Track | 482,822
North Carolina | D2007-NWST-014 | South Corridor LRT | 70,744,065
New Jersey | D2007-NWST-015 | Hudson-Bergen MOS-2 | 100,000,000
New York | D2007-NWST-016 | Long Island Rail Road Eastside Access | 300,000,000
Ohio | D2007-NWST-017 | Euclid Corridor Transportation Project | 693,013
Oregon | D2007-NWST-018 | Interstate MAX LRT Extension | 542,940
Oregon | D2007-NWST-019 | South Corridor I-205/Portland Mall LRT | 80,000,000
Oregon | D2007-NWST-020 | Wilsonville to Beaverton | 27,600,000
Pennsylvania | D2007-NWST-021 | North Shore LRT Connector | 55,000,000
Puerto Rico | D2007-NWST-022 | Tren Urbano | 2,670,518
Texas | D2007-NWST-023 | Northwest/Southeast LRT MOS | 80,000,000
Utah | D2007-NWST-024 | Weber County to Salt Lake City Commuter Rail | 80,000,000
Washington | D2007-NWST-025 | Central Link Initial Segment | 80,000,000
|  | Unallocated Balance | 265,861,601
Total Allocation | $1,550,340,000

Table 15.—Prior Year Unobligated Section 5309 New Starts Allocations
State | Earmark ID | Project Location and Description | Unobligated allocation
FY 2005 Unobligated Allocations:
AK, HI | E2005-NWST-000 | Hawaii and Alaska Ferry Boats | $3,000,000
AL | E2005-NWST-001 | Birmingham, Alabama, Transit Corridor | 992,000
CA | E2005-NWST-007 | San Diego, California, Mid-Coast Light Rail Extension | 340,320
CA | E2005-NWST-012 | Santa Clara County, California, Silicon Valley Rapid Transit Corridor | 2,480,000
LA | E2005-NWST-022 | New Orleans, Louisiana, Canal Street Streetcar Project | 16,455,206
MN | E2005-NWST-027 | Minneapolis, Minnesota, Northstar Commuter Rail Project | 4,960,000
NV | E2005-NWST-035 | CATRAIL RTC Rail Project, Nevada | 992,000
NV | E2005-NWST-036 | Las Vegas, Nevada, Resort Corridor Fixed Guideway Project | 29,760,000
PA | E2005-NWST-042 | Harrisburg, Pennsylvania, Corridor One | 1,284,000
PA | E2005-NWST-043 | Philadelphia, Pennsylvania, Schuylkill Valley MetroRail | 9,920,000
PR | E2005-NWST-046 | San Juan, Puerto Rico, Tren Urbano Rapid Transit System | 16,853,570
RI | E2005-NWST-047 | Rhode Island, Integrated Intermodal Project | 4,436,537
TX | E2005-NWST-049 | Capital Metro-Bus Rapid Transit Texas | 992,000
TX | E2005-NWST-051 | Houston Advanced Metro Transit Plan, Texas | 446,360
VA | E2005-NWST-055 | Dulles Corridor Rapid Transit Project, Virginia | 24,800,000
|  | Unallocated Amount | 672,344
Subtotal FY 2005 Unobligated Allocations | $118,384,337
FY 2006 Unobligated Allocations:
AK, HI | E2006-NWST-001 | Alaska and Hawaii Ferry | $5,262,406
CA | E2006-NWST-010 | Santa Barbara Coast Rail Track Improvement Project | 980,100
CA | E2006-NWST-003 | ACE Gap Closure San Joaquin County | 4,900,500
CA | E2006-NWST-011 | Silicon Valley Rapid Transit Corridor Project, Santa Clara County | 6,370,650
CA | E2006-NWST-005 | Mid-Coast Light Rail Transit Extension | 7,017,516
CA | E2006-NWST-006 | Mission Valley East | 7,546,770
CT | E2006-NWST-014 | Hartford-New Britain Busway Project | 5,880,600
CT | E2006-NWST-015 | Stamford Urban Transitway | 9,801,000
DE | E2006-NWST-016 | Northeast Corridor Commuter Rail Project | 1,396,643
FL | E2006-NWST-019 | Ft. Lauderdale Downtown Rail Link | 980,100
FL | E2006-NWST-018 | City of Miami Streetcar | 1,960,200
FL | E2006-NWST-020 | Miami-Dade Transit County Metrorail Extension | 9,801,000
FL | E2006-NWST-017 | Central Florida Commuter Rail System | 10,781,100
GA | E2006-NWST-021 | Atlanta—Georgia 400 North Line Corridor Project | 980,100
IL | E2006-NWST-024 | CTA Yellow Line | 980,100
IL | E2006-NWST-026 | Ogden Avenue Transit Corridor/Circle Line | 980,100
MA | E2006-NWST-028 | North Shore Corridor Blue Line Extension | 1,960,200
MA | E2006-NWST-030 | Boston/Fitchburg Massachusetts Rail Corridor | 1,960,200
MA | E2006-NWST-029 | Silver Line Phase III | 3,920,400
MD | E2006-NWST-032 | Baltimore Red Line and Green Line | 1,960,200
MD | E2006-NWST-031 | Baltimore Central Light Rail Double Track Project | 12,172,842
MI | E2006-NWST-034 | Detroit Center City Loop | 3,920,400
MI | E2006-NWST-033 | Ann Arbor/Detroit Commuter Rail | 4,900,500
MN | E2006-NWST-035 | North Star Corridor Commuter Rail Project | 1,960,200
MN | E2006-NWST-036 | St. Paul Central Corridor, St. Paul/Minneapolis | 1,960,200
MO | E2006-NWST-037 | Kansas City, Missouri—Southtown BRT | 12,055,230
NC | E2006-NWST-039 | Triangle Transit Authority Regional Rail System (Raleigh-Durham) | 19,602,000
NJ | E2006-NWST-041 | Northern Branch Bergen County | 2,450,250
NJ | E2006-NWST-042 | Northwest New Jersey-Northeast Pennsylvania Passenger Rail | 9,801,000
NJ | E2006-NWST-043 | Trans Hudson Midtown Corridor | 12,069,932
NM | E2006-NWST-044 | Commuter Rail, Albuquerque to Santa Fe | 490,050
NV | E2006-NWST-045 | Regional Fixed Guideway Project | 2,940,300
NY | E2006-NWST-046 | Eastside Access Project | 333,234,000
OH | E2006-NWST-048 | Cleveland-Euclid Corridor Transportation Project | 24,281,500
OR | E2006-NWST-050 | Washington County Commuter Rail Project | 14,701,500
PA | E2006-NWST-051 | Corridor One Regional Rail Project | 1,470,150
PA | E2006-NWST-053 | Schuylkill Valley Metro | 3,920,400
PR | E2006-NWST-054 | San Juan Tren Urbano | 7,885,382
RI | E2006-NWST-055 | Rhode Island Integrated Commuter Rail Project | 5,880,600
SC | E2006-NWST-056 | City of Rockhill Trolley Study | 392,040
TX | E2006-NWST-059 | Houston Metro | 5,880,600
UT | E2006-NWST-061 | Mid-Jordan Light Rail Transit Line | 490,050
VA | E2006-NWST-063 | Gainesville-Haymarket VRE Service Extension | 1,421,145
VA | E2006-NWST-062 | Dulles Corridor Rapid Transit Project, Virginia | 29,403,000
Subtotal FY 2006 Unobligated Allocations | $598,703,156
Total Unobligated Allocations | $717,087,493

Table 16.—FY 2007 Section 5310 Special Needs for Elderly Individuals and Individuals With Disabilities Apportionments
State | Apportionment
Alabama | $2,035,366
Alaska | 276,085
American Samoa | 63,219
Arizona | 2,126,988
Arkansas | 1,310,682
California | 12,394,851
Colorado | 1,481,207
Connecticut | 1,440,108
Delaware | 423,747
District of Columbia | 366,156
Florida | 7,908,221
Georgia | 2,969,256
Guam | 167,228
Hawaii | 585,120
Idaho | 558,416
Illinois | 4,581,777
Indiana | 2,413,518
Iowa | 1,246,465
Kansas | 1,117,777
Kentucky | 1,876,704
Louisiana | 1,868,467
Maine | 659,726
Maryland | 1,986,299
Massachusetts | 2,636,140
Michigan | 3,812,077
Minnesota | 1,751,132
Mississippi | 1,314,415
Missouri | 2,305,142
Montana | 465,011
N. Mariana Islands | 64,411
Nebraska | 742,834
Nevada | 907,190
New Hampshire | 561,147
New Jersey | 3,352,052
New Mexico | 819,747
New York | 7,942,602
North Carolina | 3,320,537
North Dakota | 368,361
Ohio | 4,457,215
Oklahoma | 1,544,612
Oregon | 1,432,073
Pennsylvania | 5,260,761
Puerto Rico | 1,795,292
Rhode Island | 567,897
South Carolina | 1,773,741
South Dakota | 405,811
Tennessee | 2,470,273
Texas | 7,357,444
Utah | 737,346
Vermont | 347,005
Virgin Islands | 158,769
Virginia | 2,605,065
Washington | 2,216,199
West Virginia | 988,942
Wisconsin | 2,024,203
Wyoming | 296,725
Total | $116,659,554

Table 17.—FY 2007 Section 5311 and Section 5340 Nonurbanized Apportionments and Section 5311(b)(3) Rural Transit Assistance Program (RTAP) Apportionments
[Note: In accordance with language in the SAFETEA-LU conference report apportionments for Section 5311 and Section 5340 were combined to show a single amount. The State's apportionment under the column heading “Sections 5311 and 5340 apportionment” includes Section 5311 and Growing States funds.]
State | Sections 5311 and 5340 apportionment | Section 5311(b)(3) apportionment
Alabama | $11,637,807 | $176,277
Alaska | 5,320,819 | 80,509
American Samoa | 199,704 | 12,544
Arizona | 8,323,026 | 119,285
Arkansas | 8,882,775 | 145,493
California | 19,998,674 | 236,053
Colorado | 7,315,810 | 113,327
Connecticut | 2,377,249 | 89,737
Delaware | 1,108,746 | 76,216
Florida | 12,017,749 | 176,561
Georgia | 15,087,041 | 206,049
Guam | 539,792 | 16,874
Hawaii | 1,729,098 | 81,680
Idaho | 5,126,780 | 95,647
Illinois | 12,445,383 | 184,090
Indiana | 11,927,818 | 183,545
Iowa | 8,889,211 | 145,443
Kansas | 8,235,807 | 130,747
Kentucky | 11,260,036 | 174,906
Louisiana | 8,866,858 | 150,853
Maine | 4,775,042 | 107,673
Maryland | 4,376,645 | 109,363
Massachusetts | 3,058,310 | 96,705
Michigan | 15,184,764 | 214,199
Minnesota | 11,178,461 | 163,037
Mississippi | 10,115,947 | 161,128
Missouri | 12,150,008 | 176,218
Montana | 6,603,066 | 94,663
N. Mariana Islands | 30,743 | 10,334
Nebraska | 5,755,218 | 105,239
Nevada | 4,319,300 | 79,297
New Hampshire | 3,077,790 | 95,372
New Jersey | 2,852,281 | 94,333
New Mexico | 7,194,716 | 107,484
New York | 15,385,473 | 219,171
North Carolina | 19,341,692 | 255,434
North Dakota | 3,485,128 | 83,269
Ohio | 17,519,593 | 244,483
Oklahoma | 9,914,012 | 152,348
Oregon | 8,581,134 | 129,179
Pennsylvania | 17,741,333 | 245,736
Puerto Rico | 1,235,686 | 79,739
Rhode Island | 510,592 | 70,338
South Carolina | 9,718,038 | 159,949
South Dakota | 4,310,749 | 89,879
Tennessee | 12,388,999 | 185,988
Texas | 29,710,596 | 333,925
Utah | 4,232,444 | 86,541
Vermont | 2,311,127 | 87,357
Virginia | 10,912,491 | 170,030
Washington | 8,392,208 | 135,620
West Virginia | 5,902,440 | 122,430
Wisconsin | 11,806,200 | 176,956
Wyoming | 4,080,793 | 81,335
Total | $449,443,202 | $7,320,588

Table 18.—FY 2007 National Research Programs Allocations
State | Earmark ID | Project | Allocation ¹
Alabama | E2007-NATR-6701 | Transportation Hybrid Electric Vehicle and Fuel Cell Research— University of Alabama | $487,000
Alabama | E2007-NATR-6702 | Transportation Infrastructure and Logistics Research—University of Alabama—Huntsville | 487,000
Alabama | E2007-NATR-6703 | Trauma Care System Research and Development—University of Alabama—Birmingham | 500,000
California | E2007-NATR-6704 | Regional Transit Training Consortium Pilot Program—Southern CA Regional Transit Training Consortium | 380,000
California | E2007-NATR-7101 | Center for Transit Oriented Development | 1,000,000
Connecticut | E2007-NATR-6705 | Advanced Technology Bus Rapid Transit Project—Southeastern CT Advanced Technology BRT Project | 540,000
Connecticut | E2007-NATR-6706 | Greater New Haven Transit District Fuel Cell-Powered Bus Research | 525,960
District of Columbia | E2007-NATR-6501 | Project ACTION | 3,000,000
District of Columbia | E2007-NATR-6707 | Public Transportation National Security Study—National Academy of Sciences | 250,000
Florida | E2007-NATR-6708 | National Bus Rapid Transit Institute—University of South Florida | 1,750,000
Kentucky | E2007-NATR-6709 | Application of Information Technology to Transportation Logistics and Security—Northern Kentucky University | 400,000
Maryland | E2007-NATR-6710 | Transit Career Ladder Training Program | 1,000,000
New Jersey | E2007-NATR-6711 | Center for Advanced Transportation Initiatives—Rutgers Center for Advanced Transportation Initiatives | 525,960
New Jersey | E2007-NATR-7102 | Institute of Technology's Transportation, Economic, and Land Use System—NJ TELUS | 540,000
North Dakota | E2007-NATR-6712 | Small Urban and Rural Transit Center—North Dakota State University | 800,000
Ohio | E2007-NATR-6713 | Intelligent Transportation System Pilot Project—Ohio State University | 465,000
Oregon | E2007-NATR-6714 | Portland, Oregon Streetcar Prototype Purchase and Deployment—TriMet | 1,000,000
Pennsylvania | E2007-NATR-6715 | Hydrogen Fuel Cell Shuttle Deployment Demonstration Project—Allentown, PA | 800,000
Pennsylvania | E2007-NATR-6716 | Regional Public Safety Training Center—Lehigh-Carbon Community College | 500,000
Pennsylvania | E2007-NATR-6717 | Transit Security Training Facility—Chester County Community College | 750,000
Wisconsin | E2007-NATR-8501 | Wisconsin Supplemental Transportation Rural Assistance Program—WI DOT | 2,000,000
| E2007-NATR-6502 | Human Services Transportation Coordination | 1,600,000
| E2007-NATR-6503 | National Technical Assistance Center for Senior Transportation (Section 5314(b)) | 1,000,000
| E2007-NATR-6718 | Pilot Program for Remote Infrared Audible Signs | 500,000
| E2007-NATR-7103 | Public Transportation Participation Pilot Program | 1,000,000
| E2007-NATR-6801 | Transportation Equity Research Program | 1,000,000
Subtotal Allocation National Research and Technology Program | $22,800,920
District of Columbia | E2007-NATR-6719 | Transit Cooperative Research Program | 9,300,000
District of Columbia | E2007-NATR-6720 | University Transportation Centers Program | 7,000,000
New Jersey | E2007-NATR-6721 | National Transit Institute | 4,300,000
Total Allocation National Research Programs | $43,400,920
¹ Allocations include Small Business Innovative Research takedown when applicable.

Table 19.—FY 2007 Section 5316 Job Access and Reverse Commute Apportionments
Urbanized area/state | Apportionment
200,000 or more in Population | $86,400,000
50,000-199,999 in Population | 28,800,000
Nonurbanized | 28,800,000
National Total | 144,000,000
Amounts Apportioned to Urbanized Areas 200,000 or more in Population:
Aguadilla—Isabela—San Sebastian, PR | $559,566
Akron, OH | 262,301
Albany, NY | 243,289
Albuquerque, NM | 343,932
Allentown—Bethlehem, PA—NJ | 228,109
Anchorage, AK | 88,502
Ann Arbor, MI | 127,800
Antioch, CA | 89,316
Asheville, NC | 120,215
Atlanta, GA | 1,415,682
Atlantic City, NJ | 102,367
Augusta-Richmond County, GA—SC | 201,825
Austin, TX | 428,056
Bakersfield, CA | 335,486
Baltimore, MD | 918,141
Barnstable Town, MA | 79,179
Baton Rouge, LA | 310,627
Birmingham, AL | 375,374
Boise City, ID | 102,516
Bonita Springs—Naples, FL | 77,282
Boston, MA—NH—RI | 1,448,238
Bridgeport—Stamford, CT—NY | 274,601
Buffalo, NY | 510,836
Canton, OH | 119,001
Cape Coral, FL | 155,494
Charleston—North Charleston, SC | 231,598
Charlotte, NC—SC | 292,995
Chattanooga, TN—GA | 178,019
Chicago, IL—IN | 3,729,369
Cincinnati, OH—KY—IN | 610,517
Cleveland, OH | 819,481
Colorado Springs, CO | 178,625
Columbia, SC | 202,042
Columbus, GA—AL | 157,239
Columbus, OH | 514,252
Concord, CA | 106,069
Corpus Christi, TX | 211,359
Dallas—Fort Worth—Arlington, TX | 2,095,014
Davenport, IA—IL | 132,714
Dayton, OH | 319,945
Daytona Beach—Port Orange, FL | 143,926
Denton—Lewisville, TX | 87,808
Denver—Aurora, CO | 736,267
Des Moines, IA | 134,315
Detroit, MI | 1,776,059
Durham, NC | 160,702
El Paso, TX—NM | 675,416
Eugene, OR | 140,201
Evansville, IN—KY | 104,713
Fayetteville, NC | 160,308
Flint, MI | 218,413
Fort Collins, CO | 90,407
Fort Wayne, IN | 126,707
Fresno, CA | 505,727
Grand Rapids, MI | 218,475
Greensboro, NC | 121,991
Greenville, SC | 163,180
Gulfport—Biloxi, MS | 123,033
Harrisburg, PA | 124,755
Hartford, CT | 331,675
Honolulu, HI | 312,074
Houston, TX | 2,346,350
Huntsville, AL | 96,032
Indianapolis, IN | 487,963
Indio—Cathedral City—Palm Springs, CA | 176,743
Jackson, MS | 198,363
Jacksonville, FL | 417,039
Kansas City, MO—KS | 548,699
Knoxville, TN | 221,837
Lancaster, PA | 115,080
Lancaster—Palmdale, CA | 172,608
Lansing, MI | 158,895
Las Vegas, NV | 644,125
Lexington-Fayette, KY | 131,848
Lincoln, NE | 99,023
Little Rock, AR | 204,063
Los Angeles—Long Beach—Santa Ana, CA | 8,442,199
Louisville, KY—IN | 424,761
Lubbock, TX | 150,887
Madison, WI | 141,454
McAllen, TX | 703,574
Memphis, TN—MS—AR | 613,956
Miami, FL | 2,950,084
Milwaukee, WI | 618,079
Minneapolis—St. Paul, MN | 752,458
Mission Viejo, CA | 116,753
Mobile, AL | 242,851
Modesto, CA | 217,635
Nashville-Davidson, TN | 351,465
New Haven, CT | 211,127
New Orleans, LA | 787,518
New York—Newark, NY—NJ—CT | 9,542,399
Ogden—Layton, UT | 148,268
Oklahoma City, OK | 448,031
Omaha, NE—IA | 271,986
Orlando, FL | 579,092
Oxnard, CA | 196,151
Palm Bay—Melbourne, FL | 171,388
Pensacola, FL—AL | 187,713
Peoria, IL | 125,072
Philadelphia, PA—NJ—DE—MD | 2,295,088
Phoenix—Mesa, AZ | 1,515,115
Pittsburgh, PA | 795,971
Port St. Lucie, FL | 141,358
Portland, OR—WA | 687,146
Poughkeepsie—Newburgh, NY | 145,723
Providence, RI—MA | 580,123
Provo—Orem, UT | 174,644
Raleigh, NC | 176,769
Reading, PA | 114,391
Reno, NV | 142,722
Richmond, VA | 342,650
Riverside—San Bernardino, CA | 1,081,019
Rochester, NY | 318,702
Rockford, IL | 117,454
Round Lake Beach—McHenry—Grayslake, IL—WI | 48,662
Sacramento, CA | 775,462
Salem, OR | 215,814
Salt Lake City, UT | 341,093
San Antonio, TX | 907,380
San Diego, CA | 1,476,858
San Francisco—Oakland, CA | 1,318,167
San Jose, CA | 486,612
San Juan, PR | 3,347,537
Santa Rosa, CA | 110,882
Sarasota—Bradenton, FL | 236,321
Savannah, GA | 141,828
Scranton, PA | 203,254
Seattle, WA | 1,013,784
Shreveport, LA | 210,674
South Bend, IN—MI | 128,602
Spokane, WA—ID | 188,373
Springfield, MA—CT | 291,029
Springfield, MO | 125,052
St. Louis, MO—IL | 899,591
Stockton, CA | 277,437
Syracuse, NY | 215,397
Tallahassee, FL | 139,757
Tampa—St. Petersburg, FL | 1,030,946
Temecula—Murrieta, CA | 91,840
Thousand Oaks, CA | 49,642
Toledo, OH—MI | 265,835
Trenton, NJ | 104,396
Tucson, AZ | 465,291
Tulsa, OK | 300,717
Victorville—Hesperia—Apple Valley, CA | 137,860
Virginia Beach, VA | 650,859
Washington, DC—VA—MD | 1,256,532
Wichita, KS | 191,748
Winston-Salem, NC | 139,386
Worcester, MA—CT | 189,020
Youngstown, OH—PA | 230,793
Total | 86,400,000
Amounts Apportioned to State Governors for Urbanized Areas 50,000 to 199,999 in Population:
Alabama | $805,905
Alaska | 36,316
Arizona | 290,494
Arkansas | 518,014
California | 3,000,086
Colorado | 483,031
Connecticut | 294,526
Delaware | 49,569
Florida | 1,678,878
Georgia | 919,739
Hawaii | 54,443
Idaho | 311,710
Illinois | 662,248
Indiana | 708,815
Iowa | 426,122
Kansas | 194,919
Kentucky | 264,981
Louisiana | 836,620
Maine | 254,427
Maryland | 316,406
Massachusetts | 270,424
Michigan | 897,332
Minnesota | 243,496
Mississippi | 150,126
Missouri | 300,193
Montana | 230,052
N. Mariana Islands | 83,476
Nebraska | 15,349
Nevada | 39,745
New Hampshire | 230,658
New Jersey | 147,701
New Mexico | 285,184
New York | 541,073
North Carolina | 919,021
North Dakota | 174,497
Ohio | 675,417
Oklahoma | 182,912
Oregon | 233,689
Pennsylvania | 884,906
Puerto Rico | 2,710,414
South Carolina | 516,851
South Dakota | 130,637
Tennessee | 600,676
Texas | 3,230,936
Utah | 132,974
Vermont | 68,962
Virginia | 614,054
Washington | 799,167
West Virginia | 547,326
Wisconsin | 732,721
Wyoming | 102,782
Total | 28,800,000
Amounts Apportioned to State Governors for Nonurbanized Areas Less than 50,000 in Population:
Alabama | $963,952
Alaska | 93,888
American Samoa | 86,625
Arizona | 518,262
Arkansas | 726,832
California | 1,467,032
Colorado | 272,602
Connecticut | 70,243
Delaware | 64,011
Florida | 832,051
Georgia | 1,141,655
Guam | 86,742
Hawaii | 114,590
Idaho | 248,790
Illinois | 649,149
Indiana | 580,869
Iowa | 414,410
Kansas | 412,799
Kentucky | 1,050,459
Louisiana | 899,286
Maine | 277,815
Maryland | 179,234
Massachusetts | 111,986
Michigan | 772,911
Minnesota | 494,688
Mississippi | 1,041,935
Missouri | 847,599
Montana | 250,847
N. Mariana Islands | 49,282
Nebraska | 257,380
Nevada | 77,213
New Hampshire | 120,326
New Jersey | 95,639
New Mexico | 485,438
New York | 923,625
North Carolina | 1,452,051
North Dakota | 132,630
Ohio | 988,407
Oklahoma | 782,108
Oregon | 395,978
Pennsylvania | 1,049,729
Puerto Rico | 373,348
Rhode Island | 16,431
South Carolina | 804,861
South Dakota | 198,975
Tennessee | 938,280
Texas | 2,297,782
Utah | 141,546
Vermont | 128,000
Virgin Islands | 87,089
Virginia | 675,288
Washington | 486,768
West Virginia | 568,900
Wisconsin | 491,171
Wyoming | 110,493
Total | 28,800,000

Table 20.—Prior Year Unobligated Job Access and Reverse Commute Allocations
State | Earmark ID | Project and description | Unobligated allocation
FY 2002 Unobligated Congressional Allocations:
AR | E2002-JARC-005 | Central Arkansas Transit Authority | $500,000
CA | E2002-JARC-008 | Del Norte County, California | 73,400
NY | E2002-JARC-054 | Columbia County, New York | 100,000
VA | E2002-JARC-082 | Winchester, Virginia | 1,000,000
Subtotal FY 2002 Unobligated Allocations | 1,673,400
FY 2003 Unobligated Congressional Allocations:
CA | E2003-JARC-011 | LA County UTRANS | 495,335
CO | E2003-JARC-020 | City of Colorado Springs, CO | 100,284
NY | E2003-JARC-065 | Chemung County Transit | 74,300
NY | E2003-JARC-066 | Columbia County | 99,067
OH | E2003-JARC-078 | STEP-UP Job Access Project Dayton | 123,834
Subtotal FY 2003 Unobligated Allocations | 892,820
FY 2004 Unobligated Congressional Allocations:
AK | E2004-JARC-000 | Craig Transit Service JARC Program | 49,563
AL | E2004-JARC-006 | Alabama Disabilities Advocacy Program [ADA] Rural Transportation Services | 495,630
CA | E2004-JARC-013 | City of Irwindale Senior Transportation Services | 64,432
CA | E2004-JARC-014 | Guaranteed Ride Home, Santa Clarita | 396,504
FL | E2004-JARC-024 | Key West, Florida Job Access Reverse Commute | 495,630
IA | E2004-JARC-026 | Iowa Statewide JARC | 159,980
KS | E2004-JARC-031 | ADA Mobility Planning | 361,810
MD | E2004-JARC-040 | VoxLinx Voice-Enabled Transit Trip Planner | 1,288,638
NJ | E2004-JARC-050 | New Jersey Community Development Corporation Transportation Opportunity Center | 297,378
NY | E2004-JARC-055 | Broome County Transit JARC | 99,126
NY | E2004-JARC-061 | Essex County Job Access Reverse Commute Project | 99,126
NY | E2004-JARC-063 | MTA Long Island Bus Job Access Reverse Commute Project | 247,815
NY | E2004-JARC-065 | North Country County Consortium | 456,299
NY | E2004-JARC-070 | Ulster County Area Transit Rural Feeder Service | 49,563
NV | E2004-JARC-053 | Lake Tahoe Public Transit Services JARC Project | 99,126
SD | E2004-JARC-083 | Cheyenne River Sioux Tribe Public Bus System | 247,815
TN | E2004-JARC-087 | Monroe County TN Job Access Reverse Commute Program | 99,126
TX | E2004-JARC-090 | Corpus Christi Welfare to Work Project | 372,714
TX | E2004-JARC-094 | San Antonio VIA Metropolitan Transit JARC Program | 136,298
TX | E2004-JARC-096 | Texas Colonias JARC Initiative | 2,379,023
VA | E2004-JARC-101 | Virginia Beach Paratransit Services | 198,252
WI | E2004-JARC-109 | Wisconsin Statewide JARC | 2,577,275
Subtotal FY 2004 Unobligated Allocations | 10,671,123
FY 2005 Unobligated Congressional Allocations:
AK | E2005-JARC-000 | Craig Transit JARC, Alaska | 49,559
AK | E2005-JARC-001 | Kenai Peninsula JARC, Alaska | 594,709
AK | E2005-JARC-003 | Mobility Coalition, Alaska | 495,590
AK | E2005-JARC-004 | North Star Borough Transit JARC, Alaska | 74,338
AK | E2005-JARC-005 | Seward Transit JARC, Alaska | 198,236
AL | E2005-JARC-007 | ARC of Madison County, Alabama | 79,734
AL | E2005-JARC-008 | Easter Seals Central Alabama JARC | 495,590
AL | E2005-JARC-009 | Gees Bend Ferry, Alabama | 1,982,362
CA | E2005-JARC-013 | Guaranteed Ride Program, California | 136,687
CA | E2005-JARC-014 | Job Access Transit, Hayward, California | 211
CO | E2005-JARC-017 | Colorado Transit Coalition JARC | 529,310
DC | E2005-JARC-097 | Community Transportation JOBLINKS Demonstration | 620,899
DC | E2005-JARC-020 | Technical Assistance Support & Performance Reviews of the JARC Grants Program | 7,073
DC | E2005-JARC-021 | Washington Metro Job Access Initiative | 569,530
GA | E2005-JARC-025 | Chatham JARC, Georgia | 1,982,362
GA | E2005-JARC-026 | Dooly-Crisp Unified Transportation System, Georgia | 198,236
IL | E2005-JARC-028 | Illinois Statewide JARC | 145,842
IN | E2005-JARC-031 | IndyFlex, Indiana | 1,238,976
LA | E2005-JARC-037 | Louisiana Statewide JARC | 2,115,329
ME | E2005-JARC-041 | Maine Statewide JARC Program | 442,389
MI | E2005-JARC-042 | DCC Community Health & Safety Transport Project, Michigan | 297,354
MN | E2005-JARC-047 | Metropolitan Council Job Access, Minneapolis, Minnesota | 991,182
MO | E2005-JARC-049 | Metro St. Louis Downtown Shuttle Trolley, Missouri | ᵃ 941,622
MO | E2005-JARC-050 | Missouri Statewide JARC | 385,000
NJ | E2005-JARC-053 | New Jersey Statewide JARC | 5,203,702
NY | E2005-JARC-057 | Broome County Transit, Binghamton, New York | 247,796
NY | E2005-JARC-058 | Central New York Job Access Reverse Commute, New York | 495,590
NV | E2005-JARC-056 | Statewide Small Urban and Rural Public/Specialized Transportation Services (JARC), Nevada | 455,624
OH | E2005-JARC-066 | Western Reserve Transit Job Access Program, Ohio | 79,734
PA | E2005-JARC-071 | Philadelphia Unemployment Project (PUP), Pennsylvania | 1,106,772
TN | E2005-JARC-077 | Children's Health Fund JARC, Tennessee | 495,590
TN | E2005-JARC-080 | Tennessee Statewide JARC | 3,784,745
TX | E2005-JARC-081 | Abilene JARC, Texas | 148,677
TX | E2005-JARC-082 | El Paso JARC, Texas | 495,590
TX | E2005-JARC-083 | Island Transit JARC, Texas | 136,687
WA | E2005-JARC-089 | North Central Puget Sound Vehicle Trip Reduction Incentives, Washington | 991,182
WA | E2005-JARC-090 | Okanogan County Senior Citizens JARC, Washington | 65,142
WA | E2005-JARC-092 | WorkFirst Transportation Initiative, Washington | 775,447
WI | E2005-JARC-094 | Ways to Work, Wisconsin | 170,591
WI | E2005-JARC-095 | Wisconsin Statewide JARC | 2,577,071
WV | E2005-JARC-096 | West Virginia Statewide JARC | 114,653
Subtotal FY 2005 Unobligated Allocations | 31,916,713
Total Unobligated Allocations | 45,154,056
ᵃ November 20, 2006, DOT response to Knollenberg/Bond letter September 29, 2006, funds made available for the continuation and expansion of existing JARC bus service on five north county bus routes servicing the METRO Downtown Bus Transfer Center in St. Louis, MO. Funds may be expended on JARC activities authorized under Section 3037 of the Transportation Equity Act for the 21st Century.

Table 21.—FY 2007 Section 5317 New Freedom Apportionments
Urbanized area/state | Apportionment
UZAs 200,000 or more in Population | $48,600,000
UZAs 50,000-199,999 in Population | 16,200,000
Nonurbanized | 16,200,000
National Total | 81,000,000
Amounts Apportioned to Urbanized Areas 200,000 or more in Population:
Aguadilla-Isabela-San Sebastian, PR | $126,100
Akron, OH | 162,675
Albany, NY | 156,364
Albuquerque, NM | 182,730
Allentown-Bethlehem, PA-NJ | 156,018
Anchorage, AK | 52,136
Ann Arbor, MI | 61,401
Antioch, CA | 60,601
Asheville, NC | 77,517
Atlanta, GA | 888,971
Atlantic City, NJ | 73,829
Augusta-Richmond County, GA-SC | 108,159
Austin, TX | 198,836
Bakersfield, CA | 131,079
Baltimore, MD | 635,438
Barnstable Town, MA | 78,928
Baton Rouge, LA | 140,317
Birmingham, AL | 216,937
Boise City, ID | 63,948
Bonita Springs-Naples, FL | 73,189
Boston, MA-NH-RI | 1,123,648
Bridgeport-Stamford, CT-NY | 237,663
Buffalo, NY | 302,048
Canton, OH | 74,387
Cape Coral, FL | 117,307
Charleston-North Charleston, SC | 129,823
Charlotte, NC-SC | 193,086
Chattanooga, TN-GA | 114,462
Chicago, IL-IN | 2,281,657
Cincinnati, OH-KY-IN | 402,647
Cleveland, OH | 516,455
Colorado Springs, CO | 108,709
Columbia, SC | 115,920
Columbus, GA-AL | 79,731
Columbus, OH | 287,416
Concord, CA | 121,779
Corpus Christi, TX | 92,875
Dallas-Fort Worth-Arlington, TX | 1,133,868
Davenport, IA-IL | 73,714
Dayton, OH | 202,124
Daytona Beach-Port Orange, FL | 96,642
Denton-Lewisville, TX | 52,171
Denver-Aurora, CO | 508,189
Des Moines, IA | 92,618
Detroit, MI | 1,191,993
Durham, NC | 71,810
El Paso, TX-NM | 202,578
Eugene, OR | 63,190
Evansville, IN-KY | 68,566
Fayetteville, NC | 78,091
Flint, MI | 121,282
Fort Collins, CO | 43,094
Fort Wayne, IN | 75,827
Fresno, CA | 182,740
Grand Rapids, MI | 134,163
Greensboro, NC | 75,458
Greenville, SC | 98,271
Gulfport-Biloxi, MS | 73,167
Harrisburg, PA | 92,218
Hartford, CT | 246,950
Honolulu, HI | 199,316
Houston, TX | 1,058,478
Huntsville, AL | 55,983
Indianapolis, IN | 344,829
Indio-Cathedral City-Palm Springs, CA | 89,378
Jackson, MS | 88,265
Jacksonville, FL | 273,094
Kansas City, MO-KS | 372,884
Knoxville, TN | 133,250
Lancaster, PA | 84,704
Lancaster-Palmdale, CA | 75,358
Lansing, MI | 78,317
Las Vegas, NV | 427,045
Lexington-Fayette, KY | 69,302
Lincoln, NE | 51,472
Little Rock, AR | 116,028
Los Angeles-Long Beach-Santa Ana, CA | 3,618,995
Louisville, KY-IN | 270,486
Lubbock, TX | 59,515
Madison, WI | 68,449
McAllen, TX | 163,731
Memphis, TN-MS-AR | 306,107
Miami, FL | 1,677,667
Milwaukee, WI | 354,185
Minneapolis-St. Paul, MN | 524,419
Mission Viejo, CA | 108,270
Mobile, AL | 116,538
Modesto, CA | 105,141
Nashville-Davidson, TN | 216,456
New Haven, CT | 150,505
New Orleans, LA | 346,048
New York-Newark, NY-NJ-CT | 5,715,679
Ogden-Layton, UT | 92,104
Oklahoma City, OK | 235,978
Omaha, NE-IA | 151,226
Orlando, FL | 351,306
Oxnard, CA | 102,398
Palm Bay-Melbourne, FL | 133,980
Pensacola, FL-AL | 104,064
Peoria, IL | 69,322
Philadelphia, PA-NJ-DE-MD | 1,501,297
Phoenix-Mesa, AZ | 817,306
Pittsburgh, PA | 497,805
Port St. Lucie, FL | 102,434
Portland, OR-WA | 422,056
Poughkeepsie-Newburgh, NY | 91,165
Providence, RI-MA | 381,175
Provo-Orem, UT | 51,869
Raleigh, NC | 109,008
Reading, PA | 70,151
Reno, NV | 91,383
Richmond, VA | 228,332
Riverside-San Bernardino, CA | 451,996
Rochester, NY | 192,186
Rockford, IL | 77,674
Round Lake Beach-McHenry-Grayslake, IL-WI | 46,333
Sacramento, CA | 423,003
Salem, OR | 61,392
Salt Lake City, UT | 219,483
San Antonio, TX | 419,240
San Diego, CA | 724,318
San Francisco-Oakland, CA | 950,208
San Jose, CA | 399,440
San Juan, PR | 907,212
Santa Rosa, CA | 80,089
Sarasota-Bradenton, FL | 201,463
Savannah, GA | 70,682
Scranton, PA | 136,965
Seattle, WA | 719,018
Shreveport, LA | 89,205
South Bend, IN-MI | 81,200
Spokane, WA-ID | 102,142
Springfield, MA-CT | 190,613
Springfield, MO | 61,769
St. Louis, MO-IL | 569,735
Stockton, CA | 108,677
Syracuse, NY | 114,968
Tallahassee, FL | 42,761
Tampa-St. Petersburg, FL | 750,519
Temecula-Murrieta, CA | 59,215
Thousand Oaks, CA | 45,968
Toledo, OH-MI | 153,366
Trenton, NJ | 79,784
Tucson, AZ | 223,339
Tulsa, OK | 169,347
Victorville-Hesperia-Apple Valley, CA | 63,305
Virginia Beach, VA | 374,754
Washington, DC-VA-MD | 921,237
Wichita, KS | 118,285
Winston-Salem, NC | 83,765
Worcester, MA-CT | 134,039
Youngstown, OH-PA | 133,542
Total | 48,600,000
Amounts Apportioned to State Governors for Urbanized Areas 50,000 to 199,999 in Population:
Alabama | 427,039
Alaska | 19,990
Arizona | 138,375
Arkansas | 285,216
California | 1,658,388
Colorado | 275,030
Connecticut | 263,340
Delaware | 32,717
Florida | 1,243,752
Georgia | 450,350
Hawaii | 46,626
Idaho | 162,054
Illinois | 366,849
Indiana | 416,387
Iowa | 242,588
Kansas | 114,329
Kentucky | 156,206
Louisiana | 439,286
Maine | 178,554
Maryland | 283,609
Massachusetts | 192,974
Michigan | 600,838
Minnesota | 142,564
Mississippi | 69,215
Missouri | 169,381
Montana | 117,871
N. Mariana Islands | 25,394
Nebraska | 7,069
Nevada | 32,221
New Hampshire | 221,356
New Jersey | 117,951
New Mexico | 126,052
New York | 329,549
North Carolina | 668,035
North Dakota | 101,329
Ohio | 457,729
Oklahoma | 78,177
Oregon | 119,717
Pennsylvania | 538,542
Puerto Rico | 725,592
South Carolina | 369,859
South Dakota | 89,214
Tennessee | 377,480
Texas | 1,424,599
Utah | 50,707
Vermont | 42,435
Virginia | 370,909
Washington | 513,614
West Virginia | 323,652
Wisconsin | 530,634
Wyoming | 64,656
Total | 16,200,000
Amounts Apportioned to State Governors for Nonurbanized Areas Less than 50,000 in Population:
Alabama | 549,123
Alaska | 44,556
American Samoa | 7,815
Arizona | 233,977
Arkansas | 395,881
California | 681,111
Colorado | 153,515
Connecticut | 73,375
Delaware | 47,217
Florida | 529,045
Georgia | 625,568
Guam | 22,802
Hawaii | 64,695
Idaho | 106,683
Illinois | 417,599
Indiana | 457,793
Iowa | 271,824
Kansas | 236,728
Kentucky | 574,365
Louisiana | 384,804
Maine | 174,703
Maryland | 154,259
Massachusetts | 97,120
Michigan | 548,108
Minnesota | 313,216
Mississippi | 466,476
Missouri | 453,812
Montana | 104,314
N. Mariana Islands | 751
Nebraska | 136,742
Nevada | 56,657
New Hampshire | 118,285
New Jersey | 73,896
New Mexico | 178,338
New York | 570,674
North Carolina | 892,873
North Dakota | 62,960
Ohio | 657,623
Oklahoma | 399,258
Oregon | 269,190
Pennsylvania | 661,768
Puerto Rico | 83,167
Rhode Island | 17,292
South Carolina | 453,680
South Dakota | 83,154
Tennessee | 584,492
Texas | 1,111,556
Utah | 64,976
Vermont | 81,040
Virgin Islands | 15,756
Virginia | 456,910
Washington | 272,757
West Virginia | 296,767
Wisconsin | 354,454
Wyoming | 54,500
Total | 16,200,000

Table 22.—FY 2007 Section 5339 Alternative Analysis Allocations
State | Earmark ID | SAFETEA-LU Project No. | Project location and description | Allocation
California | E2007-ALTA-001 | 5 | San Gabriel Valley—Gold Line Foothill Extension Corridor Study | $1,250,000
Illinois | E2007-ALTA-002 | 7 | Metra BNSF Naperville to Aurora Corridor Study | 1,250,000
Illinois | E2007-ALTA-003 | 13 | Metra-West Line Extension, Elgin to Rockford Study | 1,000,000
Maryland | E2007-ALTA-004 | 12 | Baltimore Red Line/Green Line Transit Project Study | 1,500,000
Minnesota | E2007-ALTA-005 | 1 | Minnesota Red Rock Corridor/Rush Line/Central Corridors Studies | 2,000,000
Mississippi | E2007-ALTA-006 | 14 | Madison-Ridgeland Transportation Commission, Mississippi, Madison LRT Corridor Study | 350,000
North Carolina | E2007-ALTA-007 | 11 | Piedmont Authority Regional Transportation East-West Corridor Study | 1,000,000
New Jersey | E2007-ALTA-008 | 2 | Trans-Hudson Midtown Corridor Study | 1,500,000
New Jersey | E2007-ALTA-009 | 6 | Monmouth-Ocean-Middlesex Counties, New Jersey Corridor Study | 1,250,000
New Jersey | E2007-ALTA-010 | 18 | New Jersey Transit Midtown Project Study | 2,500,000
New Mexico | E2007-ALTA-011 | 10 | Middle Rio Grande Coalition of Governments, Albuquerque to Santa Fe Corridor Study | 500,000
Oregon | E2007-ALTA-012 | 3 | Lane County, Oregon Bus Rapid Transit Phase II Corridor Study | 500,000
Oregon | E2007-ALTA-013 | 4 | Portland Streetcar, Oregon Corridor Study | 1,500,000
South Carolina | E2007-ALTA-014 | 15 | South Carolina Department of Transportation Light Rail Study | 300,000
Utah | E2007-ALTA-015 | 17 | Sevierville County Transportation Board, Sevier County BRT Study | 500,000
Utah | E2007-ALTA-016 | 16 | Provo Orem BRT Study | 500,000
Washington | E2007-ALTA-017 | 9 | Sound Transit I-90 Long-Range Plan Corridor Studies | 750,000
Wisconsin | E2007-ALTA-018 | 8 | Madison and Dane Counties, Wisconsin Transport 2020 Corridor Study | 750,000
|  |  | Unallocated Amount | 6,100,000
Total Allocation | 25,000,000

Table 23.—Prior Year Unobligated Section 5339 Alternatives Analysis Allocations
State | Earmark ID | Project location and description | Unobligated allocation
FY 2006 Unobligated Allocations
California | E2006-ALTA-000 | San Gabriel Valley-Gold Line Foothill Extension Corridor Study | $1,237,500
Illinois | E2006-ALTA-001 | Metra BNSF Naperville to Aurora Corridor Study | 1,237,500
Maryland | E2006-ALTA-003 | Baltimore Red Line/Green Line Transit Project Study | 1,485,000
Michigan | E2006-ALTA-005 | Madison-Ridgeland Transportation Commission, Mississippi, Madison LRT Corridor Study | 346,500
Minnesota | E2006-ALTA-004 | Minnesota Red Rock Corridor/Rush Line/Central Corridors Studies | 1,980,000
New Jersey | E2006-ALTA-007 | Trans-Hudson Midtown Corridor Study | 1,485,000
New Jersey | E2006-ALTA-009 | New Jersey Transit Midtown Project Study | 2,475,000
New Jersey | E2006-ALTA-008 | Monmouth-Ocean-Middlesex Counties, New Jersey Corridor Study | 1,237,500
New Mexico | E2006-ALTA-010 | Middle Rio Grande Coalition of Governments, Albuquerque to Santa Fe Corridor Study | 495,000
South Carolina | E2006-ALTA-013 | South Carolina Department of Transportation Light Rail Study | 297,000
Utah | E2006-ALTA-014 | Sevierville County Transportation Board, Sevier County BRT Study | 495,000
Utah | E2006-ALTA-015 | Provo Orem BRT Study | 495,000
|  | Unallocated Amount | 6,039,000
Total Unobligated Allocations | 19,305,000

[FR Doc. 07-1290 Filed 3-15-07; 3:11pm]

BILLING CODE 4910-57-P